OFFICE OF PERSONNEL MANAGEMENT

SES Positions That Were Career Reserved During CY 2019

AGENCY: U.S. Office of Personnel Management (OPM).

ACTION: Notice.

SUMMARY: This gives notice of all positions in the Senior Executive Service (SES) that were career reserved during calendar year 2019.

FOR FURTHER INFORMATION CONTACT: Julia 53098, Senior Executive Resources Services, Senior Executive Services and Performance Management, Employee Services, 202-606-2246.

SUPPLEMENTARY INFORMATION: Below is a list of titles of SES positions that were career reserved at any time during calendar year 2019, regardless of whether those positions were still career reserved as of December 31, 2019. Section 3132(b)(4) of title 5, United States Code, requires that the head of each agency publish such lists by March 1 of the following year. The Office of Personnel Management is publishing a consolidated list for all agencies.

Agency name | Organization name | Position title
ADMINISTRATIVE CONFERENCE OF THE UNITED STATES | ADMINISTRATIVE CONFERENCE OF THE UNITED STATES | DIRECTOR OF FINANCE AND OPERATIONS. GENERAL COUNSEL.
|  | EXECUTIVE DIRECTOR.
ADVISORY COUNCIL ON HISTORIC PRESERVATION | ADVISORY COUNCIL ON HISTORIC PRESERVATION | EXECUTIVE DIRECTOR.
DEPARTMENT OF AGRICULTURE:
AGRICULTURAL RESEARCH SERVICE | MIDWEST AREA OFFICE | ASSOCIATE DIRECTOR, MIDWEST AREA (2). DIRECTOR, MIDWEST AREA.
|  | DIRECTOR, NATIONAL CENTER FOR AGRICULTURE UTILIZATION.
| NORTHEAST AREA OFFICE | DIRECTOR, EASTERN REGIONAL RESEARCH CENTER.
|  | DIRECTOR NORTHEAST AREA OFFICE.
|  | ASSOCIATE DIRECTOR, NORTHEAST AREA (2).
|  | DIRECTOR, BELTSVILLE AGRICULTURAL RESEARCH CENTER.
| OFFICE OF NATIONAL PROGRAMS | DEPUTY ADMINISTRATOR, CROP PRODUCTION AND PROTECTION.
|  | DEPUTY ADMINISTRATOR, NUTRITION, FOOD SAFETY AND QUALITY.
|  | DEPUTY ADMINISTRATOR, ANIMAL PRODUCTION AND PROTECTION.
|  | DEPUTY ADMINISTRATOR FOR NATURAL RESOURCES AND SUSTAINABLE ARGICULTURE SYSTEMS.
|  | ASSOCIATE ADMINISTRATOR, NATIONAL PROGRAMS.
| PACIFIC WEST AREA OFFICE | DIRECTOR, WESTERN HUMAN NUTRITION RESEARCH CENTER.
|  | DIRECTOR, WESTERN REGIONAL RESEARCH CENTER.
|  | ASSOCIATE DIRECTOR, PACIFIC WEST AREA (2).
|  | DIRECTOR, PACIFIC WEST AREA OFFICE.
| PLAINS AREA OFFICE | ASSOCIATE DIRECTOR, PLAINS AREA (2).
|  | DIRECTOR, PLAINS AREA.
|  | DIRECTOR, UNITED STATES MEAT ANIMAL RESEARCH CENTER.
| SOUTHEAST AREA OFFICE | DIRECTOR, SOUTHERN REGIONAL RESEARCH CENTER.
|  | ASSOCIATE DIRECTOR, SOUTHEAST AREA (2).
|  | DIRECTOR, SOUTH EAST AREA.
ANIMAL AND PLANT HEALTH INSPECTION SERVICE | PLANT PROTECTION AND QUARANTINE SERVICE | EXECUTIVE DIRECTOR, WESTERN REGION, PLANT PROTECTION AND QUARANTINE.
|  | EXECUTIVE DIRECTOR, EASTERN REGION, PLANT PROTECTION AND QUARANTINE.
|  | EXECUTIVE DIRECTOR, POLICY MANAGEMENT.
| VETERINARY SERVICES | EXECUTIVE DIRECTOR (STRATEGY AND POLICY).
|  | DIRECTOR, WESTERN REGION, VETERINARY SERVICES.
|  | ASSOCIATE DEPUTY ADMINISTRATOR, NATIONAL ANIMAL HEALTH POLICY PROGRAMS.
|  | EXECUTIVE DIRECTOR (DOMESTIC PROGRAMS).
|  | EXECUTIVE DIRECTOR, SCIENCE, TECHNOLOGY AND ANALYSIS SERVICE.
DEPARTMENTAL ADMINISTRATION | OFFICE OF ADVOCACY AND OUTREACH | DIRECTOR, OFFICE OF ADVOCACY AND OUTREACH.
| OFFICE OF HOMELAND SECURITY AND EMERGENCY COORDINATION | DEPUTY DIRECTOR OF HOMELAND SECURITY AND EMERGENCY COORDINATION.
| OFFICE OF HUMAN RESOURCES MANAGEMENT | EXECUTIVE DIRECTOR, EXECUTIVE RESOURCES MANAGEMENT DIVISION.
| OFFICE OF OPERATIONS | DIRECTOR OFFICE OF OPERATIONS.
|  | DEPUTY DIRECTOR OF OPERATIONS.
| OFFICE OF PROCUREMENT AND PROPERTY MANAGEMENT | DIRECTOR, CONTRACTING AND PROCUREMENT.
|  | DEPUTY DIRECTOR, OFFICE OF PROCUREMENT AND PROPERTY MANAGEMENT.
FOREST SERVICE | OFFICE OF FIELD UNITS | NORTHEAST AREA DIRECTOR, STATE AND PRIVATE FORESTRY.
|  | DIRECTOR, NORTHERN RESEARCH STATION.
|  | DIRECTOR, PACIFIC NORTHWEST RESEARCH STATION.
|  | DIRECTOR, PACIFIC SOUTHWEST FOREST AND RANGE EXPERIMINT STATION (VALLEJO).
|  | DIRECTOR, ROCKY MOUNTAIN FOREST AND RANGE EXPERIMENT STATION (FORT COLLINS).
|  | DIRECTOR, SOUTHERN RESEARCH STATION (ASHEVILLE).
|  | DIRECTOR, FOREST PRODUCTS LABORATORY (MADISON).
| OFFICE OF INTERNATIONAL FOREST SYSTEM | DIRECTOR INTERNATIONAL INSTITUE OF TROPICAL FOREST (RIO PIEDRAS).
| NATIONAL FOREST SYSTEM | DIRECTOR, ECOSYSTEM MANAGEMENT COORINATION.
|  | DIRECTOR, LANDS MANAGEMENT STAFF.
|  | DIRECTOR, ENGINEERING.
|  | DIRECTOR, FOREST MANAGEMENT STAFF.
|  | DIRECTOR, RANGELAND MANAGEMENT.
|  | DIRECTOR, MINERALS AND GEOLOGY MANAGEMENT STAFF.
|  | DIRECTOR, WATER, FISH, WASTELAND, AIR AND RARE PLANTS.
| OFFICE OF RESEARCH | DIRECTOR, SUSTAINABLE FOREST MANAGEMENT.
|  | DIRECTOR, ENVIRONMENTAL SCIENCES.
|  | DIRECTOR, INVENTORY, MONITORING AND ASSESSMENT.
|  | DIRECTOR, RESOURCE USE SCIENCES.
| OFFICE OF STATE AND PRIVATE FORESTRY | DIRECTOR COOPERATIVE FORESTRY.
|  | DIRECTOR, FOREST HEALTH PROTECTION.
|  | SENIOR ADVISOR TO THE DEPUTY CHIEF, STATE AND PRIVATE FORESTRY.
NATIONAL INSTITUE OF FOOD AND AGRICULTURE | ECONOMIC RESEARCH SERVICE | DIRECTOR, MARKET AND TRADE ECONOMICS DIVISION.
|  | DIRECTOR, INFORMATION SERVICES DIVISION.
|  | DIRECTOR, RESOURCE AND RURAL ECONOMICS DIVISION.
|  | ADMINISTRATOR, ECONOMIC RESEARCH SERVICE.
|  | ASSOCIATE ADMINISTRATOR, ECONOMIC RECEARCH SERVICE.
|  | DIRECTOR, FOOD ECONOMICS DIVISION.
| NATIONAL AGRICULTURAL STATISTICS SERVICE | DIRECTOR, WESTERN FIELD OPERATIONS.
|  | ASSOCIATE ADMINISTRATOR.
|  | ADMINISTRATOR, NATIONAL AGRICULTURAL STATISTICS SERVICE.
|  | DIRECTOR, METHODOLOGY DIVISION.
|  | DIRECTOR, EASTERN FIELD OPERATIONS.
|  | DIRECTOR, STATISTICS DIVISION.
|  | DIRECTOR, CENSUS AND SURVEY DIVISION.
|  | DIRECTOR, INFORMATION TECHNOLOGY DIVISION.
|  | DIRECTOR, NATIONAL OPERATIONS CENTER.
OFFICE OF THE ASSISTANT SECRETARY FOR ADMINISTRATION | DEPARTMENTAL ADMINISTRATION | DIRECTOR, OFFICE OF SAFETY, SECURITY AND PROTECTION.
OFFICE OF THE SECRETARY | NATIONAL FINANCE CENTER | DIRECTOR, INFORMATION TECHNOLOGY MANAGEMENT DIVISION.
|  | DEPUTY DIRECTOR, NATIONAL FINANCE CENTER.
|  | DIRECTOR, FINANCIAL SERVICES DIVISION.
| NATIONAL INSTITUE OF FOOD AND AGRICULTURE | ASSISTANT DIRECTOR, INSTITUTE OF BIOENERGY, CLIMATE, AND ENVIRONMENT.
|  | DEPUTY DIRECTOR, OFFICE OF GRANTS AND FINANCIAL MANAGEMENT.
|  | DEPUTY DIRECTOR, OFFICE OF INFORMATION TECHNOLOGY.
|  | DEPUTY DIRECTOR, INSTITUTE OF FOOD SAFETY AND NUTRITION.
| OFFICE OF COMMUNICATIONS | DEPUTY DIRECTOR, CREATIVE DEVELOPMENT.
| OFFICE OF THE CHIEF ECONOMIST | DIRECTOR GLOBAL CHANGE PROGRAM OFFICE.
|  | CHAIRPERSON.
|  | DEPUTY CHIEF ECONOMIST.
|  | DIRECTOR, OFFICE OF RISK ASSESSMENT AND COST- BENEFIT ANALYSIS.
|  | DIRECTOR, OFFICE OF ENERGY POLICY AND NEW USES.
| OFFICE OF THE CHIEF FINANCIAL OFFICER | ASSOCIATE CHIEF FINANCIAL OFFICER FOR FINANCIAL POLICY AND PLANNING.
|  | ASSOCIATE CHIEF FINANCIAL OFFICER, FINANCIAL SYSTEMS PLANNING AND MANAGEMENT.
|  | DEPUTY CHIEF FINANCIAL OFFICER.
| OFFICE OF THE CHIEF INFORMATION OFFICER | DEPUTY CHIEF INFORMATION OFFICER FOR OPERATIONS AND INFRASTRUCTURE.
|  | ASSOCIATE CHIEF INFORMATION OFFICER, INTERNATIONAL TECHNOLOGY SERVICES.
| OFFICE OF THE GENERAL COUNSEL | DIRECTOR, OFFICE OF INFORMATION AFFAIRS.
|  | ASSOCIATE GENERAL COUNSEL, GENERAL LAW AND RESEARCH DIVISION.
|  | ASSISTANT GENERAL COUNSEL, NATURAL RESOURCES AND ENVIRONMENT DIVISION.
| OFFICE OF THE UNDER SECRETARY FOR FARM PRODUCTION AND CONSERVATION | DEPUTY ASSISTANT CHIEF INFORMATION OFFICER.
| OFFICE OF THE UNDER SECRETARY FOR FOOD SAFETY | DEPUTY UNDER SECRETARY FOR FOOD SAFETY.
| OFFICE OF THE UNDER SECRETARY FOR RESEARCH, EDUCATION, AND ECONOMICS | DIRECTOR OFFICE OF THE USDA CHIEF SCIENTIST.
OFFICE OF THE UNDER SECRETARY FOR FOOD SAFETY | FOOD SAFETY AND INSPECTION SERVICE | ASSISTANT ADMINISTRATOR, OFFICE OF INVESTIGATION, ENFORCEMENT AND AUDITING.
|  | UNITED STATES MANAGER FOR CODEX.
|  | DEPUTY ASSISTANT ADMINISTRATOR, OFFICE OF MANAGEMENT.
|  | EXECUTIVE ASSOCIATE FOR REGULATORY OPERATIONS, OFFICE OF FIELD OPERATIONS (4).
|  | EXECUTIVE ASSOCIATE FOR EMPLOYEE EXPERIENCE.
|  | EXECUTIVE ASSOCIATE FOR LABORATORY SERVICES, OFFICE OF PUBLIC HEALTH SCIENCE.
|  | ASSISTANT ADMINISTRATOR.
|  | DEPUTY ASSISTANT ADMINISTRATOR, OFFICE OF FIELD OPERATIONS.
|  | DEPUTY ASSISTANT ADMINISTRATOR, OFFICE OF PUBLIC HEALTH SCIENCE.
|  | ASSISTANT ADMINISTRATOR, OFFICE OF POLICY AND PROGRAM DEVELOPMENT.
|  | CHIEF OPERATING OFFICER.
|  | CHIEF FINANCIAL OFFICER.
|  | DEPUTY ASSISTANT ADMINISTRATOR, OFFICE OF POLICY AND PROGRAM DEVELOPMENT.
|  | DEPUTY ASSISTANT ADMINISTRATOR.
|  | ASSISTANT ADMINISTRATOR, OFFICE OF PUBLIC AFFAIRS AND CONSUMER EDUCATION.
|  | ASSISTANT ADMINISTRATOR, OFFICE OF MANAGEMENT.
|  | DEPUTY ASSISTANT ADMINISTRATOR, OFFICE OF DATA INTEGRATION AND FOOD PROGRAM.
|  | DEPUTY ADMINISTRATOR.
|  | ASSISTANT ADMINISTRATOR, OFFICE OF FIELD OPERATIONS.
|  | ASSISTANT CHIEF INFORMATION OFFICER.
|  | ASSISTANT ADMINISTRATOR, OFFICE OF DATA INTEGRATION AND FOOD PROTECTION.
|  | INTERNATIONAL AFFAIRS LIAISON OFFICER.
OFFICE OF THE UNDER SECRETARY FOR FOOD, NUTRITION AND CONSUMER SERVICES | FOOD AND NUTRITION SERVICE | PROGRAM MANAGER (DEPUTY ADMINISTRATOR FOR MANAGEMENT). FINANCIAL MANAGER.
|  | CHIEF OPERATING OFFICER.
|  | PROGRAM MANAGER (ASSOCIATE ADMINISTRATOR FOR REGIONAL OPERATIONS AND SUPPORT).
OFFICE OF THE UNDER SECRETARY FOR MARKETING AND REGULATORY PROGRAMS | AGRICULTURAL MARKETING SERVICE | DEPUTY ADMINISTRATOR, SCIENCE AND TECHNOLOGY PROGRAMS. DEPUTY ADMINISTRATOR, TRANSPORTATION AND MARKETING PROGRAMS.
|  | DEPUTY ADMINISTRATOR, COTTON AND TOBACCO PROGRAMS.
|  | DEPUTY ADMINISTRATOR, INFORMATION TECHNOLOGY SERVICES.
|  | DEPUTY ADMINISTRATOR, FAIR TRADE PRACTICES PROGRAM.
|  | ASSOCIATE ADMINISTRATOR.
|  | DEPUTY ADMINISTRATOR, COMPLIANCE AND ANALYSIS.
|  | DEPUTY ADMINISTRATOR FOR NATIONAL ORGANIC PROGRAMS.
|  | DEPUTY ADMINISTRATOR, SPECIALTY CROPS.
|  | DEPUTY ADMINISTRATOR, DAIRY PROGRAMS.
|  | DEPUTY ADMINISTARTOR, LIVESTOCK AND SEED PROGRAMS.
| ANIMAL AND PLANT HEALTH INSPECTION SERVICE | ASSISTANT DEPUTY ADMINISTRATOR, PLANT PROTECTION AND.
|  | EXECUTIVE DIRECTOR, CENTER FOR PLANT HEALTH SCIENCE AND TECHNOLOGY.
|  | ASSOCIATE DEPUTY ADMINISTRATOR, WILDLIFE SERVICES.
|  | CHIEF ADVISOR (GOVERNMENT, ACADEMIA AND INDUSTRY PARTNERSHIP).
|  | ASSISTANT CHIEF INFORMATION OFFICER.
|  | DIRECTOR, INVESTIGATIVE AND ENFORCEMENT SERVICES.
|  | DIRECTOR, NATIONAL WILDLIFE RESEARCH CENTER.
|  | HUMAN RESOURCES OFFICER.
|  | DEPUTY ADMINISTRATOR, BIOTECHNOLOGY REGULATORY PROGRAMS.
|  | ASSOCIATE DEPUTY ADMINISTRATOR (2).
|  | ASSOCIATE DEPUTY ADMINISTRATOR, NATIONAL IMPORT EXPORT SERVICES.
|  | ASSOCIATE DEPUTY ADMINISTRATOR FOR MARKETING AND REGULATORY PROGRAMS—BUSNINESS SERVICES.
|  | DEPUTY ADMINISTRATOR FOR INTERNATIONAL SERVICES.
|  | DEPUTY ADMINISTRATOR, LEGISLATIVE AND PUBLIC AFFAIRS.
|  | ASSOCIATE DEPUTY ADMINISTRATOR, EMERGING AND INTERNATIONAL PROGRAMS.
|  | DIRECTOR, EASTERN REGION, WILDLIFE SERVICES.
|  | EXECUTIVE DIRECTOR, WESTERN REGION, WILDLIFE SERVICES.
|  | ASSOCIATE DEPUTY ADMINISTRATOR, VETERINARY SERVICES.
|  | CHIEF FINANCIAL OFFICER.
|  | ASSOCIATE DEPUTY ADMINISTRATOR FOR ANIMAL CARE.
|  | DIRECTOR, NATIONAL IMPORT EXPORT SERVICE.
|  | DEPUTY ADMINISTRATOR, ANIMAL CARE.
|  | DEPUTY ADMINISTRATOR, WILDLIFE SERVICES.
|  | DEPUTY ADMINISTRATOR FOR MARKETING AND REGULATORY PROGRAMS- BUSINESS SERVICES.
| OFFICE OF GRAIN INSPECTION, PACKERS AND STOCKYARDS ADMINISTRATION | DIRECTOR FIELD MANAGEMENT DIVISION.
OFFICE OF THE UNDER SECRETARY FOR RESEARCH, EDUCATION, AND ECONOMICS | AGRICULTURAL RESEARCH SERVICE | DEPUTY ADMINISTRATOR FOR ADMINISTRATIVE AND FINANCIAL MANAGEMENT. ASSOCIATE ADMINISTRATOR, RESEARCH OPERATIONS AND MANAGEMENT.
|  | CHIEF FINANCIAL OFFICER.
|  | ASSISTANT ADMINISTRATOR FOR TECHNOLOGY TRANSFER.
|  | ASSOCIATE DEPUTY ADMINISTRATOR FOR ADMINISTRATIVE AND FINANCIAL MANAGEMENT.
|  | ASSISTANT CHIEF INFORMATION OFFICER.
|  | DIRECTOR, OFFICE OF PEST MANAGEMENT POLICY.
OFFICE OF THE UNDER SECRETARY FOR RURAL DEVELOPMENT | RURAL BUSINESS SERVICE | DEPUTY ADMINISTRATOR, ENERGY PROGRAMS DEPUTY ADMINISTRATOR, BUSINESS PROGRAMS.
| RURAL HOUSING SERVICE | DEPUTY ADMINISTRATOR FOR OPERATIONS AND MANAGEMENT.
|  | DEPUTY ADMINISTRATOR, CENTRALIZED SERVICING CENTER.
|  | DIRECTOR, BUDGET DIVISION.
|  | DIRECTOR, HUMAN RESOURCES.
|  | DIRECTOR, RURAL HOUSING SERVICE.
|  | CHIEF FINANCIAL OFFICER.
|  | DEPUTY ADMINISTRATOR, MULTI-FAMILY HOUSING.
OFFICE OF THE UNDER SECRETARY FOR TRADE AND FOREIGN AGRICULTURAL AFFAIRS | FARM SERVICE AGENCY | DIRECTOR, HUMAN RESOURCES DIVISION. DEPUTY DIRECTOR, OFFICE OF BUDGET AND FINANCE (2).
|  | ASSISTANT DEPUTY ADMINISTRATOR FARM PROGRAMS.
|  | DIRECTOR, BUSINESS AND PROGRAM INTEGRATION.
|  | DIRECTOR, OFFICE OF BUDGET AND FINANCE.
|  | DEPUTY ADMINISTRATOR FOR FARM LOAN PROGRAMS.
| FOREIGN AGRICULTURAL SERVICE | DEPUTY ADMINISTRATOR, OFFICE OF GLOBAL ANALYSIS.
|  | ASSOCIATE ADMINISTRATOR (CHIEF OPERATING OFFICER).
| RISK MANAGEMENT AGENCY | DEPUTY ADMINISTRATOR FOR INSURANCE SERVICES DIVISION.
|  | DEPUTY ADMINISTRATOR FOR PRODUCT MANAGEMENT.
OFFICE OF UNDER SECRETARY FOR NATURAL RESOURCES AND ENVIRONMENT | FOREST SERVICE | ASSOCIATE DEPUTY CHIEF, RESEARCH AND DEVELOPMENT. DEPUTY CHIEF, BUSINESS OPERATIONS.
|  | CHIEF FINANCIAL OFFICER.
|  | DIRECTOR, FIRE AND AVIATION MANAGEMENT.
|  | DIRECTOR, ACQUISITION MANAGEMENT.
|  | ASSOCIATE DEPUTY CHIEF FOR BUSINESS OPERATIONS.
|  | DIRECTOR, LAW ENFORCEMENT AND INVESTIGATIONS.
| NATURAL RESOURCES CONSERVATION SERVICE | CHIEF PROCUREMENT AND PROPERTY OFFICER.
|  | DEPUTY CHIEF FOR STRATEGIC PLANNING AND ACCOUNTABILITY.
|  | DIRECTOR, EASEMENT PROGRAMS DIVISION.
|  | ASSOCIATE CHIEF FOR OPERATIONS/CHIEF OPERATING OFFICER.
|  | DIRECTOR, CONSERVATION ENGINEERING DIVISION.
|  | DIRECTOR ECOLOGICAL SCIENCES DIVISION.
|  | DIRECTOR, SOIL SCIENCE DIVISION.
|  | REGIONAL CONSERVATIONIST (NORTHEAST).
|  | CHIEF FINANCIAL OFFICER.
|  | DIRECTOR, RESOURCE ECONOMICS, ANALYSIS AND POLICY DIVISION.
|  | SPECIAL ASSISTANT TO CHIEF.
|  | HUMAN RESOURCES OFFICER.
|  | DEPUTY CHIEF FOR PROGRAMS.
|  | DIRECTOR, FINANCIAL ASSISTANCE PROGRAMS DIVISION.
DEPARTMENT OF AGRICULTURE OFFICE OF THE INSPECTOR GENERAL | DEPARTMENT OF AGRICULTURE OFFICE OF THE INSPECTOR GENERAL | COUNSEL TO THE INSPECTOR GENERAL. DEPUTY INSPECTOR GENERAL.
OFFICE OF INSPECTOR GENERAL | OFFICE OF THE ASSISTANT INSPECTOR GENERAL FOR AUDIT | DEPUTY ASSISTANT INSPECTOR GENERAL FOR AUDIT (2). ASSISTANT INSPECTOR GENERAL FOR OFFICE OF DATA SCIENCES.
|  | ASSISTANT INSPECTOR GENERAL FOR AUDIT.
| OFFICE OF THE ASSISTANT INSPECTOR GENERAL FOR INVESTIGATIONS | ASSISTANT INSPECTOR GENERAL FOR INVESTIGATIONS.
|  | DEPUTY ASSISTANT INSPECTOR GENERAL FOR INVESTIGATIONS.
| OFFICE OF THE ASSISTANT INSPECTOR GENERAL FOR MANAGEMENT | ASSISTANT INSPECTOR GENERAL FOR MANAGEMENT.
AMERICAN BATTLE MONUMENTS COMMISSION | OFFICE OF THE DIRECTOR, OVERSEAS OPERATIONS | CHIEF OPERATING OFFICER.
| OFFICE OF THE EXECUTIVE DIRECTOR | DEPUTY SECRETARY.
ARCHITECTURAL AND TRANSPORTATION BARRIERS COMPLIANCE BOARD (UNITED STATES ACCESS BOARD) | ARCHITECTURAL AND TRANSPORTATION BARRIERS COMPLIANCE BOARD (UNITED STATES ACCESS BOARD) | DIRECTOR OFFICE OF TECHNICAL AND INFORMATION SERVICES. EXECUTIVE DIRECTOR.
UNITED STATES AGENCY FOR GLOBAL MEDIA | UNITED STATES AGENCY FOR GLOBAL MEDIA | EXECUTIVE DIRECTOR. CHIEF FINANCIAL OFFICER.
|  | CHIEF INFORMATION OFFICER/DIRECTOR OF INFORMATION TECHNOLOGY OPERATIONS.
|  | DEPUTY DIRECTOR FOR OPERATIONS.
|  | DIRECTOR OF MANAGEMENT SERVICES.
DEPARTMENT OF COMMERCE:
ALASKA REGION | CLIMATE PREDICTION CENTER | DIRECTOR, CLIMATE PREDICTION CENTER.
| NATIONAL CENTERS FOR ENVIRONMENTAL PREDICTION CENTRAL OPERATIONS | DIRECTOR, CENTRAL OPERATIONS.
| STORM PREDICTION CENTER | DIRECTOR, STORM PREDICTION CENTER.
| TROPICAL PREDICTION CENTER | DIRECTOR, NATIONAL HURRICANE CENTER.
ASSISTANT SECRETARY FOR ENFORCEMENT AND COMPLIANCE | OFFICE OF THE DEPUTY ASSISTANT SECRETARY FOR AD/CVD OPERATIONS | SENIOR DIRECTOR. SENIOR DIRECTOR, AD/CVD ENFORCEMENT OFFICE VII.
|  | ASSOCIATE DEPUTY ASSISTANT SECRETARY FOR AD/CVD OPERATIONS.
ASSISTANT SECRETARY FOR INDUSTRY AND ANALYSIS | OFFICE OF THE DEPUTY ASSISTANT SECRETARY FOR TRADE, POLICY AND ANALYSIS | DIRECTOR, OFFICE OF STANDARDS AND INVESTMENT POLICY.
BUREAU OF ECONOMIC ANALYSIS | OFFICE OF THE ASSOCIATE DIRECTOR FOR INDUSTRY ACCOUNTS | ASSOCIATE DIRECTOR FOR INDUSTRY ACCOUNTS.
| OFFICE OF THE ASSOCIATE DIRECTOR FOR INTERNATIONAL ECONOMICS | CHIEF, BALANCE OF PAYMENTS DIVISION. ASSOCIATE DIRECTOR FOR INTERNATIONAL ECONOMICS.
|  | CHIEF DIRECT INVESTMENT DIVISION.
| OFFICE OF THE ASSOCIATE DIRECTOR FOR REGIONAL ECONOMICS | ASSOCIATE DIRECTOR FOR REGIONAL ECONOMICS.
| BUREAU OF ECONOMIC ANALYSIS | ASSOCIATE DIRECTOR FOR NATIONAL ECONOMIC ACCOUNTS.
|  | CHIEF NATIONAL INCOME AND WEALTH DIVISION.
| OFFICE OF THE DIRECTOR | CHIEF INNOVATION OFFICER.
|  | CHIEF INFORMATION OFFICER.
|  | DEPUTY DIRECTOR, BUREAU OF ECONOMIC ANALYSIS.
|  | DIRECTOR, BUREAU OF ECONOMIC ANALYSIS.
|  | CHIEF FINANCIAL OFFICER AND CHIEF OF ADMINISTRATIVE SERVICES.
|  | CHIEF ADMINISTRATIVE OFFICER.
|  | CHIEF ECONOMIST.
BUREAU OF INDUSTRY AND SECURITY | OFFICE OF THE ASSISTANT SECRETARY FOR EXPORT ENFORCEMENT | DIRECTOR, OFFICEOF ENFORCEMENT ANALYSIS. DEPUTY DIRECTOR, OFFICE OF EXPORT ENFORCEMENT.
|  | DIRECTOR OFFICE OF EXPORT ENFORCEMENT.
|  | DEPUTY ASSISTANT SECRETARY FOR EXPORT ENFORCEMENT.
BUREAU OF THE CENSUS | OFFICE OF ASSOCIATE DIRECTOR FOR ADMINISTRATION AND CHIEF FINANCIAL OFFICER | CHIEF, FINANCE DIVISION. DEPUTY CHIEF FINANCIAL OFFICER.
|  | CHIEF, ACQUISITION DIVISION.
|  | CHIEF, BUDGET DIVISION.
|  | CHIEF ADMINISTRATIVE OFFICER.
|  | CHIEF, HUMAN RESOURCES DIVISION.
|  | CHIEF FINANCIAL OFFICER.
| OFFICE OF ASSOCIATE DIRECTOR FOR ECONOMIC PROGRAMS | CHIEF, ECONOMIC REIMBURSABLE SURVEYS DIVISION.
|  | CHIEF, ECONOMIC MANAGEMENT DIVISION.
|  | CHIEF, ECONOMY-WIDE STATISTICS DIVISION.
|  | ASSISTANT DIRECTOR FOR ECONOMIC PROGRAMS.
|  | ASSOCIATE DIRECTOR FOR ECONOMIC PROGRAMS.
|  | CHIEF, ECONOMIC APPLICATIONS DIVISION.
|  | CHIEF, ECONOMIC STATISTICAL METHODS AND RESEARCH DIVISION.
|  | CHIEF, ECONOMIC INDICATORS DIVISION.
| OFFICE OF ASSOCIATE DIRECTOR FOR FIELD OPERATIONS | CHIEF, OFFICE OF SURVEY AND CENSUS ANALYTICS. ASSISTANT DIRECTOR FOR FIELD OPERATIONS (2).
|  | CHIEF NATIONAL PROCESSING CENTER.
|  | CHIEF, FIELD DIVISION.
| OFFICE OF ASSOCIATE DIRECTOR FOR INFORMATION TECHNOLOGY AND CHIEF INFORMATION OFFICER | DEPUTY CHIEF INFORMATION OFFICER (DCIO). CHIEF, COMPUTER SERVICES DIVISION.
|  | CHIEF TECHNOLOGY OFFICER.
|  | CHIEF INFORMATION SECURITY OFFICER.
|  | CHIEF, APPLICATION DEVELOPMENT AND SERVICES DIVISION.
|  | CHIEF INFORMATION OFFICER.
| OFFICE OF THE DIRECTOR | SENIOR ADVISOR FOR PROJECT MANAGEMENT.
|  | ASSOCIATE DIRECTOR FOR PERFORMANCE IMPROVEMENT.
|  | CHIEF, OFFICE OF PROGRAM, PERFORMANCE, AND STAKEHOLDER INTEGRATION.
DEPARTMENT OF COMMERCE | BUREAU OF INDUSTRY AND SECURITY | CHIEF INFORMATION OFFICER. CHIEF FINANCIAL OFFICER AND DIRECTOR OF ADMINISTRATION.
| OFFICE OF ECONOMICS AND STATISTICS ADMINISTRATION | CHIEF FINANCIAL OFFICER AND DIRECTOR FOR ADMINISTRATION.
|  | DIRECTOR FOR POLICY AND PLANNING.
| MINORITY BUSINESS DEVELOPMENT AGENCY | ASSOCIATE DIRECTOR FOR MANAGEMENT.
| NATIONAL TECHNICAL INFORMATION SERVICE | DEPUTY DIRECTOR, NATIONAL TECHNICAL INFORMATION SERVICE.
| OFFICE OF THE INSPECTOR GENERAL | DEPUTY ASSISTANT INSPECTOR GENERAL FOR ECONOMIC AND STATISTICAL PROGRAM ASSESSMENT.
| OFFICE OF THE SECRETARY | DIRECTOR OFFICE OF SMALL AND DISADVANTAGED BUSINESS UTILIZATION.
DIRECTOR GENERAL OF THE UNITED STATES AND FOREIGN COMERCIAL SERVICE AND ASSISTANT SECRETARY FOR GLOBAL MARKETS | DEPUTY ASSISTANT SECRETARY FOR CHINA | EXECUTIVE DIRECTOR FOR CHINA.
ECONOMIC DEVELOPMENT ADMINISTRATION | OFFICE OF THE DEPUTY ASSISTANT SECRETARY | CHIEF FINANCIAL OFFICER AND CHIEF ADMINISTRATIVE OFFICER.
ECONOMICS AND STATISTICS ADMINISTRATION | ASSOCIATE DIRECTOR FOR DECENNIAL CENSUS | CHIEF, DECENNIAL STATISTICAL STUDIES. ASSOCIATE DIRECTOR FOR DECENNIAL CENSUS.
|  | SENIOR ADVOCATE FOR RESPONSE SECURITY AND DATA INTEGRITY.
|  | CHIEF, DECENNIAL COMMUNICATIONS AND STAKEHOLDER RELATIONSHIPS.
|  | ASSISTANT DIRECTOR FOR DECENNIAL CENSUS PROGRAMS (SYSTEMS AND CONTRACTS).
|  | CHIEF, DECENNIAL CONTRACTS EXECUTION OFFICE.
|  | CHIEF, DECENNIAL INFORMATION TECHNOLOGY DIVISION.
|  | CHIEF, AMERICAN COMMUNITY SURVEY OFFICE.
|  | CHIEF DECENNIAL MANAGEMENT DIVISION.
|  | CHIEF, GEOGRAPHY DIVISION.
|  | ASSISTANT DIRECTOR FOR DECENNIAL CENSUS PROGRAMS (OPERATIONS AND SCHEDULE MANAGEMENT).
| OFFICE OF THE ASSOCIATE DIRECTOR FOR DEMOGRAPHIC PROGRAMS | CHIEF, POPULATION DIVISION. ASSISTANT DIRECTOR FOR DEMOGRAPHIC PROGRAMS.
|  | CHIEF, DEMOGRAPHIC STATISTICAL METHODS DIVISION.
|  | CHIEF, SOCIAL, ECONOMIC, AND HOUSING STATISTICS DIVISION.
|  | CHIEF DEMOGRAPHIC SURVEYS DIVISION.
|  | ASSOCIATE DIRECTOR FOR DEMOGRAPHIC PROGRAMS.
| OFFICE OF THE ASSOCIATE DIRECTOR FOR RESEARCH AND METHODOLOGY | CHIEF, CENTER FOR ECONOMIC STUDIES AND CHIEF ECONOMIST.
|  | ASSOCIATE DIRECTOR FOR RESEARCH AND METHODOLOGY.
|  | ASSISTANT DIRECTOR FOR RESEARCH AND METHODOLOGY.
|  | CHIEF, CENTER FOR ADAPTIVE DESIGN.
|  | CHIEF, CENTER FOR SURVEY MEASUREMENT.
|  | CHIEF, CENTER FOR ENTERPRISE DISSEMINATION.
|  | CHIEF STATISTICAL RESEARCH DIVISION.
ENVIRONMENTAL RESEARCH LABORATORIES | ATLANTIC OCEAN AND METEOROLOGY LABORATORY | DIRECTOR, ATLANTIC OCEANOGRAPHIC AND METEOROLOGICAL.
| GEOPHYSICAL FLUID DYNAMICS LABORATORY | DIRECTOR, OFFICE OF GEOPHYSICAL FLUID DYNAMICS LABORATORY.
| GREAT LAKE ENVIRONMENTAL RESEARCH LABORATORY | DIRECTOR, OFFICE OF GREAT LAKES ENVIRONMENTAL RESEARCH LABORATORY.
| PACIFIC MARINE ENVIRONMENTAL RESEARCH LABORATORY | DIRECTOR, OFFICE OF PACIFIC MARINE ENVIRONMENTAL LABORATORY.
NATIONAL INSTITUTE OF STANDARDS AND TECHNOLOGY | BOULDER SITE MANAGEMENT OFFICE CENTER FOR NANOSCALE SCIENCE AND TECHNOLOGY | BOULDER LABORATORIES SITE MANAGER. DIRECTOR, CENTER FOR NANOSCALE SCIENCE AND TECHNOLOGY. DEPUTY DIRECTOR, CENTER FOR NANOSCALE SCIENCE AND TECHNOLOGY.
| ENGINEERING LABORATORY | DIRECTOR, ENGINEERING LABORATORY.
|  | DEPUTY DIRECTOR ENGINEERING LABORATORY.
|  | DIRECTOR, SMART GRID AND CYBER-PHYSICAL SYSTEMS PROGAM OFFICE.
| HOLLINGS MANUFACTURING EXTENSION PARTNERSHIP PROGRAM | DEPUTY DIRECTOR, MANUFACTURING EXTENSION PARTNERSHIP PROGRAM.
|  | DIRECTOR, MANUFACTURING EXTENSION PARTNERSHIP PROGRAMS.
| INFORMATION TECHNOLOGY LABORATORY | DEPUTY DIRECTOR, INFORMATION TECHNOLOGY LABORATORY.
|  | DIRECTOR, INFORMATION TECHNOLOGY LABORATORY.
| MATERIAL MEASUREMENT LABORATORY | DIRECTOR, MATERIAL MEASUREMENT LABORATORY.
| NATIONAL INSTITUTE OF STANDARDS AND TECHNOLOGY CENTER FOR NEUTRON RESEARCH | DIRECTOR, NATIONAL INSTITUTE OF STANDARDS AND TECHNOLOGY CENTER FOR NEUTRON RESEARCH.
|  | DEPUTY DIRECTOR, NATIONAL INSTITUTE OF STANDARDS AND TECHNOLOGY CENTER FOR NEUTRON RESEARCH.
| OFFICE OF ACQUISITION AND AGREEMENTS MANAGEMENT | DIRECTOR, OFFICE OF ACQUISITION AND AGREEMENTS MANAGEMENT.
| OFFICE OF FACILITIES AND PROPERTY MANAGEMENT | CHIEF FACILITIES MANAGEMENT OFFICER.
| OFFICE OF FINANCIAL RESOURCE MANAGEMENT | CHIEF FINANCIAL OFFICER (2).
| OFFICE OF INFORMATION SYSTEMS MANAGEMENT | CHIEF INFORMATION OFFICER FOR NATIONAL INSTITUTE OF STANDARDS AND TECHNOLOGY.
| OFFICE OF SAFETY, HEALTH AND ENVIRONMENT | CHIEF SAFETY OFFICER.
| OFFICE OF THE UNDER SECRETARY OF COMMERCE FOR STANDARDS AND TECHNOLOGY | DIRECTOR, COMMUNICATIONS TECHNOLOGY LABORATORY.
|  | ASSOCIATE DIRECTOR FOR LABORATORY PROGRAMS.
|  | ASSOCIATE DIRECTOR FOR MANAGEMENT RESOURCES.
|  | ASSOCIATE DIRECTOR FOR INNOVATION AND INDUSTRY SERVICES.
|  | CHIEF OF STAFF FOR NATIONAL INSTITUTE FOR STANDARDS AND TECHNOLOGY.
|  | SENIOR SCIENCE ADVISOR.
|  | CHIEF SCIENTIST.
|  | DIRECTOR, ADVANCED MANUFACTURING PROGRAM OFFICE.
| PHYSICAL MEASUREMENT LABORATORY | DIRECTOR, PHYSICAL MEASUREMENT.
|  | DEPUTY DIRECTOR FOR MEASUREMENT SCIENCE.
|  | DEPUTY DIRECTOR, PHYSICAL MEASUREMENT LABORATORY.
| SPECIAL PROGRAMS OFFICE | DIRECTOR, SPECIAL PROGRAMS OFFICE.
|  | DEPUTY DIRECTOR, SPECIAL PROGRAMS OFFICE.
| STANDARDS COORDINATION OFFICE | DIRECTOR, STANDARDS COORDINATION OFFICE.
NATIONAL MARINE FISHERIES SERVICE | OFFICE OF SCIENCE AND TECHNOLOGY REGIONAL OFFICES | DIRECTOR OFFICE OF SCIENCE AND TECHNOLOGY. SCIENCE AND RESEARCH DIRECTOR NORTHEAST REGION.
|  | SCIENCE AND RESEARCH DIRECTOR, SOUTHEAST REGION.
|  | SCIENCE AND RESEARCH DIRECTOR, ALASKA REGION.
|  | SCIENCE AND RESEARCH DIRECTOR, NORTHWEST REGION.
|  | SCIENCE AND RESEARCH DIRECTOR, PACIFIC ISLAND REGION.
|  | SCIENCE AND RESEARCH DIRECTOR SOUTHWEST REGION.
NATIONAL OCEAN SERVICE | CENTER FOR OPERATIONAL OCEANOGRAPHIC PRODUCTS AND SERVICES | DIRECTOR, CENTER FOR OPERATIONAL OCEANOGRAPHIC PRODUCTS AND SERVICES.
| NATIONAL OCEANIC AND ATMOSPHERIC ADMINISTRATION COASTAL SERVICES CENTER | DIRECTOR, NATIONAL CENTERS FOR COASTAL OCEAN SCIENCE.
| OFFICE OF NATIONAL GEODETIC SURVEY | DIRECTOR, OFFICE OF NATIONAL GEODTIC SURVEY.
| OFFICE OF RESPONSE AND RESTORATION | DIRECTOR, OFFICE OF RESPONSE AND RESTORATON.
NATIONAL OCEANIC AND ATMOSPHERIC ADMINISTRATION | NATIONAL CENTERS FOR ENVIRONMENTAL PREDICTION | DIRECTOR, AVIATION WEATHER CENTER. DIRECTOR, WEATHER PREDICTION CENTER.
|  | DIRECTOR, OCEAN PREDICTION CENTER.
|  | DIRECTOR, SPACE WEATHER PREDICTION CENTER.
|  | DIRECTOR, ENVIRONMENTAL MODELING CENTER.
|  | DIRECTOR, NATIONAL CENTERS FOR ENVIRONMENTAL PREDICTION.
| OFFICE OF ASSISTANT ADMINISTRATOR SATELLITE, DATA INFORMATION SERVICE | DIRECTOR, OFFICE OF PROJECTS, PARTNERSHIPS AND ANALYSIS.
|  | DEPUTY DIRECTOR, NATIONAL CENTER FOR ENVIRONMENTAL INFORMATION.
|  | DIRECTOR, NATIONAL CENTER FOR ENVIRONMENTAL INFORMATION.
|  | DIRECTOR, JOINT POLAR SATELLITE SYSTEMS.
|  | DIRECTOR SATELLITE GROUND SERVICES.
|  | DIRECTOR, OFFICE OF SYSTEMS ARCHITECTURE AND ADVANCED PLANNING.
|  | ASSISTANT CHIEF INFORMATION OFFICER FOR NESDIS.
|  | CHIEF FINANCIAL OFFICER/CHIEF ADMINISTRATIVE OFFICER.
|  | DEPUTY ASSISTANT ADMINISTRATOR FOR SYSTEMS.
|  | SYSTEM PROGRAM DIRECTOR FOR GOES-R PROGRAM.
| OFFICE OF ASSISTANT ADMINISTRATOR, OCEAN AND ATMOSPHERIC RESEARCH | DIRECTOR, OFFICE OF WEATHER AIR QUALITY. CHIEF FINANCIAL OFFICER/CHIEF ADMINISTRATIVE OFFICER.
|  | DEPUTY ASSISTANT ADMINISTRATOR FOR SCIENCE.
| OFFICE OF EDUCATION AND SUSTAINABLE DEVELOPMENT | DIRECTOR, OFFICE OF EDUCATION.
| OFFICE OF HABITAT CONSERVATION | DIRECTOR, OFFICE OF HABITAT CONSERVATION.
| OFFICE OF HIGH-PERFORMANCE COMPUTING AND COMMUNICATIONS | DEPUTY CHIEF INFORMATION OFFICER. CHIEF DATA OFFICER.
|  | CHIEF INFORMATION OFFICER AND DIRECTOR FOR HIGH PERFORMANCE COMPUTING AND COMMUNICATIONS.
| OFFICE OF MARINE AND AVIATION OPERATIONS | DEPUTY ASSISTANT ADMINISTRATOR FOR PROGRAMS AND ADMINISTRATION.
| OFFICE OF OCEANIC EXPLORATION AND RESEARCH | DIRECTOR, OFFICE OF OCEAN EXPLORATION AND RESEARCH.
| OFFICE OF RESEARCH AND APPLICATIONS | DIRECTOR, CENTER FOR SATELLITE APPLICATIONS AND RESEARCH.
| OFFICE OF SATELLITE AND PRODUCT OPERATIONS | DEPUTY DIRECTOR, OFFICE OF SATELLITE AND PRODUCT OPERATIONS.
| OFFICE OF THE ASSISTANT ADMINISTRATOR FOR WEATHER SERVICES | DIRECTOR, OFFICE OF PLANNING AND PROGRAMMING FOR SERVICE.
|  | OFFICE OF ORGANIZATIONAL EXCELLENCE.
|  | CHIEF FINANCIAL OFFICER/CHIEF ADMINISTRATOR OFFICER.
|  | DIRECTOR, OFFICE OF FACILITIES.
|  | DIRECTOR, OFFICE OF SCIENCE AND TECHNOLOGY INTEGRATION.
|  | DIRECTOR, OFFICE OF OBSERVATIONS.
|  | CHIEF OPERATING OFFICER.
|  | CHIEF ENGINEER.
|  | DIRECTOR, OFFICE OF ORGANIZATIONAL EXCELLENCE.
|  | DEPUTY DIRECTOR, OFFICE OF WATER PREDICTION.
|  | DIRECTOR, OFFICE OF WATER PREDICTION.
|  | DIRECTOR, OFFICE OF DISSEMINATION.
|  | DIRECTOR, OFFICE OF CENTRAL PROCESSING.
|  | DIRECTOR, ANALYZE, FORECAST AND SUPPORT OFFICE.
| OFFICE OF UNDER SECRETARY | DEPUTY DIRECTOR FOR WORKFORCE MANAGEMENT.
|  | DIRECTOR, BUDGET OFFICE.
|  | DIRECTOR, ACQUISITION AND GRANTS OFFICE.
|  | CHIEF ADMINISTRATIVE OFFICER.
|  | DIRECTOR, FINANCE OFFICE/COMPTROLLER.
|  | CHIEF FINANCIAL OFFICER.
|  | DIRECTOR FOR WORKFORCE MANAGEMENT.
|  | DIRECTOR, PROGRAM EVALUATION, PLANNING AND RISK MANAGEMENT OFFICE.
|  | DEPUTY DIRECTOR, ACQUISITION AND GRANTS OFFICE.
NATIONAL TELECOMMUNICATIONS AND INFORMATION ADMINISTRATION | FIRST RESPONDER NETWORK AUTHORITY | CHIEF PROCUREMENT OFFICER. CHIEF TECHNOLOGY OFFICER, FIRST RESPONDER NETWORK AUTHORITY.
|  | CHIEF INFORMATION OFFICER, FIRST RESPONDER NETWORK AUTHORITY.
|  | CHIEF ADMINISTRATIVE OFFICER, FIRST RESPONDER NETWORK AUTHORITY.
|  | CHIEF FINANCIAL OFFICER, FIRST RESPONDER NETWORK AUTHORITY.
| OFFICE OF INSTITUTE FOR TELECOMMUNICATION SCIENCES | ASSOCIATE ADMINISTRATOR FOR TELECOMMUNICATION SCIENCES AND DIRECTOR, INSTITUTE FOR TELECOMMUNICATION SCIENCES.
| OFFICE OF INTERNATIONAL AFFAIRS | ASSOCIATE ADMINISTRATOR, OFFICE OF INTERNATIONAL AFFAIRS.
| OFFICE OF THE ASSISTANT SECRETARY FOR COMMUNICATIONS AND INFORMATION | CHIEF DIGITAL OFFICER. CHIEF FINANCIAL OFFICER AND DIRECTOR OF ADMINISTRATION.
|  | CHIEF INFORMATION OFFICER AND DEPUTY DIRECTOR FOR POLICY COORDINATION AND MANAGEMENT.
OFFICE—FEDERAL COORDINATOR—METEOROLOGY | ALASKA REGION CENTERAL REGION | DIRECTOR, ALASKA REGION. DIRECTOR CENTRAL REGION.
| EASTERN REGION | DIRECTOR EASTERN REGION.
| SOUTHERN REGION | DIRECTOR, SOUTHERN REGION.
| WESTERN REGION | DIRECTOR, WESTERN REGION.
OFFICE OF ASSISTANT ADMINISTRATOR FOR FISHERIES | NATIONAL MARINE FISHERIES SERVICE | DEPUTY ASSISTANT ADMINISTRATOR FOR OPERATIONS.
|  | DIRECTOR OFFICE OF SUSTAINABLE FISHERIES.
|  | CHIEF FINANCIAL OFFICER/CHIEF ADMINISTRATIVE OFFICER.
|  | DIRECTOR, SCIENTIFIC PROGRAMS AND CHIEF SCIENCE ADVISOR.
|  | DIRECTOR, OFFICE OF ENFORCEMENT.
OFFICE OF ASSISTANT ADMINISTRATOR OCEAN SERVICES AND COASTAL ZONE MANAGEMENT | NATIONAL OCEAN SERVICE | CHIEF FINANCIAL OFFICER/CHIEF ADMINISTRATIVE OFFICER. DEPUTY ASSISTANT ADMINISTRATOR FOR OCEAN SERVICE AND COASTAL ZONE MANAGEMENT.
|  | DIRECTOR, OFFICE OF COASTAL MANAGEMENT.
|  | DIRECTOR, INTEGRATED OCEAN OBSERVING SYSTEM.
OFFICE OF ASSISTANT ADMINISTRATOR, OCEAN AND ATMOSPHERIC RESEARCH | EARTH SYSTEM RESEARCH LABORATORY | DIRECTOR, GLOBAL MONITORING DIVISION. DIRECTOR, GLOBAL SYSTEMS DIVISION.
|  | DIRECTOR, PHYSICAL SCIENCE DIVISION.
|  | DIRECTOR, CHEMICAL SCIENCE DIVISION.
| OFFICE OF NATIONAL SEVERE STORMS LABORATORY | DIRECTOR NATIONAL SEVERE STORMS LABORATORY.
OFFICE OF OCEANIC AND ATMOSPHERIC RESEARCH | CLIMATE PROGRAM OFFICE | DIRECTOR, CLIMATE PROGRAM OFFICE.
OFFICE OF OCEANIC EXPLORATION AND RESEARCH | NATIONAL SEA GRANT COLLEGE PROGRAM | DIRECTOR, NATIONAL SEA GRANT COLLEGE PROGRAM.
OFFICE OF OPERATIONAL SYSTEMS | NATIONAL DATA BUOY CENTER | DIRECTOR, NATIONAL DATA BUOY CENTER.
| RADAR OPERATIONS CENTER | DIRECTOR, RADAR OPERATIONS CENTER.
OFFICE OF SCIENCE AND TECHNOLOGY | METEOROLOGICAL DEVELOPMENT LABORATORY | DIRECTOR, METEOROLOGICAL DEVELOPMENT LABORATORY.
OFFICE OF THE ASSISTANT ADMINISTRATOR FOR WEATHER SERVICES | OFFICE OF THE CHIEF INFORMATION OFFICER | ASSISTANT CHIEF INFORMATION OFFICER FOR WEATHER SERVICE.
OFFICE OF THE CHIEF FINANICAL OFFICER AND ASSISTANT SECRETARY FOR ADMINISTRATION | OFFICE OF THE DEPUTY ASSISTANT SECRETARY FOR RESOURCE MANAGEMENT OFFICE OF THE DEPUTY CHIEF FINANCIAL OFFICER FOR FINANCIAL MANAGEMENT | DEPUTY ASSISTANT SECRETARY FOR RESOURCE MANAGEMENT. DIRECTOR FOR FINANCIAL MANAGEMENT AND DEPUTY CHIEF FINANCIAL OFFICER.
|  | DIRECTOR, FINANCIAL REPORTING AND INTERNAL CONTROLS.
|  | DEPUTY DIRECTOR, OFFICE OF FINANCIAL MANAGEMENT SYSTEMS.
|  | DIRECTOR, OS FINANCIAL MANAGEMENT.
OFFICE OF THE COMMISSIONER FOR PATENTS | GROUP DIRECTORS | GROUP DIRECTOR (3). GROUP DIRECTOR—2100.
|  | GROUP DIRECTOR—3600.
|  | GROUP DIRECTOR—2800.
|  | GROUP DIRECTOR—2400.
|  | GROUP DIRECTOR—2600.
|  | GROUP DIRECTOR—1700.
|  | GROUP DIRECTOR—2900.
|  | GROUP DIRECTOR—1600.
|  | GROUP DIRECTOR—3700.
OFFICE OF THE DEPUTY ASSISTANT SECRETARY FOR ADMINISTRATION | OFFICE OF ACQUISITION MANAGEMENT | DEPUTY FOR PROCUREMENT MANAGEMENT, POLICY AND PERFORMANCE EXCELLENCE. DEPUTY FOR ACQUISITION PROGRAM MANAGEMENT.
|  | DIRECTOR, OFFICE OF ACQUISITION MANAGEMENT..
| OFFICE OF FACILITIES AND ENVIRONMENTAL QUALITY | DEPUTY DIRECTOR FOR FACILITIES AND ENVIRONMENTAL QUALITY.
|  | DIRECTOR FOR FACILITIES AND ENVIRONMENTAL QUALITY (2).
| OFFICE OF HUMAN RESOURCES MANAGEMENT | DIRECTOR FOR HUMAN RESOURCES MANAGEMENT AND CHIEF HUMAN CAPITAL.
|  | DEPUTY DIRECTOR FOR HUMAN RESOURCES MANAGEMENT AND DEPUTY CHIEF HUMAN CAPITAL OFFICER.
|  | DIRECTOR, HUMAN CAPITAL CLIENT SERVICES.
| OFFICE OF SECURITY | DIRECTOR, OFFICE OF SECURITY.
|  | DEPUTY DIRECTOR, OFFICE OF SECURITY.
OFFICE OF THE DEPUTY ASSISTANT SECRETARY FOR RESOURCE MANAGEMENT | OFFICE OF BUDGET | DIRECTOR OF THE OFFICE OF BUDGET.
OFFICE OF THE DEPUTY SECRETARY | OFFICE OF THE CHIEF INFORMATION OFFICER | DEPUTY CHIEF INFORMATION OFFICER FOR POLICY AND BUSINESS MANAGEMENT.
|  | DIRECTOR OF CYBER SECURITY AND CHIEF INFORMATION SECURITY OFFICER.
|  | DEPUTY CHIEF INFORMATION OFFICER FOR SOLUTIONS AND SERVICE DELIVERY.
OFFICE OF THE INSPECTOR GENERAL | OFFICE OF COUNSEL TO THE INSPECTOR GENERAL OFFICE OF INSPECTIONS AND PROGRAM EVALUATION | COUNSEL TO THE INSPECTOR GENERAL. ASSISTANT INSPECTOR GENERAL FOR INSPECTIONS AND PROGRAM EVALUATION.
| OFFICE OF INSPECTOR GENERAL | ASSISTANT INSPECTOR GENERAL FOR SYSTEMS EVALUATION.
|  | ASSISTANT INSPECTOR GENERAL FOR ADMINISTRATION.
| OFFICE OF INVESTIGATIONS | ASSISTANT INSPECTOR GENERAL FOR INVESTIGATIONS.
OFFICE OF THE SECRETARY | OFFICE OF THE CHIEF FINANICAL OFFICER AND ASSISTANT SECRETARY FOR ADMINISTRATION | DIRECTOR FOR ADMINISTRATIVE PROGRAMS. DEPUTY DIRECTOR, OFFICE OF BUDGET.
| OFFICE OF THE DEPUTY SECRETARY | CHIEF FINANCIAL OFFICER AND DIRECTOR OF ADMINISTRATION.
|  | DEPUTY DIRECTOR FOR ENTERPRISE SERVICES FOR OPERATIONS.
|  | DIRECTOR, HUMAN RESOURCES SERVICES, ENTERPRISE SERVICES.
|  | DEPUTY DIRECTOR FOR PLANNING, IMPLEMENTATION, AND STAKEHOLDER RELATIONS.
|  | DIRECTOR OF ACQUISITION SERVICES.
| OFFICE OF THE GENERAL COUNSEL | CHIEF, ETHICS DIVISION.
|  | CHIEF, CONTRACT LAW DIVISION.
|  | DIRECTOR OF ADMINISTRATIVE OPERATIONS.
OFFICE OF THE UNDER SECRETARY | OFFICE OF THE DEPUTY UNDER SECRETARY | CHIEF FINANCIAL AND ADMINISTRATIVE OFFICER.
|  | DEPUTY CHIEF INFORMATION OFFICER.
|  | DEPUTY CHIEF FINANCIAL AND ADMINISTRATIVE OFFICER.
OFFICE OF THE UNDER SECRETARY OF COMMERCE FOR STANDARDS AND TECHNOLOGY | BALDRIDGE PERFORMANCE EXCELLENCE PROGRAM | DIRECTOR, BALDRIGE PERFORMANCE EXCELLENCE PROGRAM.
PATENT AND TRADEMARK OFFICE | OFFICE OF POLICY AND INTERNATIONAL AFFAIRS | DEPUTY CHIEF POLICY OFFICER FOR OPERATIONS.
|  | DIRECTOR, GOVERNMENTAL AFFAIRS.
|  | DEPUTY CHIEF POLICY OFFICER.
| OFFICE OF THE CHIEF ADMINISTRATIVE OFFICER | DIRECTOR, OFFICE OF ADMINISTRATIVE SERVICES.
|  | DEPUTY CHIEF ADMINISTRATIVE OFFICER (2).
|  | DIRECTOR, HUMAN CAPITAL MANAGEMENT.
| OFFICE OF THE CHIEF FINANCIAL OFFICER | DIRECTOR, OFFICE OF PROCUREMENT.
|  | DEPUTY CHIEF FINANCIAL OFFICER.
|  | DIRECTOR, OFFICE OF PLANNING AND BUDGET.
|  | CHIEF FINANCIAL OFFICER.
|  | DIRECTOR, OFFICE OF FINANCE.
| OFFICE OF THE CHIEF INFORMATION OFFICER | DIRECTOR, OFFICE OF PROGRAM ADMINISTRATION ORGANIZATION.
|  | DIRECTOR, OFFICE OF INFORMATION MANAGEMENT SERVICES.
|  | CHIEF TECHNOLOGY OFFICER.
|  | DIRECTOR OF ORGANIZATIONAL POLICY AND GOVERANCE.
|  | DEPUTY CHIEF INFORMATION OFFICER.
|  | DIRECTOR, OFFICE OF INFRASTRUCTURE ENGINEERING AND OPERATIONS.
|  | DIRECTOR, APPLICATION ENGINEERING AND DEVELOPMENT.
| OFFICE OF THE COMMISSIONER FOR PATENTS | DIRECTOR, OFFICE OF CENTRAL REEXAMINATION UNIT.
|  | ASSOCIATE COMMISSIONER FOR PATENT INFORMATION MANAGEMENT.
|  | DEPUTY COMMISSIONER FOR PATENT ADMINISTRATION.
|  | ASSISTANT DEPUTY COMMISSIONER FOR PATENTS OPERATIONS (2).
|  | ASSISTANT DEPUTY COMMISSIONER FOR PATENTS (3).
|  | DEPUTY COMMISSIONER FOR INTERNATIONAL PATENT COOPERATION.
|  | DEPUTY DIRECTOR, PATENT TRAINING ACADEMY.
|  | SENIOR ADVISOR FOR PATENTS.
|  | PATENT EXAMINING GROUP DIRECTOR.
|  | ASSOCIATE COMMISSIONER FOR PATENT QUALITY.
|  | ASSOCIATE COMMISSIONER FOR INNOVATION AND DEVELOPMENT.
|  | DIRECTOR, OFFICE OF PATENT LEGAL ADMINISTRATION.
|  | DEPUTY COMMISSIONER FOR PATENT EXAMINATION POLICY.
|  | DIRECTOR, OFFICE OF PATENT QUALITY ASSURANCE.
|  | DEPUTY COMMISSIONER FOR PATENT QUALITY.
|  | ASSOC.COMM, INTERNATIONAL PATENT COOPERATION.
|  | CHIEF PATENT ACADEMIC OFFICER.
|  | DEPUTY COMMISSIONER FOR PATENT OPERATIONS.
| OFFICE OF THE COMMISSIONER FOR TRADEMARKS | DEPUTY COMMISSIONER FOR TRADEMARK OPERATIONS.
|  | GROUP DIRECTOR, TRADEMARK LAW OFFICES (4).
|  | DEPUTY COMMISSIONER FOR TRADEMARK EXAMINATION POLICY.
|  | DEPUTY COMMISSIONER FOR TRADEMARK ADMINISTRATION.
| OFFICE OF THE GENERAL COUNSEL | DEPUTY GENERAL COUNSEL FOR GENERAL LAW.
|  | DEPUTY GENERAL COUNSEL FOR INTELLECTUAL PROPERTY LAW AND SOLICITOR.
|  | DEPUTY GENERAL COUNSEL FOR ENROLLMENT AND DISCIPLINE.
|  | DEPUTY SOLICITOR AND ASSISTANT GENERAL COUNSEL FOR INTELLECTUAL PROPERY LAW.
| OFFICE OF THE UNDER SECRETARY | REGIONAL DIRECTOR—SAN JOSE.
|  | VICE CHIEF ADMINISTRATIVE PATENT JUDGE (4).
|  | REGIONAL DIRECTOR—DALLAS.
|  | REGIONAL DIRECTOR—DETROIT.
|  | DEPUTY CHIEF ADMINISTRATIVE PATENT JUDGE.
|  | CHIEF ADMINISTRATIVE TRADEMARK JUDGE.
|  | DEPUTY CHIEF ADMINISTRATIVE TRADEMARK JUDGE.
|  | PATENT TRIAL AND APPEAL BOARD EXECUTIVE.
|  | REGIONAL DIRECTOR—DENVER.
|  | DIRECTOR, OFFICE OF EQUAL EMPLOYMENT OPPORTUNITY AND DIVERSITY.
|  | VICE CHIEF ADMINISTRATIVE PATENT JUDGE FOR STRATEGY.
|  | CHIEF ADMINISTRATIVE PATENT JUDGE.
DEPARTMENT OF COMMERCE OFFICE OF THE INSPECTOR GENERAL | OFFICE OF INSPECTOR GENERAL | DEPUTY INSPECTOR GENERAL.
OFFICE OF AUDIT AND EVALUATION | OFFICE OF AUDIT | ASSISTANT INSPECTOR GENERAL FOR AUDIT.
| OFFICE OF ECONOMIC AND STATISTICAL PROGRAM ASSESSMENT | ASSISTANT INSPECTOR GENERAL FOR ECONOMIC AND STATISTICAL PROGRAM ASSESSMENT.
OFFICE OF INSPECTOR GENERAL | IMMEDIATE OFFICE | ASSISTANT INSPECTOR GENERAL FOR PLANNING AND COMMUNICATION.
|  | CHIEF OF STAFF.
| OFFICE OF AUDIT AND EVALUATION | ASSISTANT INSPECTOR GENERAL FOR AUDITS.
|  | PRINCIPAL ASSISTANT INSPECTOR GENERAL FOR AUDIT AND EVALUATION.
|  | ASSISTANT INSPECTOR GENERAL FOR ACQUISITION AND SPECIAL PROGRAM AUDITS.
| OFFICE OF COUNSEL | COUNSEL TO THE INSPECTOR GENERAL.
| OFFICE OF INVESTIGATIONS | ASSISTANT INSPECTOR GENERAL FOR INVESTIGATIONS.
COMMITTEE FOR PURCHASE FROM PEOPLE WHO ARE BLIND OR SEVERELY DISABLED | COMMITTEE FOR PURCHASE FROM PEOPLE WHO ARE BLIND OR SEVERELY DISABLED | EXECUTIVE DIRECTOR.
CONSUMER PRODUCT SAFETY COMMISSION | OFFICE OF EXECUTIVE DIRECTOR | DEPUTY EXECUTIVE DIRECTOR FOR OPERATIONS SUPPORT.
|  | ASSISTANT EXECUTIVE DIRECTOR FOR COMPLIANCE AND FIELD OPERATIONS.
|  | ASSISTANT EXECUTIVE DIRECTOR FOR INFORMATION AND TECH SERVICES.
OFFICE OF EXECUTIVE DIRECTOR | OFFICE OF HAZARD IDENTIFICATION AND REDUCTION | DEPUTY ASSISTANT EXECUTIVE DIRECTOR FOR HAZARD IDENTIFICATION.
|  | ASSOCIATE EXECUTIVE DIRECTOR FOR EPIDEMIOLOGY.
|  | ASSOCIATE EXECUTIVE DIRECTOR FOR ECONOMIC ANALYSIS.
|  | ASSOCIATE EXECUTIVE DIRECTOR FOR ENGINEERING SCIENCES (2).
|  | ASSISTANT EXECUTIVE DIRECTOR FOR HAZARD IDENTIFICATION AND REDUCTION.
| OFFICE OF IMPORT SURVEILLANCE | DIRECTOR, OFFICE OF IMPORT SURVEILLANCE.
|  | DIRECTOR, OFFICE OF IMPORT SURVEILLANCE.
COURT SERVICES AND OFFENDER SUPERVISION AGENCY FOR THE DISTRICT OF COLUMBIA | COURT SERVICES AND OFFENDER SUPERVISION AGENCY FOR THE DISTRICT OF COLUMBIA | DEPUTY DIRECTOR. ASSOCIATE DIRECTOR FOR RESEARCH AND EVALUATION.
|  | ASSOCIATE DIRECTOR FOR ADMINISTRATION.
|  | CHIEF INFORMATION OFFICER.
|  | ASSOCIATE DIRECTOR FOR COMMUNITY SUPERVISION.
|  | ASSOCIATE DIRECTOR FOR COMMUNITY JUSTICE PROGRAMS.
|  | PROGRAM ANALYST OFFICER.
|  | ASSOCIATE DIRECTOR, LEGISLATIVE, INTERGOVERNMENTAL AND PUBLIC AFFAIRS.
|  | MANAGEMENT AND PROGRAM ANALYSIS OFFICER CHIEF OF STAFF.
|  | CHIEF FINANCIAL OFFICER.
|  | ASSOCIATE DIRECTOR FOR HUMAN RESOURCES.
COURT SERVICES AND OFFENDER SUPERVISION AGENCY FOR THE DISTRICT OF COLUMBIA | PRETRIAL SERVICES AGENCY | DIRECTOR.
OFFICE OF THE SECRETARY OF DEFENSE
OFFICE OF THE CHIEF MANAGEMENT OFFICER | PENTAGON FORCE PROTECTION AGENCY | DIRECTOR, LAW ENFORCEMENT. DIRECTOR, PENTAGON FORCE PROTECTION AGENCY.
|  | PRINCIPAL DEPUTY DIRECTOR, PENTAGON FORCE PROTECTION AGENCY.
| WASHINGTON HEADQUARTERS SERVICES | DIRECTOR, HUMAN RESOURCES DIRECTORATE.
|  | DIRECTOR, DEPARTMENT OF DEFENSE CONSOLIDATED ADJUDICATIONS FACILITY.
|  | DIRECTOR, POLICY, PLANS AND REQUIREMENTS.
|  | DIRECTOR, ACQUISITION DIRECTORATE.
|  | DIRECTOR, FACILITIES SERVICES DIRECTORATE.
|  | EXECUTIVE DIRECTOR, ACQUISITION/HCA NGB.
|  | DEPUTY DIRECTOR FACILITIES SERVICES DIRECTORATE.
|  | INSPECTOR GENERAL NGB.
|  | DEPUTY DIRECTOR, HUMAN RESOURCES DIRECTORATE.
OFFICE OF THE DEPARTMENT OF DEFENSE CHIEF INFORMATION OFFICER | DEFENSE INFORMATION SYSTEMS AGENCY | VICE PROCUREMENT SERVICES EXECUTIVE/DEPUTY CHIEF, DEFENSE IT CONTRACTING ORG. SERVICES EXECUTIVE.
|  | EXECUTIVE DEPUTY DIRECTOR.
|  | CHIEF FINANCIAL OFFICER/COMPTROLLER.
|  | DIRECTOR, DEVELOPMENT AND BUSINESS CENTER.
|  | CYBER SECURITY RISK MANAGEMENT AND AUTHORIZING OFFICIAL EXECUTIVE.
|  | OPERATIONS EXECUTIVE.
|  | DEPUTY DIRECTOR, JOINT SERVICE PROVIDER.
|  | DIRECTOR, CENTER FOR OPERATIONS (2).
|  | SERVICES DEVELOPMENT EXECUTIVE.
|  | NBIS EXECUTIVE.
|  | VICE DIRECTOR, DEVELOPMENT AND BUSINESS CENTER.
|  | NATIONAL LEADERSHIP COMMAND CAPABILITIES EXECUTIVE.
|  | VICE DIRECTOR, CENTER FOR OPERATIONS.
|  | SERVICES EXECUTIVE.
|  | DEPUTY CHIEF FINANCIAL OFFICER/DEPUTY COMPTROLLER.
|  | WORKFORCE MANAGEMENT EXECUTIVE.
|  | DIRECTOR, DEFENSE SPECTRUM ORGANIZATION.
|  | PROCUREMENT SERVICES EXECUTIVE AND HEAD OF CONTRACTING ACTIVITY.
|  | CYBER SECURITY, RISK MANAGEMENT AND AUTHORIZING OFFICIAL EXECUTIVE.
OFFICE OF THE SECRETARY | OFFICE OF THE INSPECTOR GENERAL | DEPUTY DIRECTOR, DEFENSE CRIMINAL INVESTIGATIVE SERVICE.
|  | ASSISTANT INSPECTOR GENERAL FOR READINESS AND OPERATIONS SUPPORT.
|  | ASSISTANT INSPECTOR GENERAL, DEFENSE FINANCIAL AUDITING SERVICE.
|  | DIRECTOR, DEFENSE CRIMINAL INVESTIGATIVE SERVICE—ASSISTANT INSPECTOR GENERAL FOR INVESTIGATIONS.
|  | PRINCIPAL DEPUTY INSPECTOR GENERAL.
| OFFICE OF THE GENERAL COUNSEL | DIRECTOR DEFENSE OFFICE OF HEARINGS AND APPEALS.
|  | DIRECTOR, OFFICE OF LITIGATION.
| OFFICE OF THE JOINT CHIEFS OF STAFF | VICE DIRECTOR JOINT FORCE DEVELOPMENT AND DESIGN INTEGRTION.
|  | VICE DIRECTOR C4 CYBER.
|  | VICE DIRECTOR, MANPOWER AND PERSONNEL.
|  | EXECUTIVE DIRECTOR.
|  | VICE DEPUTY DIRECTOR REGIONAL OPERATIONS AND FORCE MANAGEMENT.
| OFFICE OF THE UNDER SECRETARY OF DEFENSE (ACQUISITION, TECHNOLOGY, AND LOGISTICS) | PRINCIPAL DEPUTY, ACQUISITION RESOURCES AND ANALYSIS.
|  | DIRECTOR, STRATEGIC SYSTEMS AND TREATY COMPLIANCE.
|  | DEPUTY DIRECTOR, ENTERPRISE INFORMATION.
|  | DEPUTY DIRECTOR FOR PROGRAM DEVELOPMENT AND IMPLEMENTATION.
|  | DIRECTOR FOR ADMINISTRATION.
OFFICE OF THE SECRETARY OF DEFENSE | OFFICE OF THE CHIEF MANAGEMENT OFFICER | DIRECTOR, PLANNING, PERFORMANCE AND ASSESSMENT DIRECTORATE.
|  | DIRECTOR MANAGEMENT AND REQUIREMENTS ANALYSIS DIVISION.
|  | DIRECTOR POLICY AND DECISION SUPPORT DIVISION.
|  | DIRECTOR OF ADMINISTRATION AND ORGANIZATIONAL POLICY.
|  | DIRECTOR, OVERSIGHT AND COMPLIANCE.
|  | SENIOR INTELLIGENCE OVERSIGHT OFFICIAL AND DEPUTY DIRECTOR OVERSIGHT AND COMPLIANCE.
| OFFICE OF THE DEPARTMENT OF DEFENSE CHIEF INFORMATION OFFICER | JFHQ-DODIN EXECUTIVE.
| OFFICE OF THE DIRECTOR, OPERATIONAL TEST AND EVALUATION | DEPUTY DIRECTOR FOR LIVE FIRE TEST AND EVALUATION. DEPUTY DIRECTOR FOR NAVAL WARFARE.
| OFFICE OF THE UNDER SECRETARY OF DEFENSE (ACQUISITION AND SUSTAINMENT) | DIRECTOR, PRICING AND CONTRACTING INITIATIVES. DIRECTOR, SPACE AND MISSILE DEFENSE.
|  | DEPUTY DIRECTOR, OSD STUDIES AND FEDERALLY FUNDED RESEARCH AND DEVELOPMENT CENTER MANAGEMENT.
|  | DASD (PLATFORM AND WEAPON PORTFOLIO MANAGEMENT).
| OFFICE OF THE UNDER SECRETARY OF DEFENSE (COMPTROLLER) | DEPUTY CHIEF FINANCIAL OFFICER.
OFFICE OF THE UNDER SECRETARY OF DEFENSE (ACQUISITION AND SUSTAINMENT) | DEFENSE CONTRACT MANAGEMENT AGENCY | DEPUTY DIRECTOR, DEFENSE CONTRACT MANAGEMENT AGENCY. GENERAL COUNSEL.
|  | EXECUTIVE DIRECTOR, FINANCIAL AND BUSINESS OPERATIONS AND COMPTROLLER.
|  | DEPUTY DIRECTOR.
|  | EXECUTIVE DIRECTOR, INFORMATION TECHNOLOGY AND CHIEF INFORMATION OFFICER.
|  | EXECUTIVE DIRECTOR, TECHNICAL DIRECTORATE.
|  | EXECUTIVE DIRECTOR, COST AND PRICING CENTER.
|  | EXECUTIVE DIRECTOR TOTAL FORCE DIRECTORATE.
|  | DEPUTY GENERAL COUNSEL.
|  | EXECUTIVE DIRECTOR, PORTFOLIO MANAGEMENT AND BUSINESS INTEGRATION.
|  | EXECUTIVE DIRECTOR TECHNICAL DIRECTORATE.
|  | EXECUTIVE DIRECTOR, CONTRACTS.
|  | EXECUTIVE DIRECTOR, QUALITY ASSURANCE.
| DEFENSE LOGISTICS AGENCY (DLA) | DEPUTY DIRECTOR, DLA INFORMATION OPERATIONS.
|  | DEPUTY GENERAL COUNSEL, DLA.
|  | DEPUTY COMMANDER, DLA DISTRIBUTION.
|  | DEPUTY DIRECTOR, DLA FINANCE.
|  | EXECUTIVE DIRECTOR, AVIATION CONTRACTING AND ACQUISITION MANAGEMENT.
|  | DIRECTOR, DLA INFORMATION OPERATION.
|  | DIRECTOR, DLA HUMAN RESOURCES.
|  | GENERAL COUNSEL.
|  | DEPUTY COMMANDER, DLA LAND AND MARITIME.
|  | DEPUTY COMMANDER, DLA AVIATION.
|  | DEPUTY COMMANDER, DEFENSE SUPPLY CENTER PHILADELPHIA.
|  | DIRECTOR, DLA FINANCE.
|  | EXECUTIVE DIRECTOR, SUPPORT—POLICY AND STRATEGIC PROGRAMS.
|  | DIRECTOR, DLA DISPOSITION SERVICES.
|  | DEPUTY DIRECTOR DLA LOGISTICS OPERATIONS.
|  | EXECUTIVE DIRECTOR OPERATIONS AND SUSTAINMENT.
|  | VICE DIRECTOR, DEFENSE LOGISTICS AGENCY.
|  | EXECUTIVE DIRECTOR, MISSION SUPPORT DIRECTORATE.
|  | CHIEF OF STAFF.
|  | DEPUTY DIRECTOR, DLA ACQUISITION.
|  | PROGRAM EXECUTIVE OFFICER, DEFENSE LOGISTICS AGENCY INFORMATION OPERATIONS.
|  | DEPUTY COMMANDER, DLA ENERGY.
|  | EXECUTIVE DIRECTOR, CONTRACTING AND ACQUISITION MANAGEMENT.
|  | DIRECTOR, DLA ACQUISITION (J-7).
|  | EXECUTIVE DIRECTOR, TROOP SUPPORT CONTRACTING AND ACQUISITION MANAGEMENT.
| DEFENSE THREAT REDUCTION AGENCY | DIRECTOR, INTELLIGENCE, PLANS AND RESOURCE INTEGRATION DIRECTORATE.
|  | DIRECTOR, RESEARCH AND DEVELOPMENT DIRECTORATE.
|  | DIRECTOR, NUCLEAR TECHNOLOGIES DEPARTMENT.
|  | DIRECTOR, BASIC AND APPLIED SCIENCES DEPARTMENT.
|  | DIRECTOR, COOPERATIVE THREAT REDUCTION DEPARTMENT.
|  | DEPUTY DIRECTOR JOINT IMPROVISED THREAT DEFEAT ORGANIZATION.
|  | DIRECTOR, PLANS AND TRAINING, JIDO.
|  | DIRECTOR, COMBATANT COMMAND SUPPORT.
|  | GENERAL COUNSEL.
|  | DIRECTOR INFORMATION INTEGRATION AND TECHNOLOGY SERVICES CHIEF/CIO.
|  | DIRECTOR TREATIES AND PARTNERSHIPS DEPARTMENT.
|  | DIRECTOR, CHEMICAL AND BIOLOGICAL TECHNOLOGIES DEPARTMENT.
|  | DIRECTOR, ACQUISITION, FINANCE AND LOGISTICS DIRECTORATE.
|  | DIRECTOR, COUNTER WEAPONS OF MASS DESTRUCTION TECHNOLOGIES DEPARTMENT.
| OFFICE OF THE ASSISTANT SECRETARY OF DEFENSE (ACQUISITION) | DIRECTOR, CONTRACT POLICY. DEPUTY DIRECTOR, ASSESSMENTS AND SUPPORT.
|  | DEPUTY DIRECTOR, DEFENSE ACQUISITION REGULATIONS SYSTEM.
|  | TECHNICAL DIRECTOR, FORCE DEVELOPMENT.
|  | DEPUTY DIRECTOR, NAVAL WARFARE.
|  | PRINCIPAL DEPUTY DIRECTOR, ENTERPRISE INFORMATION.
|  | DIRECTOR, AIR PLATFORMS AND WEAPONS.
|  | DIRECTOR, NUCLEAR COMMAND, CONTROL, AND COMMUNICATIONS.
|  | DIRECTOR, COMMAND, CONTROL, COMMUNICATIONS, COMPUTERS/ISR.
| OFFICE OF THE ASSISTANT SECRETARY OF DEFENSE (NUCLEAR, CHEMICAL AND BIOLOGICAL DEFENSE PROGRAMS) | DEPUTY ASSISTANT SECRETARY OF DEFENSE (NUCLEAR MATTERS).
OFFICE OF THE UNDER SECRETARY OF DEFENSE (COMPTROLLER) | DEFENSE CONTRACT AUDIT AGENCY | ASSISTANT DIRECTOR, HUMAN CAPITAL AND RESOURCE MANAGEMENT.
|  | ASSISTANT DIRECTOR, OPERATIONS.
|  | ASSISTANT DIRECTOR, POLICY AND PLANS.
|  | REGIONAL DIRECTOR, EASTERN.
|  | REGIONAL DIRECTOR, CENTRAL.
|  | REGIONAL DIRECTOR, WESTERN.
|  | DIRECTOR, FIELD DETACHMENT.
|  | DIRECTOR, DEFENSE CONTRACT AUDIT AGENCY.
|  | DEPUTY REGIONAL DIRECTOR EASTERN REGION.
|  | DEPUTY REGIONAL DIRECTOR, CENTRAL.
|  | ASSISTANT DIRECTOR, INTEGRITY AND QUALITY ASSURANCE.
|  | CORPORATE AUDIT DIRECTOR (A).
|  | CORPORATE AUDIT DIRECTOR (B).
|  | CORPORATE AUDIT DIRECTOR (D).
|  | CORPORATE AUDIT DIRECTOR (C).
|  | DEPUTY DIRECTOR.
OFFICE OF THE UNDER SECRETARY OF DEFENSE (PERSONNEL AND READINESS) | DEFENSE HEALTH AGENCY OFFICE OF DEFENSE HUMAN RESOURCES ACTIVITY | GENERAL COUNSEL FOR DEFENSE HEALTH AGENCY. DEPUTY DIRECTOR OF DEFENSE MANPOWER DATA CENTER.
|  | DEPUTY DIRECTOR, DEFENSE HUMAN RESOURCES ACTIVITY.
|  | DEPUTY DIRECTOR, DEFENSE MANPOWER DATA CENTER.
|  | CHIEF ACTUARY.
OFFICE OF THE UNDER SECRETARY OF DEFENSE (RESEARCH AND ENGINEERING) | DEFENSE ADVANCED RESEARCH PROJECTS AGENCY | DIRECTOR, STRATEGIC RESOURCES. GENERAL COUNSEL. DIRECTOR, CONTRACTS MANAGEMENT OFFICE.
|  | DIRECTOR, MISSION SERVICES OFFICE.
| MISSILE DEFENSE AGENCY | DIRECTOR FOR ADVANCED TECHNOLOGY.
|  | DEPUTY FOR ENGINEERING.
|  | DIRECTOR FOR OPERATIONS.
|  | PROGRAM DIRECTOR, TARGETS AND COUNTERMEASURES.
|  | DEPUTY PROGRAM DIRECTOR, BC.
|  | DEPUTY PROGRAM MANAGER FOR ASSESSMENT AND INTEGRATIONS, BMDS.
|  | PROGRAM DIRECTOR FOR BATTLE MANAGEMENT, COMMAND AND CONTROL.
|  | PROGRAM DIRECTOR, GROUND-BASED MIDCOURSE DEFENSE.
|  | DEPUTY PROGRAM DIRECTOR, AEGIS BALLISTIC MISSILE DEFENSE.
|  | DIRECTOR FOR ACQUISITION.
|  | CHIEF ENGINEER.
|  | DIRECTOR FOR SYSTEMS ENGINEERING AND INTEGRATION.
|  | DIRECTOR, CONTRACTING.
| OFFICE OF THE DIRECTOR OF DEFENSE RESEARCH AND ENGINEERING | DEPUTY DIRECTOR, INFORMATION SYSTEMS AND CYBER TECHNOLOGIES.
DEPARTMENT OF THE AIR FORCE | DEPARTMENT OF THE AIR FORCE | DEPUTY DIRECTOR, SECURITY, SPECIAL PROGRAM OVERSIGHT, AND INFORMATION PROTECTION.
|  | DEPUTY DIRECTOR LEGISLATIVE LIAISON.
|  | DIRECTOR OF COMMUNICATIONS.
|  | DIRECTOR, INSTALLATION, LOGISTICS AND MISSION SUPPORT.
|  | EXECUTIVE DIRECTOR.
|  | DIRECTOR, HEADQUARTERS AIR FORCE INFORMATION MANAGEMENT.
|  | DEPUTY DIRECTOR OF POLICY, PROGRAMS AND STRATEGY, INTERNATIONAL AFFAIRS.
|  | DIRECTOR, CYBER CAPABILITIES AND COMPLIANCE.
|  | DIRECTOR, CIVILIAN FORCE MANAGEMENT.
|  | DEPUTY DIRECTOR OF LOGISTICS.
|  | DEPUTY DIRECTOR, STRATEGIC PLANNING.
|  | EXECUTIVE DIRECTOR, AIR NATIONAL GUARD.
|  | DIRECTOR, SPACE SECURITY AND DEFENSE PROGRAM.
|  | DEPUTY DIRECTOR, CIVILIAN FORCE MANAGEMENT, HR SPECIALIST.
|  | DIRECTOR, DIVERSITY AND INCLUSION.
|  | DEPUTY DIRECTOR, SECURITY FORCES.
|  | CHIEF INFORMATION SECURITY OFFICER (CISO).
|  | AIR FORCE PROGRAM EXECUTIVE OFFICER FOR COMBAT AND MISSION SUPPORT.
|  | DEPUTY DIRECTOR OF LOGISTICS.
|  | DEPUTY DIRECTOR, INFORMATION DOMINANCE.
|  | DIRECTOR, LOGISTICS, ENGINEERING AND FORCE PROTECTION.
|  | DEPUTY DIRECTOR OF OPERATIONS.
|  | DIRECTOR OF POLICY, PROGRAMS AND STRATEGY, INTERNATIONAL AFFAIRS.
|  | ASSOCIATE DEPUTY ASSISTANT SECRETARY FOR PROGRAMS.
|  | DEPUTY ASSISTANT SECRETARY (LOGISTICS).
|  | CHIEF INFORMATION OFFICER AND DEPUTY DIRECTOR, PLANS AND INTEGRATION.
|  | DIRECTOR, DIVERSITY AND INCLUSION.
|  | DEPUTY DIRECTOR, STRATEGY, CONCEPTS AND ASSESSMENTS.
AIR FORCE MATERIEL COMMAND | AERONAUTICAL SYSTEMS CENTER | EXECUTIVE DIRECTOR, AIR FORCE LIFE CYCLE MANAGEMENT CENTER.
|  | PROGRAM EXECUTIVE OFFICER FOR AGILE COMBAT SUPPORT.
|  | PROGRAM EXECUTIVE OFFICER, MOBILITY AIRCRAFT.
| AIR FORCE FLIGHT TEST CENTER | EXECUTIVE DIRECTOR, AIR FORCE TEST CENTER.
| AIR FORCE MATERIEL COMMAND LAW OFFICE | DIRECTOR, AIR FORCE MATERIEL COMMAND LAW OFFICE.
|  | COMMAND COUNSEL.
| AIR FORCE OFFICE OF SCIENTIFIC RESEARCH | DIRECTOR AIR FORCE OFFICE OF SCIENTIFIC RESEARCH.
| AIR FORCE RESEARCH LABORATORY | DIRECTOR, STRATEGIC DEVELOPMENT AND PLANNING.
|  | DIRECTOR, PLANS AND PROGRAMS.
|  | EXECUTIVE DIRECTOR, AIR FORCE RESEARCH LABORATORY.
|  | DIRECTOR, MATERIALS AND MANUFACTURING.
|  | DIRECTOR, AEROSPACE SYSTEMS.
| AIR LOGISTICS CENTER, OGDEN | DIRECTOR, ENGINEERING AND TECHNICAL MANAGEMENT.
|  | DIRECTOR OF CONTRACTING.
| AIR LOGISTICS CENTER, OKLAHOMA CITY | DIRECTOR OF ENGINEERING AND TECHNICAL MANAGEMENT.
|  | DIRECTOR OF CONTRACTING.
|  | DIRECTOR, 448TH SUPPLY CHAIN MANAGEMENT WING.
|  | DIRECTOR OF LOGISTICS, AIR FORCE SUSTAINMENT CENTER.
| AIR LOGISTICS CENTER, WARNER ROBINS | DIRECTOR OF CONTRACTING.
| OFFICE OF CONTRACTING | DIRECTOR, MILSATCOM DIRECTORATE.
| ELECTRONIC SYSTEMS CENTER | DIRECTOR, ENGINEERING AND TECHNICAL MANAGEMENT.
|  | PROGRAM EXECUTIVE OFFICER, BATTLE MANAGEMENT.
| OFFICE OF ENGINEERING AND TECHNICAL MANAGEMENT | DIRECTOR, ENGINEERING AND TECHNICAL MANAGEMENT.
| OFFICE OF FINANCIAL MANAGEMENT AND COMPTROLLER | DEPUTY DIRECTOR, FINANCIAL MANAGEMENT.
| OFFICE OF LOGISTICS | DEPUTY DIRECTOR, LOGISTICS, INSTALLATIONS AND MISSION SUPPORT.
AIR FORCE RESEARCH LABORATORY | OFFICE OF DIRECTED ENERGY DIRECTORATE OFFICE OF HUMAN EFFECTIVENESS DIRECTORATE | DIRECTOR, DIRECTED ENERGY. DIRECTOR, HUMAN EFFECTIVENESS DIRECTORATE.
| OFFICE OF SENSORS DIRECTORATE | DIRECTOR SENSORS.
AIR FORCE SPACE COMMAND | SPACE AND MISSLE SYSTEMS CENTER | DIRECTOR, LAUNCH ENTERPRISE.
|  | DIRECTOR, MILITARY SATELLITE COMMUNICATIONS DIRECTORATE.
AUDITOR GENERAL | AIR FORCE AUDIT AGENCY (FIELD OPERATING AGENCY) | ASSISTANT AUDITOR GENERAL, ACQUISTION, LOGISTICS AND FINANCIAL.
|  | ASSISTANT AUDITOR GENERAL, OPERATIONS AND SUPPORT AUDITS.
DEPARTMENT OF THE AIR FORCE | AIR COMBAT COMMAND | DEPUTY DIRECTOR, REQUIREMENTS.
|  | DEPUTY DIRECTOR OF LOGISTICS, ENGINEERING, AND FORCE PROTECTION.
|  | DIRECTOR, ACQUISITION MANAGEMENT AND INTEGRATION CENTER.
| AIR EDUCATION AND TRAINING COMMAND | DIRECTOR, LOGISTICS, INSTALLATIONS AND MISSION SUPPORT.
|  | DIRECTOR, INTERNATIONAL TRAINING AND EDUCATION.
| AIR FORCE MATERIEL COMMAND | DIRECTOR FINANCIAL MANAGEMENT AND COMPTROLLER.
|  | DEPUTY DIRECTOR, STRATEGIC PLANS, PROGRAMS, REQUIREMENTS AND ANALYSES.
|  | EXECUTIVE DIRECTOR, AIR FORCE INSTALLATION AND MISSION SUPPORT CENTER.
|  | DIRECTOR OF LOGISTICS AND LOGISTICS SERVICES.
|  | DIRECTOR, ENGINEERING AND TECHNICAL MANAGEMENT.
|  | EXECUTIVE DIRECTOR, AIR FORCE SUSTAINMENT CENTER.
|  | EXECUTIVE DIRECTOR, AIR FORCE NUCLEAR WEAPONS CENTER.
|  | DIRECTOR, AIR FORCE CIVIL ENGINEER CENTER.
|  | DIRECTOR, ENGINEERING AND TECHNICAL MANAGEMENT.
|  | DIRECTOR OF PROPULSION.
|  | DIRECTOR OF CONTRACTING.
|  | EXECUTIVE DIRECTOR, AIR FORCE MATERIEL COMMAND.
|  | DIRECTOR OF CONTRACTING.
|  | DIRECTOR, RESOURCES.
|  | DIRECTOR, ENGINEERING AND TECHNICAL MANAGEMENT.
|  | EXECUTIVE DIRECTOR.
|  | DIRECTOR, HYBIRD PRODUCT SUPPORT INTEGRATOR.
|  | DEPUTY DIRECTOR, AIR, SPACE AND CYBERSPACE OPERATIONS.
|  | DIRECTOR, MANPOWER, PERSONNEL AND SERVICES.
|  | DIRECTOR INSTALLATIONS.
|  | DIRECTOR, FINANCIAL MANAGEMENT.
|  | PROGRAM EXECUTIVE OFFICER FOR BUSINESS ENTERPRISE SYSTEMS.
|  | DIRECTOR, INSTALLATION SUPPORT.
|  | DIRECTOR, NATIONAL MUSEUM OF THE UNITED STATES AIR FORCE.
|  | DIRECTOR OF CONTRACTING.
|  | DIRECTOR, ENGINEERING AND TECHNICAL MANAGEMENT.
|  | DIRECTOR OF ENGINEERING AND TECHNICAL MANAGEMENT, F-35 LIGHTNING II JOINT PROGRAM OFFICE.
| AIR FORCE RESERVE COMMAND | DIRECTOR OF STAFF.
| AIR FORCE SPACE COMMAND | DIRECTOR OF CONTRACTING, SPACE AND MISSILE SYSTEMS CENTER (SMC).
|  | EXECUTIVE DIRECTOR, AIR FORCE SPACE COMMAND.
| AIR FORCE SPECIAL OPERATIONS COMMAND | EXECUTIVE DIRECTOR AIR FORCE SPECIAL OPERATIONS COMMAND.
|  | DEPUTY CHIEF FINANCIAL OFFICER.
| AIR MOBILITY COMMAND | DEPUTY DIRECTOR OR LOGISTICS.
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE.
| OFFICE OF JOINT STAFF | DIRECTOR, JOINT INFORMATION OPERATIONS WARFARE CENTER.
| OFFICE OF ASSISTANT SECRETARY AIR FORCE FOR ACQUISITION | DEPUTY ASSISTANT SECRETARY (SCIENCE, TECHNOLOGY AND.
|  | DEPUTY ASSISTANT SECRETARY (ACQUISITION INTEGRATION).
|  | DIRECTOR OF CONTRACTING, AIR FORCE RAPID CAPABILITIES OFFICE.
|  | DIRECTOR OF CONTRACTING (SPECIAL ACCESS PROGRAMS).
|  | DIRECTOR, INFORMATION DOMINANCE PROGRAMS.
|  | ASSOC DEP ASST SEC OF THE AIR FORCE FOR SCIENCE, TECHNOLOGY AND ENGINEERING.
|  | ASSOCIATE DEPUTY ASSISTANT SECRETARY (ACQUISITION INTEGRATION).
| OFFICE OF ASSISTANT SECRETARY AIR FORCE FOR FINANCIAL MANAGEMENT AND COMPTROLLER | CHIEF INFORMATION OFFICER.
| OFFICE OF ASSISTANT SECRETARY OF THE AIR FORCE FOR MANPOWER AND RESERVE AFFAIRS | DEPUTY ASSISTANT SECRETARY FOR RESERVE AFFAIRS.
| OFFICE OF THE CHIEF OF STAFF | DEPUTY DIRECTOR OF STAFF, HEADQUARTERS UNITED STATES AIR FORCE.
| OFFICE OF THE INSPECTOR GENERAL | EXECUTIVE DIRECTOR, OFFICE OF SPECIAL INVESTIGATIONS.
| OFFICE OF THE SECRETARY | DIRECTOR, AIR FORCE RAPID CAPABILITIES OFFICE.
|  | DEPUTY DIRECTOR, AIR FORCE REVIEW BOARDS AGENCY.
|  | DEPUTY DIRECTOR, AIR FORCE RAPID CAPABILITIES OFFICE.
| UNITED STATES CENTRAL COMMAND | DIRECTOR OF RESOURCES, REQUIREMENTS, BUDGET AND ASSESSMENT.
|  | DEPUTY DIRECTOR OF OPERATIONS INTERAGENCY ACTION GROUP.
|  | DEPUTY DIRECTOR OF LOGISTICS AND ENGINEERING.
| UNITED STATES NORTHERN COMMAND | DIRECTOR, JOINT EXERCISES AND TRAINING.
|  | NORTHCOM, DEPUTY DIRECTOR OF OPERATIONS FOR SPECIAL ACTIVITIES.
|  | DIRECTOR, PROGRAMS AND RESOURCES.
|  | DIRECTOR OF INTERAGENCY.
|  | DEPUTY COMMANDER, JOINT FORCES HEADQUARTERS—NATIONAL CAPITAL REGION.
| UNITED STATES SPECIAL OPERATIONS COMMAND | PRESIDENT, JOINT SPECIAL OPERATIONS UNIVERSITY.
|  | DIRECTOR, PLANS, POLICY AND STRATEGY.
|  | DIRECTOR FOR ACQUISITION.
|  | CHIEF FINANCIAL OFFICER.
|  | DIRECTOR COMMUNICATIONS SYSTEMS/CIO (J6).
|  | DEPUTY DIRECTOR, CENTER FOR SPECIAL OPERATIONS ACQUISITION AND LOGISTICS.
|  | DEPUTY CHIEF OF STAFF.
|  | DIRECTOR AND CHIEF INFOMATION OFFICER FOR SPECIAL OPERATIONS NETWORKS AND COMMUNICATIONS CENTER.
| UNITED STATES STRATEGIC COMMAND | DIRECTOR, GLOBAL INNOVATION STRATEGY.
|  | ASSOCIATE DIRECTOR CAPABILITY AND RESOURCE.
|  | DIRECTOR, CAPABILITY AND RESOURCE INTEGRATION, USSTRATCOM C2 FACILITY MANAGEMENT PMO.
|  | DEPUTY DIRECTOR, PLANS AND POLICY, USSTRATCOM.
|  | DIRECTOR, JOINT EXCERCISES AND TRAINING.
|  | DEPUTY DIRECTOR, CAPABILITY AND RESOURCE INTEGRATION.
|  | TECHNICAL DIRECTOR, JOINT WARFARE ANALYSIS CENTER.
|  | DIRECTOR, COMMAND, CONTROL, COMMUNICATIONS AND COMPUTER SYSTEMS.
|  | DEPUTY DIRECTOR, CAPABILITY DEVELOPMENTAL GROUP COMMAND ACQUISITION EXEC.
|  | DEPUTY DIRECTOR, PLANS AND POLICY.
| UNITED STATES TRANSPORTATION COMMAND | DIRECTOR, ACQUISTION.
|  | EXECUTIVE DIRECTOR.
|  | DEPUTY DIRECTOR, ACQUISITION.
|  | DIRECTOR, PROGRAM ANALYSIS AND FINANCIAL MANAGEMENT.
|  | DEPUTY DIRECTOR, STRATEGY, CAPABILITIES, POLICY AND LOGISTICS.
|  | EXECUTIVE DIRECTOR AND DEPUTY CHIEF INFORMATION OFFICER.
DEPUTY CHIEF OF STAFF, INSTALLATIONS AND LOGISTICS | OFFICE OF CIVIL ENGINEER OFFICE OF RESOURCES | DEPUTY DIRECTOR OF CIVIL ENGINEERS. DIRECTOR OF RESOURCE INTEGRATION.
DEPUTY CHIEF OF STAFF, PERSONNEL | AIR FORCE PERSONNEL CENTER (FIELD OPERATING AGENCY) | DIRECTOR OF PERSONNEL OPERATIONS. EXECUTIVE DIRECTOR, AIR FORCE PERSONNEL CENTER.
OFFICE OF ASSISTANT SECRETARY AIR FORCE FOR ACQUISITION | DIRECTORATE OF SPACE AND NUCLEAR DETERRENCE | ASSOCIATE ASSISTANT CHIEF OF STAFF STRATEGIC DETERRENCE AND NUCLEAR.
|  | DEPUTY ASSISTANT CHIEF OF STAFF, STRATEGIC DETERRENCE AND NUCLEAR INTEGRATION.
| OFFICE OF DEPUTY ASSISTANT SECRETARY CONTRACTING | ASSOCIATE DEPUTY ASSISTANT SECRETARY (CONTRACTING).
| OFFICE OF DEPUTY ASSISTANT SECRETARY SCIENCE, TECHNOLOGY AND ENGINEERING | SPECIAL ASSISTANT TO THE DEPUTY ASSISTANT SECRETARY SCIENCE, TECHNOLOGY AND ENGINEERING.
OFFICE OF ASSISTANT SECRETARY AIR FORCE FOR FINANCIAL MANAGEMENT AND COMPTROLLER | OFFICE DEPUTY ASSISTANT SECRETARY BUDGET | ASSOCIATE DEPUTY ASSISTANT SECRETARY FOR BUDGET. DIRECTOR, BUDGET INVESTMENT.
| OFFICE DEPUTY ASSISTANT SECRETARY COST AND ECONOMICS | DEPUTY ASSISTANT SECRETARY (COST AND ECONOMICS).
|  | ASSOCIATE DEPUTY ASSISTANT SECRETARY (COST AND ECONOMICS).
| OFFICE DEPUTY ASSISTANT SECRETARY FINANCIAL OPERATIONS | DEPUTY ASSISTANT SECRETARY (FINANCIAL OPERATIONS).
|  | ASSOCIATE DEPUTY ASSISTANT SECRETARY (FINANCIAL OPERATIONS).
OFFICE OF ASSISTANT SECRETARY OF THE AIR FORCE FOR MANPOWER AND RESERVE AFFAIRS | AIR FORCE REVIEW BOARDS AGENCY (AIR FORCE REVIEW BOARDS AGENCY)—FIELD OPERATING AGENCY | DEPUTY FOR AIR FORCE REVIEW BOARDS.
OFFICE OF THE CHIEF OF STAFF | AIR FORCE OFFICE OF SAFETY AND AIR FORCE SAFETY CENTER (FIELD OPERATING AGENCY) | DEPUTY CHIEF OF SAFETY.
| AIR FORCE OPERATIONAL TEST AND EVALUATION CENTER (DIRECT REPORTING UNIT) | EXECUTIVE DIRECTOR, AIR FORCE OPERATIONAL TEST AND EVALUATION CENTER.
| AIR FORCE STUDIES AND ANALYSES AGENCY (DIRECT REPORTING UNIT (DRU)) | DIRECTOR, AIR FORCE STUDIES AND ANALYSES, ASSESSMENTS AND LESSONS LEARNED.
|  | PRINCIPLE DEPUTY DIRECTOR, STUDIES AND ANALYSES, ASSESSMENTS AND LESSONS LEARNED.
| DEPUTY CHIEF OF STAFF, AIR AND SPACE OPERATIONS | DEPUTY DIRECTOR OF OPERATIONAL REQUIREMENTS.
|  | DEPUTY DIRECTOR, OPERATIONS AND READINESS.
|  | ASSOCIATE DEPUTY CHIEF OF STAFF OPERATIONS, PLANS AND REQUIREMENTS.
|  | DIRECTOR OF WEATHER.
| DEPUTY CHIEF OF STAFF, PERSONNEL | DIRECTOR, PLANS AND INTEGRATION.
|  | ASSISTANT DEPUTY CHIEF OF STAFF MANPOWER AND PERSONNEL.
|  | DIRECTOR FORCE DEVELOPMENT.
|  | DEPUTY DIRECTOR, MANPOWER, ORGANIZATION AND RESOURCES.
|  | DEPUTY DIRECTOR OF SERVICES.
|  | DEPUTY DIRECTOR, MILITARY FORCE MANAGEMENT.
| DEPUTY CHIEF OF STAFF, PLANS AND PROGRAMS | ASSISTANT DEPUTY CHIEF OF STAFF, STRATEGIC PLANS AND REQUIREMENTS.
|  | ASSOCIATE DEPUTY DIRECTOR FOR PROGRAMS.
|  | DEPUTY DIRECTOR OF STRATEGIC PLANNING.
| JUDGE ADVOCATE GENERAL | DIRECTOR, ADMINISTRATIVE LAW.
| OFFICE OF TEST AND EVALUATION | DIRECTOR, TEST AND EVALUATION.
|  | DEPUTY DIRECTOR, TEST AND EVALUATION.
OFFICE OF THE INSPECTOR GENERAL | AIR FORCE OFFICE OF SPECIAL INVESTIGATIONS (FIELD OPERATING AGENCY) | EXECUTIVE DIRECTOR, DEFENSE CYBER CRIME CENTER.
OFFICE OF THE SECRETARY | OFFICE OF AUDITOR GENERAL | AUDITOR GENERAL OF THE AIR FORCE.
|  | ASSISTANT AUDITOR GENERAL, FIELD OFFICES DIRECTORATE.
| OFFICE OF ADMINISTRATIVE ASSISTANT TO THE SECRETARY | ADMINISTRATIVE ASSISTANT. DIRECTOR SECURITY, SPEC PRGM OVERSIGHT AND INFORMATION PROTECTION.
|  | DEPUTY ADMINISTRATIVE ASSISTANT.
| OFFICE OF PUBLIC AFFAIRS | DEPUTY DIRECTOR, PUBLIC AFFAIRS.
| OFFICE OF SMALL AND DISADVANTAGED BUSINESS UTILIZATION | DIRECTOR, OFFICE OF SMALL AND DISADVANTAGED BUSINESS UTILIZATION.
| OFFICE OF THE UNDER SECRETARY | ASSOCIATE DEPUTY UNDER SECRETARY OF THE AIR FORCE (SPACE) AND DEPUTY DIRECTOR PRINCIPAL DEPARTMENT OF DEFENSE SPACE ADVISOR STAFF.
DEPARTMENT OF THE ARMY:
AFC, COMBAT CAPABILITIES DEVELOPMENT CMD, ARMY RESEARCH LABORATORY | AFC, COMBAT CAPABILITIES DEVELOPMENT COMMAND, ARL, ARMY RESEARCH OFFICE | DIRECTOR, ARMY RESEARCH OFFICE.
CHIEF INFORMATION OFFICER/G 6 | OFFICE, CHIEF OF PUBLIC AFFAIRS | PRINCIPAL DEPUTY CHIEF OF PUBLIC AFFAIRS.
DEPARTMENT OF THE ARMY | ARMY AUDIT AGENCY | DEPUTY AUDITOR GENERAL, MANPOWER AND TRAINING AUDITS.
|  | DEPUTY AUDITOR GENERAL, FINANCIAL MANAGEMENT AUDITS.
|  | PRINCIPAL DEPUTY AUDITOR GENERAL.
|  | DEPUTY AUDITOR GENERAL, ACQUISITION AND LOGISTICS AUDITS.
|  | THE AUDITOR GENERAL.
|  | DEPUTY AUDITOR GENERAL, INSTALLATION, ENERGY AND ENVIRONMENT AUDITS.
| CHIEF INFORMATION OFFICER/G-6 | DIRECTOR, CYBERSECURITY.
|  | DIRECTOR OF ARCHITECTURE AND INFORMATION.
|  | PRINCIPAL DIRECTOR, POLICY AND RESOURCES/CFO, CIO/G-6.
|  | DEPUTY CHIEF INFORMATION OFFICER/G-6.
| HEADQUARTERS, UNITED STATES ARMY, EUROPE | DEPUTY CHIEF OF STAFF G-8.
| HEADQUARTERS, UNITED STATES ARMY, PACIFIC | ASSISTANT CHIEF OF STAFF, G8.
| JOINT SPECIAL OPERATIONS COMMAND | EXECUTIVE DIRECTOR FOR RESOURCES, SUPPORT, AND INTEGRATION.
| NATIONAL GUARD BUREAU | CHIEF FINANCIAL OFFICER.
| OFFICE ADMINSTRATIVE ASSISTANT TO THE SECRETARY OF ARMY | DEPUTY ADMINISTRATIVE ASSISTANT TO THE SECRETARY OF THE ARMY/DIRECTOR FOR SHARED SERVICES.
|  | EXECUTIVE ADVISOR TO THE ADMINISTRATIVE ASSISTANT TO THE SECRETARY OF THE ARMY.
|  | ADMINISTRATIVE ASSISTANT TO THE SECRETARY OF THE ARMY.
|  | EXECUTIVE DIRECTOR, UNITED STATES ARMY HEADQUARTERS SERVICES.
| OFFICE ASSISTANT SECRETARY ARMY (ACQUISITION, LOGISTICS AND TECHNOLOGY) | DEPUTY ASSISTANT SECRETARY FOR RESEARCH AND TECHNOLOGY/CHIEF SCIENTIST.
|  | DEPUTY ASSISTANT SECRETARY OF THE ARMY (POLICY AND PROCUREMENT).
|  | DEPUTY ASSISTANT SECRETARY OF THE ARMY FOR PLANS, PROGRAMS AND RESOURCES.
|  | DEPUTY ASSISTANT SECRETARY OF THE ARMY (ACQUISITION POLICY AND LOGISTICS).
|  | DEPUTY ASSISTANT SECRETARY OF THE ARMY FOR DEFENSE EXPORTS AND COOPERATION.
|  | EXECUTIVE DIRECTOR, RAPID CAPABILITIES OFFICE.
|  | DIRECTOR FOR RESEARCH AND TECHNOLOGY.
|  | EXECUTIVE DIRECTOR FOR ACQUISITION SERVICES, ASA (ALT).
|  | CHIEF SYSTEMS ENGINEER, ASA(ALT).
|  | DEP DIR, HYPERSONIC, DIRECTED ENERGY, SPACE AND RAPID ACQ OFF, NCR.
|  | DEPUTY DIRECTOR, HYPERSONIC, DIRECTED ENERGY, SPACE AND RAPID ACQUISITION OFFICE.
| OFFICE ASSISTANT SECRETARY ARMY (CIVIL WORKS) | DEPUTY ASSISTANT SECRETARY OF THE ARMY (MANAGEMENT AND BUDGET).
| OFFICE ASSISTANT SECRETARY ARMY (FINANCIAL MANAGEMENT AND COMPTROLLER) | DIRECTOR OF INVESTMENT. DEPUTY ASSISTANT SECRETARY OF THE ARMY (FINANCIAL OPERATIONS).
|  | DIRECTOR OF MANAGEMENT AND CONTROL .
|  | DIRECTOR, FINANCIAL INFORMATION MANAGEMENT.
|  | DIRECTOR, PROGRAMS AND STRATEGY.
|  | DEPUTY ASSISTANT SECRETARY OF THE ARMY (COST AND ECONOMICS).
|  | DIRECTOR, ARMY COST REVIEW BOARD.
|  | DEPUTY DIRECTOR AND SENIOR ADVISOR FOR ARMY BUDGET (DDSA (BUDGET)).
|  | DIRECTOR FOR ACCOUNTABILITY AND AUDIT READINESS.
| OFFICE ASSISTANT SECRETARY ARMY (INSTALLATIONS, ENERGY AND ENVIRONMENT) | DEPUTY ASSISTANT SECRETARY OF ARMY (STRATEGIC INTEGRATION).
|  | DEPUTY ASSISTANT SECRETARY OF THE ARMY (ENVIRONMENT, SAFETY AND OCCUPATIONAL HEALTH).
| OFFICE ASSISTANT SECRETARY ARMY (MANPOWER AND RESERVE AFFAIRS) | DEPUTY ASSISTANT SECRETARY OF THE ARMY (DIVERSITY AND LEADERSHIP).
|  | DEPUTY ASSISTANT SECRETARY OF THE ARMY (ARMY REVIEW BOARDS AGENCY).
|  | DEPUTY ASSISTANT SECRETARY OF ARMY FOR MARKETING/DIRECTOR, ARMY MARKETING RESEARCH GROUP.
|  | DEPUTY ASSISTANT SECRETARY OF THE ARMY (MILITARY PERSONNEL).
|  | DEPUTY TO THE ASSISTANT SECRETARY OF THE ARMY (MANPOWER AND RESERVE AFFAIRS).
|  | DEPUTY ASSISTANT SECRETARY OF THE ARMY (CIVILIAN PERSONNEL).
| OFFICE OF THE SURGEON GENERAL | DEPUTY CHIEF OF STAFF, RESOURCES, INFRASTRUCTURE AND STRATEGY (G8/9).
| OFFICE, DEPUTY CHIEF OF STAFF, G-4 | DIRECTOR, LOGISTICS INFORMATION MANAGEMENT.
|  | DIRECTOR FOR SUPPLY POLICY.
|  | ASSISTANT DEPUTY CHIEF OF STAFF, G-4.
|  | DIRECTOR FOR MAINTENANCE POLICY, PROGRAMS AND PROCESSES.
|  | DIRECTOR OF RESOURCE MANAGEMENT.
| OFFICE, DEPUTY CHIEF OF STAFF, G-1 | DIRECTOR, SHARP AND ARMY RESILIENCY DIRECTORATE.
|  | ASSISTANT DEPUTY CHIEF OF STAFF, G-1.
|  | DIR, TECHNOLOGY AND BUSINESS ARCHITECTURE INTEGRATION.
|  | DIRECTOR, CIVILIAN TALENT MANAGEMENT/DEPUTY DIRECTOR ARMY TALENT MANAGEMENT TASK FORCE.
|  | DIRECTOR, PLANS AND RESOURCES.
| OFFICE, DEPUTY CHIEF OF STAFF, G-3 | ASSISTANT DEPUTY CHIEF OF STAFF FOR OPERATIONS (G-3/5/7).
|  | DEPUTY DIRECTOR FOR FORCE MANAGEMENT.
|  | DEPUTY DIRECTOR FOR STRATEGY PLANS AND POLICY.
|  | DEPUTY DIRECTOR OF TRAINING AND TTPEG CO-CHAIR.
| OFFICE, DEPUTY CHIEF OF STAFF, G-8 | DIRECTOR, RESOURCES/DEPUTY DIRECTOR, FORCE DEVELOPMENT.
|  | ASSISTANT DEPUTY CHIEF OF STAFF, G-8.
| OFFICE, DEPUTY CHIEF OF STAFF, G-9 | DIRECTOR OF RESOURCE INTEGRATION.
|  | CHIEF INFORMATION TECHNOLOGY OFFICER (OACSIM).
|  | DIRECTOR INSTALLATION SERVICES.
|  | DEPUTY ASSISTANT CHIEF OF STAFF FOR INSTALLATION MANAGEMENT.
| UNITED STATES ARMY FUTURES COMMAND | DEPUTY CHIEF EXECUTIVE OFFICER.
|  | CHIEF FINANACIAL OFFICER.
|  | CHIEF, HUMAN CAPITAL OFFICER.
| UNITED STATES ARMY SPECIAL OPERATIONS COMMAND | DEPUTY TO THE COMMANDING GENERAL.
| UNITED STATES ARMY TRAINING AND DOCTRINE COMMAND (TRADOC) | DEPUTY CHIEF OF STAFF, G-3/5/7, TRADOC. DEPUTY TO THE COMMANDING GENERAL, COMBINED ARMS SUPPORT COMMAND.
|  | DEPUTY TO THE COMMANDING GENERAL MANUEVER SUPPORT/DIRECTOR, CAPABILITIES DEVELOPMENT AND INTEGRATION.
|  | DEPUTY TO THE COMMANDING GENERAL, CYBER CENTER OF EXCELLENCE (CYBERCOE).
|  | DIRECTOR, UNITED STATES ARMY CENTER OF MILITARY HISTORY/CHIEF OF MILITARY HISTORY.
|  | DEPUTY TO THE COMMANDING GENERAL ARMY AVIATION CENTER OF EXCELLENCE/DIRECTOR, CAPABILITIES DEVELOPMENT AND INTEGRATION.
|  | DEPUTY TO THE COMMANDING GENERAL FIRES/DIRECTOR, CAPABILITIES, DEVELOPMENT AND INTEGRATION.
|  | DEPUTY CHIEF OF STAFF G8, TRADOC.
|  | DEPUTY CHIEF OF STAFF G-1/4 (PERSONNEL AND LOGISTICS).
|  | ASSISTANT DEPUTY CHIEF OF STAFF, G-3/5/7 AND DEPUTY G-3/5 FOR OPS PLANS, TRADOC.
|  | DEPUTY TO THE COMMANDING GENERAL, COMBINED ARMS CENTER.
|  | DEPUTY TO THE COMMANDING GENERAL.
|  | DEPUTY CHIEF OF STAFF, G6 (TRADOC).
|  | PRESIDENT, ARMY LOGISTICS UNIVERSITY.
|  | DIRECTOR OF TRANSFORMATION, CYBER CENTER OF EXCELLENCE.
| UNITED STATES AFRICA COMMAND | DIRECTOR OF RESOURCES (J8), USAFRICOM.
|  | DEPUTY DIRECTOR OF PROGRAM, (J5), USAFRICOM.
|  | DIRECTOR OF RESOURCES (J1/J8), AFRICOM.
|  | FOREIGN POLICY ADVISOR FOR US AFRICA COMMAND.
| UNITED STATES ARMY CORPS OF ENGINEERS | DIRECTOR CONTINGENCY OPERATIONS/CHIEF, HOMELAND SECURITY OFFICE.
|  | DIRECTOR, RESEARCH AND DEVELOPMENT AND DIRECTOR, ENGINEERING RESEARCH AND DEVELOPMENT CENTER.
|  | DIRECTOR OF CONTRACTING.
|  | DIRECTOR, INFORMATION TECHNOLOGY LABORATORY.
|  | CHIEF MILITARY PROGRAMS INTEGRATION DIVISION.
|  | DIRECTOR FOR CORPORATE INFORMATION.
|  | DIRECTOR OF RESOURCE MANAGEMENT.
|  | DIRECTOR, REAL ESTATE.
|  | DIRECTOR OF HUMAN RESOURCES.
| UNITED STATES ARMY CYBER COMMAND/SECOND ARMY | DEPUTY TO COMMANDER/SENIOR TECHNICAL DIRECTOR/CHIEF ENGINEER.
|  | DEPUTY TO COMMANDER, ARMY CYBER COMMAND/2ND ARMY.
| UNITED STATES ARMY FORCES COMMAND | DEPUTY CHIEF OF STAFF FOR RESOURCE MANAGEMENT.
|  | ASSISTANT DEPUTY CHIEF OF STAFF FOR OPERATIONS, G-3/5/7.
|  | ASSISTANT DEPUTY CHIEF OF STAFF, G-6.
|  | DEPUTY CHIEF OF STAFF, G-1.
|  | ASSISTANT DEPUTY CHIEF OF STAFF FOR LOGISTICS.
| UNITED STATES ARMY MATERIEL COMMAND | ASSISTANT DEPUTY CHIEF OF STAFF, G-3/4 FOR LOGISTICS INTEGRATION.
|  | DEPUTY CHIEF OF STAFF FOR CORPORATE INFORMATION/CHIEF INFORMATION OFFICER.
| UNITED STATES ARMY NORTH | DEPUTY TO THE COMMANDING GENERAL, ARNORTH.
| UNITED STATES ARMY SPACE AND MISSILE DEFENSE COMMAND | DIRECTOR, PROGRAMS AND TECHNOLOGY.
|  | DIRECTOR, SPACE AND MISSILE DEFENSE TECHNICAL CENTER.
|  | DEPUTY TO THE COMMANDER, UNITED STATES ARMY SPACE AND MISSILE DEFENSE COMMAND/ARMY FORCES STRATCOM.
|  | DIRECTOR CAPABILITY DEV INTEGRATION DIRECTORATE, SPACE AND MISSILE DEFENSE COMMAND.
|  | DIRECTOR, FUTURE WARFARE CENTER.
| UNITED STATES EUROPEAN COMMAND | DIRECTOR, INTERAGENCY PARTNERING, (J9).
| UNITED STATES FORCES KOREA | DEPUTY DIRECTOR FOR TRANSFORMATION AND RESTATIONING.
|  | DIRECTOR FOR FORCES, RESOURCES AND ASSESSMENTS (J8).
| UNITED STATES SOUTHERN COMMAND | DIRECTOR, J8 (RESOURCES AND ASSESSMENTS DIRECTORATE).
|  | DIRECTOR, EXERCISES AND COALITION AFFAIRS.
|  | DEPUTY DIRECTOR STRATEGY AND POLICY.
|  | DEPUTY DIRECTOR OF OPERATIONS, J3.
OFFICE ASSISTANT SECRETARY ARMY (ACQUISITION, LOGISTICS AND TECHNOLOGY) | OFFICE OF ARMY ACQUISITION EXECUTIVE | PROGRAM EXECUTIVE OFFICER ENTERPRISE INFORMATION SYSTEMS. DEPUTY PROGRAM EXECTUIVE OFFICER GROUND COMBAT SYSTEMS.
|  | DEPUTY JOINT PROGRAM EXECUTIVE OFFICER (ARMAMENT & AMMUNITION).
|  | PROGRAM EXECUTIVE OFFICER ASSEMBLED CHEMICAL WEAPONS ALTERNATIVE.
|  | JOINT PEO FOR CHEMICAL AND BIOLOGICAL DEFENSE.
|  | DEPUTY PROGRAM EXECUTIVE OFFICER, INTELLIGENCE, ELECTRONIC WARFARE AND SENSORS.
|  | PROGRAM EXECUTIVE OFFICER COMBAT SUPPORT AND COMBAT SERVICE SUPPORT.
|  | DEPUTY PROGRAM EXECUTIVE OFFICER, ENTERPRISE INFORMATION SYSTEMS.
|  | DEPUTY PROGRAM EXECUTIVE OFFICER FOR AVIATION.
|  | DEPUTY PROGRAM EXECUTIVE OFFICER, COMMAND CONTROL AND COMMUNICATIONS TACTICAL.
|  | DEPUTY PROGRAM EXECUTIVE OFFICER FOR SOLDIER.
|  | DEPUTY PROGRAM EXECUTIVE OFFICER, COMBAT SUPPORT AND COMBAT SERVICE SUPPORT.
|  | DEPUTY PROGRAM EXECUTIVE OFFICER (SIMULATION, TRAINING AND INSTRUMENTATION).
|  | DEPUTY JOINT PROGRAM EXECUTIVE OFFICER FOR CHEMICAL AND BIOLOGICAL DEFENSE.
|  | DEPUTY PROGRAM EXECUTIVE OFFICER, MISSILES AND SPACE.
OFFICE ASSISTANT SECRETARY ARMY (FINANCIAL MANAGEMENT AND COMPTROLLER) | UNITED STATES ARMY FINANCIAL MANAGEMENT COMMAND | DEPUTY TO THE COMMANDER FOR FINANCIAL MANAGEMENT OPERATIONS.
OFFICE OF THE SECRETARY | OFFICE OF THE INSPECTOR GENERAL | PRINCIPAL DIRECTOR TO THE INSPECTOR GENERAL (INSPECTIONS).
| UNITED STATES ARMY NATIONAL MILITARY CEMETERIES | SUPERINTENDENT, ARLINGTON NATIONAL CEMETERY.
|  | EXECUTIVE DIRECTOR OF THE ARMY NATIONAL CENETERIES PROGRAM.
OFFICE OF THE UNDER SECRETARY | OFFICE DEPUTY UNDER SECRETARY OF ARMY | DIRECTOR CIVILIAN SENIOR LEADER MANAGEMENT OFFICE.
|  | ASSISTANT TO THE DEPUTY UNDER SECRETARY OF ARMY /DIRECTOR OF TEST AND EVALUATION.
| OFFICE OF BUSINESS TRANSFORMATION | DIRECTOR, OFFICE OF BUSINESS TRANSFORMATION, OBT.
|  | DEPUTY DIRECTOR, OFFICE OF BUSINESS TRANSFORMATION, OFFICE OF THE UNDER SECRETARY OF THE ARMY.
OFFICE, CHIEF OF STAFF | OFFICE, CHIEF ARMY RESERVE | ASSISTANT CHIEF OF THE ARMY RESERVE.
|  | DIRECTOR OF RESOURCE MANAGEMENT AND MATERIAL.
| UNITED STATES ARMY TEST AND EVALUATION COMMAND | DIRECTOR, ARMY EVALUATION CENTER. EXECUTIVE DIRECTOR, OPERATIONAL TEST COMMAND.
|  | EXECUTIVE DIRECTOR—WHITE SANDS.
OFFICE, DEPUTY CHIEF OF STAFF, G-1 | ARMY RESEARCH INSTITUTE (DEPUTY CHIEF OF STAFF FOR PERSONNEL, FIELD OPERATING AGENCY) | DIRECTOR, UNITED STATES ARMY RESEARCH INSTITUTE AND CHIEF PSYCHOLOGIST.
| OFFICE, DEPUTY CHIEF OF STAFF, G-1 (DEPUTY CHIEF OF STAFF FOR PERSONNEL, FIELD OPERATING AGENCY) | DEPUTY CHEIF MARKETING OFFICER, ARMY ENTERPRISE MARKETING OFFICE.
OFFICE, DEPUTY CHIEF OF STAFF, G-9 | UNITED STATES ARMY INSTALLATION MANAGEMENT COMMAND | REGIONAL DIRECTOR (PACIFIC). REGIONAL DIRECTOR (EUROPE).
|  | DIRECTOR, HUMAN RESOURCES (IMCOM).
|  | DIRECTOR IMCOM SUPPORT (SUSTAINMENT).
|  | DIRECTOR, PLANS, OPERATIONS AND TRAIINING, G-3/5/7, IMCOM.
|  | DIRECTOR OF FACILITIES AND LOGISTICS.
|  | DIRECTOR IMCOM SUPPORT (READINESS).
|  | EXECUTIVE DEPUTY TO COMMANDING GENERAL, IMCOM.
|  | DIRECTOR IMCOM SUPPORT (TRAINING).
UNITED STATES ARMY FUTURES COMMAND | AFC, CROSS FUNCTIONAL TEAMS | DIRECTOR, ASSURED PNT CROSS-FUNCTIONAL TEAM, SA.
| AFC, COMBAT CAPABILITIES DEVELOPMENT CMD—UNITED STATES ARMY AVIATION AND MISSILE CENTER | DIRECTOR FOR SYSTEMS SIMULATION, SOFTWARE, AND INTEGRATION. DIRECTOR OF AVIATION ENGINEERING.
|  | DIRECTOR FOR WEAPONS DEVELOPMENT AND INTEGRATION.
|  | DIRECTOR FOR AVIATION AND MISSILE RESEARCH, DEVELOPMENT AND ENGINEERING CENTER.
| AFC, COMBAT CAPABILITIES DEVELOPMENT CMD, ARMAMENTS CENTER | EXECUTIVE DIRECTOR, WEAPONS AND SOFTWARE ENGINEER CENTER.
|  | DIRECTOR FOR ARMAMENT RESEARCH, DEVELOPMENT AND ENGINEERING.
|  | EXECUTIVE DIRECTOR, ENTERPRISE AND SYSTEMS INTEGRATION CENTER.
| AFC, COMBAT CAPABILITIES DEVELOPMENT CMD, ARMY RESEARCH LABORATORY | DIRECTOR, SURVIVABILITY/LETHALITY ANALYSIS DIRECTORATE.
|  | DIRECTOR, SENSORS AND ELECTRON DEVICES DIRECTORATE.
|  | DIRECTOR, COMPUTATIONAL AND INFORMATION SCIENCES DIRECTORATE.
|  | DIRECTOR WEAPONS AND MATERIALS RESEARCH DIRECTORATE.
| AFC, COMBAT CAPABILITIES DEVELOPMENT CMD, C5ISR CENTER | DIRECTOR, SPACE AND TERRESTRIAL COMMITTEE DIRECTORATE.
|  | DIRECTOR—NIGHT VISION/ELECTROMAGNETICS SENSORS DIRECTORATE.
|  | DIRECTOR, COMMAND POWER AND INTEGRATION DIRECTORATE.
|  | DIRECTOR, COMMUNICATIONS-ELECTRONICS RESEARCH, DEVELOPMENT AND ENGINEERING CENTER.
| AFC, COMBAT CAPABILITIES DEVELOPMENT CMD, CHEMICAL AND BIOLOGICAL CENTER | DIRECTOR FOR PROGRAMS INTEGRATION.
| AFC, COMBAT CAPABILITIES DEVELOPMENT CMD, GROUND VEHICLE SYSTEMS CENTER | DIRECTOR FOR SYSTEMS INTEGRATION AND ENGINEERING. DIRECTOR, RESEARCH, TECHNOLOGY DEVELOPMENT AND INTEGRATION.
| AFC, COMBAT CAPABILITIES DEVELOPMENT CMD, SOLDIERS CENTER | DIRECTOR, NATICK SOLDIER RESEARCH AND DEVELOPMENT ENGINEERING CENTER.
| AFC, FUTURES AND CONCEPTS CENTER, CAPABILITY DEVELOPMENT INTEGRATION DIRECTORATES | DEPUTY TO THE COMMANDING GENERAL, MANEUVER CENTER OF EXCELLENCE AND DIRECTOR, CAPABILITIES DEVELOPMENT AND INTEGRATION.
| AFC, FUTURES AND CONCEPTS CENTER, THE RESEARCH AND ANALYSIS CENTER | DIRECTOR OF OPERATIONS, TRAC ANALYSIS CENTER FORT LEAVENWORTH.
|  | DIRECTOR, THE TRAINING AND ANALYSIS CENTER, AFC.
|  | DIRECTOR OF FUTURES INTEGRATION, FCC.
|  | DIRECTOR OF OPERATIONS, TRAC, WSMR.
| AFC, FUTURES AND CONCEPTS CENTER, TRAC—HUMAN SYSTEMS INTEGRATION | DIRECTOR FOR MANPRINT DIRECTORATE.
| AFC, UNITED STATES ARMY MEDICAL RESEARCH AND MATERIEL COMMAND | PRINCIPAL ASSISTANT FOR ACQUISITION.
| U.S. ARMY FUTURES COMMAND—FUTURES AND CONCEPTS CENTER | DEPUTY DIRECTOR/CHIEF OF STAFF, ARCIC.
UNITED STATES ARMY CORPS OF ENGINEERS | OFFICE OF COLD REGIONS RESEARCH AND ENGINEERING LABORATORY HANOVER, NEW HAMSHIRE | DIRECTOR, COLD REGIONS RESEARCH AND ENGINEERING LABORATORY.
| OFFICE OF CONSTRUCTION ENGINEERING RESEARCH LABORATORY CHAMPAIGN, ILLINOIS | DIRECTOR, CONSTRUCTION ENGINEERING RESEARCH LABORATORIES.
| DIRECTORATE OF CIVIL WORKS | CHIEF, ENGINEERING AND CONSTRUCTION DIVISION
|  | CHIEF, PLANNING AND POLICY DIVISION/ COMMUNITY OF PRACTICE.
|  | CHIEF, OPERATIONS DIVISION AND REGULATORY COMMUNITY OF PRACTICE.
|  | DIRECTOR OF CIVIL WORKS.
|  | CHIEF, PROGRAMS INTEGRATION DIVISION.
| DIRECTORATE OF MILITARY PROGRAMS | CHIEF, ENVIRONMENTAL COMMUNITY OF PRACTICE.
|  | DIRECTOR OF MILITARY PROGRAMS.
|  | CHIEF, INSTALLATION SUPPORT COMMUNITY OF PRACTICE.
|  | CHIEF, INTERAGENCY AND INTERNATIONAL SERVICES DIVISION.
| DIRECTORATE OF RESEARCH AND DEVELOPMENT | DEPUTY DIRECTOR OF RESEARCH AND DEVELOPMENT.
| DIRECTORS OF ENGINEERING AND TECHNICAL SERVICES | REGIONAL BUSINESS DIRECTOR (SOUTH ATLANTIC DIVISION).
|  | REGIONAL BUSINESS DIRECTOR (NORTHWESTERN DIVISION).
|  | REGIONAL BUSINESS DIRECTOR (GREAT LAKES, OHIO RIVER DIVISION).
|  | REGIONAL BUSINESS DIRECTOR (NORTH ATLANTIC DIVISION).
|  | REGIONAL BUSINESS DIRECTOR (PACIFIC OCEAN DIVISION).
|  | REGIONAL BUSINESS DIRECTOR (SOUTHWESTERN DIVISION).
|  | REGIONAL BUSINESS DIRECTOR (SOUTH PACIFIC DIVISION).
|  | REGIONAL BUSINESS DIRECTOR, (MISSISSIPPI VALLEY DIVISION).
| DIRECTORS OF PROGRAMS MANAGEMENT | DIVISION PROGRAMS DIRECTOR (NORTH ATLANTIC DIVISION).
|  | DIVISION PROGRAMS DIRECTOR (SOUTH ATLANTIC DIVISION).
|  | DIVISION PROGRAMS DIRECTOR (MISSISSIPPI VALLEY DIV).
|  | DIVISION PROGRAMS DIRECTOR (PACIFIC OCEAN DIVISION).
|  | DIVISION PROGRAMS DIRECTOR (SOUTHWESTERN DIVISION).
|  | DIVISION PROGRAMS DIRECTOR (GREAT LAKE AND OHIO RIVER DIVISION).
|  | DIVISION PROGRAMS DIRECTOR (SOUTH PACIFIC DIVISION).
|  | DIVISION PROGRAMS DIRECTOR (NORTHWESTERN DIVISION).
|  | DIVISION PROGRAMS DIRECTOR, TRANSATLANTIC DIVISION.
| ENGINEER RESEARCH AND DEVELOPMENT CENTER | DEPUTY DIRECTOR ENGINEER RESEARCH AND DEVELOPMENT CENTER.
|  | DIRECTOR, COASTAL AND HYDRAULICS LABORATORY.
|  | DIRECTOR GEOTECHNICAL AND STRUCTURES LABORATORY.
|  | DIRECTOR, ENVIRONMENTAL LABORATORY.
| ENGINEER TOPOGRAPHIC LABORATORIES, CENTER OF ENGINEERS | DIRECTOR, ARMY GEOSPATIAL CENTER.
UNITED STATES ARMY MATERIEL COMMAND | MILITARY SURFACE DEPLOYMENT DISTRIBUTION COMMAND | DIRECTOR, TRANSPORTATION ENGINEERING AGENCY/DIRECTOR JOINT DISTRIBUTION PROCESS ANALYSIS CENTER.
|  | DEPUTY TO THE COMMANDER, SURFACE DEPLOYMENT AND DISTRIBUTION COMMAND.
| OFFICE DEPUTY COMMANDING GENERAL | EXECUTIVE DEPUTY TO THE COMMANDING GENERAL.
| OFFICE OF DEPUTY CHIEF OF STAFF FOR LOGISTICS AND OPERATIONS | PRINCIPAL DEPUTY G-3 FOR OPERATIONS AND LOGISTICS.
| OFFICE OF DEPUTY CHIEF OF STAFF FOR PERSONNEL | DEPUTY CHIEF OF STAFF FOR PERSONNEL.
| OFFICE OF THE DEPUTY CHIEF OF STAFF FOR RESOURCE MANAGEMENT | ASSISTANT DEPUTY CHIEF OF STAFF FOR RESOURCE MANAGEMENT, G-8/EXECUTIVE DIRECTOR FOR BUSINESS.
|  | DEPUTY CHIEF OF STAFF FOR RESOURCE MANAGEMENT.
| TANK-AUTOMOTIVE AND ARMAMENTS COMMAND (TANK-AUTOMOTIVE AND ARMAMENTS COMMAND) | DIRECTOR INTEGRATED LOGISTICS SUPPORT CENTER. DEPUTY TO THE COMMANDER.
| UNITED STATES ARMY COMMUNICATIONS ELECTRONICS COMMAND | DIR, COMMUNICATIONS—ELECTRONICS LIFE CYCLE MGMT CMD LOGISTICS & READINESS CTR.
|  | DEPUTY TO THE COMMANDING GENERAL, CECOM, LCMC.
|  | DIRECTOR, SOFTWARE ENGINEERING DIRECTORATE.
| UNITED STATES ARMY JOINT MUNITIONS COMMAND | EXECUTIVE DIRECTOR FOR AMMUNITION.
| UNITED STATES ARMY AVIATION AND MISSILE COMMAND (ARMY MATERIEL COMMAND) | ARMY AVIATION AND MISSILE COMMAND DIRECTOR, SPECIAL PROGRAMS (AVIATION).
|  | DIRECTOR FOR TEST MEASUREMENT DIAGNOSTIC EQUIPMENT ACTIVITY.
|  | EXECUTIVE DIRECTOR, AVIATION AND MISSILE COMMAND LOGISTICS CENTER.
|  | DEPUTY TO THE COMMANDER.
| UNITED STATES ARMY CONTRACTING COMMAND | EXECUTIVE DIRECTOR, ARMY CONTRACTING COMMAND—ABERDEEN.
|  | EXECUTIVE DIRECTOR, ACC-WARREN.
|  | DEPUTY TO THE COMMANDER, MISSION INSTALLATION CONTRACTING COMMAND.
|  | EXECUTIVE DIRECTOR ARMY CONTRACTING COMMAND—ROCK ISLAND.
|  | EXECUTIVE DIRECTOR ARMY CONTRACTING COMMAND—REDSTONE, AL.
|  | DEPUTY TO THE COMMANDING GENERAL, ARMY CONTRACTING COMMAND.
|  | DEPUTY TO THE COMMANDER, UNITED STATES ARMY EXPEDITIONARY CONTRACTING COMMAND.
| UNITED STATES ARMY SECURITY ASSISTANCE COMMAND | DEPUTY TO THE COMMANDING GENERAL.
| UNITED STATES ARMY SUSTAINMENT COMMAND | DEPUTY TO THE COMMANDER. EXECUTIVE DIRECTOR, SUPPORT OPERATIONS.
|  | EXECUTIVE DIRECTOR FOR LOGCAP.
DEPARTMENT OF THE NAVY | DEPARTMENT OF THE NAVY | SPECIAL ASSISTANT, DIRECTOR FOR SURFACE SHIP DESIGN AND SYSTEMS ENGINEERING.
CHIEF OF NAVAL OPERATIONS | BUREAU OF MEDICINE AND SURGERY | EXECUTIVE DIRECTOR, BUREAU OF MEDICINE AND SURGERY.
|  | DEPUTY CHIEF, TOTAL FORCE.
|  | DIRECTOR, BUSINESS OPERATIONS/COMPTROLLER.
| COMMANDER, NAVY INSTALLATIONS COMMAND | COMPTROLLER.
|  | DIRECTOR OF OPERATIONS.
|  | DIRECTOR STRATEGY AND FUTURE REQUIREMENTS.
|  | DEPUTY COMMANDER.
|  | COUNSEL, COMMANDER NAVY INSTALLATIONS COMMAND.
| COMMANDER, SUBMARINE FORCES | EXECUTIVE DIRECTOR, SUBMARINE FORCES.
| MILITARY SEALIFT COMMAND | DIRECTOR, MILITARY SEALIFT COMMAND MANPOWER AND PERSONNEL.
|  | DIRECTOR, SHIP MANAGEMENT.
|  | DIRECTOR, MARITIME OPERATIONS.
|  | EXECUTIVE DIRECTOR.
| NAVAL AIR SYSTEMS COMMAND HEADQUARTERS | DIRECTOR, AIR ANTI-SUBMARINE WARFARE, ASSAULT AND SPECIAL MISSION PROGRAMS CONTRACTS DEPARTMENT.
|  | DEPUTY COUNSEL, OFFICE OF COUNSEL.
|  | DIRECTOR, DESIGN INTERFACE AND MAINTAINANCE PLANNING.
|  | DIRECTOR, PROPULSION AND POWER.
|  | DIRECTOR INDUSTRIAL OPERATIONS.
|  | DIRECTOR, MISSION ENGINEERING AND ANALYSIS.
|  | DIRECTOR, STRIKE WEAPONS, UNMANNED AVIATION, NAVAL AIR PROGRAMS CONTRACTS DEPARTMENT.
|  | COUNSEL, NAVAL AIR SYSTEMS COMMAND.
|  | DIRECTOR, COST ESTIMATING AND ANALYSIS.
|  | DIRECTOR OF CONTRACTS, F-35 JSF.
|  | DIRECTOR, AVIATION READINESS AND RESOURCE ANALYSIS.
|  | F-35 PRODUCT SUPPORT MANAGER.
|  | CHIEF MANAGEMENT OFFICER.
|  | DIRECTOR, AIR VEHICLE ENGINEERING.
|  | ASSISTANT COMMANDER FOR CONTRACTS.
|  | COMPTROLLER.
|  | DIRECTOR, SYSTEMS ENGINEERING DEPARTMENT.
|  | DIRECTOR, LOGISTICS MANAGEMENT INTEGRATION.
|  | DIRECTOR, TACTICAL AIRCRAFT AND MISSILES CONTRACTS DEPARTMENT.
|  | ASSISTANT COMMANDER FOR ACQUISITION PROCESSES AND EXECUTION.
|  | DEPUTY ASSISTANT COMMANDER FOR RESEARCH AND ENGINEERING.
|  | DEPUTY COMMANDER, NAVAL AIR SYSTEMS COMMAND.
|  | DEPUTY ASSISTANT COMMANDER FOR LOGISTICS AND INDUSTRIAL OPERATIONS.
|  | ASSISTANT COMMANDER, CORPORATE OPERATIONS AND TOTAL FORCE.
| NAVAL METEOROLOGY AND OCEANOGRAPHY COMMUNICATIONS, STENNIS SPACE CENTER, MISSISSIPPI | TECHNICAL/DEPUTY DIRECTOR.
| NAVY CYBER FORCES | DEPUTY COMMANDER.
| OFFICE OF COMMANDER, UNITED STATES FLEET FORCES COMMAND | DEPUTY CHIEF OF STAFF, PERSONNEL DEVELOPMENT AND ALLOCATION.
|  | DIRECTOR, FLEET INSTALLATION AND ENVIRONMENT.
|  | EXECUTIVE DIRECTOR, NAVY WARFARE DEVELOPMENT COMMAND.
|  | DIRECTOR, COMMAND, CONTROL, COMMUNICATIONS, COMPUTER, COMBAT SYSTEMS, INTELLIGENCE AND STRATEGIC/COMMAND INFORMATION OFFICER.
|  | EXECUTIVE DIRECTOR/CHIEF OF STAFF.
|  | DEPUTY DIRECTOR, MARITIME OPERATIONS.
|  | DIRECTOR, COMMAND, CONTROL, COMMUNICATIONS, COMPUTER COMBAT SYSTEMS, INTELLIGENCE, SURVEILLANCE AND RECONNAISSANCE.
| OFFICE OF THE COMMANDER, UNITED STATES PACIFIC FLEET | EXECUTIVE DIRECTOR, NAVAL SURFACE FORCES. EXECUTIVE DIRECTOR FOR COMMUNICATIONS AND INFORMATION SYSTEMS AND CIO.
|  | EXECUTIVE DIRECTOR, NAVAL AIR FORCES.
|  | CHIEF OF STAFF.
|  | EXECUTIVE DIRECTOR, TOTAL FORCE MANAGEMENT.
|  | DEPUTY FOR NAVAL MINE AND ANTI-SUBMARINE WARFARE COMMAND.
|  | EXECUTIVE DIRECTOR, PACIFIC FLEET PLANS AND POLICY.
DEPARTMENT OF THE NAVY | CHIEF OF NAVAL OPERATIONS | DIRECTOR, COMMUNICATIONS AND NETWORK DIVISION (N2/N6F1).
|  | HEAD, CAMPAIGN ANALYSIS BRANCH.
|  | DIRECTOR, CHIEF OF NAVAL OPERATIONS ENERGY AND ENVIRONMENTAL READINESS DIVISION.
|  | VICE DIRECTOR NAVY STAFF.
|  | EXECUTIVE DIRECTOR, NAVAL SPECIAL WARFARE COMMAND.
|  | DIRECTOR, DIGITAL WARFARE OFFICE.
|  | DIRECTOR, FLEET READINESS.
|  | DEPUTY CHIEF OF NAVY RESERVE.
|  | DIRECTOR, SPECIAL PROGRAMS DIVISION (N89).
|  | DEPUTY DIRECTOR, NAVY CYBERSECURITY.
|  | DEPUTY COMMANDER.
|  | DIRECTOR OF STRATEGY.
|  | DIRECTOR, STRATEGIC MOBILITY AND COMBAT LOGISTICS DIVISION.
|  | DEPUTY DIRECTOR ASSESSMENT DIVISION (N8 1B).
|  | ASSISTANT DEPUTY CHIEF OF NAVAL OPERATIONS, WARFARE SYSTEMS.
|  | DEPUTY DIRECTOR FOR STRATEGY AND POLICY.
|  | ASSISTANT DEPUTY CHIEF OF NAVAL OPERATIONS, FLEET READINESS AND LOGISTICS.
|  | DIRECTOR NAVAL HISTORY AND HERITAGE COMMAND.
|  | DEPUTY DIRECTOR, PROGRAM DIVISION (N80B).
|  | DEPUTY DIRECTOR, AIR WARFARE.
|  | ASSISTANT DEPUTY CHIEF OF NAVAL OPERATIONS (MANPOWER, PERSONNEL, TRAINING AND EDUCATION).
|  | DIRECTOR, SPECIAL PROGRAMS.
|  | DEPUTY DIRECTOR, UNMANNED WARFARE.
|  | DEPUTY DIRECTOR, UNDERSEA WARFARE DIVISION.
|  | DEPUTY DIRECTOR SURFACE WARFARE DIVISION.
|  | DEPUTY DIRECTOR, EXPEDITIONARY WARFARE DIVISION.
|  | ASSISTANT DEPUTY CHIEF OF NAVAL OPERATIONS (RESOURCES, WARFARE REQUIREMENTS AND ASSESSMENTS) N8B.
|  | FINANCIAL MANAGER AND CHIEF RESOURCES OFFICER FOR MANPOWER, PERSONNEL, TRAINING AND EDUCATION.
|  | ASSISTANT DEPUTY CHIEF OF NAVAL OPERATIONS FOR INFORMATION DOMINANCE (N2/N6).
| MARINE CORPS SYSTEMS COMMAND | ASSISTANT DEPUTY COMMANDANT FOR INFORMATION.
|  | DEPUTY TO THE COMMANDER FOR RESOURCE MANAGEMENT.
|  | CHIEF ENGINEER, MARINE CORPS SYSTEMS COMMAND.
|  | EXECUTIVE DIRECTOR.
| NAVAL FACILITIES ENGINEERING COMMAND | EXECUTIVE DIRECTOR. DIRECTOR, NAVY CRANE CENTER.
|  | DIRECTOR OF PUBLIC WORKS.
|  | DEPUTY COMMANDER, ACQUISITION.
|  | COUNSEL, NAVAL FACILITIES ENGINEERING COMMAND.
|  | ASSISTANT COMMANDER/CHIEF MANAGEMENT OFFICER.
|  | CHIEF ENGINEER.
|  | DIRECTOR OF ENVIRONMENT.
|  | DIRECTOR OF ASSEST MANAGEMENT.
|  | COMPTROLLER (2).
| NAVAL INFORMATION AND WARFARE SYSTEMS COMMAND | ASSISTANT COMMANDER FOR NAVY CYBER IMPLEMENTATION.
|  | DIRECTOR CORPORATE OPERATIONS/COMMAND INFORMATION OFFICER.
|  | EXECUTIVE DIRECTOR, FLEET READINESS DIRECTORATE.
|  | EXECUTIVE DIRECTOR.
|  | ASSISTANT CHIEF ENGINEER FOR CERTIFICATION AND MISSION ASSURANCE.
|  | ASSISTANT CHIEF ENGINEER FOR MISSION ARCHITECTURE AND SYSTEMS ENGINEERING.
|  | DIRECTOR, CONTRACTS.
|  | DIRECTOR, READINESS/LOGISTICS DIRECTORATE.
|  | DEPUTY CHIEF ENGINEER.
| NAVAL SEA SYSTEMS COMMAND | DIRECTOR, FLEET READINESS DIVISION.
|  | DEPUTY DIRECTOR, REACTOR REFUELING DIVISION.
|  | DIRECTOR, SURFACE SYSTEMS CONTRACTS DIVISION.
|  | DEPUTY DIRECTOR, ADVANCED AIRCRAFT CARRIER SYSTEM DIVISION.
|  | EXECUTIVE DIRECTOR.
|  | EXECUTIVE DIRECTOR, SURFACE WARFARE DIRECTORATE.
|  | DIRECTOR, NUCLEAR COMPONENTS DIVISION.
|  | HEAD, ADVANCED REACTOR BRANCH.
|  | DIRECTOR FOR AIRCRAFT CARRIER DESIGN AND SYSTEMS ENGINEERING.
|  | EXECUTIVE DIRECTOR, SHIP DESIGN, AND ENGINEERING DIRECTORATE.
|  | EXECUTIVE DIRECTOR NAVAL SURFACE AND UNDERSEA WARFARE CENTERS.
|  | NUCLEAR ENGINEERING AND PLANNING MANAGER.
|  | DIRECTOR, INTEGRATED WARFARE SYSTEMS ENGINEERING GROUP.
|  | ASSISTANT COMMANDER, SUPPLY CHAIN TECHNOLOGY AND SYSTEM INTEGRATION.
|  | DIVISION TECHNICAL DIRECTOR, NAVAL SURFACE WARFARE CENTER, PHILADELPHIA DIVISION.
|  | EXECUTIVE DIRECTOR FOR COMMANDER, NAVY REGIONAL MAINTENANCE CENTERS (CNRMC).
|  | DIRECTOR FOR MARINE ENGINEERING.
|  | SPECIAL ASSISTANT (KNOWLEDGE TRANSFER).
|  | DIVISION TECHNICAL DIRECTOR, NSWC CORONA DIVISION.
|  | DIRECTOR, REACTOR REFUELING DIVISION.
|  | DIRECTOR OF RADIOLOGICAL CONTROLS.
|  | DIRECTOR FOR SHIP INTEGRITY AND PERFORMANCE ENGINEERING.
|  | EXECUTIVE DIRECTOR, ACQUISITION AND COMMONALITY.
|  | DIVISION TECHNICAL DIRECTOR, NAVAL SURFACE WARFARE CENTER PORT HUENEME DIVISION.
|  | DEPUTY COMMANDER/COMPTROLLER.
|  | COUNSEL, NAVAL SEA SYSTEMS COMMAND.
|  | DIRECTOR FOR CONTRACTS.
|  | DIRECTOR, REACTOR MATERIALS DIVISION.
|  | DIRECTOR FOR SURFACE SHIP DESIGN AND SYSTEMS ENGINEERING.
|  | DIRECTOR, COST ENGINEERING AND INDUSTRIAL ANALYSIS.
|  | DIRECTOR, SHIPBUILDING CONTRACTS DIVISION.
|  | ASSISTANT DEPUTY COMMANDER FOR INDUSTRIAL OPERATIONS.
|  | DEPUTY FOR WEAPONS SAFETY.
|  | DEPUTY COMMANDER, CORPORATE OPERATIONS DIRECTORATE.
|  | EXECUTIVE DIRECTOR FOR LOGISTICS MAINTENANCE AND INDUSTRIAL OPERATIONS DIRECTORATE.
|  | EXECUTIVE DIRECTOR, UNDERSEA WARFARE DIRECTORATE.
|  | DIRECTOR, REACTOR PLANT COMPONENTS AND AUXILIARY EQUIPMENT DIVISION.
|  | DIRECTOR, SURFACE SHIP SYSTEMS DIVISION.
|  | DIRECTOR, REACTOR SAFETY AND ANALYSIS DIVISION.
|  | DIRECTOR FOR SUBMARINE/SUBMERSIBLE DESIGN AND SYSTEMS ENGINEERING.
|  | PROGRAM MANAGER FOR COMMISSIONED SUBMARINES.
|  | DIRECTOR, OFFICE OF RESOURCE MANAGEMENT.
| NAVAL SUPPLY SYSTEMS COMMAND HEADQUARTERS | ASSISTANT COMMANDER FOR CONTRACTING MANAGEMENT.
|  | ASSISTANT COMMANDER FOR SUPPLY CHAIN MANAGEMENT (SCM) POLICY AND PERFORMANCE.
|  | DEPUTY COMMANDER, ACQUISITION, NAVAL SUPPLY SYSTEMS COMMAND.
|  | DEPUTY COMMANDER FOR FINANCIAL MANAGEMENT/COMPTROLLER.
|  | COUNSEL, NAVAL SUPPLY SYSTEMS COMMAND.
|  | DEPUTY COMMANDER, CORPORATE OPERATIONS.
|  | EXECUTIVE DIRECTOR, OFFICE OF SPECIAL PROJECTS.
|  | VICE COMMANDER.
| OFFICE OF NAVAL RESEARCH | DIRECTOR FOR AEROSPACE SCIENCE RESEARCH DIVISION
|  | DIRECTOR, OCEAN, ATMOSPHERE AND SPACE RESEARCH DIVISION.
|  | DIRECTOR, ELECTRONICS, SENSORS, AND NETWORKS RESEARCH DIVISION.
|  | DIRECTOR, SHIP SYSTEMS AND ENGINEERING DIVISION.
|  | DIRECTOR, UNDERSEA WEAPONS AND NAVAL MATERIALS SCIENCE AND TECHNOLOGY DIVISION.
|  | HEAD, COMMAND, CONTROL, COMMUNICATIONS, INTELLIGENCE, SURVEILLANCE, AND RECONNAISSANCE (C4ISR) SCIENCE AND TECHNOLOGY DEPARTMENT.
|  | PORTFOLIO DIRECTOR.
|  | EXECUTIVE DIRECTOR.
|  | DIRECTOR, HUMAN AND BIOENGINEERED SYSTEMS DIVISION.
|  | HEAD, SEA WARFARE AND WEAPONS SCIENCE AND TECHNOLOGY DEPARTMENT.
|  | DIRECTOR, CONTRACTS, GRANTS AND ACQUISITIONS.
|  | COMPTROLLER.
|  | HEAD, AIR WARFARE AND WEAPONS SCIENCE AND TECHNOLOGY DEPARTMENT.
|  | DIRECTOR, MATHEMATICS COMPUTER AND INFORMATION SCIENCES (MCIS) DIVISION.
|  | HEAD, WARFIGHTER PERFORMANCE SCIENCE AND TECHNOLOGY DEPARTMENT.
|  | HEAD, OCEAN, BATTLESPACE SENSING SCIENCE AND TECHNOLOGY DEPARTMENT.
|  | HEAD, EXPEDITIONARY WARFARE AND COMBATING TERRORISM SCIENCE AND TECHNOLOGY DEPARTMENT.
|  | PATENT COUNSEL OF THE NAVY.
|  | COUNSEL, OFFICE OF NAVAL RESEARCH.
| OFFICE OF THE SECRETARY | ASSISTANT FOR ADMINISTRATION.
|  | DEPUTY ASSISTANT FOR ADMINISTRATION.
|  | DIRECTOR, SEXUAL ASSAULT PREVENTION AND RESPONSE.
| UNITED STATES MARINE CORPS HEADQUARTERS OFFICE | ASSISTANT DEPUTY COMMANDANT FOR MANPOWER AND RESERVE.
|  | DEPUTY ASSISTANT DEPUTY COMMANDANT, INSTALLATIONS AND LOGISTICS (FACILITIES).
|  | ASSISTANT DEPUTY COMMANDANT, INSTALLATIONS AND LOGISTICS (E-BUSINESS AND CONTRACTS).
|  | COUNSEL FOR THE COMMANDANT.
|  | ASSISTANT DEPUTY COMMANDANT, INSTALLATIONS AND LOGISTICS.
|  | ASSISTANT DEPUTY COMMANDANT FOR PROGRAMS AND RESOURCES/FISCAL DIRECTOR OF THE MARINE CORPS.
|  | DIRECTOR PROGRAM ANALYSIS AND EVALUATION DIVISION.
|  | DEPUTY COUNSEL FOR THE COMMANDANT OF THE MARINE CORPS.
|  | ASSISTANT DEPUTY COMMANDANT FOR PLANS POLICIES AND OPERATIONS (SECURITY).
|  | DEPUTY DIRECTOR, MANPOWER PLANS AND POLICY DIVISION.
|  | ASSISTANT DEPUTY COMMANDANT, RESOURCES (PERSONNEL AND READINESS).
|  | ASSISTANT DEPUTY COMMANDANT FOR MANPOWER AND RESERVE AFFAIRS.
|  | EXECUTIVE DEPUTY, MARINE CORPS LOGISTICS COMMAND.
MARINE CORPS SYSTEMS COMMAND | MARINE CORPS COMBAT DEVELOPMENT COMMAND; QUANTICO, VIRGINIA | EXECUTIVE DEPUTY TRAINING AND EDUCATION COMMAND.
NAVAL AIR SYSTEMS COMMAND HEADQUARTERS | NAVAL AIR WARFARE CENTER AIRCRAFT DIVISION | DIRECTOR, FLIGHT TEST ENGINEERING. DIRECTOR, BATTLESPACE SIMULATION.
|  | DEPUTY ASSISTANT COMMANDER FOR TEST AND EVALUATION/EXECUTIVE DIRECTOR NAVAL AIR WARFARE CENTER AIRCRAFT DIVISION/DIRECTOR, TEST AND EVALUATION NAWCAD.
|  | DIRECTOR, INTEGRATED STYSTEMS EVALUATION EXPERIMENTATION AND TEST DEPARTMENT.
|  | DIRECTOR, AIRCRAFT LAUNCH AND RECOVERY EQUIPMENT/SUPPORT EQUIPMENT.
| NAVAL AIR WARFARE CENTER TRAINING SYSTEMS DIVISION | DIRECTOR, HUMAN SYSTEMS DEPARTMENT.
| NAVAL AIR WARFARE CENTER WEAPONS DIVISION, CHINA LAKE, CALIFORNIA | DIRECTOR, WEAPONS AND ENERGETICS DEPARTMENT. DIRECTOR, RANGE DEPARTMENT.
|  | EXECUTIVE DIRECTOR, NAVAL AIR WARFARE CENTER WEAPONS DIVISION/DIRECTOR, RESEARCH ENGINEERING.
NAVAL INFORMATION AND WARFARE SYSTEMS COMMAND | NAVAL INFORMATION AND WARFARE SYSTEMS COMMAND | DIRECTOR, SCIENCE AND TECHNOLOGY. COMPTROLLER/BUSINESS RESOURCE MANAGER.
|  | COUNSEL, SPACE AND NAVAL WARFARE SYSTEMS COMMAND.
|  | EXECUTIVE DIRECTOR, PROGRAM EXECUTIVE OFFICE, ENTERPRISE INFORMATION SYSTEMS.
|  | EXECUTIVE DIRECTOR (2).
NAVAL SEA SYSTEMS COMMAND | NAVAL SHIPYARDS | NUCLEAR ENGINEERING AND PLANNING MANAGER, PUGET SOUND NAVAL SHIPYARD.
|  | NAVAL SHIPYARD NUCLEAR ENGINEERING AND PLANNING MANAGER, NORFOLK NAVAL SHIPYARD.
|  | NUCLEAR ENGINEERING AND PLANNING MANAGER; PORTSMOUTH NAVAL SHIPYARD.
| NAVAL SURFACE WARFARE CENTER | DIVISION TECHNICAL DIRECTOR, NAVAL SURFACE WARFARE CENTER DAHLGREN DIVISION.
| NAVAL SURFACE WARFARE CENTER, CARDEROCK DIVISION | DIVISION TECHNICAL DIRECTOR, NAVAL SURFACE WARFARE CENTER, CARDEROCK DIVISION.
| NAVAL SURFACE WARFARE CENTER, CRANE DIVISION | DIVISION TECHNICAL DIRECTOR, NAVAL SURFACE WARFARE CENTER, CRANE DIVISION.
| NAVAL SURFACE WARFARE CENTER, DAHLGREN DIVISION | DIVISION TECHNICAL DIRECTOR NAVAL SURFACE WARFARE CENTER PANAMA CITY DIVISION.
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION.
| NAVAL UNDERSEA WARFARE CENTER DIVISION, KEYPORT, WASHINGTON | DIVISION TECHNICAL DIRECTOR, NAVAL UNDERSEA WARFARE CENTER DIVISION KEYPORT.
| NAVAL UNDERSEA WARFARE CENTER DIVISION, NEWPORT, RHODE ISLAND | DIVISION TECHNICAL DIRECTOR, NAVAL UNDERSEA WARFARE CENTER DIVISION NEWPORT.
NAVAL SUPPLY SYSTEMS COMMAND HEADQUARTERS | NAVY SUPPLY INFORMATION SYSTEMS ACTIVITY WEAPON SYSTEMS SUPPORT | DIRECTOR OF FINANCE/COMPTROLLER. VICE COMMANDER, NAVSUP WEAPON SYSTEMS SUPPORT.
OFFICE OF NAVAL RESEARCH | NAVAL RESEARCH LABORATORY | SUPERINTENDENT, ACOUSTICS DIVISION.
|  | DIRECTOR OF RESEARCH.
|  | ASSOCIATE DIRECTOR OF RESEARCH FOR MATERIAL SCIENCE AND COMPONENT TECHNOLOGY.
|  | SUPERINTENDENT, TACTICAL ELECTRONIC WARFARE DIVISION.
|  | ASSOCIATE DIRECTOR OF RESEARCH FOR BUSINESS OPERATIONS.
|  | ASSOCIATE DIRECTOR OF RESEARCH FOR OCEAN AND ATMOSPHERIC SCIENCE AND TECHNOLOGY.
|  | ASSOCIATE DIRECTOR OF RESEARCH FOR SYSTEMS.
|  | SUPERINTENDENT, SPACE SYSTEMS DEVELOPMENT DEPARTMENT.
|  | SUPERINTENDENT, PLASMA PHYSICS DIVISION.
|  | SUPERINTENDENT, SPACECRAFT ENGINEERING DEPARTMENT.
|  | SUPERINTENDENT, ELECTRONICS SCIENCE AND TECHNOLOGY DIVISION.
|  | SUPERINTENDENT, REMOTE SENSING DIVISION.
|  | SUPERINTENDENT, CENTER FOR BIO-MOLECULAR SCIENCE AND ENGINEERING.
|  | SUPERINTENDENT, SPACE SCIENCES DIVISION.
|  | SUPERINTENDENT CHEMISTRY DIVISION.
|  | DIRECTOR, NAVAL CENTER FOR SPACE TECHNOLOGY.
|  | SUPERINTENDENT, RADAR DIVISION.
|  | SUPERINTENDENT, MARINE METEROLOGY DIVISION.
|  | SUPERINTENDENT, OPTICAL SCIENCES DIVISION.
|  | SUPERINTENDANT, INFORMATION TECHNOLOGY DIVISION.
|  | SUPERINTENDENT, MATERIAL SCIENCE AND TECHNOLOGY DIVISION.
OFFICE OF THE ASSISTANT SECRETARY OF NAVY (MANPOWER AND RESERVE AFFAIRS) | OFFICE OF CIVILIAN HUMAN RESOURCES | DEPUTY DIRECTOR, OFFICE OF CIVILIAN HUMAN RESOURCES. DIRECTOR, HUMAN RESOURCES POLICY AND PROGRAMS DEPARTMENT.
|  | DIRECTOR, HUMAN RESOURCES OPERATIONS.
|  | DIRECTOR, HUMAN RESOURCES SYSTEMS AND ANALYTICS.
OFFICE OF THE ASSISTANT SECRETARY OF THE NAVY (RESEARCH, DEVELOPMENT AND ACQUISITION) | PROGRAM EXECUTIVE OFFICERS | DEPUTY PROGRAM EXEUCTIVE OFFICER FOR UNMANNED AVIATION PROGRAMS. DIRECTOR, PRODUCTION DEPLOYMENT AND FLEET READINESS.
|  | EXECUTIVE DIRECTOR, PROGRAM EXECUTIVE OFFICE, COLUMBIA.
|  | DIRECTOR, DEVELOPMENT AND INTEGRATION.
|  | EXECUTIVE DIRECTOR FOR COMMAND, CONTROL, COMMUNICATIONS, COMPUTERS AND INTELLIGENCE (C4I).
|  | EXECUTIVE DIRECTOR, PROGRAM EXECUTIVE OFFICE, LITTORAL COMBAT SHIPS.
|  | PROGRAM EXECUTIVE OFFICER (ENTERPRISE INFORMATION SYSTEMS).
|  | DEPUTY PROGRAM EXECUTIVE OFFICERS AIR ASSAULT AND SPECIAL MISSION.
|  | EXECUTIVE DIRECTOR, AMPHIBIOUS, AUXILIARY AND SEALIFT SHIPS, PROGRAM EXECUTIVE OFFICERS SHIPS.
|  | EXECUTIVE DIRECTOR, COMBATANTS, PROGRAM EXECUTIVE OFFICERS SHIPS.
|  | EXECUTIVE DIRECTOR, PROGRAM EXECUTIVE OFFICERS FOR AIRCRAFT CARRIERS.
|  | DEPUTY PROGRAM EXECUTIVE OFFICERS FOR STRIKE WEAPONS.
|  | DEPUTY PROGRAM EXECUTIVE OFFICERS FOR TACTICAL AIR PROGRAMS.
|  | EXECUTIVE DIRECTOR, PROGRAM EXECUTIVE OFFICERS FOR INTEGRATED WARFARE SYSTEMS.
|  | EXECUTIVE DIRECTOR, PROGRAM EXECUTIVE OFFICE SUBMARINES.
| STRATEGIC SYSTEMS PROGRAMS | DIRECTOR, INTEGRATED NUCLEAR WEAPONS SAFETY AND SECURITY.
|  | TECHNICAL PLANS OFFICER.
|  | COUNSEL, STRATEGIC SYSTEMS PROGRMAS.
|  | BRANCH HEAD REENTRY SYSTEMS BRANCH.
|  | ASSISTANT FOR MISSILE PRODUCTION, ASSEMBLY AND OPERATIONS.
|  | DIRECTOR, PLANS AND PROGRAMS DIVISION.
|  | CHIEF ENGINEER.
|  | ASSISTANT FOR SHIPBOARD SYSTEMS.
|  | HEAD, RESOURCES BRANCH (COMPTROLLER) AND DEPUTY DIRECTOR, PLANS AND PROGRAM DIVISION.
|  | ASSISTANT FOR MISSILE ENGINEERING SYSTEMS.
|  | ASSISTANT FOR SYSTEMS INTEGRATION AND COMPATIBILITY.
OFFICE OF THE SECRETARY | NAVAL CRIMINAL INVESTIGATIVE SERVICE | CRIMINAL INVESTIGATOR, EXECUTIVE ASSISTANT DIRECTOR FOR CRIMINAL OPERATIONS.
|  | CRIMINAL INVESTIGATOR, EXECUTIVE ASSISTANT DIRECTOR FOR GLOBAL OPERATIONS.
|  | CRMINIAL INVESTIGATOR, EXECUTIVE ASSISTANT DIRECTOR FOR MANAGEMENT AND ADMINISTRATION.
|  | CRIMINAL INVESTIGATOR, DEPUTY DIRECTOR, NAVAL CRIMINIAL INVESTIGATIVE SERVICE.
|  | DIRECTOR, NAVAL CRIMINAL INVESTIGATIVE SERVICE.
|  | CRIMINAL INVESTIGATOR, DEPUTY DIRECTOR OPERATIONAL SUPPORT.
|  | CRIMINAL INVESTIGATOR, EXECUTIVE ASSISTANT DIRECTOR FOR PACIFIC OPERATIONS.
|  | CRIMINAL INVESTIGATOR, EXECUTIVE ASSISTANT DIRECTOR FOR ATLANTIC OPERATIONS.
| OFFICE OF THE ASSISTANT SECRETARY OF NAVY (ENERGY, INSTALLATIONS AND ENVIRONMENT) | EXECUTIVE DIRECTOR, PUBLIC PRIVATE PARTNERSHIP AUDITS.
|  | DEPUTY ASSISTANT SECRETARY OF THE NAVY (INFRASTRUCTURE AND FACILITIES).
| OFFICE OF THE ASSISTANT SECRETARY OF NAVY (FINANCIAL MANAGEMENT AND COMPTROLLER) | DEPUTY ASSISTANT SECRETARY OF THE NAVY (FINANCIAL POLICY AND SYSTEMS).
|  | DIRECTOR, POLICY AND PROCEDURES.
|  | PRINCIPAL DEPUTY ASSISTANT SECRETARY OF THE NAVY FINANCIAL MANGEMENT AND COMPTROLLER.
|  | ASSISTANT GENERAL COUNSEL (FINANCIAL MANAGEMENT AND COMPTROLLER).
|  | DIRECTOR, INVESTMENT AND DEVELOPMENT DIVISION .
|  | DEPUTY ASSISTANT SECRETARY OF THE NAVY FOR COST AND ECONOMICS.
|  | DEPUTY ASSISTANT SECRETARY OF THE NAVY FOR FINANCIAL OPERATIONS.
|  | DIRECTOR, CIVILIAN RESOURCES AND BUSINESS AFFAIRS DIVISION.
|  | ASSOCIATE DIRECTOR, OFFICE OF BUDGET/FISCAL MANAGEMENT DIVISION.
| COMPTROLLER) OFFICE OF THE ASSISTANT SECRETARY OF NAVY (MANPOWER RESERVE AFFAIRS) | ASSISTANT GENERAL COUNSEL (MANPOWER AND AND RESERVE AFFAIRS). DEPUTY ASSISTANT SECRETARY OF THE NAVY (CIVILIAN HUMAN RESOURES).
|  | ASSISTANT GENERAL COUNSEL (MANPOWER AND RESERVE AFFAIRS).
|  | PRINCIPAL DEPUTY MANPOWER AND RESERVE AFFAIRS.
| OFFICE OF THE ASSISTANT SECRETARY OF THE NAVY (RESEARCH, DEVELOPMENT AND ACQUISITION) | ASSISTANT GENERAL COUNSEL (RESEARCH, DEVELOPMENT AND ACQUISITION). EXECUTIVE DIRECTOR, DEPUTY ASSISTANT SECRETARY OF THE NAVY (ACQUISITION AND PROCUREMENT).
|  | DEPUTY ASSISTANT SECRETARY OF THE NAVY (MANAGEMENT AND BUDGET).
|  | EXECUTIVE DIRECTOR, NAVY INTERNATIONAL PROGRAMS OFFICE.
|  | DEPUTY FOR TEST AND EVALUATION.
|  | DEPUTY ASSISTANT SECRETARY OF THE NAVY (COMMAND, CONTROL, COMMUNICATIONS, COMPUTERS AND INTELLIGENCE) SPACE).
|  | DEPUTY ASSISTANT SECRETARY OF THE NAVY (RESEARCH, DEVELOPMENT, TEST AND EVALUATION).
|  | EXECUTIVE DIRECTOR, F-35, JOINT PROGRAM OFFICE.
|  | DEPUTY ASSISTANT SECRETARY OF THE NAVY (SHIPS).
|  | CHIEF OF STAFF/POLICY.
|  | PRINCIPAL CIVILIAN DEPUTY ASSISTANT SECRETARY OF THE NAVY (ACQUISITION WORKFORCE).
|  | DEPUTY ASSISTANT SECRETARY OF THE NAVY FOR SUSTAINMENT.
|  | PROGRAM EXECUTIVE OFFICER, LAND SYSTEMS MARINE CORPS.
| OFFICE OF THE GENERAL COUNSEL | ASSISTANT GENERAL COUNSEL (ACQUISITION INTEGRITY).
|  | ASSISTANT GENERAL COUNSEL (ENERGY, INSTALLATIONS, AND ENVIRONMENT).
|  | ASSISTANT GENERAL COUNSEL (INTELLIGENCE).
|  | COUNSEL, MILITARY SEALIFT COMMAND.
|  | DEPUTY COUNSEL NAVAL SEA SYSTEMS COMMAND.
|  | SPECIAL COUNSEL FOR LITIGATION.
| OFFICE OF THE NAVAL INSPECTOR GENERAL | DEPUTY INSPECTOR GENERAL OF THE MARINE CORPS
|  | DEPUTY NAVAL INSPECTOR GENERAL.
| OFFICE OF THE UNDER SECRETARY OF THE NAVY | DIRECTOR FOR BUSINESS REFORM AND DIRECTOR, OFFICE OF THE CHIEF MANAGEMENT OFFICE.
|  | PRINCIPAL DIRECTOR DEPUTY UNDER SECRETARY OF THE NAVY (POLICY).
|  | SENIOR DIRECTOR FOR SECURITY AND INTELLIGENCE.
|  | SENIOR DIRECTOR, INTEGRATION SUPPORT DIRECTORATE.
|  | SENIOR DIRECTOR (POLICY AND STRATEGY).
|  | SENIOR DIRECTOR FOR SECURITY.
OFFICE OF THE UNDER SECRETARY OF THE NAVY | OFFICE OF THE AUDITOR GENERAL | ASSISTANT AUDITOR GENERAL FOR MANPOWER & RESERVE AFFAIRS.
|  | ASSISTANT AUDITOR GENERAL FOR FINANCIAL MANAGEMENT AND COMPTROLLER AUDITS.
|  | AUDITOR GENERAL OF THE NAVY.
|  | ASSISTANT AUDITOR GENERAL FOR INSTALLATION AND ENVIRONMENT AUDITS.
|  | DEPUTY AUDITOR GENERAL OF THE NAVY.
OFFICE OF THE SECRETARY OF DEFENSE OFFICE OF THE INSPECTOR GENERAL:
DEPUTY INSPECTOR GENERAL FOR AUDITING | FINANCIAL MANAGEMENT AND REPORTING | ASSISTANT INSPECTOR GENERAL FOR FINANCIAL MANAGEMENT AND REPORTING.
| OFFICE OF THE PRINCIPAL DEPUTY INSPECTOR GENERAL FOR AUDITING | PRINCIPAL ASSISTANT INSPECTOR GENERAL FOR AUDITING.
| READINESS, OPERATIONS AND SUPPORT | ASSISTANT INSPECTOR GENERAL FOR READINESS AND CYBER OPERATIONS.
DEPUTY INSPECTOR GENERAL FOR INVESTIGATIONS | DEFENSE CRIMINAL INVESTIGATIVE SERVICE | ASSISTANT INSPECTOR GENERAL FOR INVESTIGATIONS.
OFFICE OF THE SECRETARY OF DEFENSE OFFICE OF THE INSPECTOR GENERAL | DEPUTY INSPECTOR GENERAL FOR ADMINISTRATIVE INVESTIGATIONS DEPUTY INSPECTOR GENERAL FOR AUDITING | DEPUTY INSPECTOR GENERAL ADMINISTRATIVE INVESTIGATIONS. DEPUTY INSPECTOR GENERAL FOR AUDITING.
|  | ASSISTANT INSPECTOR GENERAL FOR ACQUISITION AND SUSTAINMENT MANAGEMENT.
|  | ASSISTANT INSPECTOR GENERAL FOR READINESS AND GLOBAL OPERATIONS.
| DEPUTY INSPECTOR GENERAL FOR EVALUATIONS | ASSISTANT INSPECTOR GENERAL FOR SPACE, INTELLIGENCE, ENGINEERING, AND OVERSIGHT.
|  | ASSISTANT INSPECTOR GENERAL FOR PROGRAM, COMBATANT COMMAND (COCOM), AND OVERSEAS CONTINGENCY OPERATIONS (OCO).
| DEPUTY INSPECTOR GENERAL FOR INVESTIGATIONS | DEPUTY INSPECTOR GENERAL FOR INVESTIGATIONS.
|  | DEPUTY DIRECTOR DEFENSE CRIMINAL INVESTIGATIVE SERVICE.
| OFFICE OF THE GENERAL COUNSEL | GENERAL COUNSEL.
| OFFICE OF THE INSPECTOR GENERAL | ASSISTANT INSPECTOR GENERAL FOR DATA ANAYTICS.
|  | PRINCIPAL DEPUTY INSPECTOR GENERAL.
|  | DEPUTY CHIEF OF STAFF.
|  | DEPUTY INSPECTOR GENERAL FOR EVALUATIONS.
|  | DEPUTY INSPECTOR GENERAL FOR OVERSEAS CONTINGENCY OPERATIONS.
|  | ASSISTANT INSPECTOR GENERAL FOR STRATEGIC PLANNING AND PERFORMANCE.
|  | ASSISTANT INSPECTOR GENERAL FOR INVESTIGATIONS/DEPUTY DIRECTOR DCIS.
DEFENSE NUCLEAR FACILITIES SAFETY BOARD | DEFENSE NUCLEAR FACILITIES SAFETY BOARD | TECHNICAL DIRECTOR. DEPUTY TECHNICAL DIRECTOR.
|  | DEPUTY GENERAL COUNSEL.
|  | DEPUTY GENERAL MANAGER.
|  | ASSOCIATE TECHNICAL DIRECTOR FOR ENGINEERING PERFORMANCE.
|  | SPECIAL ASSISTANT TO THE CHAIRMAN.
|  | ASSOCIATE TECHNICAL DIRECTOR FOR NUCLEAR MATERIALS PROCESSING AND STABILIZATION.
|  | ASSOCIATE TECHNICAL DIRECTOR FOR NUCLEAR PROGRAMS & ANALYSIS.
|  | ASSOCIATE TECHNICAL DIRECTOR FOR NUCLEAR WEAPON PROGRAMS.
DEPARTMENT OF EDUCATION:
OFFICE OF THE SECRETARY | OFFICE OF FEDERAL STUDENT AID | CHIEF FINANCIAL OFFICER. DIRECTOR, FINANCIAL MANAGEMENT SYSTEMS GROUP.
|  | CHIEF FINANCIAL OFFICER.
| INSTITUTE OF EDUCATION SCIENCES | ASSOCIATE COMMISSIONER, ASSESSMENTS DIVISION.
| OFFICE FOR CIVIL RIGHTS | ENFORCEMENT DIRECTOR (4).
|  | DEPUTY ASSISTANT SECRETARY FOR ENFORCEMENT.
| OFFICE OF MANAGEMENT | DEPUTY ASSISTANT SECRETARY FOR ACQUISITION MANAGEMENT.
|  | DEPUTY DIRECTOR OF HUMAN RESOURCES.
|  | DIRECTOR OF SECURITY, FACILITIES AND LOGISTICAL SERVICES.
|  | CHAIRPERSON, EDUCATION APPEAL BOARD.
|  | DEPUTY ASSISTANT SECRETARY FOR HUMAN RESOURCES.
| OFFICE OF THE CHIEF FINANCIAL OFFICER | DIRECTOR, FINANCIAL IMPROVEMENT AND POST AUDIT OPERATIONS.
|  | DEPUTY CHIEF FINANCIAL OFFICER, FINANCIAL MANAGEMENT.
|  | DIRECTOR, CONTRACTS AND ACQUISITIONS MANAGEMENT.
| OFFICE OF THE CHIEF INFORMATION OFFICER | DIRECTOR, INFORMATION ASSURANCE SERVICES AND CHIEF INFORMATION SECURITY OFFICER.
|  | CHIEF INFORMATION OFFICER.
| OFFICE OF THE GENERAL COUNSEL | ASSISTANT GENERAL COUNSEL FOR BUSINESS AND ADMINISTRATION LAW.
|  | ASSISTANT GENERAL COUNSEL FOR EDUCTIONAL EQUITY.
|  | ASSISTANT GENERAL COUNSEL, DIVISION OF POSTSECONDARY EDUCATION.
DEPARTMENT OF EDUCATION OFFICE OF THE INSPECTOR GENERAL | DEPARTMENT OF EDUCATION OFFICE OF THE INSPECTOR GENERAL OFFICE OF THE INSPECTOR GENERAL | DEPUTY ASSISTANT INSPECTOR GENERAL FOR INVESTIGATION SERVICES. DEPUTY ASSISTANT INSPECTOR GENERAL FOR INFORMATION TECHNOLOGY AUDITS AND COMPUTER CRIME INVESTIGATIONS.
|  | COUNSEL TO THE INSPECTOR GENERAL.
|  | ASSISTANT INSPECTOR GENERAL FOR MANAGEMENT SERVICES.
|  | ASSISTANT INSPECTOR GENERAL FOR INFORMATION TECHNOLOGY AUDITS AND COMPUTER CRIME INVESTIGATIONS.
|  | DEPUTY ASSISTANT INSPECTOR GENERAL FOR INVESTIGATION SERVICES.
|  | DEPUTY ASSISTANT INSPECTOR GENERAL FOR AUDIT SERVICES.
|  | DEPUTY INSPECTOR GENERAL.
|  | ASSISTANT INSPECTOR GENERAL FOR AUDIT SERVICES.
|  | ASSISTANT INSPECTOR GENERAL FOR INVESTIGATION SERVICES.
DEPARTMENT OF ENERGY | DEPARTMENT OF ENERGY | ADA (OFFICE OF MATERIAL MANAGEMENT AND MINIMIZATION).
ASSISTANT SECRETARY FOR ELECTRICITY | BONNEVILLE POWER ADMINISTRATION | VICE PRESIDENT, ENVIRONMENT, FISH AND WILDLIFE. DIRECTOR, HUMAN RESOURCES SERVICE CENTER.
|  | SENIOR VICE PRESIDENT FOR POWER SERVICES.
|  | VICE PRESIDENT FOR ENGINEERING AND TECHNICAL SERVICES.
|  | VICE PRESIDENT, PLANNING AND ASSET MANAGEMENT.
|  | DEPUTY ADMINISTRATOR.
|  | EXECUTIVE VICE PRESIDENT AND CHIEF FINANCIAL OFFICER.
|  | CHIEF OPERATING OFFICER.
|  | SENIOR VICE PRESIDENT TRANSMISSION SERVICES.
|  | VICE PRESIDENT, TRANSMISSION MARKETING AND SALES.
|  | EXECUTIVE VICE PRESIDENT, BUSINESS TRANSFORMATION.
|  | DIRECTOR, HUMAN RESOURCES SERVICE CENTER.
|  | VICE PRESIDENT FOR TRANSMISSION FIELD SERVICES.
|  | VICE PRESIDENT FOR GENERATION ASSET MANAGEMENT.
|  | VICE PRESIDENT, BULK MARKETING.
|  | VICE PRESIDENT TRANSMISSION SYSTEM OPERATIONS.
|  | VICE PRESIDENT, NORTHWEST REQUIREMENTS MARKETING.
|  | VICE PRESIDENT, ENERGY EFFICIENCY.
|  | GENERAL COUNSEL/EXECUTIVE VICE PRESIDENT.
| SOUTHWESTERN POWER ADMINISTRATION | DEPUTY ADMINISTRATOR, OFFICE OF POWER DELIVERY.
| WESTERN AREA POWER ADMINISTRATION | GENERAL COUNSEL. REGIONAL MANAGER, SIERRA NEVADA REGION.
|  | REGIONAL MANAGER, ROCKY MOUNTAIN REGION.
|  | REGIONAL MANAGER, UPPER GREAT PLAINS REGION.
|  | CHIEF ADMINISTRATIVE OFFICER.
|  | CHIEF INFORMATION OFFICER.
|  | CHIEF FINANCIAL OFFICER.
|  | CHIEF OPERATING OFFICER.
|  | DESERT SOUTHWEST REGIONAL MANAGER.
ASSISTANT SECRETARY FOR ENVIRONMENTAL MANAGEMENT | ENVIRONMENTAL MANAGEMENT CONSOLIDATED BUSINESS CENTER | CHIEF COUNSEL.
| RICHLAND OPERATIONS OFFICE | CHIEF COUNSEL.
DEPARTMENT OF ENERGY | OFFICE OF ADVANCED RESEARCH PROJECTS AGENCY—ENERGY | CHIEF COUNSEL.
| OFFICE OF ASSISTANT SECRETARY FOR ELECTRICITY | CHIEF OPERATING OFFICER.
| OFFICE OF ASSISTANT SECRETARY FOR ENERGY EFFICIENCY AND RENEWABLE ENERGY | SENIOR ADVISOR. DIRECTOR FOR PROCUREMENT SERVICES DIVISION.
| OFFICE OF ASSISTANT SECRETARY FOR ENVIRONMENTAL MANAGEMENT | DIRECTOR FOR REGULATORY, INTERGOVERNMENTAL AND STAKEHOLDER ENGAGEMENT.
|  | DIRECTOR, SPECIAL PROJECTS OFFICE.
|  | SENIOR ADVISOR FOR INFRASTRUCTURE MANAGEMENT AND DISPOSITION POLICY.
|  | SENIOR PROJECT MANAGEMENT ADVISOR.
|  | SENIOR MANAGEMENT ANALYST ADVISOR.
|  | DEPUTY MANAGER, IDAHO CLEANUP PROJECT.
|  | SITE MANAGER, OAK RIDGE OFFICE OF ENVIRONMENTAL MANAGEMENT.
|  | MANAGER, IDAHO CLEANUP PROJECT.
| OFFICE OF ASSISTANT SECRETARY FOR FOSSIL ENERGY | DIRECTOR, OFFICE OF RESEARCH. CHIEF COUNSEL.
|  | DEPUTY EXECUTIVE DIRECTOR, TECHNOLOGY DEVELOPMENT AND INTEGRATION.
|  | PROJECT MANAGER, STRATEGIC PETROLEUM RESERVE.
|  | EXECUTIVE DIRECTOR, FINANCE, ACQUISITION AND CHIEF FINANCIAL OFFICER.
|  | CHIEF INFORMATION OFFICER AND CHIEF SECURITY OFFICER.
|  | DIRECTOR, OFFICE OF STRATEGIC PLANNING, ANALYSIS, AND ENGAGEMENT.
|  | EXECUTIVE DIRECTOR, RESEARCH AND INNOVATION CENTER.
|  | EXECUTIVE DIRECTOR, TECHNOLOGY DEVELOPMENT AND INTEGRATION AND CHIEF TECHNOLOGY OFFICER.
|  | DEPUTY DIRECTOR AND CHIEF RESEARCH OFFICER.
|  | CHIEF OPERATING OFFICER AND DIRECTOR FOR LABORATORY OPERATIONS.
|  | DIRECTOR FOR EXPLORATORY RESEARCH AND INNOVATION.
|  | DEPUTY DIRECTOR, SCIENCE AND TECHNOLOGY STRATEGIC PLANS AND PROGRAMS.
| OFFICE OF ASSISTANT SECRETARY FOR INTERNATIONAL AFFAIRS | SENIOR DIRECTOR FOR STRATEGIC INITIATIVES. SENIOR ADVISOR.
|  | DIRECTOR FOR EUROPEAN AND EURASIAN AFFAIRS.
|  | DIRECTOR, OFFICE OF AFRICAN AND MIDDLE EASTERN AFFAIRS.
|  | DEPUTY ASSISTANT SECRETARY FOR ASIA AND THE AMERICAS.
|  | DEPUTY ASSISTANT SECRETARY FOR EUROPE, EURASIA, AFRICA AND THE MIDDLE EAST.
|  | DIRECTOR, OFFICE OF EAST ASIAN AFFAIRS.
| OFFICE OF ASSISTANT SECRETARY FOR NUCLEAR ENERGY | ASSOCIATE DEPUTY ASSISTANT SECRETARY FOR REACTOR FLEET AND ADVANCED REACTOR DEPLOYMENT.
|  | ASSOCIATE DEPUTY ASSISTANT SECRETARY FOR NUCLEAR INFRASTRUCTURE PROGRAMS.
|  | PROGRAM DIRECTOR, VERSATILE TEST REACTOR PROJECT.
|  | DEPUTY MANAGER FOR OPERATIONS SUPPORT.
|  | ASSOCIATE PRINCIPAL DEPUTY ASSISTANT SECRETARY, OFFICE OF NUCLEAR ENERGY.
|  | CHIEF OF NUCLEAR SAFETY.
|  | CHIEF OPERATING OFFICER.
|  | DIRECTOR OFF OF USED NUCLEAR FUEL DISPOSITION RESEARCH AND DEVELOPMENT.
|  | ASSOCIATE DEPUTY ASSISTANT SECRETARY FOR NUCLEAR REACTOR TECHNOLOGIES.
|  | DIRECTOR, OFFICE OF LIGHT WATER REACTOR DEPLOYMENT.
| OFFICE OF ASSOCIATE UNDER SECRETARY FOR ENVIRONMENT, HEALTH, SAFETY AND SECURITY | SENIOR ADVISOR. DIRECTOR, OFFICE OF ENVIRONMENTAL PROTECTION SUSTAINIABILITY.
|  | DIRECTOR, OFFICE OF NUCLEAR SAFETY.
|  | CHIEF OPERATING OFFICER.
|  | DEPUTY ASSOCIATE UNDER SECRETARY FOR SECURITY.
| CHICAGO OFFICE | MANAGER, CHICAGO OFFICE.
|  | ASSISTANT MANAGER, ACQUISITION AND ASSISTANCE.
|  | DEPUTY MANAGER, CHICAGO OFFICE.
| IDAHO OPERATIONS OFFICE | MANAGER, IDAHO OPERATIONS OFFICE.
|  | DEPUTY MANAGER FOR NUCLEAR ENERGY.
|  | CHIEF COUNSEL.
|  | DEPUTY MANAGER FOR ADMINISTRATIVE SUPPORT, CHIEF FINANCIAL OFFICER.
| LOAN PROGRAMS OFFICE | SENIOR ADVISOR (2).
|  | DIRECTOR, RISK MANAGEMENT.
|  | CHIEF COUNSEL.
|  | DIRECTOR, PORTFOLIO MANAGEMENT DIVISION.
| NATIONAL NUCLEAR SECURITY ADMINISTRATION | DEPUTY DIRECTOR, INSTRUMENTATION AND CONTROL DIVISION.
|  | ASSOCIATE PRINCIPAL DEPUTY ADMINISTRATOR.
|  | DEPUTY MANAGER, Y-12.
|  | ASSOCIATE DEPUTY ADMINISTRATOR FOR SECURE TRANSPORTATION.
|  | DIRECTOR, OFFICE OF ASC AND INSTITUTIONAL RESEARCH AND DEVELOPMENT PROGRAMS.
|  | DEPUTY ASSOCIATE ADMINISTRATOR FOR EMERGENCY MANAGEMENT AND PREPAREDNESS.
|  | ASSOCIATE ASSISTANT DEPUTY ADMNISTRATOR FOR MATERIAL MANAGEMENT AND MINIMIZATION.
|  | DIRECTOR, OFFICE OF EXPERIMENTAL SCIENCES.
|  | DIRECTOR, OFFICE OF COST ESTIMATING AND PROGRAM EVALUATION.
|  | DIRECTOR, OFFICE OF NUCLEAR INCIDENT RESPONSE.
|  | DEPUTY ASSOCIATE ADMINISTRATOR FOR SAFETY.
|  | DEPUTY GENERAL COUNSEL FOR GENERAL LAW AND LITIGATION.
|  | DIRECTOR, REGULATORY AFFAIRS.
|  | DIRECTOR, MANAGEMENT AND ADMINISTRATION.
|  | MANAGER, SANDIA FIELD OFFICE.
|  | MANAGER, LIVERMORE FIELD OFFICE.
|  | FEDERAL PROJECT DIRECTOR, CHEMISTRY AND METALLURGY RESEARCH REPLACEMENT FACILITY.
|  | DEPUTY ASSOCIATE ADMINISTRATOR FOR ENTERPRISE STEWARDSHIP.
|  | ASSISTANT DEPUTY ADMINISTRATOR FOR STRATEGIC PARTNERSHIP PROGRAMS.
|  | ASSOCIATE ADMINISTRATOR FOR INFORMATION MANAGEMENT AND CHIEF INFORMATION OFFICER.
|  | ASSOCIATE ADMINISTRATOR FOR SAFETY INFRASTRUCTURE AND OPERATIONS.
|  | PRINCIPAL DEPUTY ASSOCIATE ADMINISTRATOR FOR SAFETY INFRASTRUCTURE AND OPERATIONS.
|  | ASSISTANT DEPUTY ADMINISTRATOR, FOR GLOBAL MATERIAL SECURITY.
|  | DEPUTY ASSISTANT DEPUTY ADMINISTRATOR FOR STOCKPILE MANAGEMENT.
| OAK RIDGE OFFICE | SITE MANAGER, ORNL SITE OFFICE.
|  | SITE MANAGER, THOMAS JEFFERSON NATIONAL ACCELERATOR FACILITY.
|  | CHIEF COUNSEL.
|  | ASSISTANT MANAGER FOR ADMINISTRATION.
|  | ASSISTANT MANAGER, OFFICE OF FINANCIAL SERVICES.
| OFFICE OF ENTERPRISE ASSESSMENTS | DEPUTY DIRECTOR, OFFICE OF INDEPENDENT ENTERPRISE ASSESSMENTS.
|  | DEPUTY DIRECTOR, OFFICE OF ENVIRONMENT, SAFETY AND HEALTH ASSESSMENTS.
|  | DIRECTOR, OFFICE OF ENVIRONMENT, SAFETY AND HEALTH ASSESSMENTS.
|  | DIRECTOR, OFFICE OF SECURITY ASSESSMENTS.
| OFFICE OF GENERAL COUNSEL | ASSOCIATE GENERAL COUNSEL.
|  | ASSISTANT GENERAL COUNSEL FOR TECHNOLOGY TRANSFER AND INTELLECTUAL PROPERTY.
|  | ASSISTANT GENERAL COUNSEL FOR GENERAL LAW.
|  | ASSISTANT GENERAL COUNSEL FOR PROCUREMENT AND FINANCIAL ASSISTANCE.
|  | ASSISTANT GENERAL COUNSEL FOR ENFORCEMENT.
|  | DEPUTY GENERAL COUNSEL FOR TRANSACTIONS, TECHNOLOGY, AND CONTRACTOR HUMAN RESOURCES.
| OFFICE OF HEARINGS AND APPEALS | DIRECTOR, HEARINGS AND APPEALS (CHIEF ADMINISTRATIVE JUDGE).
|  | DEPUTY DIRECTOR, HEARINGS AND APPEALS (DEPUTY CHIEF ADMINISTRATIVE JUDGE).
| OFFICE OF INTELLIGENCE AND COUNTERINTELLIGENCE | DEPUTY DIRECTOR FOR CYBER INTELLIGENCE. PRINCIPAL DEPUTY DIRECTOR, OFFICE OF INTELLIGENCE AND COUNTERINTELLIGENCE.
|  | DEPUTY DIRECTOR FOR INTELLIGENCE ANALYSIS.
|  | DEPUTY DIRECTOR FOR COUNTERINTELLIGENCE.
|  | DIRECTOR OFFICE OF INTELLIGENCE AND COUNTERINTELLIGENCE.
| OFFICE OF MANAGEMENT | DIRECTOR, SUSTAINABILITY PERFORMANCE OFFICE.
|  | DIRECTOR, OFFICE OF ADMINISTRATION.
|  | DIRECTOR, OFFICE OF POLICY.
|  | DIRECTOR, OFFICE OF HEADQUARTERS PROCUREMENT SERVICES.
|  | DIRECTOR, OFFICE OF THE OMBUDSMAN.
|  | DIRECTOR, OFFICE OF ACQUISITION MANAGEMENT.
| OFFICE OF POLICY | CHIEF OPERATING OFFICER.
|  | DEPUTY DIRECTOR FOR ENERGY FINANCE INCENTIVES AND PROGRAM ANALYSIS.
| OFFICE OF PROJECT MANAGEMENT OVERSIGHT AND ASSESSMENTS | DIRECTOR, OFFICE OF PROJECT ASSESSMENTS. DEPUTY DIRECTOR, OFFICE OF PROJECT MANAGEMENT OVERSIGHT AND ASSESSMENTS.
| OFFICE OF SCIENCE | SITE OFFICE MANAGER, ARGONNE.
|  | DIRECTOR OFFICE OF SCIENTIFIC AND TECHNICAL INFORMATION.
|  | SITE OFFICE MANAGER, BROOKHAVEN.
|  | SITE OFFICE MANAGER, FERMI.
|  | ASSISTANT MANAGER, GRANTS AND COOPERATIVE AGREEMENTS.
|  | BERKELEY/SLAC SITE OFFICE MANAGER.
|  | CHIEF COUNSEL.
|  | DIRECTOR, OFFICE OF WORKFORCE MANAGEMENT.
|  | ASSISTANT MANAGER FOR RESERVATION MANAGEMENT.
|  | MANAGER.
|  | SITE OFFICE MANAGER, PRINCETON.
| OFFICE OF THE CHIEF HUMAN CAPITAL OFFICER | DIRECTOR, OAK RIDGE HUMAN RESOURCES SHARED SERVICE CENTER.
|  | DIRECTOR, HUMAN CAPITAL POLICY AND ACCOUNTABILITY.
|  | DIRECTOR, OFFICE OF CORPORATE SERVICES.
|  | DIRECTOR, OFFICE OF TALENT MANAGEMENT.
|  | DIRECTOR, OFFICE OF CORPORATE EXECUTIVE MANAGEMENT.
|  | DIRECTOR, CORPORATE HUMAN RESOURCES OPERATIONS.
| UNITED STATES ENERGY INFORMATION ADMINISTRATION | DEPUTY ADMINISTRATOR ENERGY INFORMATION ADMINISTRATION.
|  | DIRECTOR, OFFICE OF INFORMATION TECHNOLOGY (CIO).
|  | DIRECTOR, OFFICE OF STATISTICAL METHODS AND RESEARCH.
|  | SENIOR ADVISOR.
|  | DIRECTOR, OFFICE OF PETROLEUM AND BIOFUELS STATISTICS.
|  | ASSISTANT ADMINISTRATOR FOR ENERGY ANALYSIS.
|  | DIRECTOR, OFFICE OF OIL, GAS AND COAL SUPPLY STATISTICS.
|  | DIRECTOR, OFFICE OF ENERGY CONSUMPTION AND EFFICIENCY ANALYSIS.
|  | DIRECTOR OFFICE OF PETROLEUM GAS AND BIOFUELS ANALYSIS.
|  | DIRECTOR OFFICE OF INTEGRATED AND INTERNATIONAL ENERGY ANALYSIS.
|  | ASSISTANT ADMINISTRATOR FOR RESOURCES AND TECHNOLOGY MANAGEMENT.
|  | DIRECTOR, OFFICE OF ELECTRICITY, COAL, NUCLEAR AND RENEWABLES ANALYSIS.
|  | DIRECTOR, OFFICE OF ENERGY MARKETS AND FINANCIAL ANALYSIS.
|  | DIRECTOR, OFFICE OF ENERGY CONSUMPTION AND EFFICIENCY STATISTICS.
|  | ASSISTANT ADMINISTRATOR FOR ENERGY STATISTICS.
NATIONAL NUCLEAR SECURITY ADMINISTRATION | OFFICE OF ASSOCIATE ADMINISTRATOR FOR ACQUISITION AND PROJECT MANAGEMENT | FEDERAL PROJECT DIRECTOR (URANIUM PROCESSING FACILITY).
|  | DEPUTY DIRECTOR, ACQUISITION MANAGEMENT.
|  | DIRECTOR, ACQUISITION MANAGEMENT.
|  | FEDERAL PROJECT DIRECTOR (MOX).
|  | DEPUTY ASSOCIATE ADMINISTRATOR FOR ACQUISITION AND PROJECT MANAGEMENT.
|  | DIRECTOR, OFFICE OF ENTERPRISE PROJECT MANAGEMENT.
|  | ASSOCIATE ADMINISTRATOR FOR ACQUISITION AND PROJECT MANAGEMENT.
| OFFICE OF ASSOCIATE ADMINISTRATOR FOR DEFENSE NUCLEAR SECURITY | DEPUTY ASSOCIATE ADMINISTRATOR FOR DEFENSE NUCLEAR SECURITY.
|  | ASSOCIATE ADMINISTRATOR FOR DEFENSE NUCLEAR SECURITY AND CHIEF OF DEFENSE NUCLEAR SECURITY.
|  | DIRECTOR OFFICE OF SECURITY OPERATIONS AND PROGRAMMATIC PLANNING.
| OFFICE OF ASSOCIATE ADMINISTRATOR FOR EMERGENCY OPERATIONS | ASSOCIATE ADMINISTRATOR AND DEPUTY UNDER SECRETARY FOR EMERGENCY OPERATIONS.
| OFFICE OF DEPUTY ADMINISTRATOR FOR DEFENSE NUCLEAR NONPROLIFERATION | PRINCIPAL ASSISTANT DEPUTY ADMINISTRATOR. CHIEF OF STAFF AND OPERATIONS.
|  | ASSISTANT DEPUTY ADMINISTRATOR FOR NONPROLIFERATION RESEARCH AND DEVELOPMENT.
|  | AADA ADMINISTRATOR FOR DEFENSE NUCLEAR NONPROLIFERATION RESEARCH AND DEVELOPMENT.
|  | ASSOCIATE ASSISTANT DEPUTY ADMINISTRATOR, OFFICE OF NONPROLIFERATION AND ARMS CONTROL.
| OFFICE OF DEPUTY ADMINISTRATOR FOR DEFENSE PROGRAMS | MANAGER, LOS ALAMOS FIELD OFFICE. MANAGER, NEVADA FIELD OFFICE.
|  | PRINCIPAL DEPUTY ASSISTANT DEPUTY ADMINSTRATOR FOR SECURE TRANSPORTATION.
|  | ASSISTANT DEPUTY ADMINISTRATOR FOR SYSTEMS ENGINEERING AND INTEGRATION.
|  | ADA FOR RESEARCH, DEVELOPMENT, TEST AND EVALUATION.
|  | PROGRAM EXECUTIVE OFFICER FOR LIFE EXTENSION PROGRAMS.
|  | ADA FOR MAJOR MODERNIZATION PROGRAMS.
|  | MANAGER, NNSA PRODUCTION OFFICE.
|  | ASSISTANT DEPUTY ADMINISTRATOR FOR STOCKPILE MANAGEMENT.
| OFFICE OF DEPUTY ADMINISTRATOR FOR NAVAL REACTORS | DIRECTOR, ACQUISITION DIVISION. DIRECTOR, GOVERNMENTAL AFFAIRS.
|  | PROGRAM MANAGER, VA CLASS SUBS AND US/UK TECHNOLOGY EXCHANGE.
|  | DIRECTOR NUCLEAR TECHNOLOGY DIVISION.
|  | DIRECTOR, INSTRUMENTATION AND CONTROL DIVISION.
|  | DEPUTY DIRECTOR FOR NAVAL REACTORS.
|  | DIRECTOR ADVANCED SUBMARINE SYSTEMS DIVISION.
|  | PROGRAM MANAGER, PROTOTYPE AND MOORED TRAINING SHIP OPERATIONS AND INACTIVATION PROGRAM.
|  | ASSISTANT MANAGER FOR OPERATIONS.
|  | DIRECTOR, COMMISSIONED SUBMARINE SYSTEMS DIVISION.
|  | DEPUTY DIRECTOR, ADVANCED SUBMARINE SYSTEMS DIVISION.
|  | ASSISTANT MANAGER FOR OPERATIONS.
|  | SENIOR NAVAL REACTORS REPRESENTATIVE (NEWPORT NEWS, VA).
|  | DIRECTOR, INFORMATION TECHNOLOGY MANAGEMENT.
|  | SENIOR NAVAL REACTORS REPRESENTATIVE (UNITED KINGDOM).
|  | DIRECTOR, REACTOR ENGINEERING DIVISION.
|  | PROGRAM MANAGER FOR SURFACE SHIP NUCLEAR PROPULSION.
|  | MANAGER, NAVAL REACTORS LABORATORY FIELD OFFICE.
|  | DEPUTY DIRECTOR, NUCLEAR TECHNOLOGY DIVISION.
|  | PROGRAM MANAGER, NEW SHIP DESIGN.
|  | PROGRAM MANAGER, ADVANCED TECHNOLOGY DEVELOPMENT.
|  | SENIOR NAVAL REACTORS REPRESENTATIVE (GROTON, CT).
|  | SENIOR NAVAL REACTOS REPRESENTATIVE (PUGET SOUND NAVAL SHIP).
| OFFICE OF DEPUTY UNDER SECRETARY FOR COUNTERTERRORISM AND COUNTERPROLIFERATION | DEPUTY ASSOCIATE ADMINISTRATOR FOR COUNTERTERRORISM AND COUNTERPROLIFERATION. ASSOCIATE ADMINISTRATOR/DEPUTY UNDER SECRETARY FOR COUNTERTERRORISM AND COUNTERPROLIFERATION.
| NATIONAL NUCLEAR SECURITY ADMINISTRATION FIELD SITE OFFICES | DEPUTY MANAGER SAVANNAH RIVER FIELD OFFICE. DEPUTY MANAGER, LIVERMORE FIELD OFFICE.
|  | DEPUTY MANAGER, NNSA PRODUCTION OFFICE—PANTEX.
|  | DEPUTY MANAGER SANDIA FIELD OFFICE.
|  | MANAGER, LOS ALAMOS FIELD OFFICE.
|  | DEPUTY MANAGER FOR BUSINESS, SECURITY AND MISSIONS.
|  | DEPUTY MANAGER, LIVERMORE FIELD OFFICE.
|  | DEPUTY MANAGER, NEVADA FIELD OFFICE.
| OFFICE OF MANAGEMENT AND BUDGET | ASSOCIATE ADMINISTRATOR FOR MANAGEMENT AND BUDGET.
|  | DIRECTOR, FINANCIAL INTEGRATION AND BUDGET DEPUTY.
|  | DIRECTOR, OFFICE OF HUMAN RESOURCES.
|  | DEPUTY ASSOCIATE ADMINISTRATOR FOR FINANCIAL MANAGEMENT.
|  | DEPUTY ASSOCIATE ADMINISTRATOR FOR MANAGEMENT.
| OFFICE OF THE GENERAL COUNSEL | GENERAL COUNSEL.
OFFICE OF THE DEPUTY SECRETARY | OFFICE OF THE CHIEF FINANCIAL OFFICER | SENIOR ADVISOR. DIRECTOR OF CORPORATE BUSINESS SYSTEMS.
|  | ASSISTANT DEPUTY CHIEF FINANCIAL OFFICER, FINANCIAL SYSTEM INTEGRATION.
|  | DEPUTY DIRECTOR, BUDGET ANALYSIS AND COORDINATION.
|  | DIRECTOR, OFFICE OF FINANCE AND ACCOUNTING.
|  | DEPUTY DIRECTOR, FINANCIAL OPERATIONS.
|  | DEPUTY CHIEF FINANCIAL OFFICER.
|  | DEPUTY FOR CORPORATE BUSINESS SYSTEMS.
|  | DEPUTY DIRECTOR, FINANCIAL REPORTING AND BUSINESS ANALYSIS.
|  | DIRECTOR, OFFICE OF BUDGET.
|  | DEPUTY DIRECTOR, BUDGET OPERATIONS.
|  | DIRECTOR, OFFICE OF CORPORATE INFORMATION SYSTEMS.
OFFICE OF THE SECRETARY | OFFICE OF THE UNDER SECRETARY FOR SCIENCE | SENIOR ADVISOR FOR ENVIRONMENTAL MANAGEMENT TO THE UNDER SECRETARY FOR SCIENCE.
DEPARTMENT OF ENERGY OF THE INSPECTOR GENERAL | DEPARTMENT OF ENERGY OFFICE OF THE INSPECTOR GENERAL | DEPUTY INSPECTOR GENERAL. ASSISTANT INSPECTOR GENERAL FOR INVESTIGATIONS.
|  | SENIOR COUNSEL, FOIA AND PRIVACY ACT OFFICER.
|  | ASSISTANT INSPECTOR GENERAL MANAGEMENT AND ADMINISTRATION.
|  | ASSISTANT INSPECTOR GENERAL FOR INSPECTIONS, INTELLIGENCE OVERSIGHT, AND SPECIAL PROJECTS.
|  | DEPUTY ASSISTANT INSPECTOR GENERAL FOR AUDITS (WESTERN REGION).
|  | ASSISTANT INSPECTOR GENERAL FOR TECHNOLOGY, FINANCIAL AND ANALYTICS.
|  | ASSISTANT INSPECTOR GENERAL FOR AUDITS.
|  | DEPUTY ASSISTANT INSPECTOR GENERAL FOR AUDITS (EASTERN REGION).
ENVIRONMENTAL PROTECTION AGENCY:
ADMINISTRATORS STAFF OFFICES | OFFICE OF ADMINISTRATIVE AND EXECUTIVE SERVICES | DIRECTOR, OFFICE OF ADMINISTRATIVE AND EXECUTIVE SERVICES.
ENVIRONMENTAL PROTECTION AGENCY | OFFICE OF THE ASSISTANT ADMINISTRATOR FOR MISSION SUPPORT | DIRECTOR, OFFICE OF ADMINISTRATION AND RESOURCES MANAGEMENT.
|  | DIRECTOR, OFFICE OF ADMINISTRATION.
|  | DIRECTOR, OFFICE OF DIGITAL SERVICES AND TECHNICAL ARCHITECTURE.
|  | DIRECTOR, OFFICE OF RESOURCES AND BUSINESS OPERATIONS.
|  | DEPUTY DIRECTOR, OFFICE OF ACQUISITION MANAGEMENT.
|  | DIRECTOR, OFFICE OF GRANTS AND DEBARMENT.
|  | DIRECTOR, OFFICE OF HUMAN RESOURCES.
|  | DIRECTOR, OFFICE OF ACQUISITION MANAGEMENT.
| OFFICE OF THE ASSISTANT ADMINISTRATOR FOR RESEARCH AND DEVELOPMENT | DEPUTY DIRECTOR, OFFICE OF RESOURCE MANAGEMENT. SENIOR ADVISOR (2).
|  | DIRECTOR, GROUNDWATER CHARACTER AND REMEDIATION DIVISION.
|  | DIRECTOR, ENVIRONMENTAL TECHNOLOGY INNOVATION CLUSTER PROGRAM.
|  | DIRECTOR, CENTER FOR ENVIRONMENTAL SOLUTIONS AND EMERGENCY RESPONSE.
|  | DIRECTOR, PACIFIC ECOLOGICAL SYSTEMS DIVISION.
|  | DIRECTOR, GULF ECOSYSTEM MEASUREMENT AND MODELING DIVISION.
|  | DIRECTOR, CENTER FOR ENVIRONMENTAL MEASUREMENT AND MODELING.
|  | DEPUTY DIRECTOR FOR MANAGEMENT (3).
|  | DIRECTOR, OFFICE OF SCIENCE INFORMATION MANAGEMENT.
|  | DIRECTOR, OFFICE OF RESOURCE MANAGEMENT.
|  | DIRECTOR, OFFICE OF SCIENCE ADVISOR, POLICY AND ENGAGEMENT.
|  | DIRECTOR, GREAT LAKES TOXICOLOGY AND ECOLOGY DIVISION.
| OFFICE OF THE CHIEF FINANCIAL OFFICER | DEPUTY CHIEF FINANCIAL OFFICER.
|  | ASSOCIATE CHIEF FINANCIAL OFFICER.
NATIONAL CENTER FOR ENVIRONMENTAL ASSESSMENT | NATIONAL CENTER FOR ENVIRONMENTAL RESEARCH | DEPUTY DIRECTOR FOR MANAGEMENT.
OFFICE OF THE ASSISTANT ADMINISTRATOR FOR AIR AND RADIATION | OFFICE OF AIR QUALITY PLANNING AND STANDARDS | DIRECTOR, AIR QUALITY ASSESSMENT DIVISION. DIRECTOR, AIR QUALITY POLICY DIVISION. DIRECTOR, HEALTH AND ENVIRONMENTAL IMPACTS DIVISION.
|  | ASSOCIATE OFFICE DIRECTOR FOR PROGRAM INTEGRATION AND INTERNATIONAL AIR QUALITY ISSUES.
|  | DIRECTOR, SECTOR POLICIES AND PROGRAMS DIVISION.
|  | DIRECTOR, OUTREACH AND INFORMATION DIVISION.
| OFFICE OF ATMOSPHERIC PROGRAMS | DIRECTOR, CLIMATE CHANGE DIVISION.
|  | DIRECTOR, CLIMATE PROTECTION PARTNERSHIP DIVISION.
|  | DIRECTOR, CLEAN AIR MARKETS DIVISION.
| OFFICE OF RADIATION AND INDOOR AIR | DIRECTOR, RADIATION PROTECTION DIVISION.
|  | DIRECTOR, INDOOR ENVIRONMENTS DIVISION.
| OFFICE OF TRANSPORTATION AND AIR QUALITY | DIRECTOR, COMPLIANCE DIVISION. DIRECTOR, ASSESSMENT AND STANDARDS DIVISION.
|  | DIRECTOR, TESTING AND ADVANCED TECHNOLOGY DIVISION.
|  | DIRECTOR, TRANSPORTATION AND CLIMATE DIVISION.
OFFICE OF THE ASSISTANT ADMINISTRATOR FOR CHEMICAL SAFETY AND POLLUTION PREVENTION | OFFICE OF PESTICIDE PROGRAMS | DIRECTOR, HEALTH EFFECTS DIVISION. DIRECTOR, PESTICIDES RE-EVALUATION DIVISION. DIRECTOR, REGISTRATION DIVISION.
|  | DIRECTOR, INFORMATION TECHNOLOGY AND RESOURCES MANAGEMENT DIVISION.
|  | DIRECTOR, FIELD AND EXTERNAL AFFAIRS DIVISION.
|  | DIRECTOR, ANTIMICROBIALS DIVISION.
|  | DIRECTOR, BIOPESTICIDES AND POLLUTION PREVENTION DIVISION.
|  | DIRECTOR, ENVIRONMENTAL FATE AND EFFECTS DIVISION.
|  | DIRECTOR, BIOLOGICAL AND ECONOMIC ANALYSIS DIVISION.
| OFFICE OF POLLUTION PREVENTION AND TOXICS | DIRECTOR, NATIONAL PROGRAM CHEMICALS DIVISION.
|  | DIRECTOR, RISK ASSESSMENT DIVISION.
|  | DIRECTOR, ENVIRONMENTAL ASSISTANCE DIVISION.
|  | DIRECTOR, CHEMISTRY, ECONOMICS AND SUSTAINABLE STRATEGIES DIVISION.
|  | DIRECTOR, INFORMATION MANAGEMENT DIVISION.
|  | DIRECTOR, CHEMICAL CONTROL DIVISION.
| OFFICE OF PROGRAM MANAGEMENT OPERATIONS | ASSOCIATE ASSISTANT ADMINISTRATOR (MANAGEMENT).
OFFICE OF THE ASSISTANT ADMINISTRATOR FOR ENFORCEMENT AND COMPLIANCE ASSURANCE | OFFICE OF CIVIL ENFORCEMENT | DIRECTOR, WATER ENFORCEMENT DIVISION. DIRECTOR, OFFICE OF CIVIL ENFORCEMENT. DEPUTY DIRECTOR, OFFICE OF CIVIL ENFORCEMENT.
|  | DIRECTOR, AIR ENFORCEMENT DIVISION.
| OFFICE OF COMPLIANCE | DIRECTOR, OFFICE OF COMPLIANCE.
|  | DIRECTOR, ENFORCEMENT TARGETING AND DATA DIVISION.
|  | DIRECTOR, MONITORING ASSISTANCE AND MEDIA PROGRAMS DIVISION.
|  | DEPUTY DIRECTOR, OFFICE OF COMPLIANCE.
| OFFICE OF CRIMINAL ENFORCEMENT, FORENSICS AND TRAINING | DIRECTOR, OFFICE OF CRIMINAL ENFORCEMENT, FORENSICS AND TRAINING.
|  | DIRECTOR, NATIONAL ENFORCEMENT INVESTIGATIONS CENTER.
|  | DIRECTOR, CRIMINAL INVESTIGATION DIVISION.
|  | DEPUTY DIRECTOR, OFFICE OF CRIMINAL ENFORCEMENT, FORENSICS AND TRAINING.
| OFFICE OF ENVIRONMENTAL JUSTICE | DIRECTOR, OFFICE OF ENVIRONMENTAL JUSTICE.
| OFFICE OF SITE REMEDIATION ENFORCEMENT | DIRECTOR, OFFICE OF SITE REMEDIATION ENFORCEMENT.
|  | DEPUTY DIRECTOR, OFFICE OF SITE REMEDIATION ENFORCEMENT.
OFFICE OF THE ASSISTANT ADMINISTRATOR FOR LAND AND EMERGENCY MANAGEMENT | OFFICE OF RESOURCE CONSERVATION AND RECOVERY | DIRECTOR, MATERIALS RECOVERY AND WASTE MANAGEMENT DIVISION. DIRECTOR, PROGRAM IMPLEMENTATION AND INFORMATION DIVISION.
|  | DIRECTOR, RESOURCE CONSERVATION AND SUSTAINABILITY DIVISION.
| OFFICE OF SUPERFUND REMEDIATION AND TECHNOLOGY INNOVATION | DIRECTOR, TECHNOLOGY INNOVATION AND FIELD SERVICES DIVISION.
|  | DIRECTOR, ASSESSMENT AND REMEDIATION DIVISION.
|  | DIRECTOR, RESOURCES MANAGEMENT DIVISION.
OFFICE OF THE ASSISTANT ADMINISTRATOR FOR MISSION SUPPORT | ENVIRONMENTAL APPEALS BOARD OFFICE OF ADMINISTRATION | ENVIRONMENTAL APPEALS JUDGE (4). DEPUTY DIRECTOR, OFFICE OF ADMINISTRATION.
| OFFICE OF ADMINISTRATION AND RESOURCES MANAGEMENT—CINCINNATI OHIO | DIRECTOR, OFFICE OF ADMINISTRATION AND RESOURCES MANAGEMENT.
| OFFICE OF GRANTS AND DEBARMENT | DEPUTY DIRECTOR, OFFICE OF GRANTS AND DEBARMENT.
OFFICE OF HUMAN RESOURCES | DEPUTY DIRECTOR, OFFICE OF HUMAN RESOURCES
OFFICE OF THE ASSISTANT ADMINISTRATOR FOR RESEARCH AND DEVELOPMENT | NATIONAL RISK MANAGEMENT RESEARCH LABORATORY OFFICE OF ADMINISTRATIVE AND RESEARCH SUPPORT | DIRECTOR, NATIONAL RISK MANAGEMENT RESEARCH LABORATORY. DEPUTY DIRECTOR, OFFICE OF ADMINISTRATIVE AND RESEARCH SUPPORT.
| OFFICE OF PROGRAM ACCOUNTABILITY AND RESOURCE MANAGEMENT | DIRECTOR, OFFICE OF PROGRAM ACCOUNTABILITY AND RESOURCE MANAGEMENT.
| OFFICE OF THE SCIENCE ADVISOR | DIRECTOR, OFFICE OF THE SCIENCE ADVISOR.
OFFICE OF THE ASSISTANT ADMINISTRATOR FOR WATER | OFFICE OF GROUND WATER AND DRINKING WATER | DIRECTOR, STANDARDS AND RISK MANAGEMENT DIVISION.
|  | DIRECTOR, DRINKING WATER PROTECTION DIVISION.
| OFFICE OF SCIENCE AND TECHNOLOGY | DIRECTOR, STANDARDS AND HEALTH PROTECTION DIVISION.
|  | DIRECTOR, ENGINEERING AND ANALYSIS DIVISION.
|  | DIRECTOR, HEALTH AND ECOLOGICAL CRITERIA DIVISION.
| OFFICE OF WASTEWATER MANAGEMENT | DIRECTOR, WATER PERMITS DIVISION.
|  | DIRECTOR, WATER INFRASTRUCTURE DIVISION.
OFFICE OF WETLANDS, OCEANS AND WATERSHEDS | DIRECTOR, WATERSHED RESTORATION, ASSESSMENT AND PROTECTION DIVISION. | DIRECTOR, OCEANS, WETLANDS AND COMMUNITIES DIVISION.
OFFICE OF THE CHIEF FINANCIAL OFFICER | OFFICE OF BUDGET OFFICE OF PLANNING, ANALYSIS AND ACCOUNTABILITY | DIRECTOR, OFFICE OF BUDGET. DIRECTOR, OFFICE OF PLANNING, ANALYSIS AND ACCOUNTABILITY.
| OFFICE OF TECHNOLOGY SOLUTIONS | DIRECTOR, OFFICE OF TECHNOLOGY SOLUTIONS.
| OFFICE OF THE CONTROLLER | CONTROLLER.
|  | DEPUTY CONTROLLER.
OFFICE OF THE GENERAL COUNSEL | OFFICE OF DEPUTY GENERAL COUNSEL | DIRECTOR, RESOURCES MANAGEMENT OFFICE.
REGION X—SEATTLE, WASHINGTON | OFFICE OF REGIONAL COUNSEL | REGIONAL COUNSEL.
REGION VI—DALLAS, TEXAS | OFFICE OF REGIONAL COUNSEL | REGIONAL COUNSEL.
REGION VII—LENEXA, KANSAS | OFFICE OF REGIONAL COUNSEL | REGIONAL COUNSEL.
REGIONAL OFFICES | REGION I—BOSTON, MASSACHUSETTS | DIRECTOR, WATER DIVISION.
|  | DIRECTOR, SUPERFUND AND EMERGENCY MANAGEMENT DIVISION.
|  | DIRECTOR, ENFORCEMENT AND COMPLIANCE ASSURANCE DIVISION.
|  | DIRECTOR, MISSION SUPPORT DIVISION.
|  | DIRECTOR, LAND, CHEMICALS AND REDEVELOPMENT DIVISION.
|  | DIRECTOR, AIR AND RADIATION DIVISION.
|  | REGIONAL COUNSEL.
| REGION X—SEATTLE, WASHINGTON | DIRECTOR, WATER DIVISION.
|  | DIRECTOR, LABORATORY SERVICES AND APPLIED SCIENCE DIVISION.
|  | DIRECTOR, SUPERFUND AND EMERGENCY MANAGEMENT DIVISION.
|  | DIRECTOR, MISSION SUPPORT DIVISION.
|  | DIRECTOR, ENFORCEMENT AND COMPLIANCE ASSURANCE DIVISION.
|  | DIRECTOR, AIR AND RADIATION DIVISION.
|  | DIRECTOR, LAND, CHEMICALS AND REDEVELOPMENT DIVISION.
| REGION II—NEW YORK, NEW YORK | DIRECTOR, CARIBBEAN ENVIRONMENTAL PROTECTION DIVISION.
|  | DIRECTOR, LABORATORY SERVICES AND APPLIED SCIENCE DIVISION.
|  | DIRECTOR, AIR AND RADIATION DIVISION.
|  | DIRECTOR, WATER DIVISION.
|  | DIRECTOR, ENFORCEMENT AND COMPLIANCE ASSISTANCE DIVISION.
|  | DIRECTOR, MISSION SUPPORT DIVISION.
|  | DIRECTOR, LAND, CHEMICALS AND REDEVELOPMENT DIVISION.
|  | DIRECTOR, SUPERFUND AND EMERGENCY MANAGEMENT DIVISION.
|  | REGIONAL COUNSEL.
| REGION III—PHILADELPHIA, PENNSYLVANIA | DIRECTOR, WATER DIVISION. REGIONAL COUNSEL.
|  | DIRECTOR, LAND, CHEMICALS AND REDEVELOPMENT DIVISION.
|  | DIRECTOR, AIR AND RADIATION DIVISION.
|  | DIRECTOR, CHESAPEAKE BAY PROGRAM OFFICE.
|  | DIRECTOR, MISSION SUPPORT DIVISION.
|  | DIRECTOR, ENVIRONMENTAL ASSESSMENT AND INNOVATION DIVISION.
|  | DIRECTOR, ENFORCEMENT AND COMPLIANCE ASSURANCE DIVISION.
|  | DIRECTOR, SUPERFUND AND EMERGENCY MANAGEMENT DIVISION.
| REGION IV—ATLANTA, GEORGIA | DIRECTOR, LABORATORY SERVICES AND APPLIED SCIENCE DIVISION.
|  | DIRECTOR, GULF OF MEXICO PROGRAM.
|  | DIRECTOR, SUPERFUND AND EMERGENCY MANAGEMENT DIVISION.
|  | DIRECTOR, ENFORCEMENT AND COMPLIANCE ASSURANCE DIVISION.
|  | DIRECTOR, LAND, CHEMICALS AND REDEVELOPMENT DIVISION.
|  | DIRECTOR, WATER DIVISION.
|  | DIRECTOR, MISSION SUPPORT DIVISION.
|  | REGIONAL COUNSEL.
|  | DIRECTOR, AIR, PESTICIDES AND TOXICS MANAGEMENT DIVISION.
| REGION V—CHICAGO, ILLINOIS | DIRECTOR, ENFORCEMENT AND COMPLIANCE ASSURANCE DIVISION.
|  | DIRECTOR, MISSION SUPPORT DIVISION.
|  | DIRECTOR, AIR AND RADIATION DIVISION.
|  | REGIONAL COUNSEL.
|  | DIRECTOR, LAND, CHEMICALS AND REDEVELOPMENT DIVISION.
|  | DIRECTOR, WATER DIVISION.
|  | DIRECTOR, SUPERFUND AND EMERGENCY MANAGEMENT DIVISION.
|  | DIRECTOR, GREAT LAKES NATIONAL PROGRAM OFFICE.
| REGION VI—DALLAS, TEXAS | DIRECTOR, MULTIMEDIA PLANNING AND PERMITTING DIVISION.
|  | DIRECTOR, LAND, CHEMICAL AND REDEVELOPMENT DIVISION.
|  | DIRECTOR, MISSION SUPPORT DIVISION.
|  | DIRECTOR, AIR AND RADIATION DIVISION.
|  | DIRECTOR, ENFORCEMENT AND COMPLIANCE ASSURANCE DIVISION.
|  | DIRECTOR, SUPERFUND AND EMERGENCY MANAGEMENT DIVISION.
|  | DIRECTOR, WATER DIVISION.
| REGION VII—LENEXA, KANSAS | DIRECTOR, LAND, CHEMICAL AND REDEVELOPMENT DIVISION.
|  | DIRECTOR, ENFORCEMENT AND COMPLIANCE ASSURANCE DIVISION.
|  | DIRECTOR, AIR AND RADIATION DIVISION.
|  | DIRECTOR, LABORATORY SERVICES AND APPLIED SCIENCE DIVISION.
|  | DIRECTOR, SUPERFUND AND EMERGENCY MANAGEMENT DIVISION.
|  | DIRECTOR, WATER DIVISION.
|  | DIRECTOR, MISSION SUPPORT DIVISION.
| REGION VIII—DENVER, COLORADO | DIRECTOR, LAND, CHEMICALS AND REDEVELOPMENT DIVISION.
|  | DIRECTOR, WATER DIVISION.
|  | DIRECTOR, AIR AND RADIATION DIVISION.
|  | DIRECTOR, ENFORCEMENT AND COMPLIANCE ASSURANCE DIVISION.
|  | DIRECTOR, SUPERFUND AND EMERGENCY MANAGEMENT DIVISION.
|  | DIRECTOR, MISSION SUPPORT DIVISION.
|  | REGIONAL COUNSEL.
| REGION IV—SAN FRANCISCO, CALIFORNIA | DIRECTOR, MISSION SUPPORT DIVISION.
|  | DIRECTOR, LAND, CHEMICALS AND REDEVELOPMENT DIVISION.
|  | DIRECTOR, AIR AND RADIATION DIVISION.
|  | REGIONAL COUNSEL.
|  | DIRECTOR, WATER DIVISION.
|  | DIRECTOR, SUPERFUND AND EMERGENCY MANAGEMENT DIVISION.
|  | DIRECTOR, ENFORCEMENT AND COMPLIANCE ASSURANCE DIVISION.
ENVIRONMENTAL PROTECTION AGENCY OFFICE OF THE INSPECTOR GENERAL | ENVIRONMENTAL PROTECTION AGENCY OFFICE OF THE INSPECTOR GENERAL | COUNSEL TO THE INSPECTOR GENERAL. ASSISTANT INSPECTOR GENERAL FOR MANAGEMENT. ASSISTANT INSPECTOR GENERAL FOR INVESTIGATIONS.
|  | ASSOCIATE DEPUTY INSPECTOR GENERAL.
|  | DEPUTY INSPECTOR GENERAL.
|  | ASSISTANT INSPECTOR GENERAL FOR AUDIT AND EVALUATION.
EQUAL EMPLOYMENT OPPORTUNITY COMMISSION | OFFICE OF INFORMATION TECHNOLOGY OFFICE OF CONGRESSIONAL AND LEGISLATIVE AFFAIRS (OCLA) | DEPUTY CHIEF INFORMATION OFFICER. ASSOCIATE DIRECTOR.
| OFFICE OF ENTERPRISE DATA AND ANALYTICS | DEPUTY CHIEF DATA OFFICER.
| OFFICE OF FIELD PROGRAMS | DISTRICT DIRECTOR (ST LOUIS).
|  | DISTRICT DIRECTOR (MIAMI).
|  | DISTRICT DIRECTOR (INDIANAPOLIS).
|  | DISTRICT DIRECTOR (MEMPHIS).
|  | DISTRICT DIRECTOR (LOS ANGELES).
|  | DISTRICT DIRECTOR (PHOENIX).
|  | DISTRICT DIRECTOR (CHARLOTTE).
|  | DISTRICT DIRECTOR (CHICAGO).
|  | DISTRICT DIRECTOR (DALLAS).
|  | DISTRICT DIRECTOR (SAN FRANCISCO).
|  | DISTRICT DIRECTOR (ATLANTA).
|  | DISTRICT DIRECTOR (NEW YORK).
|  | DIRECTOR, INFORMATION INTAKE GROUP.
|  | DISTRICT DIRECTOR (BIRMINGHAM).
|  | DISTRICT DIRECTOR (HOUSTON).
|  | DISTRICT DIRECTOR (PHILADELPHIA).
| OFFICE OF THE INSPECTOR GENERAL | INSPECTOR GENERAL.
OFFICE OF FIELD PROGRAMS | FIELD COORDINATION PROGRAMS | DIRECTOR, FIELD COORDINATION PROGRAMS.
| FIELD MANAGEMENT PROGRAMS | DIRECTOR FIELD MANAGEMENT PROGRAMS.
FEDERAL COMMUNICATIONS COMMISSION | MEDIA BUREAU OFFICE OF INSPECTOR GENERAL | CHIEF, VIDEO DIVISION. INSPECTOR GENERAL.
FEDERAL ENERGY REGULATORY COMMISSION
OFFICE OF THE CHAIRMAN | OFFICE OF ADMINISTRATIVE LITIGATION | DIRECTOR, LEGAL DIVISION.
|  | DIRECTOR, TECHNICAL DIVISION.
| OFFICE OF ENERGY PROJECTS | DIRECTOR OF DAM SAFETY AND INSPECTION.
| OFFICE OF ENFORCEMENT | CHIEF ACCOUNTANT AND DIRECTOR, DIVISION OF AUDITS AND ACCOUNTING.
FEDERAL LABOR RELATIONS AUTHORITY | FEDERAL SERVICE IMPASSES PANEL | EXECUTIVE DIRECTOR, FEDERAL SERVICE IMPASSES PANEL.
| OFFICE OF MEMBER | CHIEF COUNSEL (2).
| OFFICE OF THE CHAIRMAN | CHIEF COUNSEL.
|  | SENIOR ADVISOR.
|  | DIRECTOR, POLICY AND PERFORMANCE MANAGEMENT.
|  | SOLICITOR.
| OFFICE OF THE EXECUTIVE DIRECTOR | EXECUTIVE DIRECTOR.
| OFFICE OF THE GENERAL COUNSEL | DEPUTY GENERAL COUNSEL.
|  | DEPUTY GENERAL COUNSEL.
OFFICE OF THE CHAIRMAN | OFFICE OF THE INSPECTOR GENERAL | INSPECTOR GENERAL.
OFFICE OF THE GENERAL COUNSEL | OFFICE OF THE DENERAL COUNSEL REGIONAL OFFICES | REGIONAL DIRECTOR—ATLANTA. REGIONAL DIRECTOR, DENVER.
|  | REGIONAL DIRECTOR, SAN FRANCISCO.
|  | REGIONAL DIRECTOR—WASHINGTON, D.C.
|  | REGIONAL DIRECTOR—BOSTON.
|  | REGIONAL DIRECTOR—DALLAS.
|  | REGIONAL DIRECTOR, CHICAGO ILLINOIS.
FEDERAL LABOR RELATIONS AUTHORITY OFFICE OF THE INSPECTOR GENERAL | FEDERAL LABOR RELATIONS AUTHORITY OFFICE OF INSPECTOR GENERAL | INSPECTOR GENERAL.
FEDERAL MARITIME COMMISSION | OFFICE OF CONSUMER AFFAIRS AND DISPUTE RESOLUTION SERVICES | DIRECTOR, OFFICE OF CONSUMER AFFAIRS AND DISPUTE RESOLUTION SERVICES.
| OFFICE OF THE MANAGING DIRECTOR | DEPUTY MANAGING DIRECTOR. DIRECTOR, STRATEGIC PLANNING AND REGULATORY REVIEW.
OFFICE OF THE MANAGING DIRECTOR | BUREAU OF CERTIFICATION AND LICENSING | DIRECTOR, BUREAU OF CERTIFICATION AND LICENSING.
| BUREAU OF ENFORCEMENT | DIRECTOR BUREAU OF ENFORCEMENT.
| BUREAU OF TRADE ANALYSIS | DIRECTOR, BUREAU OF TRADE ANALYSIS.
OFFICE OF THE MEMBERS | OFFICE OF THE INSPECTOR GENERAL | INSPECTOR GENERAL.
| OFFICE OF THE SECRETARY | SECRETARY.
FEDERAL MEDIATION AND CONCILIATION SERVICE | OFFICE OF THE DIRECTOR | NATIONAL REPRESENTATIVE.
OFFICE OF THE DIRECTOR | OFFICE OF THE DEPUTY DIRECTOR | DIRECTOR OF FIELD OPERATIONS.
FEDERAL RETIREMENT THRIFT INVESTMENT BOARD | FEDERAL RETIREMENT THRIFT INVESTMENT BOARD | DIRECTOR OF RESOURCE MANAGEMENT. DIRECTOR OF COMMUNICATIONS AND EDUCATION.
|  | SENIOR ADVISOR FOR UNIFORMED SERVICES.
|  | DIRECTOR OF PARTICIPANT OPERATIONS AND POLICY.
|  | CHIEF FINANCIAL OFFICER.
|  | DIRECTOR OF ENTERPRISE RISK MANAGEMENT.
|  | CHIEF TECHNOLOGY OFFICER.
|  | CHIEF OPERATING OFFICER.
FEDERAL TRADE COMMISSION | BUREAU OF COMPETITION | DEPUTY DIRECTOR, BUREAU OF COMPETITION.
| BUREAU OF CONSUMER PROTECTION | DEPUTY DIRECTOR, BUREAU OF CONSUMER PROTECTION.
| BUREAU OF ECONOMICS | DEPUTY DIRECTOR FOR RESEARCH AND MANAGEMENT.
| OFFICE OF EXECUTIVE DIRECTOR | CHIEF INFORMATION OFFICER.
|  | DEPUTY EXECUTIVE DIRECTOR.
| OFFICE OF THE GENERAL COUNSEL | PRINCIPAL DEPUTY GENERAL COUNSEL.
FEDERAL TRADE COMMISSION OFFICE OF THE INSPECTOR GENERAL | FEDERAL TRADE COMMISSION OFFICE OF THE INSPECTOR GENERAL | INSPECTOR GENERAL.
GENERAL SERVICES ADMINISTRATION:
FEDERAL ACQUISITION SERVICE | TECHNOLOGY TRANSFORMATION SERVICES | DIRECTOR, PUBLIC EXPERIENCE PORTFOLIO.
GENERAL SERVICES ADMINISTRATION | FEDERAL ACQUISITION SERVICE | DIRECTOR OF SUPPLY CHAIN MANAGEMENT. DIRECTOR OF FLEET MANAGEMENT.
|  | ASSISTANT COMMISSIONER FOR POLICY AND COMPLIANCE.
|  | ASSISTANT COMMISSIONER FOR ASSISTED ACQUISITION SERVICES.
|  | ASSISTANT COMMISSIONER FOR CUSTOMER AND STAKEHOLDER ENGAGEMENT.
|  | ASSISTANT COMMISSIONER FOR TRAVEL, TRANSPORTATION AND LOGISTICS CATEGORIES.
|  | ASSISTANT COMMISSIONER FOR GENERAL SUPPLIES AND SERVICES CATEGORIES.
|  | DEPUTY ASSISTANT COMMISSIONER FOR INFORMATION TECHNOLOGY CATEGORY.
|  | ASSISTANT COMMISSIONER FOR INFORMATION TECHNOLOGY CATEGORY.
|  | DEPUTY ASSISTANT COMMISSIONER FOR ACQUISITION.
|  | DIRECTOR, FEDERAL SYSTEMS INTEGRATION AND MANAGEMENT CENTER.
|  | DIRECTOR, INFORMATION TECHNOLOGY SERVICES.
|  | DEPUTY ASSISTANT COMMISSIONER FOR CATEGORY MANAGEMENT.
|  | ASSISTANT COMMISSIONER FOR SYSTEMS MANAGEMENT.
|  | ASSISTANT COMMISSIONER FOR ENTERPRISE STRATEGY MANAGEMENT.
|  | DIRECTOR, INFORMATION TECHNOLOGY SCHEDULE CONTRACT OPERATIONS.
|  | DIRECTOR, TELECOMMUNICATIONS SERVICES.
|  | DIRECTOR OF TRAVEL, EMPLOYEE RELOCATION, AND TRANSPORTATION.
| OFFICE OF GOVERNMENTWIDE POLICY | DIRECTOR OF GOVERNMENTWIDE ACQUISITION POLICY.
|  | PRINCIPAL DEPUTY FOR ASSET AND TRANSPORTATION MANAGEMENT.
|  | DEPUTY ASSOCIATE ADMINISTRATOR FOR INFORMATION, INTEGRITY AND ACCESS.
|  | DEPUTY ASSOCIATE ADMINISTRATOR, SHARED SOLUTIONS AND PERFORMANCE IMPROVEMENT OFFICE.
|  | DIRECTOR OF THE FEDERAL ACQUISITION INSTITUTE.
|  | DEPUTY CHIEF ACQUISITION OFFICER AND SENIOR PROCUREMENT EXECUTIVE.
|  | DIRECTOR OF GENERAL SERVICES ACQUISITION POLICY, INTEGRITY AND WORKFORCE.
|  | DIRECTOR OF FEDERAL HIGH- PERFORMANCE GREEN BUILDINGS.
|  | DEPUTY ASSOCIATE ADMINISTRATOR FOR ASSET AND TRANSPORTATION MANAGEMENT.
| OFFICE OF GENERAL SERVICES ADMINISTRATION INFORMATION TECHNOLOGY | ASSOCIATE CHIEF INFORMATION OFFICER FOR ENTERPRISE PLANNING AND GOVERNANCE.
|  | ASSOCIATE CHIEF INFORMATION OFFICER FOR CORPORATE INFORMATION TECHNOLOGY SERVICES.
|  | DEPUTY ASSOCIATE CHIEF INFORMATION OFFICER.
|  | ASSOCIATE CHIEF INFORMATION OFFICER FOR ACQUISITION INFORMATION TECHNOLOGY SERVICES.
|  | CHIEF INFORMATION SECURITY OFFICER.
|  | ASSOCIATE CHIEF INFORMATION OFFICER FOR PUBLIC BUILDINGS INFORMATION TECHNOLOGY SERVICES.
|  | ASSOCIATE CHIEF INFORMATION OFFICER FOR DIGITAL INFRASTRUCTURE TECHNOLOGIES.
| OFFICE OF HUMAN RESOURCES MANAGEMENT | DEPUTY CHIEF HUMAN CAPITAL OFFICER.
|  | CHIEF HUMAN CAPITAL OFFICER.
| OFFICE OF MISSION ASSURANCE | ASSOCIATE ADMINISTRATOR FOR MISSION ASSURANCE.
|  | PRINCIPAL DEPUTY ASSOCIATE ADMINISTRATOR FOR MISSION ASSURANCE.
| OFFICE OF THE ADMINISTRATOR | DIRECTOR, PRESIDENTIAL TRANSITION.
|  | DIRECTOR, OPM-GSA MERGER PROJECT MANAGEMENT OFFICE.
| OFFICE OF THE CHIEF FINANCIAL OFFICER | DEPUTY CHIEF FINANCIAL OFFICER.
|  | DIRECTOR, OFFICE OF ANALYTICS, PERFORMANCE AND IMPROVEMENT.
|  | DIRECTOR OF BUDGET.
|  | DIRECTOR OF FINANCIAL MANAGEMENT.
|  | DIRECTOR OF REGIONAL FINANCIAL SERVICES.
|  | CHIEF FINANCIAL OFFICER.
| PUBLIC BUILDINGS SERVICE | ASSISTANT COMMISSIONER FOR FACILITIES MANAGEMENT AND SERVICES PROGRAMS.
|  | ASSISTANT COMMISSIONER FOR LEASING.
|  | ASSISTANT COMMISSIONER FOR ACQUISITION MANAGEMENT.
|  | ASSISTANT COMMISSIONER FOR PROJECT DELIVERY.
|  | CHIEF ARCHITECT.
|  | ASSISTANT COMMISSIONER, OFFICE OF STRATEGY AND ENGAGEMENT.
|  | DEPUTY ASSISTANT COMMISSIONER FOR REAL PROPERTY ASSET MANAGEMENT.
|  | SENIOR ADVISOR.
|  | ASSISTANT COMMISSIONER FOR PORTFOLIO MANAGEMENT AND CUSTOMER ENGAGEMENT.
|  | ASSISTANT COMMISSIONER FOR REAL PROPERTY UTILIZATION AND DISPOSAL.
REGIONAL ADMINISTRATORS | GREAT LAKES REGION | REGIONAL COMMISSIONER FOR PUBLIC BUILDINGS SERVICE.
|  | REGIONAL COMMISSIONER FOR FEDERAL ACQUISITION SERVICE.
| GREATER SOUTHWEST REGION | REGIONAL COMMISSIONER FOR FEDERAL ACQUISITION SERVICE.
|  | REGIONAL COMMISSIONER FOR PUBLIC BUILDINGS SERVICE.
| MID-ATLANTIC REGION | REGIONAL COMMISSIONER FOR PUBLIC BUILDINGS SERVICE.
|  | REGIONAL COMMISSIONER FOR FEDERAL ACQUISITION SERVICE.
| NATIONAL CAPITAL REGION | DIRECTOR OF PORTFOLIO MANAGEMENT AND REAL ESTATE.
|  | DEPUTY DIRECTOR OF PORTFOLIO MANAGEMENT AND LEASING.
|  | REGIONAL COMMISSIONER FOR FEDERAL ACQUISITION SERVICE.
|  | DIRECTOR OF FACILITIES MANAGEMENT AND SERVICES PROGRAMS.
|  | REGIONAL COMMISSIONER FOR PUBLIC BUILDINGS SERVICE.
|  | DIRECTOR FOR DESIGN AND CONSTRUCTION.
| NEW ENGLAND REGION | REGIONAL COMMISSIONER FOR FEDERAL ACQUISITION SERVICE.
|  | REGIONAL COMMISSIONER FOR PUBLIC BUILDINGS SERVICE.
| NORTHEAST AND CARIBBEAN REGION | REGIONAL COMMISSIONER FOR PUBLIC BUILDINGS SERVICE.
|  | REGIONAL COMMISSIONER FOR FEDERAL ACQUISITION SERVICE.
| NORTHWEST/ARCTIC REGION | REGIONAL COMMISSIONER FOR FEDERAL ACQUISITION SERVICE.
|  | REGIONAL COMMISSIONER FOR PUBLIC BUILDINGS SERVICE.
| PACIFIC RIM REGION | REGIONAL COMMISSIONER FOR PUBLIC BUILDINGS SERVICE.
|  | REGIONAL COMMISSIONER FOR FEDERAL ACQUISITION SERVICE.
| ROCKY MOUNTAIN REGION | REGIONAL COMMISSIONER FOR PUBLIC BUILDINGS SERVICE.
|  | REGIONAL COMMISSIONER FOR FEDERAL ACQUISITION SERVICE.
| SOUTHEAST SUNBELT REGION | REGIONAL COMMISSIONER FOR FEDERAL ACQUISITION SERVICE.
|  | REGIONAL COMMISSIONER FOR PUBLIC BUILDINGS SERVICE.
| THE HEARTLAND REGION | REGIONAL COMMISSIONER FOR PUBLIC BUILDINGS SERVICE.
|  | REGIONAL COMMISSIONER FOR FEDERAL ACQUISITION SERVICE.
GENERAL SERVICES ADMINISTRATION OFFICE OF THE INSPECTOR GENERAL | GENERAL SERVICES ADMINISTRATION OFFICE OF THE INSPECTOR GENERAL | DEPUTY INSPECTOR GENERAL. DEPUTY ASSISTANT INSPECTOR GENERAL FOR REAL PROPERTY AUDITS.
|  | ASSISTANT INSPECTOR GENERAL FOR INSPECTIONS.
|  | ASSISTANT INSPECTOR GENERAL FOR AUDITING.
|  | DEPUTY ASSISTANT INSPECTOR GENERAL FOR ACQUISITION PROGRAMS AUDITS.
|  | COUNSEL TO THE INSPECTOR GENERAL.
|  | ASSISTANT INSPECTOR GENERAL FOR INVESTIGATIONS.
|  | DEPUTY ASSISTANT INSPECTOR GENERAL FOR INVESTIGATIONS.
|  | ASSOCIATE INSPECTOR GENERAL.
|  | ASSISTANT INSPECTOR GENERAL FOR ADMINISTRATION.
GULF COAST ECOSYSTEM RESTORATION COUNCIL | GULF COAST ECOSYSTEM RESTORATION COUNCIL | DEPUTY EXECUTIVE DIRECTOR AND DIRECTOR OF PROGRAMS.
DEPARTMENT OF HEALTH AND HUMAN SERVICES:
CENTERS FOR MEDICARE AND MEDICAID SERVICES | CENTER FOR CONSUMER INFORMATION AND INSURANCE OVERSIGHT | DIRECTOR, MARKETPLACE INFORMATION TECHNOLOGY GROUP.
| CENTER FOR MEDICARE | DIRECTOR, MEDICARE CONTRACTOR MANAGEMENT GROUP.
| CENTER FOR PROGRAM INTEGRITY | DEPUTY CENTER DIRECTOR, CPI (2).
|  | DIRECTOR, PROVIDER COMPLIANCE GROUP.
| OFFICE OF THE ACTUARY | DIRECTOR, PARTS C AND D ACTUARIAL GROUP.
|  | DIRECTOR, MEDICARE AND MEDICAID COST ESTIMATES GROUP.
|  | DIRECTOR, OFFICE OF THE ACTUARY (CHIEF ACTUARY).
|  | DIRECTOR, NATIONAL HEALTH STATISTICS GROUP.
CHIEF OPERATING OFFICER | OFFICE OF ACQUISITIONS AND GRANTS MANAGEMENT | DEPUTY DIRECTOR, OFFICE OF ACQUISITION AND GRANTS MANAGEMENT.
|  | DIRECTOR, OFFICE OF ACQUISITIONS AND GRANTS MANAGEMENT.
| OFFICE OF FINANCIAL MANAGEMENT | DEPUTY DIRECTOR OFFICE OF FINANCIAL MANAGEMENT.
|  | DIRECTOR, FINANCIAL SERVICES GROUP.
|  | DIRECTOR, ACCOUNTING MANAGEMENT GROUP.
|  | DIRECTOR OFFICE OF FINANCIAL MANAGEMENT.
| OFFICE OF INFORMATION TECHNOLOGY | DEPUTY DIRECTOR, OFFICE OF INFORMATION TECHNOLOGY (2).
DEPARTMENT OF HEALTH AND HUMAN SERVICES | OFFICE OF ADMINISTRATION FOR CHILDREN AND FAMILIES | DEPUTY ASSISTANT SECRETARY FOR ADMINISTRATION.
| OFFICE OF ADMINISTRATION FOR COMMUNITY LIVING | DEPUTY ADMINISTRATOR FOR MANAGEMENT AND BUDGET.
|  | DEPUTY ADMINISTRATOR FOR THE CENTER FOR INTEGRATED PROGRAMS.
| CENTERS FOR DISEASE CONTROL AND PREVENTION | DEPUTY DIRECTOR FOR MANAGEMENT.
|  | DEPUTY CHIEF FINANCIAL OFFICER.
|  | CHIEF FINANCIAL OFFICER.
|  | CHIEF INFORMATION OFFICER.
|  | CHIEF OPERATING OFFICER.
|  | BUDGET OFFICER.
|  | DIRECTOR, DIVISION OF ACQUISITION SERVICES.
|  | DIRECTOR, OFFICE OF FINANCE AND ACCOUNTING.
|  | DIRECTOR OFFICE OF GRANTS SERVICES.
|  | DIRECTOR, OFFICE OF SAFETY, SECURITY AND ASSET MANAGEMENT.
|  | DEPUTY DIRECTOR FOR MANAGEMENT AND OPERATIONS.
|  | DIRECTOR, DIVISION OF EMERGENCY OPERATIONS.
|  | CHIEF INFORMATION SECURITY OFFICER.
|  | DEPUTY CHIEF INFORMATION OFFICER.
| FOOD AND DRUG ADMINISTRATION | CHIEF OPERATING OFFICER.
|  | DEPUTY CFO/DIRECTOR, OFFICE OF FINANCIAL OPERATIONS.
|  | DEPUTY CHIEF OPERATING OFFICER.
|  | DIRECTOR, OFFICE OF ACQUISITIONS AND GRANTS SERVICES.
|  | DIRECTOR, OFFICE OF COMPLIANCE AND BIOLOGICS QUALITY.
|  | DIRECTOR OFFICE OF HUMAN CAPITAL MANAGEMENT.
|  | DIRECTOR, OFFICE OF TALENT SOLUTIONS.
|  | DIRECTOR, DIVISION OF ETHICS AND INTEGRITY.
|  | DIRECTOR, OFFICE OF BUDGET.
|  | DIRECTOR, OFFICE OF FINANCIAL MANAGEMENT/CFO.
| INDIAN HEALTH SERVICE | CHIEF EXECUTIVE OFFICER, PHOENIX INDIAN MEDICAL CENTER.
| NATIONAL INSTITUTES OF HEALTH (NIH) | DEPUTY DIRECTOR FOR MANAGEMENT, NCI.
|  | ASSOCIATE DIRECTOR FOR MANAGEMENT AND OPERATIONS, NIAMS.
|  | DIRECTOR, OFFICE OF POLICY FOR EXTRAMURAL RESEARCH ADMINISTRATION, OD.
|  | CHIEF FINANCIAL OFFICER, CC.
|  | ASSOCIATE DIRECTOR FOR ADMINISTRATION, NIAAA.
|  | DIRECTOR OF MANAGEMENT, NIA.
|  | ASSOCIATE DIRECTOR FOR MANAGEMENT, NHGRI.
|  | CHIEF OPERATING OFFICER, CC.
|  | ASSOCIATE DIRECTOR FOR ADMINISTRATION, NIDCD.
|  | DEPUTY DIRECTOR FOR MANAGEMENT, NIH.
|  | DEPUTY DIRECTOR FOR MANAGEMENT, NIDA.
|  | ASSOCIATE DIRECTOR FOR ADMINISTRATION, NICHD.
|  | DIRECTOR, INFORMATION SYSTEMS, NLM.
|  | ASSOCIATE DIRECTOR FOR LIBRARY OPERATIONS, NLM.
|  | DIRECTOR, OFFICE OF FINANCIAL MANAGEMENT, OD.
|  | ASSOCIATE DIRECTOR FOR ADMINISTRATIVE MANAGEMENT, NHLBI.
|  | ASSOCIATE DIRECTOR FOR MANAGEMENT, OD.
|  | DEPUTY DIRECTOR FOR MANAGEMENT, NINDS.
|  | ASSOCIATE DIRECTOR FOR SECURITY AND EMERGENCY RESPONSE, OD.
|  | ASSOCIATE DIRECTOR FOR MANAGEMENT, NIDCR.
|  | ASSOCIATE DIRECTOR FOR MANAGEMENT, NIDDK.
|  | ERA PROGRAM MANAGER, OD.
|  | ASSOCIATE DIRECTOR OF MANAGEMENT, NIEHS.
|  | DEPUTY DIRECTOR, CIT.
|  | DIRECTOR, OFFICE OF MANAGEMENT ASSESSMENT, OD.
|  | DEPUTY DIRECTOR FOR MANAGEMENT, NEI.
|  | ASSOCIATE DIRECTOR FOR ADMINISTRATIVE MANAGEMENT, NLM.
|  | DEPUTY DIRECTOR, DIVISION OF PROGRAM COORDINATION, PLANNING, AND STRATEGIC INITIATIVES, OD.
|  | SENIOR POLICY OFFICER (ETHICS), OD.
|  | DIRECTOR, OFFICE OF ACQUISITION AND LEGISTICS MANAGEMENT, OD.
|  | DIRECTOR, OFFICE OF POPULATION GENOMICS, NHGRI.
|  | ASSOCIATE DIRECTOR FOR MANAGEMENT, NIMH.
|  | ASSOCIATE DIRECTOR FOR EXTRAMURAL PROGRAMS, NLM.
|  | ASSOCIATE DIRECTOR FOR ADMINISTRATION, NCATS.
|  | DIRECTOR, CENTER FOR INFORMATION TECHNOLOGY AND CHIEF INFORMATION OFFICER.
|  | DIRECTOR, OFFICE OF RESEARCH INFORMATION SYSTEMS.
|  | DIRECTOR, OFFICE OF STRATEGIC PLANNING AND MANAGEMENT OPERATIONS, OD.
|  | DIRECTOR, OFFICE OF INFORMATION TECHNOLOGY SERVICES MANAGEMENT, CIT.
|  | ASSOCIATE DIRECTOR FOR MANAGEMENT, NIGMS.
| SUBSTANCE ABUSE AND MENTAL HEALTH SERVICES ADMINISTRATION | DIRECTOR, OFFICE OF FINANCIAL SERVICES.
NATIONAL INSTITUTES OF HEALTH | NATIONAL LIBRARY OF MEDICINE | DEPUTY DIRECTOR.
| OFFICE OF THE DIRECTOR | DIRECTOR, OFFICE OF RESEARCH FACILITIES DEVELOPMENT AND OPERATIONS.
OFFICE OF THE ASSISTANT SECRETARY FOR FINANCIAL RESOURCES | OFFICE OF THE DEPUTY ASSISTANT SECRETARY FOR BUDGET | DIRECTOR, OFFICE OF PROGRAM INTEGRITY COORDINATION.
| OFFICE OF THE DEPUTY ASSISTANT SECRETARY FOR FINANCE | ASSOCIATE DEPUTY ASSISTANT SECRETARY, FINANCE.
OFFICE OF THE SECRETARY | OFFICE OF THE ASSISTANT SECRETARY FOR ADMINISTRATION | CHIEF INFORMATION SECURITY OFFICER. OS HR OPERATIONS DIRECTOR.
| OFFICE OF THE ASSISTANT SECRETARY FOR FINANCIAL RESOURCES | DIRECTOR, OFFICE OF SMALL AND DISADVANTAGED BUSINESS UTILIZATION.
|  | ASSOCIATE DEPUTY ASSISTANT SECRETARY, ACQUISITION.
|  | ASSOCIATE DEPUTY ASSISTANT SECRETARY, OFFICE OF GRANTS, ACQUISITION POLICY AND ACCOUNTABILITY.
|  | DEPUTY ASSISTANT SECRETARY, OFFICE OF ACQUISITIONS.
| OFFICE OF THE ASSISTANT SECRETARY FOR PLANNING AND EVALUATION | ASSOCIATE DEPUTY ASSISTANT SECRETARY FOR PLANNING AND EVALUATION (HEALTH SERVICES POLICY).
| OFFICE OF THE ASSISTANT SECRETARY FOR PUBLIC AFFAIRS | EXECUTIVE OFFICER/DEPUTY AGENCY CHIEF FOIA.
| OFFICE OF THE GENERAL COUNSEL | DEPUTY ASSOCIATE GENERAL COUNSEL FOR ETHICS ADVICE AND POLICY (ADAEO).
|  | ASSOC GEN COUNSEL, ETHICS DIVISION AND DESIGNATED AGENCY ETHICS OFFICIAL.
PROGRAM SUPPORT CENTER | OFFICE OF FINANCIAL MANAGEMENT SERVICE | DIRECTOR, FINANCIAL MANAGEMENT SERVICE.
DEPARTMENT OF HEALTH AND HUMAN SERVICES OFFICE OF THE INSPECTOR GENERAL | DEPARTMENT OF HEALTH AND HUMAN SERVICES OFFICE OF THE INSPECTOR GENERAL | CHIEF OF STAFF. PRINCIPAL DEPUTY INSPECTOR GENERAL.
DEPARTMENT OF HEALTH AND HUMAN SERVICES OFFICE OF THE INSPECTOR GENERAL | OFFICE OF AUDIT SERVICES | DEPUTY INSPECTOR GENERAL FOR AUDIT SERVICES. ASSISTANT INSPECTOR GENERAL FOR AUDIT SERVICES.
|  | ASSISTANT INSPECTOR GENERAL FOR MEDICARE AND MEDICAID SERVICE AUDITS.
|  | ASSISTANT INSPECTOR GENERAL FOR AUDIT SERVICES (CYBERSECURITY AND INFORMATION TECHNOLOGY AUDITS).
| OFFICE OF COUNSEL TO THE INSPECTOR GENERAL | CHIEF COUNSEL TO THE INSPECTOR GENERAL.
|  | ASSISTANT INSPECTOR GENERAL FOR LEGAL AFFAIRS.
|  | ASSISTANT INSPECTOR GENERAL FOR LEGAL AFFAIRS.
| OFFICE OF EVALUATION AND INSPECTIONS | DEPUTY INSPECTOR GENERAL FOR EVALUATION AND INSPECTIONS.
|  | ASSISTANT INSPECTOR GENERAL FOR EVALUATION AND INSPECTIONS.
|  | ASSISTANT INSPECTOR GENERAL FOR EVALUATION AND INSPECTIONS.
| OFFICE OF INVESTIGATIONS | ASSISTANT INSPECTOR GENERAL FOR INVESTIGATIONS (3).
|  | DEPUTY INSPECTOR GENERAL FOR INVESTIGATIONS.
| OFFICE OF MANAGEMENT AND POLICY | ASSISTANT INSPECTOR GENERAL FOR MANAGEMENT AND POLICY (DEPUTY CHIEF FINANCIAL OFFICER).
|  | DEPUTY INSPECTOR GENERAL FOR MANAGEMENT AND POLICY.
|  | ASSISTANT INSPECTOR GENERAL (CHIEF DATA OFFICER).
|  | ASSISTANT INSPECTOR GENERAL FOR INFORMATION TECHNOLOGY (CHIEF INFORMATION OFFICER).
DEPARTMENT OF HOMELAND SECURITY | CYBERSECURITY AND INFRASTRUCTURE SECURITY AGENCY (CISA) | CHIEF FINANCIAL OFFICER. DIRECTOR, OFFICE OF COMPLIANCE AND SECURITY.
|  | DIRECTOR, HUMAN RESOURCES MANAGEMENT.
|  | DEPUTY DIRECTOR, NETWORK SECURITY DEPLOYMENT.
|  | COMPONENT ACQUSITION EXECUTIVE.
|  | DEPUTY DIRECTOR CYBER THREAT DETECTION AND ANALYSIS.
|  | DEPUTY ASSISTANT DIRECTOR, NATIONAL RISK MANAGEMENT CENTER.
|  | DEPUTY DIRECTOR FEDERAL NETWORK RESILIENCE.
|  | SENIOR ADVISOR, OFFICE OF INFRASTRUCTURE SECURITY.
|  | ASSISTANT DIRECTOR, FUTURES IDENTITY.
|  | DIRECTOR, PROTECTIVE SECURITY COORDINATION.
|  | DEPUTY DIRECTOR OF MANAGEMENT (BUSINESS SERVICE DELIVERY LEAD).
|  | DIRECTOR, NATIONAL INFRASTRUCTURE COORDINATING CENTER.
|  | DEPUTY DIRECTOR, OFFICE OF BIOMETRIC IDENTITY MANAGEMENT.
|  | ASSISTANT DIRECTOR FOR EMERGENCY COMMUNICATIONS.
|  | DEPUTY ASSISTANT DIRECTOR FOR CYBERSECURITY.
|  | DIRECTOR OF MANAGEMENT.
|  | ASSISTANT DIRECTOR, NATIONAL RISK MANAGEMENT CENTER.
|  | DIRECTOR, INFRASTUCTURE SECURITY COMPLIANCE.
|  | CISA CHIEF INFORMATION OFFICER.
|  | DEPUTY DIRECTOR FOR OPERATIONS, NATIONAL CYBERSECURITY AND COMMUNICATIONS INTEGRATION CENTER (NCCIC).
|  | SENIOR COUNSELOR TO THE DIRECTOR FOR CISA.
|  | DEPUTY ASSISTANT DIRECTOR FOR EMERGENCY COMMUNICATIONS.
|  | CHIEF TECHNOLOGY OFFICER, CYBER SECURITY AND COMMUNICATIONS.
|  | DEPUTY ASSISTANT DIRECTOR FOR INFRASTRUCTURE SECURITY.
|  | DIRECTOR MISSION INTEGRATION.
|  | PRINCIPAL DEPUTY DIRECTOR, NATIONAL CYBERSECURITY AND COMMUNICATIONS INTEGRATION CENTER.
|  | DIRECTOR, NETWORK SECURITY DEPLOYMENT.
|  | DIRECTOR, NATIONAL CYBERSECURITY AND COMMUNICATIONS INTEGRATION CENTER.
| FEDERAL EMERGENCY MANAGEMENT AGENCY | DEPUTY CHIEF INFORMATION OFFICER.
|  | DEPUTY CHIEF FINANCIAL OFFICER.
|  | DEPUTY ASSOCIATE ADMINISTRATOR, FEDERAL INSURANCE AND MITIGATION ADMINISTRATION.
|  | DIRECTOR, GRANTS MANAGEMENT DIVISION.
|  | DEPUTY CHIEF COUNSEL FOR GENERAL LAW.
|  | ASSOCIATE ADMINISTRATOR, MISSION SUPPORT BUREAU.
|  | ASSISTANT ADMINISTRATOR FOR BUDGET.
|  | DEPUTY CHIEF COMPONENT HUMAN CAPITAL OFFICER FOR STRATEGIC SERVICES .
|  | ASSISTANT ADMINISTRATOR FOR RISK MANAGEMENT.
|  | DIRECTOR, INDIVIDUAL ASSISTANCE DIVISION.
|  | DIRECTOR, PUBLIC ASSISTANCE DIVISION.
|  | DIRECTOR, PLANNING AND EXERCISE DIVISION, OFFICE OF RESPONSE AND RECOVERY.
|  | ASSISTANT ADMINISTRATOR FOR FEDERAL INSURANCE.
|  | DIRECTOR, NATIONAL EXERCISE DIVISION.
|  | CHIEF FINANCIAL OFFICER.
|  | CHIEF COMPONENT PROCUREMENT OFFICER.
|  | SUPERINTENDENT, EMERGENCY MANAGEMENT INSTITUTE.
|  | DEPUTY ASSISTANT ADMINISTRATOR FOR FINANCIAL SYSTEMS MODERNIZATION.
|  | DEPUTY ASSOCIATE ADMINISTRATOR FOR MISSION SUPPORT.
|  | ASSISTANT ADMINISTRATOR FOR NATIONAL PREPAREDNESS.
|  | DEPUTY DIRECTOR, EXTERNAL AFFAIRS.
|  | SUPERINTENDENT, CENTER FOR DOMESTIC PREPAREDNESS.
|  | DEPUTY CHIEF COUNSEL FOR OPERATIONS.
|  | DEPUTY ASSISTANT ADMINISTRATOR, GRANTS PROGRAM.
|  | ASSISTANT ADMINISTRATOR FOR FINANCIAL MANAGEMENT.
|  | DEPUTY ASSISTANT ADMINISTRATOR FOR MITIGATION.
|  | ASSISTANT ADMINISTRATOR, FIELD OPERATIONS DIRECTORATE.
|  | DEPUTY CHIEF COMPONENT PROCUREMENT OFFICER.
|  | CHIEF ADMINISTRATIVE OFFICER.
|  | DEPUTY ASSISTANT ADMINISTRATOR FOR RESPONSE.
|  | DEPUTY CHIEF INFORMATION OFFICER (DISASTER OPERATIONS), MISSION SUPPPORT DIRECTORATE.
|  | DIRECTOR, OPERATIONAL COORDINATION.
|  | DIRECTOR, OPERATIONS DIVISION (RESPONSE AND RECOVERY).
|  | DIRECTOR, TECHNOLOGICAL HAZARDS DIVISION.
|  | DEPUTY ASSOCIATE ADMINISTRATOR FOR POLICY, PROGRAM ANALYSIS AND INTERNATIONAL AFFAIRS.
|  | DIRECTOR, EMERGENCY COMMUNICATION DIVISION.
|  | CHIEF TECHNOLOGY OFFICER.
|  | CHIEF SECURITY OFFICER.
|  | DIRECTOR, NATIONAL PREPAREDNESS ASSESSMENT DIVISION.
|  | DEPUTY ASSISTANT ADMINISTRATOR, FIELD OPERATIONS DIRECTORATE.
|  | CHIEF LEARNING OFFICER.
|  | DEPUTY REGIONAL ADMINISTRATOR (REGION VI, DALLAS).
|  | DEPUTY REGIONAL ADMINISTRATOR, REGION IV, ATLANTA.
|  | DEPUTY ASSISTANT ADMINISTRATOR, NATIONAL PREPAREDNESS DIRECTORATE.
|  | PRINCIPAL DEPUTY CHIEF COUNSEL.
|  | DEPUTY ASSISTANT ADMINISTRATOR FOR FEDERAL INSURANCE.
|  | ASSISTANT ADMINISTRATOR FOR MITIGATION.
|  | DEPUTY REGIONAL ADMINISTRATOR (REGION 1 BOSTON).
|  | DEPUTY REGIONAL ADMINISTRATOR (REGION II NEW YORK).
|  | DEPUTY REGIONAL ADMINISTRATOR (REGION III PHILADELPHIA).
|  | DEPUTY REGIONAL ADMINISTRATOR (REGION V CHICAGO).
|  | DEPUTY REGIONAL ADMINISTRATOR (REGION VII KANSAS).
|  | DEPUTY REGIONAL ADMINISTRATOR (REGION VIII DENVER).
|  | DEPUTY REGIONAL ADMINISTRATOR ( REGION X SEATTLE).
|  | DEPUTY ASSISTANT ADMINISTRATOR, GRANTS SYSTEMS AND POLICY INTEGRATION.
|  | ASSISTANT ADMINISTRATOR, FUND MANAGEMENT.
|  | DEPUTY CHIEF ADMINISTRATIVE OFFICER.
|  | DEPUTY ASSISTANT ADMINISTRATOR FOR RISK MANAGEMENT.
|  | DIRECTOR, OFFICE OF EQUAL RIGHTS.
|  | DIRECTOR, OFFICE OF PROFESSIONAL RESPONSIBILITY.
| FEDERAL LAW ENFORCEMENT TRAINING CENTER | ASSISTANT DIRECTOR (MISSION AND READINESS SUPPORT DIRECTORATE).
|  | ASSISTANT DIRECTOR OF TRAINING (CORE TRAINING OPERATIONS DIRECTORATE.
|  | ASSISTANT DIRECTOR (CHIEF FINANCIAL OFFICER).
|  | ASSISTANT DIRECTOR OF TRAINING (NATIONAL CAPITAL REGION TRAINING OPERATIONS DIRECTORATE.
|  | ASSOCIATE DIRECTOR FOR TRAINING OPERATIONS.
|  | ASSISTANT DIRECTOR (CHIEF INFORMATION OFFICER DIRECTORATE).
|  | CHIEF COUNSEL.
|  | ASSISTANT DIRECTOR OF TRAINING (TRAINING MANAGEMENT OPERATIONS DIRECTORATE).
|  | DIRECTOR, FEDERAL LAW ENFORCEMENT TRAINING CENTER.
|  | DEPUTY DIRECTOR.
|  | ASSISTANT DIRECTOR OF TRAINING (TECHNICAL TRAINING OPERATIONS DIRECTORATE).
| OFFICE OF COUNTERING WEAPONS OF MASS DESTRUCTION (CWMD) | PRINCIPAL DEPUTY ASSISTANT SECRETARY FOR HEALTH AFFAIRS.
| OFFICE OF COUNTERING WEAPONS OF MASS DESTRUCTION (FORMERLY DNDO) | DEPUTY ASSISTANT SECRETARY FOR POLICY AND PLANS. ASSISTANT DIRECTOR, OPERATIONS SUPPORT DIRECTORATE.
|  | ASSOCIATE DEPUTY ASSISTANT SECRETARY FOR SYSTEMS SUPPORT.
|  | DIRECTOR OF ACQUISITION.
|  | CHIEF OF STAFF.
| OFFICE OF THE ASSISTANT SECRETARY FOR POLICY | DEPUTY ASSISTANT SECRETARY FOR INTERNATIONAL AFFAIRS (WESTERN HEMISPHERE).
|  | DEPUTY ASSISTANT SECRETARY FOR IMMIGRATION STATISTICS.
|  | DEPARTMENT OF HOMELAND SECURITY (DHS) ATTACHE TO CENTRAL AMERICA.
|  | DEPUTY ASSISTANT SECRETARY FOR CYBER POLICY.
|  | DEPUTY ASSISTANT SECRETARY FOR UNITY OF EFFORT INTEGRATION.
| OFFICE OF THE GENERAL COUNSEL | DEPUTY ASSOCIATE GENERAL COUNSEL FOR ACQUISITION AND PROCUREMENT.
|  | CHIEF OF STAFF/MANAGING COUNSEL.
|  | LEGAL ADVISOR OF ETHICS/ALTERNATE DESIGNATED AGENCY ETHICS OFFICIAL.
|  | DEPUTY ASSOCIATE GENERAL COUNSEL FOR GENERAL LAW.
| OFFICE OF THE SECRETARY | SENIOR DEPARTMENT OF HOMELAND SECURITY ADVISOR TO THE COMMANDER, UNITED STATES NORTHERN COMMAND/NORTH AMERICAN AEROSPACE DEFENSE COMMAND.
|  | DEPARTMENT OF HOMELAND SECURITY (DHS) ADVISOR TO THE DEPARTMENT OF DEFENSE (DOD).
| OFFICE OF THE UNDER SECRETARY FOR INTELLIGENCE AND ANALYSIS | PRINCIPAL DEPUTY UNDER SECRETARY FOR INTELLIGENCE AND ANALYSIS.
|  | DIRECTOR, CURRENT AND EMERGING THREATS CENTER.
|  | CHIEF OF STAFF.
|  | DIRECTOR, BORDER SECURITY DIVISION.
|  | DIRECTOR, CYBER MISSION CENTER.
|  | DEPUTY UNDER SECRETARY FOR INTELLIGENCE ENTERPRISE READINESS.
| OFFICE OF THE UNDER SECRETARY FOR MANAGEMENT | ASSISTANT DIRECTOR, OFFICE OF TRAINING AND CAREER DEVELOPMENT, FEDERAL PROTECTIVE SERVICE.
|  | ASSISTANT DIRECTOR, OFFICE OF RESOURCE MANAGEMENT, FEDERAL PROTECTIVE SERVICE.
|  | PRINCIPAL DEPUTY DIRECTOR, FEDERAL PROTECTIVE SERVICE.
|  | ASSISTANT DIRECTOR PROTECTIVE SECURITY OFFICER OVERSIGHT.
|  | DIRECTOR, FEDERAL PROTECTIVE SERVICE.
|  | DEPUTY DIRECTOR, TECHNOLOGY AND INNOVATION (CHIEF TECHNOLOGY OFFICER).
|  | DEPUTY DIRECTOR, POLICY, INTERGOVERNMENTAL PROGRAMS AND COMMUNICATIONS.
|  | ASSISTANT DIRECTOR FOR FIELD OPERATIONS (EAST), FEDERAL PROTECTIVE SERVICE.
|  | ASSISTANT DIRECTOR OF OPERATIONS, FEDERAL PROTECTIVE SERVICES.
|  | ASSISTANT DIRECTOR OF FIELD OPERATIONS (WEST), FEDERAL PROTECTIVE SERVICES.
|  | ASSISTANT DIRECTOR OF FIELD OPERATIONS (CENTRAL), FEDERAL PROTECTIVE SERVICES.
| OFFICE OF THE UNDER SECRETARY FOR SCIENCE AND TECHNOLOGY | SENIOR ADVISOR TO THE DEPUTY UNDER SECRETARY FOR SCIENCE AND TECHNOLOGY.
|  | CHIEF SCIENTIST.
|  | DIRECTOR, TECHNOLOGY TRANSITION.
|  | SENIOR COUNSELOR FOR RESILIENCE.
|  | DIRECTOR, TECHNOLOGY CENTERS.
|  | DIRECTOR, OFFICE FOR STRATEGY AND POLICY.
|  | DIRECTOR, CYBER SECURITY DIVISION.
|  | SENIOR ADVISOR FOR INTERAGENCY COORDINATION.
|  | TECHNICAL DIRECTOR, TECHNOLOGY CENTERS.
|  | PRINCIPAL DIRECTOR, OFFICE OF ENTERPRISE SERVICES.
|  | PRINCIPAL DIRECTOR, OFFICE OF INNOVATION AND COLLABORATION.
|  | DIRECTOR, OPERATIONS AND REQUIREMENTS ANALYSIS.
| UNITED STATES CITIZENSHIP AND IMMIGRATION SERVICES | DEPUTY CHIEF OFFICE OF SECURITY AND INTEGRITY. DEPUTY DIRECTOR, SERVICE CENTER, SAINT ALBANS, VERMONT.
|  | DEPUTY ASSOCIATE DIRECTOR, OFFICE OF MANAGEMENT.
|  | DEPUTY ASSOCIATE DIRECTOR, EXTERNAL AFFAIRS DIRECTORATE.
|  | ASSOCIATE DIRECTOR, FIELD OPERATIONS.
|  | CHIEF, ADMINISTRATIVE APPEALS.
|  | CHIEF, VERIFICATION DIVISION.
|  | DISTRICT DIRECTOR, FIELD SERVICES, BOSTON, MASSACHUSETTS.
|  | DISTRICT DIRECTOR, FIELD SERVICES, CHICAGO, ILLINOIS.
|  | DEPUTY CHIEF, PROGRAMS, INNOVATION, AND INITIATIVES.
|  | DEPUTY DIRECTOR, NATIONAL BENEFITS CENTER.
|  | DIRECTOR, NATIONAL RECORDS CENTER.
|  | DEPUTY DIRECTOR, SERVICE CENTER, LAGUNA NIGUEL, CALIFORNIA.
|  | DEPUTY DIRECTOR, SERVICE CENTER, DALLAS, TEXAS.
|  | DISTRICT DIRECTOR, FIELD SERVICES (CLEVELAND, OH).
|  | CHIEF, IMMIGRANT AND INVESTOR PROGRAM.
|  | DEPUTY DIRECTOR, POTOMAC SERVICE CENTER.
|  | DIRECTOR, POTOMAC SERVICE CENTER.
|  | DISTRICT DIRECTOR, FIELD SERVICES, DALLAS, TEXAS.
|  | CHIEF DATA OFFICER.
|  | DEPUTY CHIEF FINANCIAL OFFICER.
|  | CHIEF, ASYLUM DIVISION.
|  | DISTRICT DIRECTOR, FIELD SERVICES, NEW YORK CITY, NEW YORK.
|  | DEPUTY ASSOCIATE DIRECTOR, IMMIGRATION RECORDS AND IDENTITY SERVICES DIVISION.
|  | DEPUTY CHIEF INFORMATION OFFICER.
|  | CHIEF, HUMAN CAPITAL AND TRAINING.
|  | CHIEF, PERFORMANCE AND QUALITY.
|  | CHIEF INFORMATION OFFICER.
|  | ASSOCIATE DIRECTOR, OFFICE OF MANAGEMENT.
|  | ASSOCIATE DIRECTOR, FRAUD DETECTION AND NATIONAL SECURITY.
|  | CHIEF, INTAKE AND DOCUMENT PRODUCTION.
|  | DEPUTY GENERAL COUNSEL.
|  | ASSOCIATE DIRECTOR, REFUGEE, ASYLUM AND INTERNATIONAL OPERATIONS.
|  | DEPUTY ASSOCIATE DIRECTOR, FRAUD DETECTION AND NATIONAL SECURITY.
|  | CHIEF, INTERNATIONAL OPERATIONS.
|  | DISTRICT DIRECTOR, FIELD SERVICES, TAMPA, FLORIDA.
|  | DEPUTY DIRECTOR, SERVICE CENTER, LINCOLN, NEBRASKA.
|  | CHIEF, OFFICE OF SECURITY AND INTEGRITY.
|  | ASSOCIATE DIRECTOR, IMMIGRATION RECORDS AND IDENTITY SERVICES DIVISION.
|  | DEPUTY ASSOCIATE DIRECTOR, REFUGEE, ASYLUM, AND INTERNATIONAL OPERATIONS.
|  | ASSOCIATE DIRECTOR, SERVICE CENTER OPERATIONS.
|  | DISTRICT DIRECTOR, FIELD SERVICES, MIAMI, FLORIDA.
|  | CHIEF, OFFICE OF ADMINISTRATION.
|  | DIRECTOR, NATIONAL BENEFITS CENTER.
|  | DISTRICT DIRECTOR, FIELD SERVICES, LOS ANGELES CALIFORNIA.
|  | DISTRICT DIRECTOR, FIELD SERVICES, SAN FRANCISCO CALIFORNIA.
|  | REGIONAL DIRECTOR, SOUTHEAST REGION.
|  | WESTERN REGIONAL DIRECTOR (LAGUNA NIGUEL, CALIFORNIA).
|  | NORTHEAST REGIONAL DIRECTOR (BURLINGTON, VERMONT).
|  | CHIEF FINANCIAL OFFICER.
|  | DISTRICT DIRECTOR, FIELD SERVICES, NEWARK, NEW JERSEY.
|  | DISTRICT DIRECTOR, FIELD SERVICES, ATLANTA, GEORGIA.
|  | DIRECTOR, SERVICE CENTER, LINCOLN, NEBRASKA.
|  | DIRECTOR, SERVICE CENTER, LAGUNA NIGUEL, CALIFORNIA.
|  | DIRECTOR, SERVICE CENTER, DALLAS, TEXAS.
|  | DIRECTOR, VERMONT SERVICE CENTER, SAINT ALBANS, VERMONT.
|  | CENTRAL REGIONAL DIRECTOR (DALLAS, TEXAS).
|  | DEPUTY ASSOCIATE DIRECTOR, OFFICE OF FIELD OPERATIONS.
|  | DIRECTOR, OFFICE OF REFUGEE AFFAIRS.
|  | DEPUTY CHIEF INFORMATION OFFICE FOR OPERATIONS.
|  | DISTRICT DIRECTOR, WASHINGTON, DC.
|  | CHIEF, OFFICE OF CONTRACTING.
|  | DEPUTY ASSOCIATE DIRECTOR, SERVICE CENTER OPERATIONS.
|  | DEPUTY CHIEF COUNSEL FOR FIELD MANAGEMENT.
| UNITED STATES CUSTOMS AND BORDER PROTECTION | DIRECTOR, FIELD OPERATIONS (EL PASO). ASSISTANT COMMISSIONER, ACQUISITION, CHIEF ACQUISITION OFFICER.
|  | DEPUTY CHIEF PATROL AGENT, EL PASO.
|  | PORT DIRECTOR, JFK AIRPORT.
|  | EXECUTIVE DIRECTOR, PLANNING, PROGRAM ANALYSIS AND EVALUATION.
|  | DEPUTY CHIEF COUNSEL.
|  | ASSOCIATE CHIEF COUNSEL—ENFORCEMENT.
|  | ASSOCIATE CHIEF COUNSEL—TRADE AND FINANCE.
|  | ASSOCIATE CHIEF COUNSEL FOR ETHICS, LABOR, AND EMPLOYMENT.
|  | ASSOCIATE CHIEF COUNSEL—SOUTHEAST.
|  | ASSOCIATE CHIEF COUNSEL—NEW YORK.
|  | ASSOCIATE CHIEF COUNSEL, CHICAGO.
|  | ASSOCIATE CHIEF COUNSEL (HOUSTON).
|  | ASSOCIATE CHIEF COUNSEL—LOS ANGELES.
|  | DEPUTY ASSISTANT COMMISSIONER, FINANCE.
|  | EXECUTIVE DIRECTOR, CYBERSECURITY OPERATIONS AND POLICY.
|  | EXECUTIVE DIRECTOR, INTELLIGENCE AND ANALYSIS.
|  | DEPUTY COMMISSIONER.
|  | ASSISTANT COMMISSIONER, HUMAN RESOURCES MANAGEMENT.
|  | DEPUTY ASSISTANT COMMISSIONER, HUMAN RESOURCES MANAGEMENT.
|  | EXECUTIVE DIRECTOR, HUMAN RESOURCES POLICY AND PROGRAMS.
|  | ASSISTANT COMMISSIONER, FACILITIES AND ASSET MANAGMENT, CHIEF READINESS SUPPORT OFFICER.
|  | ASSISTANT COMMISSIONER, TRAINING AND DEVELOPMENT.
|  | EXECUTIVE ASSISTANT COMMISSIONER, OFFICE OF TRADE.
|  | EXECUTIVE DIRECTOR, REGULATORY AUDIT.
|  | EXECUTIVE DIRECTOR, REGLUATIONS AND RULINGS.
|  | ASSISTANT COMMISSIONER, FINANCE, CHIEF FINANCIAL OFFICER.
|  | EXECUTIVE DIRECTOR, BUDGET.
|  | ASSISTANT COMMISSIONER, INFORMATION AND TECHNOLOGY.
|  | EXECUTIVE DIRECTOR, LABORATORIES AND SCIENTIFIC SERVICES.
|  | EXECUTIVE ASSISTANT COMMISSIONER, FIELD OPERATIONS.
|  | DEPUTY EXECUTIVE ASSISTANT COMMISSIONER, FIELD OPERATIONS.
|  | DEPUTY CHIEF (DEPUTY EXECUTIVE ASSISTANT COMMISSIONER), BORDER PATROL.
|  | EXECUTIVE DIRECTOR, OPERATIONS.
|  | DIRECTOR, FIELD OPERATIONS (SEATTLE).
|  | DIRECTOR, FIELD OPERATIONS (DETROIT).
|  | DIRECTOR, FIELD OPERATIONS (BUFFALO).
|  | DEPUTY ASSISTANT COMMISSIONER, OFFICE OF TRAINING AND DEVELOPMENT.
|  | DEPUTY CHIEF PATROL AGENT, RIO GRANDE VALLEY.
|  | DIRECTOR, FIELD OPERATIONS (ATLANTA).
|  | EXECUTIVE DIRECTOR, CARGO AND CONVEYANCE SECURITY.
|  | EXECUTIVE DIRECTOR, PLANNING, ANALYSIS AND REQUIREMENTS EVALUATION (PARE).
|  | EXECUTIVE ASSISTANT COMMISSIONER, AIR AND MARINE.
|  | CHIEF PATROL AGENT (DEL RIO).
|  | CHIEF PATROL AGENT (TUCSON).
|  | PORT DIRECTOR, LOS ANGELES/LONG BEACH SEAPORT.
|  | PORT DIRECTOR (EL PASO).
|  | DEPUTY ASSISTANT COMMISSIONER, INFORMATION AND TECHNOLOGY.
|  | EXECUTIVE DIRECTOR, PROCUREMENT.
|  | CHIEF PATROL AGENT, RIO GRANDE VALLEY.
|  | EXECUTIVE DIRECTOR, AGRICULTURE PROGRAMS AND TRADE LIAISON.
|  | EXECUTIVE DIRECTOR, MISSION SUPPORT.
|  | DEPUTY EXECUTIVE ASSISTANT COMMISSIONER, OPERATIONS SUPPORT.
|  | DIRECTOR, FIELD OPERATIONS (BOSTON).
|  | PORT DIRECTOR, LOS ANGELES AIRPORT.
|  | EXECUTIVE DIRECTOR, PLANNING, PROGRAM ANALYSIS, AND EVALUATION.
|  | DEPUTY EXECUTIVE ASSISTANT COMMISSIONER, OFFICE OF TRADE.
|  | EXECUTIVE DIRECTOR, NATIONAL TARGETING CENTER.
|  | PORT DIRECTOR, SAN FRANCISCO.
|  | DIRECTOR, FIELD OPERATIONS (TUCSON).
|  | DIRECTOR, FIELD OPERATIONS (SAN JUAN).
|  | ASSISTANT COMMISSIONER, OFFICE OF PROFESSIONAL RESPONSIBILITY.
|  | DIRECTOR, FIELD OPERATIONS (NEW YORK).
|  | CHIEF ACCOUNTABILITY OFFICER.
|  | PORT DIRECTOR, NEWARK.
|  | PORT DIRECTOR, MIAMI INTERNATIONAL AIRPORT.
|  | DIRECTOR, FIELD OPERATIONS (MIAMI).
|  | DIRECTOR, FIELD OPERATIONS (CHICAGO).
|  | DIRECTOR, FIELD OPERATIONS (LOS ANGELES).
|  | DIRECTOR, FIELD OPERATIONS (HOUSTON).
|  | DIRECTOR, FIELD OPERATIONS (LAREDO).
|  | DIRECTOR, FIELD OPERATIONS (SAN DIEGO).
|  | DEPUTY EXECUTIVE ASSISTANT COMMISSIONER, AIR AND MARINE.
|  | CHIEF (EXECUTIVE ASSISTANT COMMISSIONER), UNITED STATES BORDER PATROL.
|  | CHIEF PATROL AGENT, LAREDO.
|  | DIRECTOR, FIELD OPERATIONS (SAN FRANCISCO).
|  | CHIEF PATROL AGENT (EL PASO).
|  | CHIEF PATROL AGENT, SAN DIEGO.
|  | DEPUTY ASSISTANT COMMISSIONER, OFFICE OF PROFESSIONAL RESPONSIBILITY.
|  | DEPUTY CHIEF, LAW ENFORCEMENT OPERATIONS, OFFICE OF BORDER PATROL.
|  | EXECUTIVE DIRECTOR, MISSION SUPPORT, OFFICE OF CUSTOMS AND BORDER PROTECTION (CBP) AIR AND MARINE.
|  | EXECUTIVE ASSISTANT COMMISSIONER, ENTERPRISE SERVICES.
|  | EXECUTIVE DIRECTOR, TRADE POLICY AND PROGRAMS.
|  | EXECUTIVE DIRECTOR, OPERATIONS, AIR AND MARINE.
|  | DEPUTY CHIEF PATROL AGENT, SAN DIEGO.
|  | CHIEF PATROL AGENT, EL CENTRO, CALIFORNIA.
|  | DEPUTY CHIEF PATROL AGENT, TUCSON.
|  | PORT DIRECTOR, SAN YSIDRO.
|  | DEPUTY ASSISTANT COMMISSIONER, OFFICE OF ACQUISITION.
|  | EXECUTIVE DIRECTOR, TALENT MANAGEMENT.
|  | EXECUTIVE DIRECTOR, TRAINING, SAFETY AND STANDARDS.
|  | EXECUTIVE DIRECTOR, NATIONAL AIR SECURITY OPERATIONS, AIR AND MARINE.
|  | EXECUTIVE DIRECTOR, PASSENGER SYSTEMS PROGRAM OFFICE.
|  | CHIEF, STRATEGIC PLANNING AND ANALYSIS.
|  | DEPUTY ASSISTANT COMMISSIONER, OFFICE OF INTELLIGENCE.
|  | EXECUTIVE DIRECTOR, FIELD SUPPORT.
|  | EXECUTIVE DIRECTOR, TARGETING AND ANALYSIS SYSTEMS.
|  | EXECUTIVE DIRECTOR, ENTERPRISE DATA MANAGEMENT AND ENGINEERING.
|  | PORT DIRECTOR, LAREDO.
|  | EXECUTIVE DIRECTOR, FINANCIAL OPERATIONS.
|  | EXECUTIVE DIRECTOR, ADMISSIBILITY AND PASSENGER PROGRAMS.
|  | DEPUTY CHIEF, LAW ENFORCEMENT OPERATIONAL PROGRAMS, OFFICE OF BORDER PATROL.
|  | EXECUTIVE DIRECTOR, CARGO SYSTEMS.
|  | CHIEF PATROL AGENT, YUMA, ARIZONA.
|  | EXECUTIVE DIRECTOR, MISSION READINESS OPERATIONS DIRECTORATE.
|  | EXECUTIVE DIRECTOR, ENTERPRISE NETWORKS AND TECHNOLOGY SUPPORT.
|  | CHIEF, LAW ENFORCEMENT OPERATIONS, OFFICE OF BORDER PATROL.
|  | EXECUTIVE DIRECTOR, INTELLIGENCE OPERATIONS.
|  | DIRECTOR, JOINT TASK FORCE (JTF)—WEST, SAN ANTONIO, TX.
|  | DIRECTOR, NATIONAL TARGETING CENTER (PASSENGER).
|  | CHIEF PATROL AGENT (DETROIT).
|  | DIRECTOR, NATIONAL TARGETING CENTER (CARGO).
|  | DEPUTY JOINT FIELD COMMANDER, EAST.
|  | DIRECTOR, COUNTER NETWORK.
|  | EXECUTIVE ASSISTANT COMMISSIONER, OPERATIONS SUPPORT.
|  | EXECUTIVE DIRECTOR, BORDER ENFORCEMENT AND MANAGEMENT SYSTEMS.
|  | CHIEF PATROL AGENT (BIG BEND).
|  | EXECUTIVE DIRECTOR, ACQUISITION MANAGEMENT.
|  | ASSISTANT COMMISSIONER, INTERNATIONAL AFFAIRS.
|  | EXECUTIVE DIRECTOR, AUTOMATED COMMERCIAL ENVIRONMENT (ACE) BUSINESS OFFICE.
|  | ASSISTANT COMMISSIONER, OFFICE OF INTELLIGENCE.
|  | DEPUTY EXECUTIVE ASSISTANT COMMISSIONER, ENTERPRISE SERVICES.
|  | DIRECTOR, FIELD OPERATIONS (PRECLEARANCE).
|  | DIRECTOR OF OPERATIONS, SOUTHWEST BORDER, EL PASO, NEW MEXICO.
|  | EXECUTIVE DIRECTOR, AIR AND MARINE OPERATIONS CENTER, RIVERSIDE, OFFICE OF CUSTOMS AND BORDER PROTECTION (CBP) AIR AND MARINE.
|  | DIRECTOR OF OPERATIONS, SOUTHEASTERN REGION, MIAMI, FL.
|  | DEPUTY ASSISTANT COMMISSIONER, INTERNATIONAL AFFAIRS.
|  | DIRECTOR OF OPERATIONS, NORTHERN REGION, WDC, (CBP) AMO.
|  | EXECUTIVE DIRECTOR, PROGRAM MANAGEMENT OFFICE.
|  | EXECUTIVE DIRECTOR, COMMERCIAL TARGETING AND ENFORCEMENT.
|  | DIRECTOR, BORDER PATROL ACADEMY.
|  | EXECUTIVE DIRECTOR, INTERGOVERNMENTAL PUBLIC LIAISON.
|  | PORT DIRECTOR (OTAY MESA).
|  | DIRECTOR, LEADERSHIP DEVELOPMENT CENTER.
|  | ASSOCIATE CHIEF COUNSEL (TUCSON).
|  | DIRECTOR, FIELD OPERATIONS (BALTIMORE).
|  | PORT DIRECTOR, BUFFALO.
|  | PORT DIRECTOR, CALEXICO, CA.
|  | PORT DIRECTOR, NOGALES, AZ.
|  | SENIOR INTELLIGENCE ADVISOR.
|  | EXECUTIVE DIRECTOR, PRIVACY AND DIVERSITY.
|  | EXECUTIVE DIRECTOR, PROGRAMMING.
|  | EXECUTIVE DIRECTOR, INVESTIGATIVE OPERATIONS.
| UNITED STATES IMMIGRATION AND CUSTOMS ENFORCEMENT | DEPUTY ASSISTANT DIRECTOR, TRANSNATIONAL ORGANIZED CRIME DIVISION TWO.
|  | DEPUTY ASSISTANT DIRECTOR, INTELLIGENCE, HOMELAND SECURITY INVESTIGATIONS.
|  | ASSISTANT DIRECTOR, SECURITY DIVISION.
|  | DEPUTY ASSISTANT DIRECTOR NATIONAL SECURITY PROGRAMS.
|  | DEPUTY ASSISTANT DIRECTOR, FIELD OPERATIONS (DOMESTIC OPERATIONS—EAST).
|  | FIELD OFFICE DIRECTOR, OFFICE OF ENFORCEMENT AND REMOVAL, BUFFALO, NY.
|  | FIELD OFFICE DIRECTOR, OFFICE OF ENFORCEMENT AND REMOVAL, BOSTON, MA.
|  | CHIEF COUNSEL, PHOENIX.
|  | CHIEF COUNSEL, CHICAGO.
|  | CHIEF COUNSEL, SAN ANTONIO.
|  | FIELD OFFICE DIRECTOR, OFFICE OF ENFORCEMENT AND REMOVAL, DENVER, CO.
|  | DIRECTOR, FACILITIES AND ASSET ADMINISTRATION.
|  | DEPUTY ASSISTANT DIRECTOR, DOMESTIC OPERATIONS.
|  | FIELD OFFICE DIRECTOR, OFFICE OF ENFORCEMENT AND REMOVAL OPERATIONS, PHOENIX, ARIZONA.
|  | FIELD OFFICE DIRECTOR, OERO, LOS ANGELES, CALIFORNIA.
|  | FIELD OFFICE DIRECTOR, OFFICE OF ERO, NEW YORK.
|  | SPECIAL AGENT IN CHARGE, SAINT PAUL, MINNESOTA.
|  | SPECIAL AGENT IN CHARGE, TAMPA, FLORIDA.
|  | SPECIAL AGENT IN CHARGE, NEWARK, NEW JERSEY.
|  | SPECIAL AGENT IN CHARGE, BOSTON, MASSACHUSETTS.
|  | SPECIAL AGENT IN CHARGE, PHILADELPHIA, PENNSYLVANIA.
|  | SPECIAL AGENT IN CHARGE, BUFFALO, NEW YORK.
|  | SPECIAL AGENT IN CHARGE, SAN JUAN, PUERTO RICO.
|  | DEPUTY ASSISTANT DIRECTOR, STUDENT AND EXCHANGE VISITOR PROGRAM.
|  | CHIEF COUNSEL, MIAMI.
|  | CHIEF COUNSEL FOR LOS ANGELES.
|  | ASSISTANT DIRECTOR, OFFICE OF INVESTIGATIONS.
|  | ASSISTANT DIRECTOR, INSPECTIONS AND DETENTION OVERSIGHT DIVISION.
|  | COMPONENT ACQUSITION EXECUTIVE.
|  | SPECIAL AGENT IN CHARGE, HONOLULU, HI.
|  | DIRECTOR, FEDERAL EXPORT ENFORCEMENT COORDINATION CENTER.
|  | ASSISTANT DIRECTOR, HOMELAND SECURITY INVESTIGATIVE PROGRAMS.
|  | FIELD OFFICE DIRECTOR, OFFICE OF ENFORCEMENT AND REMOVAL OPERATIONS, MIAMI, FLORIDA.
|  | FIELD OFFICE DIRECTOR, OFFICE OF ENFORCEMENT AND REMOVAL, NEW ORLEANS, LOUISIANA.
|  | SPECIAL AGENT IN CHARGE, DENVER.
|  | FIELD OFFICE DIRECTOR, OFFICE OF ENFORCEMENT AND REMOVAL, EL PASO, TEXAS.
|  | FIELD OFFICE DIRECTOR, OFFICE OF ENFORCEMENT AND REMOVAL, ALTANTA, GEORGIA.
|  | FIELD OFFICE DIRECTOR, OFFICE OF ENFORCEMENT AND REMOVAL, CHICAGO, ILLINOIS.
|  | FIELD OFFICE DIRECTOR, OFFICE OF ENFORCEMENT AND REMOVAL, HOUSTON, TEXAS.
|  | ASSISTANT DIRECTOR, INTELLECTUAL PROPERTY RIGHTS CENTER.
|  | ASSISTANT DIRECTOR, OPERATIONAL TECHNOLOGY AND CYBER DIVISION.
|  | DEPUTY CHIEF HUMAN CAPITAL OFFICER FOR OPERATIONS.
|  | SPECIAL AGENT IN CHARGE, DETROIT.
|  | DEPUTY CHIEF INFORMATION OFFICER.
|  | ASSISTANT DIRECTOR, ENFORCEMENT AND REMOVAL OPERATIONS, TARGETING OPERATIONS DIVISION.
|  | ASSISTANT DIRECTOR, OFFICE OF INVESTIGATIONS (DOMESTIC OPERATIONS).
|  | DEPUTY ASSISTANT DIRECTOR, FIELD OPERATIONS (DOMESTIC OPERATIONS—WEST), OFFICE OF ENFORCEMENT AND REMOVAL OPERATIONS.
|  | CHIEF COUNSEL, NEW YORK.
|  | DEPUTY PRINCIPAL LEGAL ADVISOR FOR FIELD OPERATIONS.
|  | DEPUTY PRINCIPAL LEGAL ADVISOR FOR GENERAL AND ADMINISTRATIVE LAW.
|  | DEPUTY DIRECTOR, ENFORCEMENT AND REMOVAL OPERATIONS.
|  | DEPUTY ASSISTANT DIRECTOR, CYBER DIVISION.
|  | ASSISTANT DIRECTOR, OFFICE OF LEADERSHIP AND CAREER DEVELOPMENT.
|  | ASSISTANT DIRECTOR, INFORMATION GOVERNANCE AND PRIVACY.
|  | FIELD OFFICE DIRECTOR, OFFICE OF ENFORCEMENT AND REMOVAL OPERATIONS, SAN DIEGO, CALIFORNIA.
|  | FIELD OFFICE DIRECTOR, OFFICE OF ENFORCEMENT AND REMOVAL OPERATIONS, SAN ANTONIO, TEXAS.
|  | ASSISTANT DIRECTOR, OPERATIONS SUPPORT, OFFICE OF ENFORCEMENT AND REMOVAL OPERATIONS.
|  | ASSISTANT DIRECTOR, ENFORCEMENT AND REMOVAL OPERATIONS, CUSTODY OPERATIONS DIVISION.
|  | ASSISTANT DIRECTOR, U.S. IMMIGRATION AND CUSTOMS ENFORCEMENT SERVICES HEALTH CORPS.
|  | DEPUTY CHIEF FINANCIAL OFFICER.
|  | ASSISTANT DIRECTOR, ENFORCEMENT AND REMOVAL OPERATIONS, FIELD OPERATIONS.
|  | SPECIAL AGENT IN CHARGE, ATLANTA.
|  | SPECIAL AGENT IN CHARGE, WASHINGTON, DC.
|  | DEPUTY ASSISTANT DIRECTOR, INTERNATIONAL OPERATIONS.
|  | CHIEF FINANCIAL OFFICER.
|  | ASSISTANT DIRECTOR, ENFORCEMENT AND REMOVAL OPERATIONS, REPATRIATION DIVISION.
|  | DEPUTY ASSISTANT DIRECTOR, OFFICE OF PROFESSIONAL RESPONSIBILITY.
|  | DIVISION DIRECTOR FOR INVESTIGATIONS, OFFICE OF PROFESSIONAL RESPONSIBILITY.
|  | DEPUTY ASSISTANT DIRECTOR, OFFICE OF INVESTIGATIONS (EAST).
|  | ASSISTANT DIRECTOR, DIVERSITY AND CIVIL RIGHTS.
|  | DEPUTY ASSISTANT DIRECTOR, CRITICAL INFRASTRUCTURE, PROTECTION, AND FRAUD.
|  | DIRECTOR, FINANCIAL MANAGEMENT.
|  | EXECUTIVE DIRECTOR, MANAGEMENT AND ADMINISTRATION.
|  | ASSISTANT DIRECTOR, ENFORCEMENT DIVISION, OFFICE OF ENFORCEMENT AND REMOVAL OPERATIONS.
|  | ASSISTANT DIRECTOR, OFFICE OF ACQUISITIONS.
|  | DEPUTY CHIEF HUMAN CAPITAL OFFICER FOR STRATEGY AND SERVICES.
|  | DEPUTY PRINCIPAL LEGAL ADVISOR.
|  | DIRECTOR, OFFICE OF HOMELAND SECURITY INVESTIGATIONS.
|  | CHIEF INFORMATION OFFICER.
|  | DEPUTY DIRECTOR, INTERNATIONAL CRIMINAL POLICE ORGANIZATION (INTERPOL).
|  | DEPUTY EXECUTIVE ASSOCIATE DIRECTOR, MANAGEMENT AND ADMINISTRATION.
|  | SPECIAL AGENT IN CHARGE (MIAMI).
|  | ASSISTANT DIRECTOR, NATIONAL SECURITY INVESTIGATIONS.
|  | SPECIAL AGENT IN CHARGE (NEW YORK).
|  | DEPUTY DIRECTOR, OFFICE OF HOMELAND SECURITY INVESTIGATIONS.
|  | FIELD OFFICE DIRECTOR, OFFICE OF ENFORCEMENT AND REMOVAL, DALLAS, TEXAS.
|  | DIRECTOR, BUDGET AND PROGRAM PERFORMANCE.
|  | CHIEF HUMAN CAPITAL OFFICER.
|  | DEPUTY ASSISTANT SECRETARY FOR IMMIGRATION AND CUSTOMS ENFORCEMENT.
|  | SPECIAL AGENT IN CHARGE, DALLAS.
|  | SPECIAL AGENT IN CHARGE, SAN FRANCISCO.
|  | FIELD OFFICE DIRECTOR, OFFICE OF ENFORCEMENT AND REMOVAL, SAN FRANCISCO, CA.
|  | SPECIAL AGENT IN CHARGE, BALTIMORE.
|  | DEPUTY ASSISTANT DIRECTOR, MISSION SUPPORT.
|  | ASSISTANT DIRECTOR, OPERATIONS SUPPORT.
|  | DIRECTOR OF ENFORCEMENT AND LITIGATION.
|  | DIRECTOR, OFFICE OF ENFORCEMENT AND REMOVAL OPERATIONS.
|  | SPECIAL AGENT IN CHARGE (SEATTLE).
|  | DEPUTY ASSISTANT DIRECTOR, INVESTIGATIONS (ILLICIT TRADE, TRAVEL, AND FINANCE).
|  | ASSISTANT DIRECTOR, INTERNATIONAL OPERATIONS.
|  | ASSISTANT DIRECTOR, INTELLIGENCE, HOMELAND SECURITY INVESTIGATIONS.
|  | SPECIAL AGENT IN CHARGE, CHICAGO.
|  | SPECIAL AGENT IN CHARGE, HOUSTON.
|  | SPECIAL AGENT IN CHARGE, LOS ANGELES.
|  | SPECIAL AGENT IN CHARGE, NEW ORLEANS.
|  | SPECIAL AGENT IN CHARGE, SAN ANTONIO.
|  | SPECIAL AGENT IN CHARGE, SAN DIEGO.
|  | ASSISTANT DIRECTOR, OFFICE OF PROFESSIONAL RESPONSIBILITY.
|  | SPECIAL AGENT IN CHARGE, EL PASO.
|  | FIELD OFFICE DIRECTOR, OFFICE OF ENFORCEMENT AND REMOVAL OPERATIONS, PHILADELPHIA, PENNSYLVANIA.
|  | DEPUTY ASSISTANT DIRECTOR, FIELD OPERATIONS (INTERNATIONAL).
|  | FIELD OFFICE DIRECTOR, OFFICE OF ENFORCEMENT AND REMOVAL, ST. PAUL, MN.
|  | DEPUTY ASSISTANT DIRECTOR, OFFICE OF >INVESTIGATIONS (WEST).
|  | FIELD OFFICE DIRECTOR, OFFICE OF ENFORCEMENT AND REMOVAL, SEATTLE, ERO.
|  | SPECIAL AGENT IN CHARGE, PHOENIX.
| UNITED STATES COAST GUARD | ASSISTANT JUDGE ADVOCATE GENERAL FOR ACQUISITION AND LITIGATION.
|  | DEPUTY ASSISTANT COMMANDANT FOR INTELLIGENCE.
|  | DEPUTY ASSISTANT COMMANDANT FOR COMMAND, CONTROL, COMMUNICATIONS, COMPUTERS AND INFO TECHNOLOGY/DEPUTY CHIEF INFORMATION OFFICER.
|  | DEPUTY ASSISTANT COMMANDANT FOR RESOURCES AND DEPUTY CHIEF FINANCIAL OFFICER.
|  | DEPUTY DIRECTOR OF ACQUISITION PROGRAMS.
|  | DIRECTOR OF FINANCIAL OPERATIONS/COMPTROLLER.
|  | DEPUTY ASSISTANT COMMANDANT FOR CAPABILITY.
|  | DIRECTOR, INCIDENT MANAGEMENT AND PREPAREDNESS POLICY.
|  | DIRECTOR, NATIONAL POLLUTION FUNDS CENTER.
|  | DEPUTY ASSISTANT COMMANDANT FOR HUMAN RESOURCES.
|  | HEAD OF CONTRACTING ACTIVITY.
|  | DEPUTY ASSISTANT COMMANDANT FOR ACQUISITION/DIRECTOR OF ACQUISITION SERVICES.
|  | DIRECTOR, COAST GUARD INVESTIGATIVE SERVICE.
|  | DIRECTOR, MARINE TRANSPORTATION SYSTEM MANAGEMENT.
| UNITED STATES SECRET SERVICE | CHIEF COUNSEL.
|  | SPECIAL AGENT IN CHARGE—SAN FRANCISCO FIELD OFFICE.
|  | SPECIAL AGENT IN CHARGE—DALLAS FIELD OFFICE.
|  | CHIEF SECUIRTY OFFICER.
|  | SPECIAL AGENT IN CHARGE (DIGNITARY PROTECTIVE DIVISION).
|  | DEPUTY CHIEF, OFFICE OF STRATEGIC PLANNING AND POLICY.
|  | DEPUTY SPECIAL AGENT IN CHARGE—PRESIDENTIAL PROTECTIVE DIVISION.
|  | CHIEF, OFFICE OF STRATEGIC PLANNING AND POLICY.
|  | DEPUTY ASSISTANT DIRECTOR, OFFICE OF INVESTIGATIONS.
|  | SPECIAL AGENT IN CHARGE—HOUSTON FIELD OFFICE.
|  | DEPUTY ASSISTANT DIRECTOR, OFFICE OF TRAINING.
|  | DEPUTY ASSISTANT DIRECTOR, TECHNICAL DEVELOPMENT AND MISSION SUPPORT.
|  | DEPUTY SPECIAL AGENT IN CHARGE (OPERATIONAL).
|  | DEPUTY ASSISTANT DIRECTOR—OFFICE OF INVESTIGATIONS.
|  | CHIEF INFORMATION OFFICER.
|  | DEPUTY SPECIAL AGENT IN CHARGE—VICE PRESIDENTIAL PROTECTIVE DIVISION.
|  | SPECIAL AGENT IN CHARGE—ATLANTA FIELD OFFICE.
|  | SPECIAL AGENT IN CHARGE—HONOLULU FIELD OFFICE.
|  | PROTECTIVE INTELLIGENCE SENIOR ADVISOR.
|  | DEPUTY ASSISTANT DIRECTOR, OFFICE OF PROFESSIONAL RESPONSIBILITY.
|  | DEPUTY ASSISTANT DIRECTOR, OFFICE OF INVESTIGATIONS.
|  | DEPUTY CHIEF FINANCIAL OFFICER.
|  | DEPUTY DIRECTOR, UNITED STATES SECRET SERVICE.
|  | TALENT DEVELOPMENT EXECUTIVE.
|  | DIRECTOR, UNITED STATES SECRET SERVICE.
|  | DEPUTY ASSISTANT DIRECTOR, OFFICE OF INTEGRITY.
|  | DEPUTY ASSISTANT DIRECTOR, ENTERPRISE READINESS OFFICE, OFFICE OF THE COO.
|  | CHIEF OF STAFF.
|  | DEPUTY ASSISTANT DIRECTOR, OFFICE OF PROTECTIVE OPERATIONS.
|  | ASSISTANT DIRECTOR, OFFICE OF TRAINING.
|  | CHIEF OPERATING OFFICER.
|  | DIRECTOR OF COMMUNICATIONS (MEDIA AFFAIRS).
|  | SPECIAL AGENT IN CHARGE, PARIS FIELD OFFICE.
|  | SPECIAL AGENT IN CHARGE—MIAMI FIELD OFFICE.
|  | DEPUTY CHIEF COUNSEL/PRINCIPAL ETHICS OFFICIAL.
|  | DEPUTY ASSISTANT DIRECTOR, OFFICE OF PROTECTIVE OPERATIONS.
|  | DEPUTY ASSISTANT DIRECTOR, OFFICE OF HUMAN RESOURCES.
|  | COMPONENT ACQUISITION EXECUTIVE.
|  | ASSISTANT DIRECTOR, OFFICE OF STRATEGIC INTELLIGENCE AND INFORMATION.
|  | DEPUTY ASSISTANT DIRECTOR, STRATEGIC INTELLIGENCE AND INFORMATION.
|  | SPECIAL AGENT IN CHARGE, PROTECTIVE INTELLIGENCE AND ASSESSMENT DIVISION.
|  | ASSISTANT DIRECTOR—OFFICE OF INTERGOVERNMENTAL AND LEGISLATIVE AFFAIRS.
|  | EQUITY AND EMPLOYEE SUPPORT SERVICES EXECUTIVE.
|  | SPECIAL AGENT IN CHARGE—CRIMINAL INVESTIGATIVE DIVISION.
|  | SPECIAL AGENT IN CHARGE—ROWLEY TRAINING CENTER.
|  | SPECIAL AGENT IN CHARGE—ROME FIELD OFFICE.
|  | SPECIAL AGENT IN CHARGE, SPECIAL OPERATIONS DIVISION.
|  | DEPUTY ASSISTANT DIRECTOR, PROTECTIVE OPERATIONS.
|  | DEPUTY ASSISTANT DIRECTOR, OFFICE OF PROTECTIVE OPERATIONS.
|  | SPECIAL AGENT IN CHARGE—PHILADELPHIA FIELD OFFICE.
|  | DEPUTY ASSISTANT DIRECTOR, OFFICE OF INTERGOVERNMENTAL AND LEGISLATIVE AFFAIRS.
|  | CHIEF FINANCIAL OFFICER.
|  | SPECIAL AGENT IN CHARGE, CHICAGO FIELD OFFICE.
|  | SPECIAL AGENT IN CHARGE—LOS ANGELES FIELD OFFICE.
|  | DEPUTY ASSISTANT DIRECTOR, OFFICE OF INVESTIGATIONS.
|  | SPECIAL AGENT IN CHARGE—WASHINGTON FIELD OFFICE.
|  | ASSISTANT DIRECTOR, INVESTIGATIONS.
|  | ASSISTANT DIRECTOR, PROTECTIVE OPERATIONS.
|  | ASSISTANT DIRECTOR/CHIEF TECHNOLOGY OFFICER, OFFICE OF TECHNICAL DEVELOPMENT AND MISSION SUPPORT.
|  | ASSISTANT DIRECTOR, OFFICE OF PROFESSIONAL RESPONSIBILTY.
|  | SPECIAL AGENT IN CHARGE—PRESIDENTIAL PROTECTIVE DIVISION.
|  | SPECIAL AGENT IN CHARGE—NEW YORK FIELD OFFICE.
|  | ASSISTANT DIRECTOR, OFFICE OF HUMAN RESOURCES.
|  | SPECIAL AGENT IN CHARGE—VICE PRESIDENTIAL PROTECTIVE DIVISION.
|  | SPECIAL AGENT IN CHARGE—TECHNICAL SECURITY DIVISION.
OFFICE OF THE SECRETARY | OFFICE FOR CIVIL RIGHTS AND CIVIL LIBERTIES | DEPUTY CIVIL RIGHTS AND CIVIL LIBERTIES OFFICER, EQUAL EMPLOYMENT OPPORTUNITY AND DIVERSITY DIRECTOR.
|  | DIRECTOR, COMPLIANCE BRANCH.
|  | DEPUTY CIVIL RIGHTS AND CIVIL LIBERTIES OFFICER, PROGRAMS AND COMPLIANCE.
|  | DIRECTOR CIVIL RIGHTS AND CIVIL LIBERTIES PROGRAMS BRANCH.
| OFFICE OF OPERATIONS COORDINATION AND PLANNING DIRECTORATE | PRINCIPAL DEPUTY DIRECTOR, TERRORIST SCREENING CENTER.
| OFFICE OF PARTNERSHIP AND ENGAGEMENT | DEPUTY ASSISTANT SECRETARY.
| OFFICE OF THE EXECUTIVE SECRETARIAT | DEPUTY EXECUTIVE SECRETARY, OPERATIONS AND ADMINISTRATION.
OFFICE OF THE UNDER SECRETARY FOR MANAGEMENT | OFFICE OF THE CHIEF FINANCIAL OFFICER | DIRECTOR, RISK MANAGEMENT AND ASSURANCE. DIRECTOR, DEPARTMENTAL GENERAL ACCOUNTING OFFICE/INPSECTOR GENERAL (GAO/IG) LIAISON OFFICE.
|  | DIRECTOR, FINANCIAL MANAGEMENT.
|  | DEPUTY BUDGET DIRECTOR, OFFICE OF BUDGET.
|  | DIRECTOR, OFFICE OF BUDGET.
| OFFICE OF THE CHIEF HUMAN CAPITAL OFFICER | EXECUTIVE DIRECTOR, HUMAN RESOURCES MANAGEMENT AND SERVICES.
|  | EXECUTIVE DIRECTOR, HUMAN CAPITAL POLICY AND PROGRAMS.
|  | DIRECTOR, WORKFORCE HEALTH AND MEDICAL SUPPORT/DEPUTY CHIEF MEDICAL OFFICER.
|  | EXECUTIVE DIRECTOR, HUMAN CAPITAL BUSINESS SYSTEMS.
|  | DEPUTY CHIEF HUMAN CAPITAL OFFICER.
|  | EXECUTIVE DIRECTOR, DIVERSITY AND INCLUSION.
|  | EXECUTIVE DIRECTOR, STRATEGIC WORKFORCE PLANNING AND ANALYSIS.
| OFFICE OF THE CHIEF INFORMATION OFFICER | EXECUTIVE DIRECTOR, SOLUTIONS DEVELOPMENT DIRECTORATE.
|  | DEPUTY CHIEF INFORMATION OFFICER.
|  | EXECUTIVE DIRECTOR, INFORMATION TECHNOLOGY OPERATIONS.
|  | EXECUTIVE DIRECTOR, BUSINESS MANAGEMENT DIRECTORATE.
|  | EXECUTIVE DIRECTOR, CHIEF INFORMATION SECURITY OFFICER.
|  | EXECUTIVE DIRECTOR, OFFICE OF THE CHIEF TECHNOLOGY OFFICER.
|  | DEPUTY CHIEF INFORMATION SECURITY OFFICER—CYBERSECURITY (CIO).
|  | EXECUTIVE DIRECTOR, ENTERPRISE ARCHITECTURE.
|  | DEPUTY CHIEF INFORMATION SECURITY OFFICER (FISMA).
|  | DEPUTY EXECUTIVE DIRECTOR, INFORMATION TECHNOLOGY OPERATIONS.
| OFFICE OF THE CHIEF PROCUREMENT OFFICER | DEPUTY DIRECTOR, PROGRAM ACCOUNTABILITY AND RISK MANAGEMENT.
|  | EXECUTIVE DIRECTOR, STRATEGIC PROGRAMS DIVISION.
|  | EXECUTIVE DIRECTOR, OFFICE OF PROCUREMENT OPERATIONS.
|  | DEPUTY CHIEF PROCUREMENT OFFICER.
|  | CHIEF PROCUREMENT OFFICER.
|  | DEPUTY DIRECTOR, OFFICE OF PROCUREMENT OPERATIONS.
|  | EXECUTIVE DIRECTOR, PROGRAM ACCOUNTABILITY AND RISK MANAGEMENT OFFICE.
|  | EXECUTIVE DIRECTOR, ACQUISITION WORKFORCE AND SYSTEMS SUPPORT.
|  | EXECUTIVE DIRECTOR, ACQUISITION, POLICY AND OVERSIGHT.
|  | DIRECTOR, PROCUREMENT POLICY AND OVERSIGHT.
|  | EXECUTIVE DIRECTOR, ACQUISITION POLICY AND LEGISLATION BRANCH.
| OFFICE OF THE CHIEF READINESS SUPPORT OFFICER | EXECUTIVE DIRECTOR, SUSTAINABILITY AND ENVIRONMENTAL PROGRAMS.
|  | EXECUTIVE DIRECTOR, FACILITIES AND OPERATIONAL SUPPORT.
|  | DEPUTY CHIEF READINESS SUPPORT OFFICER.
| OFFICE OF THE CHIEF SECURITY OFFICER | DEPUTY CHIEF SECURITY OFFICER. EXECUTIVE DIRECTOR, HEADQUARTERS SUPPORT.
|  | CHIEF SECURITY OFFICER.
|  | EXECUTIVE DIRECTOR, STRATEGIC OPERATIONS.
|  | EXECUTIVE DIRECTOR, ENTERPRISE SECURITY OPERATIONS AND SUPPORT.
|  | EXECUTIVE DIRECTOR, THREAT MANAGEMENT OPERATIONS.
DEPARTMENT OF HOMELAND SECURITY OFFICE OF INSPECTOR GENERAL | DEPARTMENT OF HOMELAND SECURITY OFFICE OF INSPECTOR GENERAL | DEPUTY ASSISTANT INSPECTOR GENERAL, AUDITS (LAW ENFORCEMENT AND TERRORISM). ASSISTANT INSPECTOR GENERAL, INTEGRITY AND QUALITY OVERSIGHT.
|  | DEPUTY ASSISTANT INSPECTOR GENERAL FOR MANAGEMENT.
|  | DEPUTY ASSISTANT INSPECTOR GENERAL FOR INVESTIGATIONS (2).
|  | ASSISTANT INSPECTOR GENERAL FOR MANAGEMENT.
|  | ASSISTANT INSPECTOR GENERAL, AUDITS.
|  | COUNSEL TO THE INSPECTOR GENERAL.
|  | ASSISTANT INSPECTOR GENERAL, INVESTIGATIONS.
|  | DEPUTY ASSISTANT INSPECTOR GENERAL, INFORMATION TECHNOLOGY AUDITS.
|  | ASSISTANT INSPECTOR GENERAL FOR SPECIAL REVIEWS AND EVALUATIONS.
|  | DEPUTY COUNSEL.
|  | DEPUTY ASSISTANT INSPECTOR GENERAL, AUDIT (DISASTER AND IMMIGRATION).
|  | DEPUTY ASSISTANT INSPECTOR GENERAL, AUDITS.
|  | DEPUTY INSPECTOR GENERAL.
|  | DEPUTY ASSISTANT INSPECTOR GENERAL, SPECIAL REVIEWS AND EVALUATIONS.
DEPARTMENT OF HOUSING AND URBAN DEVELOPMENT.
OFFICE OF THE SECRETARY | GOVERNMENT NATIONAL MORTGAGE ASSOCIATION | SENIOR VICE PRESIDENT, OFFICE OF ENTERPRISE DATA AND TECHNOLOGY SOLUTIONS.
|  | SENIOR VICE PRESIDENT AND CHIEF FINANCIAL OFFICER.
|  | SENIOR VICE PRESIDENT OF THE OFFICE OF SECURITIES OPERATIONS.
|  | SENIOR VICE PRESIDENT OFFICE OF CAPITAL MARKETS.
|  | SENIOR VICE PRESIDENT AND CHIEF RISK OFFICER.
|  | SENIOR VICE PRESIDENT FOR MORTGAGE-BACKED SECURITIES.
| OFFICE OF COMMUNITY PLANNING AND DEVELOPMENT | DEPUTY ASSISTANT SECRETARY FOR SPECIAL NEEDS PROGRAMS.
|  | DEPUTY ASSISTANT SECRETARY FOR GRANT PROGRAMS.
| OFFICE OF DEPARTMENTAL EQUAL EMPLOYMENT OPPORTUNITY | DIRECTOR, OFFICE OF DEPARTMENTAL EQUAL EMPLOYMENT OPPORTUNITY.
| OFFICE OF HOUSING | DIRECTOR, PROGRAM SYSTEMS MANAGEMENT OFFICE.
|  | HOUSING FEDERAL HOUSING ADMINISTRATION- COMPTROLLER.
|  | DEPUTY ASSISTANT SECRETARY FOR HEALTHCARE PROGRAMS.
|  | DEPUTY ASSISTANT SECRETARY FOR OPERATION.
|  | DEPUTY ASSISTANT SECRETARY FOR MULITFAMILY HOUSING.
|  | DEPUTY ASSISTANT SECRETARY FOR FINANCE AND BUDGET.
| OFFICE OF POLICY DEVELOPMENT AND RESEARCH | DEPUTY ASSISTANT SECRETARY FOR POLICY DEVELOPMENT AND RESEARCH.
| OFFICE OF PUBLIC AFFAIRS | GENERAL DEPUTY ASSISTANT SECRETARY FOR PUBLIC AFFAIRS.
| OFFICE OF PUBLIC AND INDIAN HOUSING | DEPUTY ASSISTANT SECRETARY FOR THE REAL ESTATE ASSESSMENT CENTER.
|  | DIRECTOR FOR BUDGET AND FINANCIAL MANAGEMENT.
|  | DEPUTY ASSISTANT SECRETARY FOR POLICY PROGRAM AND LEGISLATIVE INITIATIVES.
|  | ASSOCIATE DEPUTY ASSISTANT SECRETARY FOR THE REAL ESTATE ASSESSMENT CENTER.
|  | DEPUTY ASSISTANT SECRETARY FOR PUBLIC HOUSING INVESTMENTS.
| OFFICE OF THE ADMINISTRATION | CHIEF DISASTER AND NATIONAL SECURITY OFFICER.
|  | CHIEF PRIVACY OFFICER AND CHIEF FOIA OFFICER.
| OFFICE OF THE CHIEF FINANCIAL OFFICER | ASSISTANT CHIEF FINANCIAL OFFICER FOR FINANCIAL MANAGEMENT.
|  | ASSISTANT CHIEF FINANCIAL OFFICER FOR BUDGET.
|  | DEPUTY CHIEF FINANCIAL OFFICER.
|  | ASSISTANT CHIEF FINANCIAL OFFICER FOR SYSTEMS.
|  | ASSISTANT CHIEF FINANCIAL OFFICER FOR ACCOUNTING.
| OFFICE OF THE CHIEF HUMAN CAPITAL OFFICER | CHIEF HUMAN CAPITAL OFFICER.
|  | CHIEF LEARNING OFFICER.
|  | DEPUTY CHIEF HUMAN CAPITAL OFFICER.
|  | DIRECTOR, OFFICE OF HUMAN CAPITAL SERVICES.
| OFFICE OF THE CHIEF INFORMATION OFFICER | DEPUTY CHIEF INFORMATION OFFICER FOR INFRASTRUCTURE AND OPERATIONS.
|  | PRINCIPAL DEPUTY CHIEF INFORMATION OFFICER.
|  | DEPUTY CHIEF INFORMATION OFFICER FOR BUSINESS AND INFORMATION TECHNOLOGY RESOURCE MANAGEMENT OFFICER.
| OFFICE OF THE GENERAL COUNSEL | SENIOR COUNSEL.
|  | ASSOCIATE GENERAL COUNSEL FOR PROGRAM ENFORCEMENT.
|  | DIRECTOR, DEPARTMENTAL ENFORCEMENT CENTER.
DEPARTMENT OF HOUSING AND URBAN DEVELOPMENT OFFICE OF THE INSPECTOR GENERAL | DEPARTMENT OF HOUSING AND URBAN DEVELOPMENT OFFICE OF THE INSPECTOR GENERAL | SENIOR ADVISOR FOR EXTERNAL AFFAIRS. COUNSEL TO THE INSPECTOR GENERAL.
|  | ASSISTANT INSPECTOR GENERAL FOR INVESTIGATION.
|  | ASSISTANT INSPECTOR GENERAL FOR AUDIT.
|  | DEPUTY ASSISTANT INSPECTOR GENERAL FOR AUDIT (FIELD OPERATIONS).
|  | DEPUTY ASSISTANT INSPECTOR GENERAL FOR MANAGEMENT.
|  | DEPUTY ASSISTANT INSPECTOR GENERAL FOR INVESTIGATION (HEADQUARTERS OPERATIONS).
|  | ASSISTANT INSPECTOR GENERAL FOR OFFICE OF EVALUATION (OE).
|  | DEPUTY ASSISTANT INSPECTOR GENERAL FOR INFORMATION TECHNOLOGY.
|  | DEPUTY ASSISTANT INSPECTOR GENERAL FOR AUDIT (FIELD OPERATIONS).
|  | DEPUTY INSPECTOR GENERAL.
DEPARTMENT OF THE INTERIOR:
ASSISTANT SECRETARY—FISH AND WILDLIFE AND PARKS | NATIONAL PARK SERVICE | CHIEF FINANCIAL OFFICER. COMPTROLLER.
|  | ASSOCIATE DIRECTOR, INTERPRETATION AND EDUCATION.
| UNITED STATES FISH AND WILDLIFE SERVICE | CHIEF, OFFICE OF LAW ENFORCEMENT.
ASSISTANT SECRETARY—LAND AND MINERALS MANAGEMENT | BUREAU OF LAND MANAGEMENT | ASSISTANT DIRECTOR, HUMAN CAPITAL MANAGEMENT.
|  | DIRECTOR, LAW ENFORCEMENT AND SECURITY.
| BUREAU OF OCEAN ENERGY MANAGEMENT | STRATEGIC RESOURCES CHIEF.
ASSISTANT SECRETARY—POLICY, MANAGEMENT AND BUDGET | OFFICE OF HEARINGS AND APPEALS OFFICE OF NATURAL RESOURCES REVENUE MANAGEMENT | DIRECTOR, OFFICE OF HEARINGS AND APPEALS. PROGRAM DIRECTOR FOR COORDINATION, ENFORCEMENT, VALUATION AND APPEALS.
|  | DEPUTY DIRECTOR, OFFICE OF NATURAL RESOURCES REVENUE MANAGEMENT.
|  | PROGRAM DIRECTOR FOR REVENUE, REPORTING AND COMPLIANCE MANAGEMENT.
|  | PROGRAM DIRECTOR FOR AUDIT AND COMPLIANCE MANAGEMENT.
ASSISTANT SECRETARY—WATER AND SCIENCE | BUREAU OF RECLAMATION | DIRECTOR, MISSION SUPPORT ORGANIZATION. DIRECTOR, DAM SAFETY AND INFRASTRUCTURE.
| UNITED STATES GEOLOGICAL SURVEY | ASSOCIATE DIRECTOR FOR ADMINISTRATION.
|  | DEPUTY DIRECTOR.
|  | ASSOCIATE DIRECTOR FOR ECOSYSTEMS.
|  | ASSOCIATE DIRECTOR FOR ENERGY AND MINERALS.
|  | DEPUTY DIRECTOR.
|  | DIRECTOR, EARTH RESOURCES OBSERVATION AND SCIENCE CENTER AND POLICY ADVISOR.
|  | ASSOCIATE DIRECTOR FOR COMMUNICATIONS AND PUBLISHING.
|  | ASSOCIATE DIRECTOR FOR BUDGET, PLANNING, AND INTEGRATION.
|  | ASSOCIATE DIRECTOR FOR NATURAL HAZARDS.
|  | ASSOCIATE DIRECTOR FOR LAND RESOURCES.
|  | ASSOCIATE DIRECTOR FOR WATER.
|  | ASSOCIATE DIRECTOR FOR CORE SCIENCE SYSTEMS.
BUREAU OF LAND MANAGEMENT | FIELD OFFICES—BUREAU LAND MANAGEMENT | DIRECTOR, NATIONAL OPERATIONS CENTER.
DEPARTMENT OF THE INTERIOR | OFFICE OF ASSISTANT SECRETARY—INDIAN AFFAIRS | DIRECTOR OF HUMAN CAPITAL MANAGEMENT.
| OFFICE OF ASSISTANT SECRETARY—POLICY, MANAGEMENT AND BUDGET | DIRECTOR, OFFICE OF LAW ENFORCEMENT AND SECURITY.
|  | DEPUTY ASSISTANT SECRETARY—BUDGET, FINANCE, GRANTS AND ACQUISITION.
|  | DEPUTY CHIEF HUMAN CAPITAL OFFICER/DIRECTOR, OFFICE OF HUMAN CAPITAL.
|  | DIRECTOR, OFFICE OF FINANCIAL MANAGEMENT AND DEPUTY CHIEF FINANCIAL OFFICER.
|  | CHIEF DIVISION OF BUDGET AND PROGRAM REVIEW.
|  | DEPUTY ASSISTANT SECRETARY—PUBLIC SAFETY, RESOURCE PROTECTION AND EMERGENCY SERVICES.
|  | DIRECTOR, OFFICE OF GRANTS MANAGEMENT.
|  | DIRECTOR, OFFICE OF EMERGENCY MANAGEMENT.
|  | CHIEF, BUDGET ADMINISTRATION AND DEPARTMENTAL MANAGEMENT.
|  | CHIEF DIVERSITY OFFICER/DIRECTOR, OFFICE OF CIVIL RIGHTS.
|  | DEPUTY ASSISTANT SECRETARY—HUMAN CAPITAL AND DIVERSITY/CHIEF HUMAN CAPITAL OFFICER.
|  | DEPUTY DIRECTOR, OFFICE OF FINANCIAL MANAGEMENT.
| OFFICE OF THE SOLICITOR | ASSOCIATE SOLICITOR FOR ADMINISTRATION.
|  | DEPUTY CHIEF FOIA OFFICER.
|  | DESIGNATED AGENCY ETHICS OFFICIAL.
NATIONAL PARK SERVICE | FIELD OFFICES—NATIONAL PARK SERVICE | PARK MANAGER, GRAND CANYON NATIONAL PARK.
|  | PARK MANAGER, YELLOWSTONE NATIONAL PARK.
OFFICE OF SURFACE MINING | FIELD OFFICES—OFFICE OF SURFACE MINING | REGIONAL DIRECTOR, DOI UNIFIED REGION I.
|  | REGIONAL DIRECTOR, DOI UNIFIED REGION III.
UNITED STATES GEOLOGICAL SURVEY | FIELD OFFICES—UNITED STATES GEOLOGICAL SURVEY | REGIONAL DIRECTOR—DOI UNIFIED REGIONS III AND V.
|  | REGIONAL DIRECTOR—DOI UNIFIED REGION IX.
|  | REGIONAL DIRECTOR—DOI UNIFIED REGIONS VIII AND X.
|  | REGIONAL DIRECTOR—DOI UNIFIED REGION XI.
|  | REGIONAL DIRECTOR—DOI UNIFIED REGION I.
|  | REGIONAL DIRECTOR—DOI UNIFIED REGIONS IV AND VI.
|  | REGIONAL DIRECTOR—DOI UNIFIED REGION VII.
DEPARTMENT OF THE INTERIOR OFFICE OF THE INSPECTOR GENERAL | OFFICE OF THE INSPECTOR GENERAL | CHIEF OF STAFF. DEPUTY INSPECTOR GENERAL.
OFFICE OF THE INSPECTOR GENERAL | OFFICE OF AUDITS, INSPECTIONS, AND EVALUATIONS | ASSISTANT INPECTOR GENERAL FOR AUDITS, INSPECTIONS, AND EVALUATIONS.
| OFFICE OF GENERAL COUNSEL | GENERAL COUNSEL.
| OFFICE OF INVESTIGATIONS | ASSISTANT INSPECTOR GENERAL FOR INVESTIGATIONS.
| OFFICE OF MANAGEMENT | ASSISTANT INSPECTOR GENERAL FOR MANAGEMENT.
DEPARTMENT OF JUSTICE | EXECUTIVE OFFICE FOR ORGANIZED CRIME DRUG ENFORCEMENT TASK FORCES | DIRECTOR, ORGANIZED CRIME DRUG ENFORCEMENT TASK FORCES.
| OFFICE OF THE ATTORNEY GENERAL | SENIOR ADVISOR FOR LAW ENFORCEMENT RELATIONS.
| OFFICE OF THE DEPUTY ATTORNEY GENERAL | CHIEF AND COUNSELOR TO THE DEPUTY ATTORNEY GENERAL, PROFESSIONAL MISCONDUCT REVIEW UNIT.
| OFFICE OF TRIBAL JUSTICE | DIRECTOR.
OFFICE OF THE ASSOCIATE ATTORNEY GENERAL | OFFICE OF ANTITRUST DIVISION | EXECUTIVE OFFICER. CHIEF, TELECOMMUNICATIONS AND MEDIA SECTION.
|  | DIRECTOR, ECONOMIC ENFORCEMENT.
| OFFICE OF CIVIL DIVISION | DEPUTY DIRECTOR, CONSTITUTIONAL AND SPECIALIZED TORT LITIGATION.
|  | DEPUTY DIRECTOR CONSUMER PROTECTION BRANCH.
|  | DEPUTY DIRECTOR, OFFICE OF IMMIGRATION LITIGATION, APPELLATE SECTION.
|  | DEPUTY DIRECTOR, COMMERCIAL LITIGATION, FRAUD SECTION.
|  | DEPUTY DIRECTOR (OPERATIONS), OFFICE OF IMMIGRATION LITIGATION, DISTRICT COURT SECTION.
|  | DIRECTOR, BUDGET STAFF.
|  | DEPUTY DIRECTOR, OFFICE OF IMMIGRATION LITIGATION, APPELLATE SECTION.
|  | DEPUTY DIRECTOR, COMMERCIAL LITIGATION BRANCH.
|  | DEPUTY BRANCH DIRECTOR, FEDERAL PROGRAMS.
|  | SPECIAL COUNSEL TO THE ASSOCIATE ATTORNEY GENERAL.
|  | DEPUTY DIRECTOR, COMMERCIAL LITIGATION BRANCH.
|  | DEPUTY BRANCH DIRECTOR, FEDERAL PROGRAMS.
|  | DIRECTOR, CONSUMER LITIGATION BRANCH, FOREIGN LITIGATION SECTION.
|  | SPECIAL LITIGATION COUNSEL, AVIATION AND ADMIRALTY SECTION.
|  | DEPUTY DIRECTOR APPELLATE BRANCH.
|  | APPELLATE LITIGATION COUNSEL.
|  | DEPUTY DIRECTOR, COMMERCIAL LITIGATION BRANCH (INTELLECTUAL PROPERTY).
|  | DIRECTOR, OFFICE OF MANAGEMENT PROGRAMS.
|  | DEPUTY DIRECTOR, COMMERCIAL LITIGATION BRANCH.
|  | DEPUTY BRANCH DIRECTOR, FEDERAL PROGRAMS.
|  | DIRECTOR, CONSUMER PROTECTION BRANCH.
|  | DEPUTY BRANCH DIRECTOR.
|  | DEPUTY DIRECTOR, APPELLATE STAFF.
| OFFICE OF CIVIL RIGHTS DIVISION | CHIEF FEDERAL COORDINATION AND COMPLIANCE SECTION.
|  | COUNSEL TO THE ASSISTANT ATTORNEY GENERAL.
|  | EXECUTIVE OFFICER.
|  | CHIEF, DISABILITY RIGHTS SECTION.
|  | CHIEF, EMPLOYMENT LITIGATION SECTION.
|  | CHIEF APPELLATE SECTION.
|  | CHIEF CRIMINAL SECTION.
|  | CHIEF, HOUSING AND CIVIL ENFORCEMENT SECTION.
|  | CHIEF, VOTING SECTION.
|  | CHIEF, EDUCATIONAL OPPORTUNITIES SECTION.
|  | CHIEF-SPECIAL LITIGATION SECTION.
|  | DEPUTY SPECIAL COUNSEL FOR IMMIGRATION-RELATED UNFAIR EMPLOYMENT PRACTICES.
|  | DEPUTY ASSISTANT ATTORNEY GENERAL.
|  | DEPUTY ASSISTANT ATTORNEY GENERAL.
|  | PRINCIPAL DEPUTY CHIEF, CRIMINAL SECTION.
|  | PRINCIPAL DEPUTY CHIEF, VOTING SECTION.
|  | PRINCIPAL DEPUTY CHIEF, DISABILITY RIGHTS SECTION.
|  | PRINCIPAL DEPUTY CHIEF, SPECIAL LITIGATION SECTION.
|  | CHIEF, POLICY STRATEGY SECTION.
|  | PRINCIPAL DEPUTY CHIEF, EMPLOYMENT LITIGATION SECTION.
|  | PRINCIPAL DEPUTY CHIEF, HOUSING AND CIVIL ENFORCEMENT SECTION.
| OFFICE OF ENVIRONMENT AND NATURAL RESOURCES DIVISION | DEPUTY CHIEF, ENVIRONMENTAL DEFENSE SECTION. DEPUTY SECTION CHIEF, NATURAL RESOURCES SECTION.
|  | DEPUTY CHIEF, APPELLATE SECTION.
|  | DEPUTY CHIEF, NATURAL RESOURCES SECTION.
|  | DEPUTY CHIEF, ENVIRONMENTAL ENFORCEMENT SECTION.
|  | DEPUTY CHIEF, ENVIRONMENTAL CRIMES SECTION.
|  | CHIEF, WILDLIFE AND MARINE RESOURCES SECTION.
|  | DEPUTY CHIEF, ENVIRONMENTAL ENFORCEMENT SECTION.
|  | CHIEF ENVIRONMENTAL CRIMES SECTION.
|  | CHIEF ENVIRONMENTAL ENFORCEMENT SECTION.
|  | CHIEF, NATURAL RESOURCES SECTION.
|  | CHIEF, LAND ACQUISITION SECTION.
|  | CHIEF—APPELLATE SECTION.
|  | CHIEF, INDIAN RESOURCES SECTION.
|  | CHIEF, ENVIRONMENTAL DEFENSE SECTION.
|  | DEPUTY CHIEF ENVIRONMENTAL ENFORCEMENT SECTION.
|  | SENIOR LITIGATION COUNSEL.
|  | EXECUTIVE OFFICER.
| OFFICE OF JUSTICE PROGRAMS | DIRECTOR, OFFICE OF AUDIT, ASSESSMENT AND MANAGEMENT.
|  | DEPUTY DIRECTOR, OFFICE FOR VICTIMS OF CRIME.
|  | DEPUTY CHIEF FINANCIAL OFFICER.
|  | DIRECTOR, OFFICE OF ADMINISTRATION.
|  | CHIEF FINANCIAL OFFICER.
|  | DIRECTOR OF COMMUNICATIONS.
| OFFICE OF TAX DIVISION | CHIEF, APPELLATE SECTION.
|  | CHIEF, COURT OF FEDERAL CLAIMS SECTION.
|  | DEPUTY ASSISTANT ATTORNEY GENERAL.
|  | CHIEF, CRIMINAL ENFORCEMENT SECTION, SOUTH REGION.
|  | CHIEF CIVIL TRIAL SECTION SOUTHWESTERN REGION.
|  | CHIEF CIVIL TRIAL SECTION EASTERN REGION.
|  | CHIEF OFFICE OF REVIEW.
|  | EXECUTIVE OFFICER.
|  | CHIEF, CRIMINAL APPEALS AND TAX ENFORCEMENT POLICY SECTION.
|  | CHIEF, CRIMINAL ENFORCEMENT SECTION, NORTH REGION.
|  | CHIEF, CRIMINAL ENFORCEMENT SECTION, WESTERN REGION.
|  | CHIEF, CIVIL TRIAL SECTION, CENTRAL REGION.
|  | CHIEF CIVIL TRIAL SECTION NORTHERN.
|  | CHIEF CIVIL TRIAL SECTION (SOUTHERN REGION).
|  | CHIEF CIVIL TRIAL SECTION, WESTERN REGION.
|  | SPECIAL LITIGATION COUNSEL.
|  | SENIOR LITIGATION COUNSEL.
|  | DEPUTY CHIEF, APPELLATE SECTION.
OFFICE OF THE DEPUTY ATTORNEY GENERAL | BUREAU OF ALCOHOL, TOBACCO, FIREARMS AND EXPLOSIVES | ASSISTANT DIRECTOR, OFFICE OF PROFESSIONAL RESPONSIBILITY AND SECURITY OPERATIONS.
|  | DEPUTY ASSISTANT DIRECTOR, MANAGEMENT AND CHIEF FINANCIAL OFFICER.
|  | ASSISTANT DIRECTOR, MANAGEMENT AND CHIEF FINANCIAL OFFICER.
|  | DEPUTY ASSISTANT DIRECTOR FOR INFORMATION TECHNOLOGY AND DEPUTY CHIEF INFORMATION OFFICER.
|  | ASSISTANT DIRECTOR, SCIENCE AND TECHNOLOGY.
|  | SPECIAL AGENT IN CHARGE, HOUSTON.
|  | DEPUTY ASSISTANT DIRECTOR, OFFICE OF PROFESSIONAL RESPONSIBILITY AND SECURITY OPERATIONS.
|  | DEPUTY DIRECTOR.
|  | ASSISTANT DIRECTOR, FIELD OPERATIONS.
|  | DEPUTY ASSISTANT DIRECTOR, FIELD OPERATIONS—CENTRAL.
|  | ASSISTANT DIRECTOR, ENFORCEMENT PROGRAMS AND SERVICES.
|  | DEPUTY ASSISTANT DIRECTOR, ENFORCEMENT PROGRAMS AND SERVICES.
|  | DEPUTY ASSISTANT DIRECTOR, HUMAN RESOURCES AND PROFESSIONAL DEVELOPMENT.
|  | ASSISTANT DIRECTOR, HUMAN RESOURCES AND PROFESSIONAL DEVELOPMENT.
|  | DEPUTY ASSISTANT DIRECTOR, FIELD OPERATIONS—EAST.
|  | DEPUTY ASSISTANT DIRECTOR, INDUSTRY OPERATIONS.
|  | SPECIAL AGENT IN CHARGE, NASHVILLE.
|  | SPECIAL AGENT IN CHARGE, DALLAS.
|  | ASSISTANT DIRECTOR, OFFICE OF STRATEGIC INTELLIGENCE AND INFORMATION.
|  | DEPUTY ASSISTANT DIRECTOR, OFFICE OF STRATEGIC INTELLIGENCE AND INFORMATION.
|  | ASSISTANT DIRECTOR, OFFICE OF PUBLIC AND GOVERNMENTAL AFFAIRS.
|  | DEPUTY ASSISTANT DIRECTOR, FORENSIC SERVICES.
|  | DEPUTY ASSISTANT DIRECTOR, FIELD OPERATIONS—WEST.
|  | SPECIAL AGENT IN CHARGE, LOS ANGELES.
|  | SPECIAL AGENT IN CHARGE, NEW YORK.
|  | SPECIAL AGENT IN CHARGE, WASHINGTON DC.
|  | SPECIAL AGENT IN CHARGE, NEWARK.
|  | SPECIAL AGENT IN CHARGE, DENVER.
|  | DEPUTY ASSISTANT DIRECTOR, OFFICE OF PUBLIC AND GOVERNMENTAL AFFAIRS.
|  | SPECIAL AGENT IN CHARGE, SAINT PAUL.
|  | SPECIAL AGENT IN CHARGE, ATLANTA.
|  | SPECIAL AGENT IN CHARGE, BOSTON.
|  | SPECIAL AGENT IN CHARGE, CHICAGO.
|  | SPECIAL AGENT IN CHARGE, KANSAS CITY.
|  | SPECIAL AGENT IN CHARGE, PHILADELPHIA.
|  | SPECIAL AGENT IN CHARGE, PHOENIX.
|  | SPECIAL AGENT IN CHARGE, SAN FRANCISCO.
|  | SPECIAL AGENT IN CHARGE, MIAMI.
|  | SPECIAL AGENT IN CHARGE, CHARLOTTE.
|  | SPECIAL AGENT IN CHARGE, DETROIT.
|  | SPECIAL AGENT IN CHARGE, LOUISVILLE.
|  | SPECIAL AGENT IN CHARGE, SEATTLE.
|  | SPECIAL AGENT IN CHARGE, TAMPA.
|  | DEPUTY DIRECTOR, TERRORIST EXPLOSIVE DEVICE ANALYTICAL CENTER.
|  | SPECIAL AGENT IN CHARGE, COLUMBUS.
|  | SPECIAL AGENT IN CHARGE, NEW ORLEANS.
|  | SPECIAL AGENT IN CHARGE, BALTIMORE.
|  | EXECUTIVE ASSISTANT TO THE DIRECTOR.
|  | CHIEF, SPECIAL OPERATIONS DIVISION.
|  | SPECIAL ASSISTANT TO THE DIRECTOR.
|  | SPECIAL AGENT IN CHARGE, NATIONAL CENTER FOR EXPLOSIVES TRAINING AND RESEARCH.
|  | DEPUTY ASSISTANT DIRECTOR HUMAN RESOURCES.
|  | DEPUTY ASSISTANT DIRECTOR, FIELD OPERATIONS (PROGRAMS).
| OFFICE OF CRIMINAL DIVISION | CHIEF, HUMAN RIGHTS AND SPECIAL PROSECUTIONS SECTION.
|  | DEPUTY CHIEF, ASSET FORFEITURE AND MONEY LAUNDERING SECTION.
|  | DEPUTY CHIEF, CHILD EXPLOITATION AND OBSCENITY SECTION.
|  | DEPUTY ASSISTANT ATTORNEY GENERAL.
|  | CHIEF, COMPUTER CRIME AND INTELLECTUAL PROPERTY SECTION.
|  | DEPUTY CHIEF, COMPUTER CRIME AND INTELLECTUAL PROPERTY SECTION.
|  | SENIOR COUNSEL FOR CYBERCRIME.
|  | DEPUTY CHIEF, NARCOTIC AND DANGEROUS DRUG SECTION.
|  | DIRECTOR, OFFICE OF OVERSEAS PROSECUTORIAL DEVELOPMENT, ASSISTANCE, AND TRAINING.
|  | DEPUTY CHIEF FOR ORGANIZED CRIME AND GANG SECTION.
|  | DEPUTY CHIEF, APPELLATE SECTION.
|  | EXECUTIVE OFFICER.
|  | CHIEF, CHILD EXPLOITATION AND OBSCENITY SECTION.
|  | DIRECTOR, INTERNATIONAL CRIMINAL INVESTIGATIVE TRAINING ASSISTANCE PROGRAM.
|  | DEPUTY, CHIEF FRAUD SECTION.
|  | CHIEF, ASSET FORFEITURE AND MONEY LAUNDERING SECTION.
|  | CHIEF, ORGANIZED CRIME AND GANG SECTION.
|  | CHIEF, APPELLATE SECTION.
|  | CHIEF FRAUD SECTION.
|  | CHIEF PUBLIC INTEGRITY SECTION.
|  | CHIEF NARCOTIC AND DANGEROUS DRUG SECTION.
|  | DEPUTY CHIEF PUBLIC INTEGRITY SECTION.
| EXECUTIVE OFFICE FOR IMMIGRATION REVIEW | CHIEF ADMINISTRATIVE HEARING OFFICER.
|  | DEPUTY CHIEF IMMIGRATION JUDGE.
|  | ASSISTANT DIRECTOR FOR ADMINISTRATION.
|  | VICE CHAIRMAN, BOARD OF IMMIGRATION APPEALS.
|  | CHAIRMAN, BOARD OF IMIGRATION APPEALS.
|  | ASSISTANT DIRECTOR FOR POLICY.
|  | CHIEF IMMIGRATION JUDGE.
|  | GENERAL COUNSEL.
| EXECUTIVE OFFICE FOR UNITED STATES ATTORNEYS | COUNSEL, LEGAL PROGRAMS AND POLICY.
|  | DEPUTY DIRECTOR.
|  | CHIEF HUMAN RESOURCES OFFICER.
|  | GENERAL COUNSEL.
|  | CHIEF FINANCIAL OFFICER.
|  | ASSOCIATE DIRECTOR, OFFICE OF LEGAL EDUCATION.
|  | CHIEF, INFORMATION OFFICER.
|  | DEPUTY DIRECTOR FOR ADMINISTRATION AND MANAGEMENT.
| FEDERAL BUREAU OF PRISONS | COMPLEX WARDEN, UNITED STATES PENITENTIARY, TUCSON, ARIZONA.
|  | WARDEN, FEDERAL CORRECTIONAL INSTITUTION, CUMBERLAND, MARYLAND.
|  | WARDEN, FEDERAL CORRECTIONAL INSTITUTION, GREENVILLE, ILLINIOIS.
|  | WARDEN, FEDERAL CORRECTIONAL INSTITUTION, MCKEAN, PENNSYLVANIA.
|  | WARDEN, FEDERAL CORRECTIONAL INSTITUTION, PEKIN, ILLINOIS.
|  | WARDEN, FEDERAL CORRECTIONAL INSTITUTION, SCHUYLKILL, PENNSYLVANIA.
|  | WARDEN, FEDERAL CORRECTIONAL INSTITUTION, THREE RIVERS, TEXAS.
|  | WARDEN, METROPOLITAN DETENTION CENTER, GUAYNABO, PUERTO RICO.
|  | WARDEN, FEDERAL CORRECTIONAL INSTITUTION, MEMPHIS, TENNESSEE.
|  | CHIEF EDUCATION ADMINISTRATOR.
|  | ASSISTANT DIRECTOR, INFORMATION, POLICY AND PUBLIC AFFAIRS.
|  | WARDEN, FEDERAL CORRECTIONAL INSTITUTION, BENNETTSVILLE, SOUTH CAROLINA.
|  | WARDEN FCI FORT WORTH TX.
|  | WARDEN FCI, THOMSON, IL.
|  | SENIOR DEPUTY ASSISTANT DIRECTOR, PROGRAM REVIEW DIVISION.
|  | SENIOR DEPUTY GENERAL COUNSEL, OFFICE OF THE GENERAL COUNSEL.
|  | WARDEN, FCI, MENDOTA, CA.
|  | SENIOR DEPUTY ASSISTANT DIRECTOR, INDUSTRIES, EDUCATION, AND VOCATIONAL TRAINING DIVISION.
|  | ASSISTANT DIRECTOR, HEALTH SERVICES DIVISION.
|  | CHIEF, OFFICE OF PUBLIC AFFAIRS.
|  | SENIOR DEPUTY ASSISTANT DIRECTOR, PROGRAM REVIEW DIVISION.
|  | SENIOR DEPUTY ASSISTANT DIRECTOR, INFORMATION, POLICY, AND PUBLIC AFFAIRS DIVISION.
|  | ASSISTANT DIRECTOR, REENTRY SERVICES DIVISION.
|  | SENIOR DEPUTY ASSISTANT DIRECTOR, ADMINISTRATION DIVISION.
|  | SENIOR ADVISOR.
|  | WARDEN, UNITED STATES PENITENTIARY, LEAVENWORTH, KANSAS.
|  | WARDEN, UNITED STATES PENITENTIARY, LEWISBURG, PENNSYLVANIA.
|  | WARDEN, FEDERAL CORRECTIONAL COMPLEX, LOMPOC, CALIFORNIA.
|  | WARDEN, UNITED STATES MEDICAL CENTER FEDERAL PRISONERS, SPRINGFIELD, MISSOURI.
|  | WARDEN, FEDERAL MEDICAL CENTER, LEXINGTON, KENTUCKY.
|  | WARDEN, UNITED STATES PENITENTIARY, MARION ILLINOIS.
|  | SUPERVISORY INDUSTRIAL SPECIALIST (CEO) FEDERAL PRISON INDUSTRIES.
|  | SENIOR DEPUTY ASSISTANT DIRECTOR, REENTRY SERVICES.
|  | WARDEN FEDERAL CORRECTIONAL COMPLEX, TERRE HAUTE, INDIANA.
|  | WARDEN FEDERAL CORRECTIONAL COMPLEX, BUTNER, NORTH CAROLINA.
|  | WARDEN, FEDERAL CORRECTIONAL INSTITUTION, PHOENIX, ARIZONA.
|  | WARDEN, FEDERAL MEDICAL CENTER, ROCHESTER, MINNESOTA.
|  | REGIONAL DIRECTOR MIDDLE ATLANTIC REGION.
|  | DEPUTY DIRECTOR.
|  | WARDEN, FEDERAL CORRECTIONAL INSTITUTION, TALLADEGA, ALABAMA.
|  | WARDEN, FEDERAL CORRECTIONAL INSTITUTION, FORT DIX, NEW JERSEY.
|  | WARDEN, FEDERAL CORRECTIONAL COMPLEX, FLORENCE, COLORADO.
|  | WARDEN, UNITED STATES PENITENTIARY—HIGH, FLORENCE, COLORADO.
|  | WARDEN, FEDERAL CORRECTIONAL COMPLEX, OAKDALE, LOUISIANA.
|  | WARDEN, FEDERAL MEDICAL CENTER, CARSWELL, TEXAS.
|  | ASSISTANT DIRECTOR FOR ADMINISTRATION.
|  | WARDEN, FEDERAL CORRECTIONAL INSTITUTION, JESUP, GEORGIA.
|  | COMPLEX WARDEN, FEDERAL CORRECTIONAL COMPLEX, VICTORVILLE, CALIFORNIA.
|  | WARDEN, UNITED STATES PENITENTIARY, MCCREARY, KENTUCKY.
|  | WARDEN, UNITED STATES PENITENTIARY, POLLOCK, LOUISIANA.
|  | WARDEN, FEDERAL CORRECTIONAL INSTITUTION, SHERIDAN, OREGON.
|  | WARDEN, FEDERAL CORRECTIONAL INSTITUTION, GILMER, WEST VIRGINIA.
|  | WARDEN, FEDERAL CORRECTIONAL INSTITUTION, MANCHESTER, KENTUCKY.
|  | COMPLEX WARDEN, FEDERAL CORRECTION COMPLEX, PETERSBURG, VIRGINIA.
|  | WARDEN, UNITED STATES PENITENTIARY, HAZELTON, WEST VIRIGINA.
|  | COMPLEX WARDEN, FEDERAL CORRECTIONAL COMPLEX, YAZOO CITY, MISSISSIPPI.
|  | WARDEN, UNITED STATES PENITENTIARY, CANAAN, PENNSYLVANIA.
|  | WARDEN, FEDERAL CORRECTIONAL COMPLEX, FORREST CITY, ARKANSAS.
|  | SENIOR DEPUTY ASSISTANT DIRECTOR RE-ENTRY SERVICES DIVISION.
|  | WARDEN, UNITED STATES PENITENTIARY COLEMAN-I, COLEMAN, FLORIDA.
|  | WARDEN, FEDERAL CORRECTIONAL INSTITUTION, WILLIAMSBURG, SOUTH CAROLINA.
|  | SENIOR DEPUTY ASSISTANT DIRECTOR, INFORMATION, POLICY, AND PUBLIC AFFAIRS DIVISION.
|  | WARDEN, UNITED STATES PENITENTIARY, BIG SANDY, KENTUCKY.
|  | SENIOR COUNSEL, OFFICE OF GENERAL COUNSEL.
|  | WARDEN, FEDERAL CORRECTIONAL COMPLEX, BEAUMONT, TEXAS.
|  | WARDEN, FEDERAL CORRECTIONAL COMPLEX, COLEMAN, FLORIDA.
|  | WARDEN, FEDERAL CORRECTIONAL INSTITUTION, BECKLEY, WEST VIRGINIA.
|  | WARDEN, FEDERAL CORRECTIONAL INSTITUTION, OTISVILLE, NEW YORK.
|  | WARDEN, UNITED STATES PENITENTIARY, LEE, VIRGINIA.
|  | WARDEN, UNITED STATES PENITENTIARY, ATWATER, CALIFORNIA.
|  | WARDEN, METROPOLITAN CORRECTIONAL CENTER, NEW YORK, NEW YORK.
|  | SENIOR DEPUTY ASSISTANT DIRECTOR ADMINISTRATION DIVISION.
|  | WARDEN, METROPOLITAN DETENTION CENTER, BROOKLYN, NEW YORK.
|  | WARDEN, FEDERAL CORRECTIONAL COMPLEX, ALLENWOOD, PENNSYLVANIA.
|  | WARDEN, FEDERAL TRANSFER CENTER, OKLAHOMA CITY, OKLAHOMA.
|  | SENIOR DEPUTY ASSISTANT DIRECTOR, HUMAN RESOURCES MANAGEMENT DIVISION.
|  | WARDEN, FEDERAL DETENTION CENTER, MIAMI, FLORIDA.
|  | WARDEN, FEDERAL CORRECTIONAL INSTITUTION, FAIRTON, NEW JERSEY.
|  | ASSISTANT DIRECTOR, PROGRAM REVIEW DIVISION.
|  | WARDEN, FEDERAL CORRECTIONAL INSTITUTION, EDGEFIELD, SOUTH CAROLINA.
|  | WARDEN, FEDERAL MEDICAL CENTER, DEVENS, MASSACHUSETTS.
|  | WARDEN, METROPOLITAN DETENTION CENTER, LOS ANGELES, CALIFORNIA.
|  | WARDEN, FEDERAL CORRECTIONAL INSTITUTION, MARIANNA, FLORIDA.
|  | ASSISTANT DIRECTOR HUMAN RESOURCES MANAGEMENT DIVISION.
|  | SENIOR DEPUTY ASSISTANT DIRECTOR, CORRECTIONAL PROGRAMS DIVISION.
|  | ASSISTANT DIRECTOR CORRECTIONAL PROGRAMS DIVISION.
|  | ASSISTANT DIRECTOR, OFFICE OF GENERAL COUNSEL.
|  | EGIONAL DIRECTOR, NORTHEAST REGION.
|  | REGIONAL DIRECTOR, SOUTHEAST REGION.
|  | REGIONAL DIRECTOR, NORTH CENTRAL REGION.
|  | REGIONAL DIRECTOR, WESTERN REGION.
|  | REGIONAL DIRECTOR, SOUTH CENTRAL REGION.
|  | WARDEN, UNITED STATES PENITENTIARY, ATLANTA, GEORGIA.
| OFFICE OF JUSTICE MANAGEMENT DIVISION | DEPUTY DIRECTOR, AUDITING, FINANCE STAFF.
|  | DEPUTY DIRECTOR, HUMAN RESOURCES.
|  | SENIOR ADVISOR.
|  | DIRECTOR, SERVICE ENGINEERING STAFF.
|  | DIRECTOR, SERVICE DELIVERY STAFF.
|  | DEPUTY DIRECTOR, CYBERSECURITY STAFF/DEPUTY CHIEF INFORMATION SECURITY OFFICER.
|  | DEPUTY CHIEF INFORMATION OFFICER.
|  | CHIEF TECHNOLOGY OFFICER.
|  | DIRECTOR, CYBERSECURITY SERVICES STAFF.
|  | SENIOR COUNSELOR, OFFICE OF THE DEPUTY ASSISTANT ATTORNEY GENERAL FOR POLICY, MANAGEMENT AND PLANNING JUSTICE MANAGEMENT DIVISION.
|  | ASSISTANT ATTORNEY GENERAL FOR ADMINISTRATION.
|  | DEPUTY DIRECTOR, SERVICE DELIVERY STAFF.
|  | DIRECTOR, DEPARTMENTAL ETHICS OFFICE.
|  | DEPUTY DIRECTOR, BUDGET STAFF, OPERATIONS AND FUNDS CONTROL.
|  | DIRECTOR PROCUREMENT SERVICES STAFF.
|  | GENERAL COUNSEL.
|  | DIRECTOR, EQUAL EMPLOYMENT OPPORTUNITY STAFF.
|  | DIRECTOR, BUDGET STAFF.
|  | DIRECTOR, DEBT COLLECTION MANAGEMENT STAFF.
|  | DEPUTY ASSISTANT ATTORNEY GENERAL FOR INFORMATION RESOURCES MANAGEMENT/CHIEF INFORMATION OFFICER.
|  | DIRECTOR, OFFICE OF ATTORNEY RECRUITMENT AND MANAGEMENT.
|  | DIRECTOR FINANCE STAFF.
|  | DEPUTY ASSISTANT ATTORNEY GENERAL (CONTROLLER).
|  | DEPUTY ASSISTANT ATTORNEY GENERAL FOR HUMAN RESOURCES AND ADMINISTRATION.
|  | DIRECTOR LIBRARY STAFF.
|  | DIRECTOR JUSTICE SECURITY OPERATIONS CENTER.
|  | DIRECTOR, FACILITIES AND ADMINISTRATIVE SERVICES STAFF.
|  | DIRECTOR, APPROPRIATION LIAISON OFFICE.
|  | DIRECTOR, SECURITY AND EMERGENCY PLANNING STAFF.
|  | DEPUTY DIRECTOR, CUSTOMER AND BUSINESS SOLUTIONS SERVICE DELIVERY STAFF.
|  | DIRECTOR RM AND E- DISCOVERY.
|  | DIRECTOR, ASSET FORFEITURE MANAGEMENT STAFF.
|  | DEPUTY ASSISTANT ATTORNEY GENERAL, POLICY, MANAGEMENT, AND PLANNING.
|  | DIRECTOR, HUMAN RESOURCES.
|  | DIRECTOR, INFORMATION TECHNOLOGY POLICY AND PLANNING STAFF.
|  | DEPUTY DIRECTOR, BUDGET STAFF, PROGRAMS AND PERFORMANCE.
| NATIONAL SECURITY DIVISION | CHIEF, FOREIGN INVESTMENT REVIEW STAFF.
|  | DIRECTOR OF RISK MANAGEMENT AND SENIOR COUNSEL.
|  | DIRECTOR, FOIA AND DECLASSIFICATION PROGRAM.
|  | CHIEF, APPELLATE UNIT.
|  | DEPUTY CHIEF, COUNTERTERRORISM SECTION.
|  | DEPUTY ASSISTANT ATTORNEY GENERAL, FISA OPERATIONS AND INTELLIGENCE OVERSIGHT.
|  | CHIEF, OPERATIONS SECTION.
|  | CHIEF, OVERSIGHT SECTION.
|  | EXECUTIVE OFFICER.
|  | SPECIAL COUNSEL FOR NATIONAL SECURITY.
| OFFICE OF PROFESSIONAL RESPONSIBILITY | DEPUTY COUNSEL ON PROFESSIONAL RESPONSIBILITY.
|  | COUNSEL ON PROFESSIONAL RESPONSIBILITY.
| OFFICE OF THE LEGAL COUNSEL | SPECIAL COUNSEL.
|  | SPECIAL COUNSEL.
| PROFESSIONAL RESPONSIBILITY ADVISORY OFFICE | DIRECTOR, PROFESSIONAL RESPONSPONSIBILITY ADVSIORY OFFICE.
| UNITED STATES MARSHALS SERVICE | ASSISTANT DIRECTOR, INVESTIGATIVE OPERATIONS.
|  | DEPUTY DIRECTOR.
|  | ASSISTANT DIRECTOR JUDICIAL SECURITY.
|  | ASSISTANT DIRECTOR, JPATS.
|  | ATTORNEY ADVISOR.
|  | ASSOCIATE DIRECTOR, OPERATIONS.
|  | ASSOCIATE DIRECTOR, ADMINISTRATION.
|  | ASSISTANT DIRECTOR, TACTICAL OPERATIONS.
|  | ASSISTANT DIRECTOR FOR PRISONER OPERATIONS.
|  | ASSISTANT DIRECTOR, INFORMATION TECHNOLOGY.
|  | ASSISTANT DIRECTOR FINANCIAL SERVICES.
|  | ASSISTANT DIRECTOR, HUMAN RESOURCES.
|  | ASSISTANT DIRECTOR, WITNESS SECURITY.
|  | ASSISTANT DIRECTOR, MANAGEMENT SUPPORT.
|  | ASSISTANT DIRECTOR, ASSET FORFEITURE.
|  | ASSISTANT DIRECTOR, TRAINING.
| DEPARTMENT OF JUSTICE OFFICE OF THE INSPECTOR GENERAL | AUDIT DIVISION. DEPUTY ASSISTANT INSPECTOR GENERAL, AUDIT DIVISION.
|  | ASSISTANT INSPECTOR GENERAL, AUDIT DIVISION.
| EVALUATION AND INSPECTIONS DIVISION | ASSISTANT INSPECTOR GENERAL, EVALUATION AND INSPECTIONS DIVISION.
| FRONT OFFICE | DEPUTY INSPECTOR GENERAL.
|  | GENERAL COUNSEL.
| INFORMATION TECHNOLOGY DIVISION | ASSISTANT INSPECTOR GENERAL, INFORMATION TECHNOLOGY DIVISION.
| INVESTIGATIONS DIVISION | ASSISTANT INSPECTOR GENERAL, INVESTIGATIONS DIVISION.
|  | DEPUTY ASSISTANT INSPECTOR GENERAL, INVESTIGATIONS DIVISION.
| MANAGEMENT AND PLANNING DIVISION | DEPUTY ASSISTANT INSPECTOR GENERAL, MANAGEMENT AND PLANNING.
|  | ASSISTANT INSPECTOR GENERAL, MANAGEMENT AND PLANNING DIVISION.
| OVERSIGHT AND REVIEW DIVISION | DEPUTY ASSISTANT INSPECTOR GENERAL, OVERSIGHT AND REVIEW DIVISION.
|  | ASSISTANT INSPECTOR GENERAL, OVERSIGHT AND REVIEW DIVISION.
DEPARTMENT OF LABOR | BUREAU OF LABOR STATISTICS | ASSOCIATE COMMISSIONER FOR EMPLOYMENT AND UNEMPLOYMENT STATISTICS.
|  | ASSISTANT COMMISSIONER FOR INTERNATIONAL PRICES.
|  | ASSOCIATE COMMISSIONER FOR FIELD OPERATIONS.
|  | ASSOCIATE COMMISSIONER FOR ADMINISTRATION.
|  | ASSOCIATE COMMISSIONER FOR PRICES AND LIVING CONDITIONS.
|  | ASSOCIATE COMMISSIONER PRODUCTIVITY AND TECHNOLOGY.
|  | ASSISTANT COMMISSIONER FOR INDUSTRY EMPLOYMENT STATISTICS.
|  | ASSOCIATE COMMISSIONER FOR PUBLICATIONS AND SPECIAL STUDIES.
|  | ASSOCIATE COMMISSIONER FOR SURVEY METHODS RESEARCH.
|  | ASSISTANT COMMISSIONER FOR CURRENT EMPLOYMENT ANALYSIS.
|  | ASSOCIATE COMMISSIONER FOR TECHNOLOGY AND SURVEY PROCESSING.
|  | ASSISTANT COMMISSIONER FOR COMPENSATION LEVELS AND TRENDS.
|  | ASSISTANT COMMISSIONER FOR SAFETY, HEALTH AND WORKING CONDITIONS.
|  | DEPUTY COMMISSIONER FOR LABOR STATISTICS.
|  | DIRECTOR OF SURVEY PROCESSING.
|  | ASSISTANT COMMISSIONER FOR OCCUPATIONAL STATISTICS AND EMPLOYMENT PROJECTIONS.
|  | ASSISTANT COMMISSIONER FOR INDUSTRIAL PRICES AND PRICE INDEXES.
|  | ASSISTANT COMMISSIONER FOR CONSUMER PRICES AND PRICES INDEXES.
|  | DIRECTOR OF TECHNOLOGY AND COMPUTING SERVICES.
|  | ASSISTANT COMMISSIONER FOR REGIONAL OPERATIONS (3).
|  | ASSOCIATE COMMISSIONER FOR COMPENSATION AND WORKING CONDITIONS.
| EMPLOYEE BENEFITS SECURITY ADMINISTRATION | DEPUTY ASSISTANT SECRETARY REGIONAL OFFICES.
|  | REGIONAL DIRECTOR.
|  | REGIONAL DIRECTOR—CHICAGO.
|  | REGIONAL DIRECTOR—NEW YORK.
|  | CHIEF ACCOUNTANT.
|  | REGIONAL DIRECTOR—PHILADELPHIA.
|  | DIRECTOR OF REGULATIONS AND INTERPRETATIONS.
|  | DEPUTY ASSISTANT SECRETARY FOR PROGRAM OPERATIONS.
|  | REGIONAL DIRECTOR—BOSTON.
|  | REGIONAL DIRECTOR—ATLANTA.
|  | REGIONAL DIRECTOR—KANSAS CITY.
|  | REGIONAL DIRECTOR—SAN FRANCISCO.
|  | DIRECTOR OF ENFORCEMENT.
|  | DIRECTOR OF EXEMPTION DETERMINATIONS.
|  | DIRECTOR, OFFICE OF OUTREACH EDUCATION AND ASSISTANCE.
|  | DIRECTOR OF HEALTH PLAN STANDARDS COMPLIANCE AND ASSISTANCE.
|  | DIRECTOR, OFFICE OF TECHNOLOGY AND INFORMATION SERVICES.
| EMPLOYMENT AND TRAINING ADMINISTRATION | ADMINISTRATOR, OFFICE OF GRANTS MANAGEMENT.
|  | ADMINISTRATOR, OFFICE OF TRADE ADJUSTMENT ASSISTANCE.
|  | ADMINISTRATOR, OFFICE OF POLICY DEVELOPMENT AND RESEARCH.
|  | ADMINISTRATOR, OFFICE OF WORKFORCE SECURITY.
|  | ASSOCIATE ADMINISTRATOR.
|  | COMPTROLLER.
|  | DEPUTY ASSISTANT SECRETARY (OPERATIONS AND MANAGEMENT).
|  | DEPUTY ADMINISTRATOR JOB CORP.
|  | REGIONAL ADMINISTRATOR.
|  | ADMINISTRATOR, OFFICE OF JOB CORPS.
|  | ADMINISTRATOR, OFFICE OF FOREIGN LABOR CERTIFICATION.
|  | REGIONAL ADMINISTRATOR (3).
|  | ADMINISTRATOR, APPRENTICESHIP AND TRAINING, EMPLOYEE AND LABOR SERVICES.
| MINE SAFETY AND HEALTH ADMINISTRATION | DEPUTY ASSISTANT SECRETARY.
|  | DIRECTOR OF TECHNICAL SUPPORT.
|  | DIRECTOR OF ADMINISTRATION AND MANAGEMENT.
|  | DIRECTOR, OFFICE OF ASSESSMENTS, ACCOUNTABILITY, SPECIAL ENFORCEMENT, AND INVESTIGATIONS.
|  | DEPUTY ADMINISTRATOR FOR COAL MINE SAFETY AND HEALTH.
|  | DIRECTOR OF PROGRAM EVALUATION AND INFORMATION RESOURCES.
| OCCUPATIONAL SAFETY AND HEALTH ADMINISTRATION | DIRECTOR OF CONSTRUCTION. DIRECTOR, ADMINISTRATIVE PROGRAMS.
| OFFICE OF DISABILITY EMPLOYMENT POLICY | DEPUTY ASSISTANT SECRETARY FOR ODEP.
|  | DIRECTOR FOR PROGRAM MANAGEMENT.
| OFFICE OF FEDERAL CONTRACT COMPLIANCE PROGRAMS | DIRECTOR, DIVISION OF POLICY, PLANNING AND PROGRAM DEVELOPMENT.
|  | REGIONAL DIRECTOR FOR OFFICE OF FEDERAL CONTRACT COMPLIANCE PROGRAMS (6).
|  | DIRECTOR, MANAGEMENT AND ADMINISTRATIVE PROGRAMS.
| OFFICE OF LABOR- MANAGEMENT STANDARDS | REGIONAL DIRECTOR, SAINT LOUIS, MO.
|  | REGIONAL DIRECTOR, MILWAUKEE.
|  | REGIONAL DIRECTOR, NEW YORK, NEW YORK.
|  | REGIONAL DIRECTOR, NEW ORLEANS.
|  | DEPUTY DIRECTOR, OFFICE OF LABOR MANAGEMENT STANDARDS.
| OFFICE OF THE ASSISTANT SECRETARY FOR ADMINISTRATION AND MANAGEMENT | DIRECTOR DEPARTMENTAL BUDGET CENTER. DIRECTOR BUSINESS OPERATIONS CENTER.
|  | DIRECTOR, PERFORMANCE MANAGEMENT CENTER.
|  | DIRECTOR OF CIVIL RIGHTS.
|  | DEPUTY ASSISTANT SECRETARY FOR OPERATIONS.
|  | DIRECTOR OF ENTERPRISE SERVICES.
|  | DEPUTY CHIEF INFORMATION OFFICER.
|  | CHIEF HUMAN CAPITAL OFFICER.
|  | DEPUTY DIRECTOR OF HUMAN RESOURCES.
|  | DEPUTY ASSISTANT SECRETARY FOR BUDGET.
|  | DIRECTOR, GRANTS MANAGEMENT.
|  | SENIOR PROCUREMENT EXECUTIVE.
|  | DIRECTOR, CYBER SECURITY AND CHIEF INFORMATION SECURITY OFFICER.
| OFFICE OF THE ASSISTANT SECRETARY FOR POLICY | DIRECTOR, OFFICE OF REGULATORY AND PROGRAMMATIC POLICY.
|  | DEPUTY ASSISTANT SECRETARY FOR POLICY.
| OFFICE OF THE CHIEF FINANCIAL OFFICER | DEPUTY CHIEF FINANCIAL OFFICER.
|  | ASSOCIATE DEPUTY CHIEF FINANCIAL OFFICER FOR FINANCIAL SYSTEMS.
| OFFICE OF THE SOLICITOR | REGIONAL SOLICITOR—NEW YORK.
|  | ASSOCIATE SOLICITOR FOR PLAN BENEFITS SECURITY.
|  | DEPUTY SOLICITOR (REGIONAL OPERATIONS).
|  | REGIONAL SOLICITOR - BOSTON.
|  | REGIONAL SOLICITOR - CHICAGO.
|  | ASSOCIATE SOLICITOR FOR OCCUPATIONAL SAFETY AND HEALTH.
|  | ASSOCIATE SOLICITOR FOR MINE SAFETY AND HEALTH.
|  | ASSOCIATE SOLICITOR, MANAGEMENT AND ADMINISTRATIVE LEGAL SERVICES DIVISION.
|  | ASSOCIATE SOLICITOR FOR CIVIL RIGHTS AND LABOR MANAGEMENT.
|  | ASSOCIATE SOLICITOR FOR BLACK LUNG AND LONGSHORE LEGAL SERVICES.
|  | DEPUTY SOLICITOR (NATIONAL OPERATIONS).
|  | ASSOCIATE SOLICITOR FOR FAIR LABOR STANDARDS.
|  | REGIONAL SOLICITOR—ATLANTA.
|  | ASSOCIATE SOLICITOR FOR FEDERAL EMPLOYEES' AND ENERGY WORKERS' COMPENSATION.
|  | REGIONAL SOLICITOR—PHILADELPHIA.
|  | REGIONAL SOLICITOR —DALLAS.
|  | REGIONAL SOLICITOR—SAN FRANCISCO.
| OFFICE OF WORKERS COMPENSATION PROGRAMS | REGIONAL DIRECTOR—DALLAS.
|  | DEPUTY DIRECTOR FOR OFFICE OF WORKERS' COMPENSATION PROGRAMS.
|  | DEPUTY DIRECTOR, POLICY AND NATIONAL OPERATIONS.
|  | NATIONAL ADMINISTRATION OF FIELD OPERATIONS, DIVISION OF FEDERAL EMPLOYEES COMPENSATION.
|  | NATIONAL ADMINISTRATION OF FIELD OPERATIONS, DIVISION OF ENERGY EMPLOYEE OCC ILLNESS COMP.
|  | DIRECTOR FOR FEDERAL EMPLOYEES' COMPENSATION.
|  | REGIONAL DIRECTOR (2).
|  | COMPTROLLER.
|  | ADMINISTRATIVE OFFICER.
|  | DEPUTY DIRECTOR, CLAIMS ADMINISTRATION, POLICY, HEARINGS, AND TECHNICAL ASSISTANCE.
|  | DEPUTY DIRECTOR, PROGRAM AND SYSTEMS INTEGRITY.
|  | REGIONAL DIRECTOR (NORTHEAST REGION).
|  | DIRECTOR, ENERGY EMPLOYEES' OCCUPATIONAL ILLNESS COMPENATION.
|  | DIRECTOR OF COAL MINE WORKERS' COMPENSATION.
| VETERANS EMPLOYMENT AND TRAINING SERVICE | DIRECTOR OF NATIONAL PROGRAMS.
|  | DEPUTY ASSISTANT SECRETARY FOR OPERATIONS AND MANAGEMENT.
|  | DIRECTOR, OFFICE OF FIELD OPERATIONS.
| WAGE AND HOUR DIVISION | ASSISTANT ADMINISTRATOR, OPERATIONS.
| WOMEN'S BUREAU | DEPUTY DIRECTOR, WOMEN'S BUREAU.
DEPARTMENT OF LABOR OFFICE OF INSPECTOR GENERAL | DEPARTMENT OF LABOR OFFICE OF INSPECTOR GENERAL | DEPUTY ASSISTANT INSPECTOR GENERAL FOR AUDIT.
|  | ASSISTANT INSPECTOR GENERAL FOR MANAGEMENT AND POLICY.
|  | ASSISTANT INSPECTOR GENERAL FOR CONGRESSIONAL AND PUBLIC RELATIONS.
|  | CHIEF PERFORMANCE AND RISK MANAGEMENT OFFICER.
|  | DEPUTY ASSISTANT INSPECTOR GENERAL FOR MANAGEMENT AND POLICY.
|  | ASSISTANT INSPECTOR GENERAL FOR AUDIT.
|  | ASSISTANT INSPECTOR GENERAL FOR INVESTIGATIONS—LABOR RACKETEERING.
|  | COUNSEL TO THE INSPECTOR GENERAL.
|  | DEPUTY INSPECTOR GENERAL.
|  | DEPUTY ASSISTANT INSPECTOR GENERAL FOR AUDIT.
|  | DEPUTY ASSISTANT INSPECTOR GENERAL FOR INVESTIGATIONS—LABOR RACKETEERING.
MERIT SYSTEMS PROTECTION BOARD | DALLAS REGIONAL OFFICE | REGIONAL DIRECTOR, DALLAS.
OFFICE OF REGIONAL OPERATIONS | ATLANTA REGIONAL OFFICE | REGIONAL DIRECTOR, ATLANTA.
| CENTRAL REGION, CHICAGO REGIONAL OFFICE | REGIONAL DIRECTOR, CHICAGO.
| NORTHEAST REGION, PHILADELPHIA REGIONAL OFFICE | REGIONAL DIRECTOR, PHILADELPHIA.
| WASHINGTON, DC REGION, WASHINGTON REGIONAL OFFICE | REGIONAL DIRECTOR, WASHINGTON, D.C.
| WESTERN REGION, OAKLAND REGIONAL OFFICE | REGIONAL DIRECTOR, OAKLAND.
OFFICE OF THE BOARD, CHAIRMAN | OFFICE OF FINANCIAL AND ADMINISTRATIVE MANAGEMENT | DIRECTOR, FINANCIAL AND ADMINISTRATIVE MANAGEMENT.
| OFFICE OF INFORMATION RESOURCES MANAGEMENT | DIRECTOR, INFORMATION RESOURCES MANAGEMENT.
| OFFICE OF POLICY AND EVALUATION | DIRECTOR, OFFICE OF POLICY AND EVALUATION.
| OFFICE OF REGIONAL OPERATIONS | DIRECTOR, OFFICE OF REGIONAL OPERATIONS.
| OFFICE OF THE CLERK OF THE BOARD | CLERK OF THE BOARD.
NATIONAL AERONAUTICS AND SPACE ADMINISTRATION | NATIONAL AERONAUTICS AND SPACE ADMINISTRATION | DIRECTOR, EXPLORATION RESEARCH AND TECHNOLOGY PROGRAMS.
|  | GROUND SYSTEMS INTEGRATION MANAGER, EXPLORATION GROUND SYSTEMS PROGRAM.
|  | DIRECTOR, HUMAN RESOURCES.
|  | DIRECTOR, SPACEPORT INTEGRATION AND SERVICES.
|  | DIRECTOR, COMMUNICATION AND PUBLIC ENGAGEMENT.
AERONAUTICS RESEARCH MISSION DIRECTORATE | AMES RESEARCH CENTER | DEPUTY DIRECTOR, SCIENCE. DIRECTOR, PROGRAMS AND PROJECTS.
|  | ASSOCIATE DIRECTOR FOR RESEARCH AND TECHNOLOGY.
|  | DEPUTY DIRECTOR, EXPLORATION TECHNOLOGY.
|  | PROGRAM MANAGER FOR SOFIA.
|  | HUMAN CAPITAL DIRECTOR.
|  | PROCUREMENT OFFICER.
|  | CHIEF INFORMATION OFFICER.
|  | DEPUTY CENTER DIRECTOR, AMES.
|  | DIRECTOR OF SAFETY AND MISSION ASSURANCE.
|  | DEPUTY DIRECTOR, AERONAUTICS.
|  | DIRECTOR OF SCIENCE.
|  | DIRECTOR, EXPLORATION TECHNOLOGY.
|  | CHIEF FINANCIAL OFFICER.
|  | DIRECTOR OF CENTER OPERATIONS.
|  | DIRECTOR OF AERONAUTICS.
|  | SPECIAL ASSISTANT TO THE CENTER DIRECTOR.
|  | SPECIAL ASSISTANT.
|  | ASSISTANT CENTER DIRECTOR FOR MANAGEMENT OPERATIONS.
|  | DIRECTOR OF ENGINEERING.
|  | DIRECTOR, NASA RESEARCH PARK.
|  | CENTER ASSOCIATE DIRECTOR.
| GLENN RESEARCH CENTER | CHIEF FINANCIAL OFFICER.
|  | DEPUTY DIRECTOR OF FACILTIES, TEST AND MANUFACTURING DIRECTORATE.
|  | DIRECTOR OF CENTER OPERATIONS.
|  | DEPUTY DIRECTOR, OFFICE OF TECHNOLOGY INCUBATION AND INNOVATION.
|  | ASSOCIATE DIRECTOR FOR STRATEGY.
|  | DIRECTOR, FACILITIES, TEST AND MANUFACTURING DIRECTORATE.
|  | DIRECTOR, SAFETY AND MISSION ASSURANCE DIRECTORATE.
|  | DIRECTOR, AERONAUTICS DIRECTORATE.
|  | DIRECTOR, OFFICE OF TECHNOLOGY INCUBATION AND INNOVATION.
|  | PLUM BROOK STATION MANAGER.
| LANGLEY RESEARCH CENTER | SENIOR ADVISOR FOR TECHNOLOGY AND STRATEGY.
|  | DEPUTY DIRECTOR FOR TECHNICAL CAPABILITIES.
|  | DEPUTY DIRECTOR FOR AERONAUTICS PROJECTS.
|  | DIRECTOR, SPACE TECHNOLOGY AND EXPLORATION DIRECTORATE.
|  | ASSOCIATE DIRECTOR, LANGLEY RESEARCH CENTER.
|  | DEPUTY DIRECTOR FOR INTELLIGENT FLIGHT SYSTEMS.
|  | DIRECTOR, NATIONAL AERONAUTICS AND SPACE ADMINISTRATION ENGINEERING AND SAFETY CENTER.
|  | DEPUTY DIRECTOR, LANGLEY RESEARCH CENTER.
|  | CHIEF INFORMATION OFFICER.
|  | DEPUTY DIRECTOR, NATIONAL AERONAUTICS AND SPACE ADMINISTRATION ENGINEERING AND SAFETY CENTER.
|  | DIRECTOR, SCIENCE DIRECTORATE.
|  | DIRECTOR, SYSTEMS ANALYSIS AND ADVANCED CONCEPTS DIRECTORATE.
|  | DIRECTOR, RESEARCH SERVICES DIRECTORATE.
|  | DIRECTOR, OFFICE OF HUMAN CAPITAL MANAGEMENT.
|  | MANAGER, NESC INTEGRATION OFFICE.
|  | DEPUTY DIRECTOR FOR STRUCTURES AND MATERIALS.
|  | DEPUTY DIRECTOR FOR MISSION ASSURANCE.
|  | DIRECTOR, OFFICE OF STRATEGIC ANALYSIS, COMMUNICATIONS, AND BUSINESS DEVELOPMENT.
|  | ASSOCIATE DIRECTOR, TECHNICAL.
|  | SENIOR ADVISOR FOR ENGINEERING DEVELOPMENT.
|  | DEPUTY DIRECTOR FOR AEROSCIENCES.
|  | DEPUTY DIRECTOR FOR SAFETY.
|  | DIRECTOR, EARTH SYSTEM SCIENCE PATHFINDER PROGRAM OFFICE.
|  | CHIEF FINANCIAL OFFICER.
|  | DIRECTOR, SAFETY AND MISSION ASSURANCE OFFICE.
|  | DIRECTOR, ENGINEERING DIRECTORATE.
|  | DEPUTY DIRECTOR, ENGINEERING DIRECTORATE.
|  | DIRECTOR, RESEARCH DIRECTORATE.
|  | DEPUTY DIRECTOR, RESEARCH DIRECTORATE.
|  | DIRECTOR, CENTER OPERATIONS DIRECTORATE.
|  | DIRECTOR, AERONAUTICS RESEARCH DIRECTORATE.
GLENN RESEARCH CENTER | NASA SAFETY CENTER | DIRECTOR, AUDITS AND ASSESSMENTS.
|  | DIRECTOR, TECHNICAL EXCELLENCE.
| OFFICE OF THE CHIEF INFORMATION OFFICER | CHIEF INFORMATION OFFICER.
| RESEARCH AND ENGINEERING DIRECTORATE | DEPUTY DIRECTOR, RESEARCH AND ENGINEERING DIRECTORATE.
|  | DEPUTY CHIEF, POWER DIVISION.
|  | CHIEF, POWER DIVISION.
|  | DIRECTOR, RESEARCH AND ENGINEERING DIRECTORATE.
|  | CHIEF, CHIEF ENGINEER OFFICE.
| SPACE FLIGHT SYSTEMS DIRECTORATE | DIRECTOR, SPACE FLIGHT SYSTEMS DIRECTORATE.
|  | DEPUTY DIRECTOR, SPACE FLIGHT SYSTEMS.
|  | MANAGER, POWER AND PROPULSION ELEMENT PROJECT OFFICE.
|  | MANAGER, EUROPEAN SERVICE MODULE INTEGRATION OFFICE.
GODDARD SPACE FLIGHT CENTER | OFFICE OF FLIGHT PROJECTS | ASSOCIATE DIRECTOR FOR EXPLORERS AND HELIOPHYSICS PROJECTS DIVISION.
|  | DEPUTY ASSOCIATE DIRECTOR OF FLIGHT PROJECTS FOR JOINT POLAR SATELLITE SYSTEM (JPSS) GROUND.
| OFFICE OF INFORMATION TECHNOLOGY | CHIEF INFORMATION OFFICER.
| OFFICE OF MANAGEMENT OPERATIONS | DEPUTY DIRECTOR OF MANAGEMENT OPERATIONS.
| OFFICE OF SCIENCES AND EXPLORATION | DEPUTY DIRECTOR OF SCIENCES AND EXPLORATION.
JOHNSON SPACE CENTER | OFFICE OF CENTER OPERATIONS | DIRECTOR, CENTER OPERATIONS.
| OFFICE OF ENGINEERING | CHIEF, AEROSCIENCE AND FLIGHT MECHANICS DIVISION.
|  | CHIEF, PROPULSION AND POWER DIVISION.
|  | DEPUTY DIRECTOR, ENGINEERING.
|  | CHIEF, SOFTWARE, ROBOTICS AND SIMULATION DIVISION.
|  | DIRECTOR, ENGINEERING.
| OFFICE OF EXPLORATION INTEGRATION AND SCIENCE | DEPUTY DIRECTOR, EXPLORATION INTEGRATION AND SCIENCE.
|  | DIRECTOR, EXPLORATION INTEGRATION AND SCIENCE.
|  | DIRECTOR, STRATEGIC OPPORTUNITIES AND PARTNERSHIP DEVELOPMENT.
|  | CHIEF, PARTNERSHIPS DEVELOPMENT OFFICE.
|  | ASSOCIATE DIRECTOR, EXPLORATION, INTEGRATION AND SCIENCE.
|  | MANAGER, EXTRA VEHICULAR ACTIVITY MANAGEMENT OFFICE.
| OFFICE OF FLIGHT OPERATIONS | CHIEF ASTRONAUT OFFICE.
|  | CHIEF, FLIGHT DIRECTOR OFFICE.
|  | CHIEF, AIRCRAFT OPERATIONS DIVISION.
|  | CHIEF, MISSION SYSTEMS DIVISION.
|  | DEPUTY DIRECTOR, FLIGHT OPERATIONS.
|  | DIRECTOR, FLIGHT OPERATIONS.
| HUMAN HEALTH AND PERFORMANCE | DEPUTY DIRECTOR, HUMAN HEALTH AND PEFORMANCE.
|  | DIRECTOR, HUMAN HEALTH AND PERFORMANCE.
| OFFICE OF INFORMATION RESOURCES | DIRECTOR, INFORMATION RESOURCES.
| OFFICE OF PROCUREMENT | SENIOR ADVISOR (TRANSFORMATION).
|  | DIRECTOR, OFFICE OF PROCUREMENT.
| OFFICE OF ORION PROGRAM | MANAGER, AVIONICS, POWER AND SOFTWARE OFFICE.
|  | DEPUTY MANAGER, ORION PROGRAM.
|  | MANAGER, VEHICLE INTEGRATION OFFICE.
|  | MANAGER, ORION PROGRAM.
|  | MANAGER, CREW AND SERVICE MODULE OFFICE.
| SPACE STATION PROGRAM OFFICE | MANAGER, EXTERNAL INTEGRATION OFFICE.
|  | DEPUTY MANAGER FOR UTILIZATION.
|  | MANAGER, INTERNATIONAL SPACE STATION RESEARCH INTEGRATION OFFICE.
|  | MANAGER, OPERATIONS INTEGRATION.
|  | MANAGER, SAFETY AND MISSION ASSURANCE/PROGRAM RISK OFFICE, ISSP.
|  | MANAGER, INTERNATIONAL SPACE STATION TRANSPORTATION INTEGRATION.
|  | MANAGER, PROGRAM PLANNING AND CONTROL OFFICE, INTERNATIONAL SPACE STATION.
|  | MANAGER, AVIONICS AND SOFTWARE OFFICE.
|  | DEPUTY MANAGER, INTERNATIONAL SPACE STATION PROGRAM.
|  | MANAGER, VEHICLE OFFICE.
|  | MANAGER, INTERNATIONAL SPACE STATION PROGRAM.
| WHITE SANDS TEST FACILITY | MANAGER, WHITE SANDS TEST FACILITY.
KENNEDY SPACE CENTER | LAUNCH SERVICES PROGRAM | MANAGER, LAUNCH SERVICES PROGRAM.
| SAFETY AND MISSION ASSURANCE | DIRECTOR, SAFETY AND MISSION ASSURANCE.
MISSION SUPPORT DIRECTORATE | NASA SHARED SERVICES CENTER | DIRECTOR, SUPPORT OPERATIONS DIRECTORATE.
|  | DIRECTOR, SERVICE DELIVERY DIRECTORATE.
|  | FEDERAL SHARED SERVICES IMPLEMENTATION PROGRAM MANAGER.
|  | EXECUTIVE DIRECTOR OF NASA SHARED SERVICES CENTER.
| OFFICE OF CHIEF HEALTH AND MEDICAL OFFICER | CHIEF HEALTH AND MEDICAL OFFICER.
|  | DEPUTY CHIEF HEALTH AND MEDICAL OFFICER.
| OFFICE OF HEADQUARTERS OPERATIONS | EXECUTIVE DIRECTOR, HEADQUARTERS OPERATIONS.
|  | DIRECTOR, HUMAN RESOURCE MANGEMENT DIVISION.
|  | DIRECTOR, HEADQUARTERS INFORMATION AND COMMUNICATION DIVISION.
|  | DIRECTOR, BUDGET MANAGEMENT AND SYSTEMS SUPPORT.
| OFFICE OF HUMAN CAPITAL MANAGEMENT | DIRECTOR, HUMAN RESOURCES SERVICES DIVISION.
|  | DIRECTOR, EXECUTIVE RESOURCES.
|  | ASSISTANT ADMINISTRATOR FOR HUMAN CAPITAL MANAGEMENT.
|  | DIRECTOR, WORKFORCE CULTURE DIVISION.
|  | DEPUTY ASSISTANT ADMINISTRATOR FOR HUMAN CAPITAL MANAGEMENT.
|  | DIRECTOR, WORKFORCE STRATEGY DIVISION.
|  | SPECIAL ASSISTANT TO THE CHIEF HUMAN CAPITAL OFFICER.
|  | DIRECTOR, BUSINESS OPERATIONS DIVISION.
|  | DEPUTY ASSISTANT ADMINISTRATOR FOR HIRING.
|  | DIRECTOR, EXECUTIVE RESOURCES.
| OFFICE OF PROCUREMENT | DIRECTOR, OFFICE OF PROCUREMENT.
|  | DIRECTOR, PROGRAM OPERATIONS DIVISION.
|  | DIRECTOR, INFORMATION TECHNOLOGY PROCUREMENT OFFICE.
|  | ASSISTANT ADMININSTRATOR FOR PROCUREMENT.
|  | DEPUTY ASSISTANT ADMINISTRATOR FOR OFFICE OF PROCUREMENT.
|  | DIRECTOR, OFFICE OF PROCUREMENT.
|  | DIRECTOR, CONTRACT MANAGEMENT DIVISION.
| OFFICE OF PROTECTIVE SERVICES | DEPUTY ASSISTANT ADMINISTRATOR FOR PROTECTIVE SERVICES.
|  | DIRECTOR OF COUNTERINTELLIGENCE/COUNTERTERRORISM FOR PROTECTIVE SERVICES.
|  | ASSISTANT ADMINISTRATOR FOR PROTECTIVE SERVICES.
| OFFICE OF STRATEGIC INFRASTRUCTURE | DIRECTOR, SPACE ENVIRONMENTS TESTING MANAGEMENT OFFICE (SETMO).
|  | SENIOR ADVISOR (TRANSFORMATION).
|  | DEPUTY ASSISTANT ADMINISTRATOR FOR STRATEGIC INFRASTRUCTURE.
|  | DIRECTOR, FACILITIES AND REAL ESTATE.
|  | DIRECTOR, LOGISTICS MANAGEMENT DIVISION.
|  | ASSISTANT ADMINISTRATOR FOR INFRASTRUCTURE AND ADMININSTRATION.
|  | DIRECTOR ENVIRONMENTAL MANAGEMENT DIVISION.
| OFFICE OF THE CHIEF ENGINEER | CHIEF ENGINEER.
|  | DEPUTY FOR MANAGEMENT.
| OFFICE OF THE CHIEF FINANCIAL OFFICER/COMPTROLLER | DIRECTOR, POLICY DIVISION. DEPUTY CHIEF FINANCIAL OFFICER (APPROPRIATIONS).
|  | DEPUTY CHIEF FINANCIAL OFFICER (FINANCE).
|  | DIRECTOR, STRATEGIC INVESTMENT DIVISION.
|  | DIRECTOR, FINANCIAL MANAGEMENT DIVISION.
|  | DIRECTOR, QUALITY ASSURANCE.
|  | DIRECTOR, BUDGET DIVISION.
NATIONAL AERONAUTICS AND SPACE ADMINISTRATION | OFFICE OF SAFETY AND MISSION ASSURANCE | DIRECTOR, INDEPENDENT VERIFICATION AND VALIDATION PROGRAM.
| OFFICE OF THE ADMINISTRATOR | ASSOCIATE ADMINSTRATOR.
|  | DEPUTY ASSOCIATE ADMINISTRATOR.
|  | SENIOR ADVISOR.
|  | SENIOR ADVISOR TO THE DEPUTY ASSOCIATE ADMINISTRATOR.
| OFFICE OF THE CHIEF FINANCIAL OFFICER/COMPTROLLER | ASSOCIATE DEPUTY CHIEF FINANCIAL OFFICER (FINANCE).
|  | DEPUTY CHIEF FINANCIAL OFFICER (STRATEGY AND PERFORMANCE).
|  | DIRECTOR, STAFF OPERATIONS DIVISION.
OFFICE OF EARTH SCIENCE | GODDARD SPACE FLIGHT CENTER | ASSOCIATE DIRECTOR FOR ASTROPHYSICS PROJECTS DIVISION.
|  | DIRECTOR OF ENGINEERING AND TECHNOLOGY.
|  | CHIEF, MECHANICAL SYSTEMS DIVISION.
|  | DIRECTOR OF FLIGHT PROJECTS.
|  | DIRECTOR, EARTH SCIENCES DIVISION.
|  | CHIEF, GODDARD INSTITUTE FOR SPACE STUDIES.
|  | DIRECTOR, ASTROPHYSICS SCIENCE DIVISION.
|  | DIRECTOR, HELIOPHYSICS SCIENCE DIVISION.
|  | ASSOCIATE DIRECTOR FOR EARTH SCIENCE PROJECTS DIVISION.
|  | DEPUTY ASSOCIATE DIRECTOR OF FLIGHT PROJECTS FOR JOINT POLAR SATELLITE SYSTEM (JPSS) FLIGHT.
|  | SPECIAL ASSISTANT FOR PROJECT MANAGEMENT TRAINING.
|  | ASSOCIATE DIRECTOR FOR SATELLITE SERVICING CAPABILITIES PROJECT.
|  | ASSOCIATE DIRECTOR OF FLIGHT PROJECTS FOR THE INSTRUMENT AND SPECIAL PROJECTS DIVISION.
|  | CHIEF INFORMATION OFFICER AND DIRECTOR OF INFORMATION TECHNOLOGY & COMMUNICATIONS DIRECTORATE.
|  | DEPUTY DIRECTOR FOR TECHNICAL MANAGEMENT.
|  | DEPUTY DIRECTOR WALLOPS FLIGHT FACILITY.
|  | DIRECTOR OF MANAGEMENT OPERATIONS.
|  | DIRECTOR OF SAFETY AND MISSION ASSURANCE.
|  | DEPUTY DIRECTOR FLIGHT PROJECTS FOR PLANNING AND BUSINESS MANAGEMENT.
|  | DEPUTY DIRECTOR FOR TECHNOLOGY AND RESEARCH INVESTMENTS.
|  | CHIEF, MISSION ENGINEERING AND SYSTEMS ANALYSIS DIVISION.
|  | DEPUTY DIRECTOR FOR INSTITUTIONS, PROGRAMS, AND BUSINESS MANAGEMENT.
|  | ASSOCIATE DIRECTOR FOR EXPLORATION AND SPACE COMMUNICATIONS PROJECTS DIVISION.
|  | DEPUTY CHIEF FINANCIAL OFFICER.
|  | CHIEF FINANCIAL OFFICER.
|  | DIRECTOR, SOLAR SYSTEM EXPLORATION DIVISION.
|  | DIRECTOR OF WALLOPS FLIGHT FACILITY.
|  | DEPUTY DIRECTOR OF FLIGHT PROJECTS.
|  | DIRECTOR OF THE OFFICE OF HUMAN CAPITAL MANAGEMENT.
|  | DEPUTY DIRECTOR OF SAFETY AND MISSION ASSURANCE.
|  | DIRECTOR OF SCIENCES AND EXPLORATION.
|  | CENTER ASSOCIATE DIRECTOR.
|  | CHIEF, ELECTRICAL ENGINEERING DIVISION.
|  | CHIEF, INSTRUMENT SYSTEMS AND TECHNOLOGY DIVISION.
|  | DEPUTY DIRECTOR OF ENGINEERING AND TECHNOLOGY.
|  | CHIEF, SOFTWARE ENGINEERING DIVISION.
|  | DEPUTY DIRECTOR FOR PLANNING AND BUSINESS MANAGEMENT.
OFFICE OF PUBLIC AFFAIRS | OFFICE OF LEGISLATIVE AND INTERGOVERNMENTAL AFFAIRS | DEPUTY ASSOCIATE ADMINISTRATOR FOR LEGISLATIVE AND INTERGOVERNMENTAL AFFAIRS.
OFFICE OF SMALL BUSINESS PROGRAMS | JOHNSON SPACE CENTER | DIRECTOR, EXTERNAL RELATIONS. DEPUTY MANAGER, INTERNATIONAL SPACE STATION PROGRAM (OPERATIONS).
|  | MANAGER, OPERATIONS INTEGRATION, COMMERCIAL CREW PROGRAM.
|  | CHIEF FINANCIAL OFFICER.
|  | DEPUTY MANAGER, INTERNATIONAL SPACE STATION PROGRAM (UTILIZATION).
|  | PRODUCTION MANAGER, GATEWAY PROGRAM.
|  | MANAGER, PROGRAM PLANNING AND CONTROL, ORION.
|  | DEPUTY MANAGER, GATEWAY PROGRAM.
|  | MANAGER, VEHICLE SYSTEMS INTEGRATION.
|  | DEPUTY DIRECTOR, JOHNSON SPACE CENTER.
|  | DEPUTY MANAGER, FLIGHT DEVELOPMENT & OPERATIONS, COMMERCIAL CREW PROGRAM.
|  | DIRECTOR OF HUMAN RESOURCES.
|  | CENTER ASSOCIATE DIRECTOR.
| KENNEDY SPACE CENTER | MANAGER, DEEP SPACE GATEWAY, LOGISTICS ELEMENT.
|  | DEPUTY DIRECTOR, SAFETY AND MISSION ASSURANCE.
|  | DEPUTY DIRECTOR, SPACEPORT INTEGRATION AND SERVICES.
|  | CHIEF, LABORATORIES AND TEST FACILITIES DIVISION, ENGINEERING.
|  | CHIEF, TECHNICAL PERFORMANCE AND INTEGRATION DIVISION, ENGINEERING.
|  | ASSOCIATE DIRECTOR, MANAGEMENT.
|  | CHIEF, COMMERCIAL SYSTEMS DIVISION, ENGINEERING.
|  | DEPUTY MANAGER, GROUND DEVELOPMENT AND OPERATIONS, COMMERCIAL CREW PROGRAM.
|  | MANAGER, COMMERCIAL CREW PROGRAM.
|  | DEPUTY DIRECTOR, ENGINEERING.
|  | CHIEF, EXPLORATION SYSTEMS AND OPERATIONS DIVISION, ENGINEERING.
|  | ASSOCIATE MANAGER, TECHNICAL, EXPLORATION GROUND SYSTEMS PROGRAM.
|  | MANAGER, EXPLORATION GROUND SYSTEMS PROGRAM.
|  | DEPUTY MANAGER, EXPLORATION GROUND SYSTEMS PROGRAM.
|  | ASSOCIATE DIRECTOR, ENGINEERING.
|  | DIRECTOR, ENGINEERING.
|  | DEPUTY MANAGER, LAUNCH SERVICES PROGRAM.
|  | CHIEF INFORMATION OFFICER, KENNEDY SPACE CENTER.
|  | DEPUTY DIRECTOR, JOHN F KENNEDY SPACE CENTER.
|  | ASSOCIATE DIRECTOR, TECHNICAL, JOHN F KENNEDY SPACE CENTER.
|  | CHIEF FINANCIAL OFFICER.
|  | DIRECTOR, PROCUREMENT.
| MARSHALL SPACE FLIGHT CENTER | DEPUTY DIRECTOR, SAFETY AND MISSION ASSURANCE DIRECTORATE.
|  | CHIEF ENGINEER, OFFICE OF THE CHIEF ENGINEER, ENGINEERING DIRECTORATE.
|  | DIRECTOR, SAFETY AND MISSION ASSURANCE DIRECTORATE.
|  | ASSOCIATE CENTER DIRECTOR..
|  | MANAGER, SPACECRAFT/PAYLOAD INTEGRATION AND EVOLUTION OFFICE, SPACE LAUNCH SYSTEM PROGRAM OFFICE.
|  | DIRECTOR, ENGINEERING DIRECTORATE.
|  | DEPUTY DIRECTOR, OFFICE OF CENTER OPERATIONS.
|  | MANAGER, SYSTEMS ENGINEERING AND INTEGRATION OFFICE.
|  | PROGRAM MANAGER, HUMAN LANDING SYSTEM.
|  | DIRECTOR FOR ADVANCED TECHNOLOGY, SCIENCE AND TECHNOLOGY OFFICE.
|  | DEPUTY MANAGER, HUMAN LANDING SYSTEM PROGRAM OFFICE.
|  | INTERNATIONAL SPACE STATION COST ACCOUNT MANAGER.
|  | MANAGER, SYSTEMS ENGINEERING AND INTEGRATION OFFICE, SPACE LAUNCH SYSTEM PROGRAM OFFICE.
|  | MANAGER, HUMAN EXPLORATION DEVELOPMENT AND OPERATIONS OFFICE.
|  | CHIEF FINANCIAL OFFICER.
|  | MANAGER, SCIENCE AND TECHNOLOGY OFFICE.
|  | ASSOCIATE MANAGER, SCIENCE AND TECHNOLOGY OFFICE.
|  | ASSOCIATE DIRECTOR FOR OPERATIONS.
|  | MANAGER, SYSTEMS ENGINEERING AND INTEGRATION OFFICE.
|  | ASSOCIATE PROGRAM MANAGER, SPACE LAUNCH SYSTEM PROGRAM OFFICE.
|  | SPACE LAUNCH SYSTEM CHIEF SAFETY OFFICER, SAFETY AND MISSION ASSURANCE DIRECTORATE.
|  | MANAGER, SPACE LAUNCH SYSTEM PROGRAM OFFICE.
|  | DEPUTY MANAGER, SPACE LAUNCH SYSTEM PROGRAM OFFICE.
|  | MANAGER, ENGINES OFFICE, SPACE LAUNCH SYSTEM PROGRAM OFFICE.
|  | MANAGER, STAGES OFFICE, SPACE LAUNCH SYSTEM PROGRAM OFFICE.
|  | MANAGER, BOOSTERS OFFICE, SPACE LAUNCH SYSTEM PROGRAM OFFICE.
|  | CHIEF ENGINEER, SPACE LAUNCH SYSTEM, ENGINEERING DIRECTORATE.
|  | DEPUTY MANAGER, SCIENCE AND TECHNOLOGY OFFICE.
|  | DEPUTY CENTER DIRECTOR.
|  | MANAGER, PROGRAM PLANNING AND CONTROL OFFICE, SPACE LAUNCH SYSTEM PROGRAM OFFICE.
|  | ASSOCIATE CENTER DIRECTOR, TECHNICAL.
|  | ASSOCIATE DIRECTOR FOR TECHNICAL OPERATIONS, ENGINEERING DIRECTORATE.
|  | DIRECTOR, MICHOUD ASSEMBLY FACILITY.
|  | DEPUTY MANAGER, OFFICE OF THE CHIEF ENGINEER, ENGINEERING DIRECTORATE.
|  | ASSOCIATE DIRECTOR FOR OPERATIONS, ENGINEERING DIRECTORATE.
|  | DIRECTOR, OFFICE OF CENTER OPERATIONS.
|  | DEPUTY MANAGER, HUMAN EXPLORATION DEVELOPMENT AND OPERATIONS OFFICE.
|  | MANAGER, HABITATION ELEMENT OFFICE, HUMAN EXPLORATION DEVELOPMENT AND OPERATIONS OFFICE.
|  | ASSOCIATE CHIEF INFORMATION OFFICER, APPLICATIONS DIVISION.
|  | DEPUTY DIRECTOR, ENGINEERING DIRECTORATE.
|  | DEPUTY DIRECTOR, SPACE SYSTEMS DEPT, ENGINEERING DIRECTORATE.
|  | DIRECTOR, SPACE SYSTEMS DEPARTMENT, ENGINEERING DIRECTORATE.
|  | DIRECTOR, MATERIALS AND PROCESSES LAB, ENGINEERING DIRECTORATE.
|  | DIRECTOR, PROPULSION SYSTEMS DEPT, ENGINEERING DIRECTORATE.
|  | DEPUTY DIRECTOR, PROPULSION SYSTEMS DEPT, ENGINEERING DIRECTORATE.
|  | DIRECTOR, TEST LABORATORY, ENGINEERING DIRECTORATE.
|  | DIRECTOR, SPACECRAFT AND VEHICLE SYSTEMS DEPT, ENGINEERING DIRECTORATE.
|  | DEPUTY DIRECTOR, SPACECRAFT AND VEHICLE SYSTEMS DEPT, ENGINEERING DIRECTORATE.
|  | SPECIAL ASSISTANT TO THE DIRECTOR, OFFICE OF HUMAN RESOURCES.
|  | DIRECTOR, OFFICE OF HUMAN RESOURCES.
|  | DIRECTOR, OFFICE OF STRATEGIC ANALYSIS AND COMMUNICATIONS.
|  | DIRECTOR, OFFICE OF THE CHIEF INFORMATION OFFICER.
| STENNIS SPACE CENTER | ASSOCIATE DIRECTOR.
|  | DIRECTOR, CENTER OPERATIONS DIRECTORATE.
|  | DIRECTOR, OFFICE OF SAFETY AND MISSION ASSURANCE.
|  | CHIEF FINANCIAL OFFICER.
|  | DEPUTY DIRECTOR, STENNIS SPACE CENTER.
|  | DIRECTOR, ENGINEERING AND SCIENCE DIRECTORATE.
|  | DEPUTY DIRECTOR, ENGINEERING AND TEST DIRECTORATE.
OFFICE OF THE ADMINISTRATOR | AERONAUTICS RESEARCH MISSION DIRECTORATE | DIRECTOR FOR INTEGRATED AVIATION SYSTEMS PROGRAM.
|  | DEPUTY ASSOCIATE ADMINISTRATOR FOR STRATEGY.
|  | DEPUTY ASSOCIATE ADMINISTRATOR FOR PROGRAMS.
|  | DEPUTY ASSOCIATE ADMINISTRATOR FOR POLICY.
|  | DEPUTY ASSOCIATE ADMINISTRATOR.
|  | DIRECTOR, PORTFOLIO ANALYSIS AND MANAGEMENT OFFICE.
|  | DIRECTOR OF TRANSFORMATIVE AERONAUTICS CONCEPTS PROGRAM OFFICE.
|  | DIRECTOR OF AIRSPACE OPERATIONS AND SAFETY PROGRAM OFFICE.
|  | DIRECTOR OF ADVANCED AIR VEHICLES PROGRAM OFFICE.
| CHIEF OF STAFF | ASSOCIATE ADMINISTRATOR, STRATEGY AND PLANS.
| OFFICE OF HUMAN EXPLORATION AND OPERATIONS MISSION DIRECTORATE | DIRECTOR, LAUNCH SERVICES OFFICE. DIRECTOR, NETWORK SERVICES.
|  | DIRECTOR, HUMAN SPACEFLIGHT CAPABILITIES DIVISION.
|  | POWER PROPULSION ELEMENT, PROGRAM DIRECTOR.
|  | DIRECTOR, STRATEGIC INTEGRATION AND MANAGEMENT DIVISION.
|  | EXPLORATION SYSTEMS DEVELOPMENT SAFETY AND MISSION ASSURANCE MANAGER.
|  | DIRECTOR, PROGRAM AND STRATEGIC INTEGRATION OFFICE.
|  | ASSISTANT DEPUTY ASSOCIATE ADMINISTRATOR FOR EXPLORATION SYSTEMS DEVELOPMENT.
|  | DIRECTOR, RESOURCES MANAGEMENT OFFICE.
|  | DIRECTOR, COMMERCIAL SPACEFLIGHT DEVELOPMENT DIVISION.
|  | DEPUTY ASSOCIATE ADMINISTRATOR FOR HUMAN EXPLORATION AND OPERATIONS.
|  | GATEWAY PROGRAM MANAGER.
|  | DEPUTY ASSOCIATE ADMINISTRATOR FOR SPACE COMMUNICATIONS AND NAVIGATION.
|  | ASSISTANT DEPUTY ASSOCIATE ADMINISTRATOR FOR SPACE COMMUNICATIONS AND NAVIGATION.
|  | DIRECTOR, INTERNATIONAL SPACE STATION.
|  | MANAGER, ROCKET PROPULSION TEST PROGRAM OFFICE.
|  | DIRECTOR, HUMAN RESEARCH PROGRAM.
| OFFICE OF MISSION SUPPORT DIRECTORATE | ASSISTANT ASSOCIATE ADMINISTRATOR FOR OPERATIONS.
|  | DEPUTY ASSOCIATE ADMINISTRATOR FOR MANAGEMENT.
|  | ASSISTANT ASSOCIATE ADMINISTRATOR FOR RESOURCES AND PERFORMANCE.
|  | DEPUTY PROGRAM EXECUTIVE FOR MISSION SUPPORT FUTURE ARCHITECTURE PROGRAM.
|  | DEPUTY ASSOCIATE ADMINISTRATOR FOR MISSION SUPPORT.
|  | SENIOR ADVISOR FOR TRANSFORMATION.
| NATIONAL AERONAUTICS AND SPACE ADMINISTRATION MANAGEMENT OFFICE | DEPUTY DIRECTOR, MANAGEMENT OFFICE.
| OFFICE OF COMMUNICATIONS | DEPUTY ASSOCIATE ADMINISTRATOR FOR COMMUNICATIONS.
|  | STRATEGY AND ENGAGEMENT DIVISION DIRECTOR.
|  | SENIOR ADVISOR FOR TRANSFORMATION.
|  | DIRECTOR, PUBLIC ENGAGEMENT AND MULTIMEDIA.
| OFFICE OF SAFETY AND MISSION ASSURANCE | DIRECTOR, MISSION SUPPORT DIVISION.
|  | DIRECTOR, NATIONAL AERONAUTICS AND SPACE ADMINISTRATION SAFETY CENTER.
|  | DEPUTY CHIEF SAFETY AND MISSION ASSURANCE OFFICER.
|  | CHIEF SAFETY AND MISSION ASSURANCE OFFICER.
|  | DIRECTOR, SAFETY AND ASSURANCE REQUIREMENTS DIVISION.
| OFFICE OF STEM ENGAGEMENT | DEPUTY ASSOCIATE ADMINISTRATOR FOR STRATEGY AND INTEGRATION.
|  | DEPUTY ASSOCIATE ADMINISTRATOR FOR STEM ENGAGEMENT PROGRAM.
|  | SENIOR ADVISOR (TRANSFORMATION).
| OFFICE OF THE CHIEF ENGINEER | DEPUTY CHIEF ENGINEER.
|  | HUMAN EXPLORATION AND OPERATIONS MISSION DIRECTORATE CHIEF ENGINEER.
| OFFICE OF THE CHIEF INFORMATION OFFICER | ASSOCIATE CHIEF INFORMATION OFFICER FOR CAPTIAL PLANNING AND GOVERNANCE.
|  | ASSOCIATE CHIEF INFORMATION OFFICER FOR TECHNOLOGY AND INNOVATION, CHIEF TECHNOLOGY OFFICER.
|  | DEPUTY CIO FOR IT SECURITY.
|  | DEPUTY CHIEF INFORMATION OFFICER.
|  | ASSOCIATE CHIEF INFORMATION OFFICER FOR ENTERPRISE SERVICE AND INTEGRATION DIVISION.
| OFFICE OF THE CHIEF SCIENTIST | DEPUTY CHIEF SCIENTIST.
|  | CHIEF SCIENTIST.
| OFFICE OF THE CHIEF TECHNOLOGIST | DEPUTY CHIEF TECHNOLOGIST.
|  | CHIEF TECHNOLOGIST.
| SCIENCE MISSION DIRECTORATE | DIRECTOR, SCIENCE ENGAGEMENT AND PARTNERSHIPS.
|  | ASSOCIATE DIRECTOR OF FLIGHT PROJECTS FOR JAMES WEBB SPACE TELESCOPE (JWST).
|  | DIRECTOR, NASA MANAGEMENT OFFICE.
|  | DEPUTY ASSOCIATE ADMINISTOR FOR EXPLORATION.
|  | DEPUTY ASSOCIATE ADMINISTRATOR, SCIENCE MISSION DIRECTORATE.
|  | DEPUTY ASSOCIATE ADMINISTRATOR FOR RESEARCH.
|  | DEPUTY ASSOCIATE ADMINISTRATOR FOR PROGRAMS.
|  | DEPUTY ASSOCIATE ADMINISTRATOR FOR MANAGEMENT.
|  | ASSISTANT DEPUTY ASSOCIATE ADMINISTRATOR FOR MANAGEMENT.
|  | PROGRAM DIRECTOR FOR FLIGHT PROGRAMS, ASTROPHYSICS DIVISION.
|  | DEPUTY DIRECTOR, PLANETARY SCIENCE DIVISION.
|  | DIRECTOR, HELIOPHYSICS DIVISION.
OFFICE OF THE DEPUTY ADMINISTRATOR | ARMSTRONG FLIGHT RESEARCH CENTER (AFRC) | DEPUTY CENTER DIRECTOR, AFRC. CENTER ASSOCIATE DIRECTOR FOR MISSION SUPPORT.
|  | DIRECTOR FOR RESEARCH AND ENGINEERING.
|  | DIRECTOR FOR FLIGHT OPERATIONS.
|  | DIRECTOR FOR SAFETY AND MISSION ASSURANCE.
|  | DIRECTOR FOR PROGRAMS.
|  | ASSISTANT DIRECTOR FOR STRATEGIC IMPLEMENTATION.
|  | DIRECTOR, MISSION OPERATIONS.
|  | DIRECTOR, HUMAN RESOURCES.
| OFFICE INTERNATIONAL AND INTERAGENCY RELATIONS | DEPUTY DIRECTOR, EXPORT CONTROL AND INTERAGENCY LIAISON DIVISION.
|  | DIRECTOR, SCIENCE DIVISION.
|  | DIRECTOR, AERONAUTICS AND CROSS AGENCY SUPPORT DIVISION.
|  | DIRECTOR, HUMAN EXPLORATION AND OPERATIONS DIVISION.
|  | DIRECTOR, EXPORT CONTROL AND INTERAGENCY LIAISON DIVISION.
|  | DIRECTOR, ADVISORY COMMITTEE MANAGEMENT DIVISION.
|  | DEPUTY ASSOCIATE ADMINISTRATOR FOR INTERNATIONAL AND INTERAGENCY RELATIONS.
| OFFICE OF DIVERSITY AND EQUAL OPPORTUNITY | CHIEF OF STAFF (STRATEGY AND INTEGRATION).
|  | DIRECTOR, DIVERSITY AND DATA/ANALYTICS DIVISION AND FIELD OPERATIONS.
|  | EMPLOYMENT OPPORTUNITY COMPLAINTS AND PROGRAMS DIVISION AND FIELD OPERATIONS.
| SPACE TECHNOLOGY MISSION DIRECTORATE | DEPUTY ASSOCIATE ADMINISTRATOR FOR MANAGEMENT.
|  | DEPUTY ASSOCIATE ADMINISTRATOR.
|  | DEPUTY ASSOCIATE ADMINISTRATOR FOR PROGRAMS.
RESEARCH AND ENGINEERING DIRECTORATE | OFFICE OF COMMUNICATIONS AND INTELLIGENT SYSTEMS DIVISION | CHIEF, COMMUNICATIONS AND INTELLIGENT SYSTEMS DIVISION.
| OFFICE OF MATERIALS AND STRUCTURES DIVISION | CHIEF, MATERIALS AND STRUCTURES DIVISION.
| OFFICE OF PROPULSION DIVISION | CHIEF, PROPULSION DIVISION.
|  | DEPUTY CHIEF, PROPULSION DIVISION.
| SYSTEMS ENGINEERING AND ARCHITECTURE DIVISION | CHIEF, SYSTEMS ENGINEERING AND ARCHITECTURE DIVISION.
SAFETY AND MISSION ASSURANCE | OFFICE OF SAFETY AND MISSION ASSURANCE | DEPUTY DIRECTOR, SAFETY AND MISSION ASSURANCE.
|  | DIRECTOR, SAFETY AND MISSION ASSURANCE.
SCIENCE MISSION DIRECTORATE | OFFICE OF ASTROPHYSICS DIVISION | PROGRAM DIRECTOR FOR FLIGHT PROGRAMS, ASTROPHYSICS DIVISION, NASA HQ.
|  | DIRECTOR, ASTROPHYSICS DIVISION.
|  | DEPUTY DIRECTOR, ASTROPHYSICS DIVISION.
| OFFICE OF EARTH SCIENCE DIVISION | DIRECTOR, EARTH SCIENCE DIVISION.
|  | DEPUTY DIRECTOR, EARTH SCIENCE DIVISION, NASA HEADQUARTERS.
|  | ASSOCIATE DIRECTOR FOR FLIGHT PROGRAMS.
|  | PROGRAM DIRECTOR RESEARCH AND ANALYSIS PROGRAM.
| OFFICE OF HELIOPHYSICS DIVISION | DIRECTOR, HELIOPHYSICS DIVISION.
|  | DEPUTY, DIRECTOR, HELIOPHYISCS DIVISION.
| JAMES WEBB SPACE TELESCOPE PROGRAM OFFICE | SENIOR SCIENCE ADVISOR.
|  | DIRECTOR, JAMES WEBB SPACE TELESCOPE PROGRAM.
| JOINT AGENCY SATELLITE DIVISION | DIRECTOR, JOINT AGENCY SATELLITE DIVISION.
|  | DEPUTY DIRECTOR, JOINT AGENCY SATELLITE DIVISION.
| OFFICE OF PLANETARY SCIENCE DIVISION | DEPUTY DIRECTOR, PLANETARY SCIENCE DIVISION.
|  | PROGRAM DIRECTOR FOR FLIGHT PROGRAMS, PLANETARY SCIENCE.
|  | MARS EXPLORATION PROGRAM DIRECTOR.
|  | DIRECTOR, PLANETARY SCIENCE DIVISION.
|  | PROGRAM DIRECTOR FOR FLIGHT PROGRAMS, PLANETARY SCIENCE, NASA HQ.
| RESOURCES MANAGEMENT DIVISION | DEPUTY ASSOCIATE ADMINISTRATOR FOR MANAGEMENT.
|  | DIRECTOR, RESOURCES MANAGEMENT DIVISION.
| STRATEGIC INTEGRATION AND MANAGEMENT DIVISION | DIRECTOR, STRATEGIC INTEGRATION AND MANAGEMENT DIVISION.
NATIONAL AERONAUTICS AND SPACE ADMINISTRATION OFFICE OF THE INSPECTOR GENERAL | NATIONAL AERONAUTICS AND SPACE ADMINISTRATION OFFICE OF THE INSPECTOR GENERAL | DEPUTY INSPECTOR GENERAL. ASSISTANT INSPECTOR GENERAL FOR INVESTIGATIONS.
|  | ASSISTANT INSPECTOR GENERAL FOR AUDITING.
|  | COUNSEL TO THE INSPECTOR GENERAL.
|  | ASSISTANT INSPECTOR GENERAL FOR MANAGEMENT AND PLANNING.
NATIONAL ARCHIVES AND RECORDS ADMINISTRATION.
ARCHIVIST OF UNITED STATES AND DEPUTY ARCHIVIST OF THE UNITED STATES | OFFICE OF CONGRESSIONAL AFFAIRS STAFF OFFICE OF THE GENERAL COUNSEL OFFICE OF INNOVATION | DIRECTOR, CONGRESSIONAL AND LEGISLATIVE AFFAIRS. GENERAL COUNSEL. CHIEF INNOVATION OFFICER.
| OFFICE OF THE CHIEF OF MANAGEMENT AND ADMINISTRATION | CHIEF OF MANAGEMENT AND ADMINISTRATION.
| OFFICE OF THE CHIEF OF STAFF | CHIEF OF STAFF.
| OFFICE OF THE CHIEF OPERATING OFFICER | CHIEF OPERATING OFFICER.
LEGISLATIVE ARCHIVES, PRESIDENTIAL LIBRARIES AND MUSEUM SERVICES | OFFICE OF PRESIDENTIAL LIBRARIES | DEPUTY FOR PRESIDENTIAL LIBRARIES.
NATIONAL ARCHIVES AND RECORDS ADMINISTRATION | ARCHIVIST OF UNITED STATES AND DEPUTY ARCHIVIST OF THE UNITED STATES | DEPUTY ARCHIVIST OF THE UNITED STATES.
OFFICE OF THE CHIEF OF MANAGEMENT AND ADMINISTRATION | BUSINESS SUPPORT SERVICES INFORMATION SERVICES | BUSINESS SUPPORT SERVICES EXECUTIVE. DEPUTY CHIEF INFORMATION OFFICER.
|  | INFORMATION SERVICES EXECUTIVE/CHIEF INFORMATION OFFICER.
| OFFICE OF HUMAN CAPITAL | CHIEF HUMAN CAPITAL OFFICER.
| OFFICE OF THE CHIEF ACQUISITION OFFICER | CHIEF ACQUISITION OFFICER.
| OFFICE OF THE CHIEF FINANCIAL OFFICER | CHIEF FINANCIAL OFFICER.
OFFICE OF THE CHIEF OPERATING OFFICER | AGENCY SERVICES | DIRECTOR, NATIONAL PERSONNEL RECORDS CENTER.
|  | CHIEF RECORDS OFFICER.
|  | DIRECTOR, NATIONAL DECLASSIFICATION CENTER.
|  | DIRECTOR, OFFICE OF GOVERNMENT INFORMATION SERVICES.
|  | DIRECTOR, INFORMATION SECURITY OVERSIGHT OFFICE.
|  | AGENCY SERVICES EXECUTIVE.
|  | DIRECTOR, RECORDS CENTER PROGRAMS.
| OFFICE OF THE LEGISLATIVE ARCHIVES, PRESIDENTIAL LIBRARIES AND MUSEUM SERVICES | LEGISLATIVE ARCHIVES, PRESIDENTIAL LIBRARIES AND MUSEUM SERVICES EXECUTIVE.
| OFFICE OF THE FEDERAL REGISTER | DIRECTOR OF THE FEDERAL REGISTER.
| OFFICE OF RESEARCH SERVICES | RESEARCH SERVICES EXECUTIVE.
NATIONAL ARCHIVES AND RECORDS ADMINISTRATION OFFICE OF THE INSPECTOR GENERAL | NATIONAL ARCHIVES AND RECORDS ADMINISTRATION OFFICE OF THE INSPECTOR GENERAL | ASSISTANT INSPECTOR GENERAL FOR AUDITING. INSPECTOR GENERAL. ASSISTANT INSPECTOR GENERAL FOR INVESTIGATIONS.
NATIONAL CAPITAL PLANNING COMMISSION | NATIONAL CAPITAL PLANNING COMMISSION STAFF | EXECUTIVE DIRECTOR. CHIEF OPERATING OFFICER.
|  | GENERAL COUNSEL.
|  | DEPUTY EXECUTIVE DIRECTOR.
NATIONAL ENDOWMENT FOR THE ARTS | NATIONAL ENDOWMENT FOR THE ARTS | DEPUTY CHAIRMAN FOR MANAGEMENT AND BUDGET. DIRECTOR, RESEARCH AND ANALYSIS.
|  | CHIEF INFORMATION OFFICER.
NATIONAL ENDOWMENT FOR THE ARTS OFFICE OF THE INSPECTOR GENERAL | NATIONAL ENDOWMENT FOR THE ARTS OFFICE OF THE INSPECTOR GENERAL | INSPECTOR GENERAL.
NATIONAL ENDOWMENT FOR THE HUMANITIES | NATIONAL ENDOWMENT FOR THE HUMANITIES | ASSISTANT CHAIRMAN FOR PLANNING AND OPERATIONS.
NATIONAL LABOR RELATIONS BOARD | NATIONAL LABOR RELATIONS BOARD | DEPUTY ASSOCIATE GENERAL COUNSEL, DIVISION OF ENFORCEMENT LITIGATION.
DIVISION OF OPERATIONS MANAGEMENT | REGIONAL OFFICES | REGIONAL DIRECTOR, REGION 31, LOS ANGELES, CALIFORNIA.
|  | REGIONAL DIRECTOR, REGION 10, ATLANTA, GEORGIA.
|  | REGIONAL DIRECTOR, REGION 27, DENVER, COLORADO.
|  | REGIONAL DIRECTOR REGION 2, NEW YORK.
|  | REGIONAL DIRECTOR, REGION 3, BUFFALO, NEW YORK.
|  | REGIONAL DIRECTOR, REGION 4, PHILADELPHIA, PENNSYLVANIA.
|  | REGIONAL DIRECTOR, REGION 5, BALTIMORE, MARYLAND.
|  | REGIONAL DIRECTOR, REGION 6, PITTSBURGH, PENNSYLVANIA.
|  | REGIONAL DIRECTOR, REGION 7, DETROIT, MICHIGAN.
|  | REGIONAL DIRECTOR, REGION 8, CLEVELAND, OHIO.
|  | REGIONAL DIRECTOR, REGION 9, CINCINNATI, OHIO.
|  | REGIONAL DIRECTOR, REGION 11, WINSTON SALEM, NORTH CAROLINA.
|  | REGIONAL DIRECTOR, REGION 13, CHICAGO, ILLINOIS.
|  | REGIONAL DIRECTOR, REGION 14, SAINT LOUIS, MISSOURI.
|  | REGIONAL DIRECTOR, REGION 15, NEW ORLEANS, LOUISIANA.
|  | REGIONAL DIRECTOR, REGION 16, FORT WORTH, TEXAS.
|  | REGIONAL DIRECTOR, REGION 17, KANSAS CITY, KANSAS.
|  | REGIONAL DIRECTOR, REGION 18, MINNEAPOLIS, MINNESOTA.
|  | REGIONAL DIRECTOR, REGION 19, SEATTLE, WASHINGTON.
|  | REGIONAL DIRECTOR, REGION 20, SAN FRANCISCO, CALIFORNIA.
|  | REGIONAL DIRECTOR, REGION 21, LOS ANGELES, CALIFORNIA.
|  | REGIONAL DIRECTOR, REGION 22, NEWARK, NEW JERSEY.
|  | REGIONAL DIRECTOR, REGION 24, HATO REY, PUERTO RICO.
|  | REGIONAL DIRECTOR, REGION 25, INDIANAPOLIS, INDIANA.
|  | REGIONAL DIRECTOR, REGION 26, MEMPHIS, TENNESSEE.
|  | REGIONAL DIRECTOR, REGION 1, BOSTON, MASSACHUSETTS
|  | REGIONAL DIRECTOR, REGION 28, PHOENIX, ARIZONA.
|  | REGIONAL DIRECTOR, REGION 29, BROOKLYN, NEW YORK.
|  | REGIONAL DIRECTOR, REGION 30, MILWAUKEE, WISCONSIN.
|  | REGIONAL DIRECTOR, REGION 32, OAKLAND, CALFORNIA.
NATIONAL LABOR RELATIONS BOARD | OFFICE OF THE BOARD MEMBERS | REGIONAL DIRECTOR, REGION 12, TAMPA, FLORIDA. DEPUTY EXECUTIVE SECRETARY.
|  | EXECUTIVE SECRETARY.
|  | DEPUTY CHIEF COUNSEL.
|  | CHIEF INFORMATION OFFICER.
|  | INSPECTOR GENERAL.
| OFFICE OF THE GENERAL COUNSEL | ASSOCIATE GENERAL COUNSEL (DAEO).
OFFICE OF THE GENERAL COUNSEL | DIVISION OF ADMINISTRATION | DIRECTOR, DIVISION OF ADMINISTRATION.
|  | DIRECTOR OF ADMINISTRATION.
| DIVISION OF ADVICE | ASSOCIATE GENERAL COUNSEL, DIVISION OF LEGAL COUNSEL.
|  | DEPUTY ASSOCIATE GENERAL COUNSEL, DIVISION OF ADVICE.
| DIVISION OF ENFORCEMENT LITIGATION | DEPUTY ASSOCIATE GENERAL COUNSEL, APPELLATE COURT BRANCH.
|  | DIRECTOR, OFFICE OF APPEALS.
| DIVISION OF OPERATIONS MANAGEMENT | ASSISTANT TO GENERAL COUNSEL (4).
|  | DEPUTY ASSOCIATE GENERAL COUNSEL, DIVISION OF OPERATIONS-MANAGEMENT.
|  | ASSOCIATE TO THE GENERAL COUNSEL, DIVISION OF OPERATION-MANAGEMENT.
NATIONAL SCIENCE FOUNDATION:
DIRECTORATE FOR ENGINEERING | DIVISION OF ENGINEERING EDUCATION AND CENTERS | DEPUTY DIVISION DIRECTOR.
| DIVISION OF INDUSTRIAL INNOVATION AND PARTNERSHIPS | DEPUTY DIVISION DIRECTOR.
DIRECTORATE FOR GEOSCIENCES | DIVISION OF ATMOSPHERIC AND GEOSPACE SCIENCES | SECTION HEAD NCAR/FACILITIES SECTION.
| DIVISION OF EARTH SCIENCES | SECTION HEAD, INTEGRATED ACTIVITIES SECTION.
| DIVISION OF OCEAN SCIENCES | SECTION HEAD, INTERGRATIVE PROGRAMS SECTION.
| OFFICE OF POLAR PROGRAMS | HEAD, SECTION FOR ANTARCTIC INFRASTRUCTURE AND LOGISTIC.
DIRECTORATE FOR MATHEMATICAL AND PHYSICAL SCIENCES | DIVISION OF ASTRONOMICAL SCIENCES | DEPUTY DIVISION DIRECTOR.
DIRECTORATE FOR SOCIAL, BEHAVIORAL AND ECONOMIC SCIENCES | NATIONAL CENTER FOR SCIENCE AND ENGINEERING STATISTICS | DIVISION DIRECTOR.
NATIONAL SCIENCE FOUNDATION | DIRECTORATE FOR BIOLOGICAL SCIENCES | DEPUTY ASSISTANT DIRECTOR.
| DIRECTORATE FOR COMPUTER AND INFORMATION SCIENCE AND ENGINEERING | DEPUTY ASSISTANT DIRECTOR.
| DIRECTORATE FOR GEOSCIENCES | DEPUTY ASSISTANT DIRECTOR.
| DIRECTORATE FOR MATHEMATICAL AND PHYSICAL SCIENCES | DEPUTY ASSISTANT DIRECTOR.
| DIRECTORATE FOR SOCIAL, BEHAVIORAL AND ECONOMIC SCIENCES | DEPUTY ASSISTANT DIRECTOR.
| OFFICE OF BUDGET, FINANCE AND AWARD MANAGEMENT | CHIEF FINANCIAL OFFICER AND HEAD, OFFICE OF BUDGET, FINANCE AND AWARD MANAGEMENT.
|  | DEPUTY OFFICE HEAD.
| OFFICE OF INFORMATION AND RESOURCE MANAGEMENT | DEPUTY OFFICE HEAD. HEAD, OFFICE OF INFORMATION AND RESOURCE MANAGEMENT AND CHIEF HUMAN CAPITAL OFFICER.
| OFFICE OF THE DIRECTOR | CHIEF TECHNOLOGY OFFICER.
OFFICE OF BUDGET, FINANCE AND AWARD MANAGEMENT | OFFICE OF BUDGET DIVISION | DIVISION DIRECTOR. DEPUTY DIRECTOR.
| DIVISION OF ACQUISITION AND COOPERATIVE SUPPORT | DIVISION DIRECTOR. DEPUTY DIVISION DIRECTOR.
| DIVISION OF FINANCIAL MANAGEMENT | DEPUTY CHIEF FINANCIAL OFFICER AND DIVISION DIRECTOR.
|  | CONTROLLER AND DEPUTY DIVISION DIRECTOR.
| DIVISION OF GRANTS AND AGREEMENTS | DEPUTY DIVISION DIRECTOR.
|  | DIVISION DIRECTOR.
| DIVISION OF INSTITUTIONAL AND AWARD SUPPORT | DEPUTY DIVISION DIRECTOR.
|  | DIVISION DIRECTOR.
OFFICE OF INFORMATION AND RESOURCE MANAGEMENT | DIVISION OF ADMINISTRATIVE SERVICES | DIVISION DIRECTOR. DEPUTY DIVISION DIRECTOR.
| DIVISION OF HUMAN RESOURCE MANAGEMENT | DIVISION DIRECTOR.
|  | DEPUTY DIVISION DIRECTOR.
|  | DIVISION DIRECTOR.
|  | CHIEF HUMAN CAPITAL OFFICER AND DIVISION DIRECTOR.
| DIVISION OF INFORMATION SYSTEMS | DEPUTY DIVISION DIRECTOR.
OFFICE OF THE DIRECTOR | OFFICE OF DIVERSITY AND INCLUSION | OFFICE HEAD.
| OFFICE OF THE GENERAL COUNSEL | DEPUTY GENERAL COUNSEL.
|  | DESIGNATED AGENCY ETHICS OFFICIAL.
NATIONAL SCIENCE FOUNDATION OFFICE OF THE INSPECTOR GENERAL | NATIONAL SCIENCE FOUNDATION OFFICE OF THE INSPECTOR GENERAL | ASSISTANT INSPECTOR GENERAL FOR MANAGEMENT. INSPECTOR GENERAL (2). ASSISTANT INSPECTOR GENERAL FOR INVESTIGATIONS.
|  | ASSISTANT INSPECTOR GENERAL FOR AUDIT.
NATIONAL TRANSPORTATION SAFETY BOARD.
OFFICE OF BOARD MEMBERS | OFFICE OF CHIEF FINANCIAL OFFICER | CHIEF FINANCIAL OFFICER.
| OFFICE OF SAFETY RECOMMENDATIONS AND COMMUNICATIONS | DEPUTY DIRECTOR, OFFICE OF SAFETY RECOMMENDATIONS AND COMMUNICATIONS.
| OFFICE OF THE MANAGING DIRECTOR | PRINCIPAL DEPUTY MANAGING DIRECTOR.
|  | SENIOR ADVISOR FOR POLICY AND STRATEGIC INITIATIVES.
OFFICE OF THE MANAGING DIRECTOR | OFFICE OF ADMINISTRATION OFFICE OF AVIATION SAFETY | DIRECTOR, OFFICE OF ADMINISTRATION. DEPUTY DIRECTOR, REGIONAL OPERATIONS.
|  | DEPUTY DIRECTOR, OFFICE OF AVIATION SAFETY.
|  | DIRECTOR OFFICE OF AVIATION SAFETY.
| OFFICE OF CHIEF INFORMATION OFFICER | CHIEF INFORMATION OFFICER.
| OFFICE OF HIGHWAY SAFETY | DIRECTOR, OFFICE OF HIGHWAY SAFETY.
| OFFICE OF MARINE SAFETY | DIRECTOR, OFFICE OF MARINE SAFETY.
| OFFICE OF RAILROAD, PIPELINE AND HAZARDOUS MATERIALS INVESTIGATIONS | DIRECTOR, OFFICE OF RAILROAD, PIPELINE AND HAZARDOUS MATERIALS INVESTIGATIONS.
| OFFICE OF RESEARCH AND ENGINEERING | DEPUTY DIRECTOR OFFICE OF RESEARCH AND ENGINEERING.
|  | DIRECTOR OFFICE OF RESEARCH AND ENGINEERING.
NUCLEAR REGULATORY COMMISSION | OFFICE OF ADMINISTRATION | DEPUTY DIRECTOR, OFFICE OF ADMINISTRATION. DIRECTOR, DIVISION OF FACILITIES AND SECURITY.
|  | DIRECTOR, ACQUISITION MANAGEMENT DIVISION.
| OFFICE OF COMMISSION APPELLATE ADJUDICATION | DIRECTOR, OFFICE OF COMMISSION APPELLATE ADJUDICATION.
| OFFICE OF NUCLEAR MATERIAL SAFETY AND SAFEGUARDS | DIRECTOR, DIVISION OF RULEMAKING, ENVIRONMENTAL, AND FINANCIAL SUPPORT.
|  | DEPUTY DIRECTOR, DIVISION OF RULEMAKING, ENVIRONMENTAL, AND FINANCIAL SUPPORT.
|  | DIRECTOR, DIVISION OF MATERIALS SAFETY, STATE, TRIBAL, AND RULEMAKING PROGRAMS.
|  | DEPUTY DIRECTOR, DIVISION OF FUEL MANAGEMENT.
|  | DIRECTOR, DIVISION OF DECOMMISSIONING, URANIUM RECOVERY, AND WASTE PROGRAMS.
|  | DEPUTY DIRECTOR, DIVISION OF DECOMMISSIONING, URANIUM RECOVERY, AND WASTE PROGRAMS.
|  | DEPUTY DIRECTOR, DIVISION OF MATERIALS SAFETY, STATE, TRIBAL, AND RULEMAKING PROGRAMS.
| OFFICE OF NUCLEAR REACTOR REGULATION | DEPUTY DIRECTOR, DIVISION OF NEW AND RENEWED LICENSES.
|  | DIRECTOR, VOGTLE III AND IV PROJECT OFFICE.
|  | DEPUTY DIRECTOR, DIVISION OF ADVANCED REACTORS AND NON-POWER PRODUCTION AND UTILIZATION FACILITIES.
|  | DIRECTOR, DIVISION OF ADVANCED REACTORS AND NON-POWER PRODUCTION AND UTILIZATION FACILITIES.
|  | DEPUTY DIRECTOR, DIVISION OF REACTOR OVERSIGHT.
|  | DEPUTY OFFICE DIRECTOR FOR REACTOR SAFETY PROGRAMS AND MISSION SUPPORT.
|  | DEPUTY OFFICE DIRECTOR FOR ENGINEERING.
|  | DEPUTY DIRECTOR, DIVISION OF RISK ASSESSMENT.
|  | DIRECTOR, DIVISION OF NEW AND RENEWED LICENSE.
|  | DIRECTOR, DIVISION OF SAFETY SYSTEMS.
|  | DEPUTY DIRECTOR, DIVISION OF SAFETY SYSTEMS.
|  | DEPUTY DIRECTOR, DIVISION OF ENGINEERING AND EXTERNAL HAZARDS.
|  | DEPUTY OFFICE DIRECTOR FOR NEW REACTORS.
|  | DIRECTOR, DIVISION OF OPERATING REACTOR LICENSING.
|  | DEPUTY DIRECTOR, DIVISION OF OPERATING REACTOR LICENSING.
|  | DEPUTY DIRECTOR, DIVISION OF OPERATING REACTOR LICENSING.
|  | DIRECTOR, DIVISION OF REACTOR OVERSIGHT.
|  | DIRECTOR, DIVISION OF RISK ASSESSMENT.
|  | DIRECTOR, DIVISION OF NEW AND RENEWED LICENSE.
|  | DIRECTOR, DIVISION OF ENGINEERING AND EXTERNAL HAZARDS.
| OFFICE OF NUCLEAR REGULATORY RESEARCH | DEPUTY DIRECTOR, DIVISION OF ENGINEERING.
|  | DIRECTOR, DIVISION OF ENGINEERING.
|  | DIRECTOR, DIVISION OF SYSTEMS ANALYSIS.
|  | DEPUTY DIRECTOR, DIVISION OF SYSTEMS ANALYSIS.
|  | DIRECTOR, DIVISION OF RISK ANALYSIS.
|  | DEPUTY DIRECTOR, DIVISION OF RISK ANALYSIS.
| OFFICE OF NUCLEAR SECURITY AND INCIDENT RESPONSE | DIRECTOR, DIVISION OF PHYSICAL AND CYBER SECURITY POLICY.
|  | DEPUTY DIRECTOR, DIVISION OF PHYSICAL AND CYBER SECURITY POLICY.
|  | DIRECTOR, DIVISION OF SECURITY OPERATIONS.
|  | DEPUTY DIRECTOR, DIVISION OF PREPAREDNESS AND RESPONSE.
|  | DEPUTY DIRECTOR, OFFICE OF NUCLEAR SECURITY AND INCIDENT RESPONSE.
|  | DEPUTY DIRECTOR, DIVISION OF SECURITY OPERATIONS.
|  | DIRECTOR, DIVISION OF PREPAREDNESS AND RESPONSE.
| OFFICE OF SMALL BUSINESS AND CIVIL RIGHTS | DIRECTOR, OFFICE OF SMALL BUSINESS AND CIVIL RIGHTS.
| OFFICE OF THE CHIEF FINANCIAL OFFICER | BUDGET DIRECTOR.
|  | DEPUTY CHIEF FINANICAL OFFICER.
|  | COMPTROLLER.
| OFFICE OF THE CHIEF INFORMATION OFFICER | DIRECTOR, IT SERVICES DEVELOPMENT AND OPERATIONS DIVISION.
|  | DIRECTOR, GOVERNANCE AND ENTERPRISE MANAGEMENT SERVICES DIVISION.
| REGION I | DEPUTY DIRECTOR, DIVISION OF REACTOR PROJECTS.
|  | DIRECTOR, DIVISION OF NUCLEAR MATERIALS SAFETY.
|  | DEPUTY DIRECTOR, DIVISION OF REACTOR SAFETY.
|  | DIRECTOR DIVISION OF REACTOR SAFETY.
|  | DIRECTOR, DIVISION OF REACTOR PROJECTS.
|  | DEPUTY REGIONAL ADMINISTRATOR.
| REGION II | DIRECTOR, DIVISION OF REACTOR SAFETY.
|  | DEPUTY DIRECTOR, DIVISION OF REACTOR SAFETY.
|  | DEPUTY REGIONAL ADMINISTRATOR.
|  | DIRECTOR, DIVISION OF CONSTRUCTION OVERSIGHT.
|  | DEPUTY DIRECTOR, DIVISION OF REACTOR PROJECTS.
|  | DIRECTOR, DIVISION OF REACTOR PROJECTS.
| REGION III | DEPUTY DIRECTOR, DIVISION OF REACTOR PROJECTS.
|  | DEPUTY DIRECTOR, DIVISION OF REACTOR SAFETY.
|  | DIRECTOR, DIVISION OF NUCLEAR MATERIALS SAFETY.
|  | DIRECTOR, DIVISION OF REACTOR SAFETY.
|  | DIRECTOR, DIVISION OF REACTOR PROJECTS.
|  | DEPUTY REGIONAL ADMINISTRATOR.
|  | DEPUTY DIRECTOR, DIVISION OF REACTOR SAFETY.
| REGION IV | DEPUTY DIRECTOR, DIVISION OF REACTOR SAFETY.
|  | DEPUTY DIRECTOR, DIVISION OF REACTOR PROJECTS.
|  | DIRECTOR, DIVISION OF NUCLEAR MATERIALS SAFETY.
|  | DIRECTOR DIVISION OF REACTOR PROJECTS.
|  | ASSISTANT TO THE REGIONAL ADMINISTRATOR.
|  | DEPUTY REGIONAL ADMINISTRATOR.
|  | DIRECTOR, DIVISION OF REACTOR SAFETY.
NUCLEAR REGULATORY COMMISSION OFFICE OF THE INSPECTOR GENERAL | NUCLEAR REGULATORY COMMISSION OFFICE OF THE INSPECTOR GENERAL OFFICE OF THE ASSISTANT INSPECTOR GENERAL FOR AUDITS | DEPUTY INSPECTOR GENERAL. ASSISTANT INSPECTOR GENERAL FOR AUDITS.
| OFFICE OF THE ASSISTANT INSPECTOR GENERAL FOR INVESTIGATIONS | ASSISTANT INSPECTOR GENERAL FOR INVESTIGATIONS.
OCCUPATIONAL SAFETY AND HEALTH REVIEW COMMISSION | OFFICE OF THE EXECUTIVE DIRECTOR | EXECUTIVE DIRECTOR.
OFFICE OF GOVERNMENT ETHICS | OFFICE OF GOVERNMENT ETHICS | DEPUTY GENERAL COUNSEL.
|  | CHIEF OF STAFF AND PROGRAM COUNSEL.
|  | DEPUTY DIRECTOR FOR COMPLIANCE.
OFFICE OF MANAGEMENT AND BUDGET
GENERAL GOVERNMENT PROGRAMS | OFFICE OF HOUSING, TREASURY AND COMMERCE DIVISION | CHIEF, COMMERCE BRANCH. CHIEF, HOUSING BRANCH.
|  | DEPUTY ASSOCIATE DIRECTOR FOR HOUSING, TREASURY AND COMMERCE.
|  | CHIEF, TREASURY BRANCH.
| OFFICE OF TRANSPORTATION, HOMELAND, JUSTICE AND SERVICES DIVISION | CHIEF, JUSTICE BRANCH. CHIEF TRANSPORTATION BRANCH.
|  | CHIEF, HOMELAND SECURITY BRANCH.
|  | CHIEF, TRANSPORTATION/GENERAL SERVICES ADMINISTRATION BRANCH.
|  | DEPUTY ASSOCIATE DIRECTOR, TRANSPORTATION, HOMELAND, JUSTICE AND SERVICES.
HUMAN RESOURCE PROGRAMS | OFFICE OF HEALTH DIVISION | CHIEF, HEALTH AND HUMAN SERVICES BRANCH.
|  | CHIEF, PUBLIC HEALTH BRANCH.
|  | CHIEF, MEDICARE BRANCH.
|  | CHIEF, MEDICAID BRANCH.
|  | CHIEF, HEALTH INSURANCE AND DATA ANALYSIS BRANCH.
|  | DEPUTY ASSOCIATE DIRECTOR FOR HEALTH.
NATIONAL SECURITY PROGRAMS | INTERNATIONAL AFFAIRS DIVISION | CHIEF, STATE/UNITED STATES INFORMATION AGENCY BRANCH.
|  | CHIEF, ECONOMIC AFFAIRS BRANCH.
|  | DEPUTY ASSOCIATE DIRECTOR FOR INTERNATIONAL AFFAIRS.
| NATIONAL SECURITY DIVISION | CHIEF, FORCE STRUCTURE AND INVESTMENT BRANCH.
|  | CHIEF, INTELLIGENCE PROGRAMS BRANCH.
|  | CHIEF OPERATIONS AND SUPPORT BRANCH.
|  | DEPUTY ASSOCIATE DIRECTOR FOR NATIONAL SECURITY.
|  | CHIEF, VETERANS AFFAIRS AND DEFENSE HEALTH BRANCH.
|  | CHIEF, DEFENSE OPERATIONS, PERSONNEL, AND SUPPORT.
NATURAL RESOURCE PROGRAMS | OFFICE OF ENERGY, SCIENCE AND WATER DIVISION | CHIEF, WATER AND POWER BRANCH.
|  | CHIEF SCIENCE AND SPACE PROGRAMS BRANCH.
|  | DEPUTY ASSOCIATE DIRECTOR FOR ENERGY, SCIENCE, AND WATER DIVISION.
|  | CHIEF, ENERGY BRANCH.
| OFFICE OF NATURAL RESOURCES DIVISION | DEPUTY ASSOCIATE DIRECTOR FOR NATURAL RESOURCES.
|  | CHIEF INTERIOR BRANCH.
|  | CHIEF, ENVIRONMENT BRANCH.
|  | CHIEF, AGRICULTURE BRANCH.
OFFICE OF INFORMATION AND REGULATORY AFFAIRS | OFFICE OF E-GOVERNMENT AND INFORMATION TECHNOLOGY | CHIEF ARCHITECT.
OFFICE OF MANAGEMENT AND BUDGET | STAFF OFFICES | ASSISTANT DIRECTOR FOR MANAGEMENT AND OPERATIONS.
|  | DEPUTY ASSISTANT DIRECTOR FOR MANAGEMENT.
|  | DEPUTY ASSOCIATE DIRECTOR FOR ECONOMIC POLICY.
OFFICE OF THE DIRECTOR | OFFICE OF BUDGET REVIEW | CHIEF, BUDGET REVIEW BRANCH.
|  | CHIEF, BUDGET SYSTEMS BRANCH.
|  | CHIEF, BUDGET CONCEPTS BRANCH.
|  | ASSISTANT DIRECTOR FOR BUDGET REVIEW.
|  | CHIEF BUDGET ANALYSIS BRANCH.
|  | DEPUTY CHIEF BUDGET ANALYSIS BRANCH.
|  | DEPUTY CHIEF, BUDGET REVIEW BRANCH.
|  | DEPUTY ASSISTANT DIRECTOR FOR BUDGET REVIEW.
| OFFICE OF EDUCATION, INCOME MAINTENANCE AND LABOR PROGRAMS | CHIEF, INCOME MAINTENANCE BRANCH. DEPUTY ASSOCIATE DIRECTOR FOR EDUCATION, INCOME MAINTAINENCE AND LABOR.
|  | CHIEF, LABOR BRANCH.
|  | CHIEF, EDUCATION BRANCH.
| OFFICE OF LEGISLATIVE REFERENCE DIVISION | CHIEF, RESOURCES-DEFENSE-INTERNATIONAL BRANCH.
|  | ASSISTANT DIRECTOR LEGISLATIVE REFERENCE.
|  | CHIEF, HEALTH, EDUCATION, VETERANS, AND SOCIAL PROGRAMS BRANCH.
|  | CHIEF, ECONOMICS, SCIENCE AND GOVERNMENT BRANCH.
| OFFICE OF FEDERAL FINANCIAL MANAGEMENT | CHIEF, FINANCIAL INTEGRITY AND RISK MANAGEMENT BRANCH.
| OFFICE OF FEDERAL PROCUREMENT POLICY | DEPUTY ADMINISTRATOR FOR FEDERAL PROCUREMENT POLICY.
|  | ASSOCIATE ADMINISTRATOR.
OFFICE OF PERSONNEL MANAGEMENT | OFFICE OF INFORMATION AND REGULATORY AFFAIRS | CHIEF, FOOD, HEALTH AND LABOR BRANCH. CHIEF, NATURAL RESOURCES AND ENVIRONMENT BRANCH.
|  | CHIEF, INFORMATION POLICY BRANCH.
|  | CHIEF STATISTICAL AND SCIENCE POLICY BRANCH.
|  | CHIEF, PRIVACY BRANCH.
OFFICE OF NATIONAL DRUG CONTROL POLICY | OFFICE OF SUPPLY REDUCTION | ASSOCIATE DIRECTOR FOR INTELLIGENCE.
OFFICE OF PERSONNEL MANAGEMENT | OFFICE OF HEALTHCARE AND INSURANCE | ASSISTANT DIRECTOR, FEDERAL EMPLOYEE INSURANCE OPERATIONS.
|  | DEPUTY DIRECTOR, ACTUARY.
| OFFICE OF MERIT SYSTEM ACCOUNTABILITY AND COMPLIANCE | DEPUTY ASSOCIATE DIRECTOR, MERIT SYSTEM AUDIT AND COMPLIANCE.
| OFFICE OF PROCUREMENT OPERATIONS | DIRECTOR, OFFICE OF PROCUREMENT OPERATIONS.
| OFFICE OF THE CHIEF FINANCIAL OFFICER | DEPUTY CHIEF FINANCIAL OFFICER. ASSOCIATE CHIEF FINANCIAL OFFICER FINANCIAL SERVICES.
|  | CHIEF FINANCIAL OFFICER AND DEPUTY CHIEF MANAGEMENT OFFICER.
| OFFICE OF THE DIRECTOR | DEPUTY ASSISTANT DIRECTOR, STRATEGIC SOURCING.
|  | DEPUTY ASSISTANT DIRECTOR, OPERATIONS.
| OFFICE OF RETIREMENT SERVICES | DEPUTY ASSOCIATE DIRECTOR, OPERATIONS.
|  | ASSOCIATE DIRECTOR, RETIREMENT SERVICES.
|  | DEPUTY ASSOCIATE DIRECTOR, RETIREMENT OPERATIONS.
OFFICE OF MANAGEMENT | OFFICE OF MANAGEMENT | ASSISTANT INSPECTOR GENERAL FOR MANAGEMENT.
|  | CHIEF INFORMATION TECHNOLOGY OFFICER.
|  | DEPUTY ASSISTANT INSPECTOR GENERAL FOR MANAGEMENT.
OFFICE OF AUDITS | OFFICE OF AUDITS | DEPUTY ASSISTANT INSPECTOR GENERAL FOR AUDITS.
|  | DEPUTY ASSISTANT INSPECTOR GENERAL FOR AUDITS.
|  | ASSISTANT INSPECTOR GENERAL FOR AUDITS.
OFFICE OF INVESTIGATIONS | OFFICE OF INVESTIGATIONS | ASSISTANT INSPECTOR GENERAL FOR INVESTIGATIONS.
|  | DEPUTY ASSISTANT INSPECTOR GENERAL FOR INVESTIGATIONS.
OFFICE OF LEGISLATIVE AND LEGAL AFFAIRS | OFFICE OF LEGISLATIVE AND LEGAL AFFAIRS | ASSISTANT INSPECTOR GENERAL FOR LEGISLATIVE AND LEGAL AFFAIRS.
OFFICE OF THE INSPECTOR GENERAL | OFFICE OF EVALUATIONS OFFICE OF THE INSPECTOR GENERAL | ASSISTANT INSPECTOR GENERAL FOR EVALUATIONS. DEPUTY INSPECTOR GENERAL.
OFFICE OF SPECIAL COUNSEL | HEADQUARTERS, OFFICE OF SPECIAL COUNSEL | ASSOCIATE SPECIAL COUNSEL FOR GENERAL LAW DIVISION.
|  | CHIEF FINANCIAL OFFICER AND DIRECTOR OF ADMINISTRATIVE SERVICES.
|  | ASSOCIATE SPECIAL COUNSEL FOR INVESTIGATION AND PROSECUTION.
|  | CHIEF OPERATING OFFICER.
|  | ASSOCIATE SPECIAL COUNSEL FOR INVESTIGATION AND PROSECUTION (HEADQUARTERS).
|  | DIRECTOR OF MANAGEMENT AND BUDGET.
|  | DIRECTOR, OFFICE OF PLANNING AND ANALYSIS.
|  | ASSOCIATE SPECIAL COUNSEL FOR INVESTIGATION AND PROSECUTION.
|  | SENIOR ASSOCIATE SPECIAL COUNSEL FOR INVESTIGATION AND PROSECUTION.
|  | ASSOCIATE SPECIAL COUNSEL FOR INVESTIGATION AND PROSECUTION.
|  | ASSOCIATE SPECIAL COUNSEL FOR LEGAL COUNSEL AND POLICY.
| OFFICE OF SPECIAL COUNSEL | ASSOCIATE SPECIAL COUNSEL FOR INVESTIGATION AND PROSECUTION (FIELD OFFICES).
SURFACE TRANSPORTATION BOARD | SURFACE TRANSPORTATION BOARD | DIRECTOR, OFFICE OF PROCEEDINGS.
|  | DEPUTY DIRECTOR OFFICE OF PROCEEDINGS.
|  | DIRECTOR OF PUBLIC ASST GOVERNMENT AFFAIRS AND COMPLIANCE.
|  | GENERAL COUNSEL.
|  | MANAGING DIRECTOR.
|  | DIRECTOR, OFFICE OF ECONOMICS.
OFFICE OF THE UNITED STATES TRADE REPRESENTATIVE | OFFICE OF INDUSTRY, MARKET ACCESS AND TELECOMMUNICATIONS | ASSISTANT UNITED STATES TRADE REPRESENTATIVE FOR INDUSTRY, MARKET ACCESS AND TELECOMMUNICATIONS.
| OFFICE OF LABOR | ASSISTANT UNITED STATES TRADE REPRESENTATIVE FOR LABOR.
| OFFICE OF MONITORING AND ENFORCEMENT | DIRECTOR OF INTERAGENCY CENTER FOR TRADE IMPLEMENTATION, MONITORING, AND ENFORCEMENT.
RAILROAD RETIREMENT BOARD | OFFICE OF BOARD STAFF | CHIEF OF TECHNOLOGY SERVICE.
|  | CHIEF ACTUARY.
|  | DIRECTOR OF FIELD SERVICE.
|  | DIRECTOR OF ADMINISTRATION.
|  | CHIEF FINANCIAL OFFICER.
|  | GENERAL COUNSEL.
|  | DIRECTOR OF PROGRAMS.
|  | CHIEF INFORMATION OFFICER.
|  | DIRECTOR OF OPERATIONS.
|  | DIRECTOR OF FISCAL OPERATIONS.
|  | DEPUTY GENERAL COUNSEL.
OFFICE OF INSPECTOR GENERAL | OFFICE OF INSPECTOR GENERAL | ASSISTANT TO THE INSPECTOR GENERAL FOR INVESTIGATIONS.
SELECTIVE SERVICE SYSTEM | SELECTIVE SERVICE SYSTEM | ASSOCIATE DIRECTOR FOR OPERATIONS.
| OFFICE OF THE DIRECTOR | ASSOCIATE DIRECTOR FOR OPERATIONS.
|  | SENIOR ADVISOR TO THE DIRECTOR.
SMALL BUSINESS ADMINISTRATION:
OFFICE OF CAPITAL ACCESS | OFFICE OF INTERNATIONAL TRADE | DEPUTY ASSOCIATE ADMINISTRATOR FOR INTERNATIONAL TRADE.
OFFICE OF INVESTMENT | OFFICE OF INVESTMENT AND INNOVATION | DEPUTY ASSISTANT ADMINISTRATOR FOR INVESTMENT AND INNOVATION.
OFFICE OF MANAGEMENT AND ADMINISTRATION | OFFICE OF HUMAN RESOURCES SOLUTIONS | DEPUTY CHIEF HUMAN CAPITAL OFFICER. CHIEF HUMAN CAPITAL OFFICER.
OFFICE OF THE ADMINISTRATOR | OFFICE OF ENTREPRENEURIAL DEVELOPMENT | ASSOCIATE ADMINISTRATOR FOR SMALL BUSINESS DEVELOPMENT CENTERS.
|  | DEPUTY ASSOCIATE ADMINISTRATOR FOR ENTREPRENEURIAL DEVELOPMENT.
| OFFICE OF FIELD OPERATIONS | DISTRICT DIRECTOR WASHINGTON METRO AREA DISTRICT OFFICE.
| OFFICE OF GOVERNMENT CONTRACTING AND BUSINESS DEVELOPMENT | DIRECTOR OF HUBZONE EMPOWERMENT PROGRAM. DIRECTOR FOR POLICY PLANNING AND LIAISON.
|  | DEPUTY ASSOCIATE ADMINISTRATOR FOR GOVERNMENT CONTRACTING AND BUSINESS DEVELOPMENT.
| OFFICE OF HEARINGS AND APPEALS | ASSISTANT ADMINISTRATOR FOR HEARINGS AND APPEALS.
| OFFICE OF THE CHIEF FINANCIAL OFFICER | DEPUTY CHIEF FINANCIAL OFFICER.
|  | CHIEF FINANCIAL OFFICER.
| OFFICE OF THE CHIEF INFORMATION OFFICER | DEPUTY CHIEF INFORMATION OFFICER.
| OFFICE OF THE CHIEF OPERATING OFFICER | CHIEF HUMAN CAPITAL OFFICER.
| OFFICE OF THE GENERAL COUNSEL | ASSOCIATE GENERAL COUNSEL FOR FINANCIAL LAW AND LENDER OVERSIGHT.
|  | ASSOCIATE GENERAL COUNSEL LITIGATION.
|  | ASSOCIATE GENERAL COUNSEL FOR GENERAL LAW.
|  | ASSOCIATE GENERAL COUNSEL FOR PROCUREMENT LAW.
SMALL BUSINESS ADMINISTRATION OFFICE OF THE INSPECTOR GENERAL | SMALL BUSINESS ADMINISTRATION OFFICE OF THE INSPECTOR GENERAL | ASSISTANT INSPECTOR GENERAL FOR MANAGEMENT AND OPERATIONS. COUNSEL TO THE INSPECTOR GENERAL.
|  | ASSISTANT INSPECTOR GENERAL FOR INVESTIGATIONS.
|  | DEPUTY INSPECTOR GENERAL.
|  | ASSISTANT INSPECTOR GENERAL FOR AUDITS.
SOCIAL SECURITY ADMINISTRATION:
OFFICE OF ANALYTICS, REVIEW, AND OVERSIGHT | OFFICE OF ANALYTICS, REVIEW, AND OVERSIGHT | DEPUTY COMMISSIONER FOR ANALYTICS, REVIEW, AND OVERSIGHT.
|  | ASSISTANT DEPUTY COMMISSIONER FOR ANALYTICS, REVIEW, AND OVERSIGHT.
| OFFICE OF ANTI-FRAUD PROGRAMS | ASSOCIATE COMMISSIONER FOR ANTI-FRAUD PROGRAMS.
| OFFICE OF APPELLATE OPERATIONS | DEPUTY EXECUTIVE DIRECTOR, OFFICE OF APPELLATE OPERATIONS.
|  | EXECUTIVE DIRECTOR, OFFICE OF APPELLATE OPERATIONS.
OFFICE OF BUDGET, FINANCE, AND MANAGEMENT | OFFICE OF ACQUISITION AND GRANTS | ASSOCIATE COMMISSIONER FOR ACQUISITION AND GRANTS.
|  | DEPUTY ASSOCIATE COMMISSIONER FOR ACQUISITION AND GRANTS.
| OFFICE OF BUDGET | ASSOCIATE COMMISSIONER FOR BUDGET.
| OFFICE OF FINANCIAL POLICY AND OPERATIONS | DEPUTY ASSOCIATE COMMISSIONER FINANCIAL POLICY AND OPERATIONS.
|  | ASSOCIATE COMMISSIONER, OFFICE OF FINANCE POLICY AND OPERATIONS.
OFFICE OF HUMAN RESOURCES | OFFICE OF CIVIL RIGHTS AND EQUAL OPPORTUNITY | DEPUTY ASSOCIATE COMMISSIONER FOR CIVIL RIGHTS AND EQUAL OPPORTUNITY.
|  | ASSOCIATE COMMISSIONER FOR CIVIL RIGHTS AND EQUAL OPPORTUNITY.
| OFFICE OF LABOR-MANAGEMENT AND EMPLOYEE RELATIONS | ASSOCIATE COMMISSIONER FOR LABOR-MANAGEMENT AND EMPLOYEE RELATIONS.
|  | DEPUTY ASSOCIATE COMMISSIONER FOR LABOR-MANAGEMENT AND EMPLOYEE RELATIONS.
| OFFICE OF PERSONNEL | ASSOCIATE COMMISSIONER FOR PERSONNEL.
|  | DEPUTY ASSOCIATE COMMISSIONER FOR PERSONNEL.
OFFICE OF OPERATIONS | OFFICE OF DISABILITY DETERMINATIONS | DEPUTY ASSOCIATE COMMISSIONER FOR DISABILITY DETERMINATIONS.
|  | ASSOCIATE COMMISSIONER FOR DISABILITY DETERMINATIONS.
OFFICE OF SYSTEMS | OFFICE OF INFORMATION SECURITY | ASSOCIATE COMMISSIONER FOR INFORMATION SECURITY.
| OFFICE OF IT FINANCIAL MANAGEMENT AND SUPPORT | ASSOCIATE COMMISSIONER FOR INFORMATION TECHNOLOGY FINANCIAL MANAGEMENT AND SUPPORT.
|  | DEPUTY ASSOCIATE COMMISSIONER FOR INFORMATION TECHNOLOGY FINANCIAL MANAGEMENT AND SUPPORT.
OFFICE OF THE GENERAL COUNSEL | OFFICE OF GENERAL LAW | ASSOCIATE GENERAL COUNSEL FOR GENERAL LAW.
|  | DEPUTY ASSOCIATE GENERAL COUNSEL FOR GENERAL LAW.
| OFFICE OF PRIVACY AND DISCLOSURE | EXECUTIVE DIRECTOR FOR PRIVACY AND DISCLOSURE.
| OFFICE OF PROGRAM LAW | DEPUTY ASSOCIATE GENERAL COUNSEL FOR PROGRAM LAW.
SOCIAL SECURITY ADMINISTRATION | OFFICE OF BUDGET, FINANCE, AND MANAGEMENT | ASSISTANT DEPUTY COMMISSIONER FOR BUDGET, FINANCE, AND MANAGEMENT.
| OFFICE OF HEARINGS OPERATIONS | DEPUTY COMMISSIONER FOR HEARINGS OPERATIONS.
|  | ASSISTANT DEPUTY COMMISSIONER FOR HEARINGS OPERATIONS.
| OFFICE OF THE CHIEF ACTUARY | DEPUTY CHIEF ACTUARY (SHORT-RANGE).
|  | CHIEF ACTUARY.
|  | DEPUTY CHIEF ACTUARY (LONG-RANGE).
| OFFICE OF THE GENERAL COUNSEL | GENERAL COUNSEL.
SOCIAL SECURITY ADMINISTRATION OFFICE OF THE INSPECTOR GENERAL | IMMEDIATE OFFICE OF THE INSPECTOR GENERAL | CHIEF OF STAFF. SENIOR ADVISOR TO THE INSPECTOR GENERAL (LE). DEPUTY INSPECTOR GENERAL.
| OFFICE OF AUDIT | ASSISTANT INSPECTOR GENERAL FOR AUDIT.
|  | DEPUTY ASSISTANT INSPECTOR GENERAL FOR AUDIT (FINANCIAL AND INFORMATION TECHNOLOGY SYSTEMS AND OPERATIONS AUDITS).
|  | DEPUTY ASSISTANT INSPECTOR GENERAL FOR AUDIT (PROGRAM AUDITS AND EVALUATIONS.
| OFFICE OF COUNSEL FOR INVESTIGATIONS AND ENFORCEMENT | COUNSEL FOR INVESTIGATIONS AND ENFORCEMENT.
| OFFICE OF COUNSEL TO THE INSPECTOR GENERAL | COUNSEL TO THE INSPECTOR GENERAL.
| OFFICE OF INVESTIGATIONS | DEPUTY ASSISTANT INSPECTOR GENERAL FOR INVESTIGATIONS (WESTERN FIELD OPERATIONS) (2).
|  | DEPUTY ASSISTANT INSPECTOR GENERAL FOR INVESTIGATIONS (EASTERN FIELD OPERATIONS).
|  | ASSISTANT INSPECTOR GENERAL FOR INVESTIGATIONS.
| OFFICE OF RESOURCE MANAGEMENT | ASSISTANT INSPECTOR GENERAL FOR RESOURCE MANAGEMENT.
|  | DEPUTY ASSISTANT INSPECTOR GENERAL FOR RESOURCE MANAGEMENT.
DEPARTMENT OF STATE:
OFFICE OF THE SECRETARY | OFFICE OF THE UNDER SECRETARY FOR MANAGEMENT | OMBUDSMAN. DEPUTY DIRECTOR.
OFFICE OF THE UNDER SECRETARY FOR ARMS CONTROL AND INTERNATIONAL SECURITY AFFAIRS | BUREAU OF ARMS CONTROL, VERIFICATION, AND COMPLIANCE BUREAU OF INTERNATIONAL SECURITY AND NONPROLIFERATION | DIRECTOR, OFFICE OF STRATEGIC NEGOTIATIONS AND IMPLEMENTAITON. OFFICE DIRECTOR. DEPUTY ASSISTANT SECRETARY.
|  | OFFICE DIRECTOR.
OFFICE OF THE UNDER SECRETARY FOR MANAGEMENT | BUREAU OF ADMINISTRATION BUREAU OF DIPLOMATIC SECURITY | PROCUREMENT EXECUTIVE. SENIOR COORDINATOR.
| BUREAU OF GLOBAL TALENT MANAGEMENT | HUMAN RESOURCES OFFICER.
DEPARTMENT OF STATE OFFICE OF THE INSPECTOR GENERAL | DEPARTMENT OF STATE OFFICE OF THE INSPECTOR GENERAL | DEPUTY ASSISTANT INSPECTOR GENERAL FOR EVALUATIONS AND SPECIAL PROJECTS.
| OFFICE OF INSPECTOR GENERAL | ASSISTANT INSPECTOR GENERAL FOR ENTERPRISE RISK MANAGEMENT.
|  | DEPUTY ASSISTANT INSPECTOR GENERAL FOR INSPECTIONS.
|  | DEPUTY INSPECTOR GENERAL.
|  | ASSISTANT INSPECTOR GENERAL FOR MANAGEMENT.
|  | DEPUTY GENERAL COUNSEL.
|  | DEPUTY ASSISTANT INSPECTOR GENERAL FOR INSPECTIONS.
|  | ASSISTANT INSPECTOR GENERAL FOR EVALUATIONS AND SPECIAL PROJECTS.
|  | DEPUTY ASSISTANT INSPECTOR GENERAL FOR MANAGEMENT.
|  | ASSISTANT INSPECTOR GENERAL FOR INSPECTIONS.
|  | ASSISTANT INSPECTOR GENERAL FOR INVESTIGATIONS.
|  | GENERAL COUNSEL TO THE INSPECTOR GENERAL.
|  | ASSISTANT INSPECTOR GENERAL FOR AUDITS.
|  | DEPUTY ASSISTANT INSPECTOR GENERAL FOR AUDITS.
|  | DEPUTY ASSISTANT INSPECTOR GENERAL FOR INVESTIGATIONS.
|  | DEPUTY ASSISTANT INSPECTOR GENERAL FOR MIDDLE EAST REGIONAL OFFICE.
TRADE AND DEVELOPMENT AGENCY | TRADE AND DEVELOPMENT AGENCY | DIRECTOR OF MANAGEMENT OPERATIONS.
OFFICE OF THE DIRECTOR | OFFICE OF THE GENERAL COUNSEL | GENERAL COUNSEL.
| OFFICE OF THE DIRECTOR | ASSISTANT DIRECTOR FOR POLICY AND PROGRAMS.
|  | DEPUTY DIRECTOR.
DEPARTMENT OF TRANSPORTATION:
ASSISTANT SECRETARY FOR ADMINISTRATION | OFFICE OF THE SENIOR PROCUREMENT EXECUTIVE | SENIOR PROCUREMENT EXECUTIVE.
ASSISTANT SECRETARY FOR BUDGET AND PROGRAMS | OFFICE OF BUDGET AND PROGRAM PERFORMANCE | DIRECTOR OFFICE OF BUDGET AND PROGRAM PERFORMANCE.
ASSISTANT SECRETARY FOR TRANSPORTATION POLICY | OFFICE OF SAFETY, ENERGY AND ENVIRONMENT | DIRECTOR, OFFICE OF POLICY.
ASSOCIATE ADMINISTRATOR FOR ENFORCEMENT AND PROGRAM DELIVERY | OFFICE OF ENFORCEMENT AND COMPLIANCE | DIRECTOR, OFFICE OF ENFORCEMENT AND COMPLIANCE.
ASSOCIATE ADMINISTRATOR FOR POLICY AND PROGRAM DEVELOPMENT | OFFICE OF BUS AND TRUCK STANDARDS AND OPERATIONS | DIRECTOR, OFFICE OF BUS AND TRUCK STANDARDS AND OPERATIONS.
ASSOCIATE ADMINISTRATOR FOR RESEARCH AND REGISTRATION | OFFICE OF LICENSING AND SAFETY INFORMATION | DIRECTOR, OFFICE FOR LICENSING AND SAFETY INFORMATION.
FEDERAL HIGHWAY ADMINISTRATION | OFFICE OF THE ASSOCIATE ADMINISTRATOR FOR PLANNING, ENVIRONMENT AND REALTY | DIRECTOR, OFFICE OF REAL ESTATE SERVICES.
| OFFICE OF THE ASSOCIATE ADMINISTRATOR FOR SAFETY | ASSOCIATE ADMINISTRATOR FOR SAFETY.
| IMMEDIATE OFFICE OF THE ADMINISTRATOR | EXECUTIVE DIRECTOR.
|  | CHIEF INNOVATION OFFICER.
FEDERAL MOTOR CARRIER SAFETY ADMINISTRATION | OFFICE OF THE ASSOCIATE ADMINISTRATOR FOR FIELD OPERATIONS | REGIONAL FIELD ADMINISTRATOR, MIDWEST REGION. REGIONAL FIELD ADMINISTRATOR, SOUTHERN REGION.
| IMMEDIATE OFFICE OF THE ADMINISTRATOR | CHIEF FINANCIAL OFFICER.
|  | SENIOR ADVISOR.
|  | ASSISTANT ADMINISTRATOR/CHIEF SAFETY OFFICER.
FEDERAL RAILROAD ADMINISTRATION | OFFICE OF THE ASSOCIATE ADMINISTRATOR FOR RAILROAD SAFETY | ASSOCIATE ADMINISTRATOR FOR RAILROAD SAFETY/CHIEF SAFETY OFFICER.
| IMMEDIATE OFFICE OF THE ADMINISTRATOR | EXECUTIVE DIRECTOR.
| OFFICE OF THE CHIEF FINANCIAL OFFICER | CHIEF FINANCIAL OFFICER.
FEDERAL TRANSIT ADMINISTRATION | IMMEDIATE OFFICE OF THE ADMINISTRATOR | DEPUTY ADMINISTRATOR AND SENIOR ADVISOR TO THE SECRETARY.
IMMEDIATE OFFICE OF THE ADMINISTRATOR | OFFICE OF THE CHIEF FINANCIAL OFFICER | DEPUTY CHIEF FINANCIAL OFFICER AND CHIEF BUDGET OFFICER.
|  | CHIEF FINANCIAL OFFICER.
|  | DIRECTOR, OFFICE OF ACQUISITION AND GRANTS MANAGEMENT.
MARITIME ADMINISTRATION | OFFICE OF THE ASSOCIATE ADMINISTRATOR FOR ENVIRONMENT AND COMPLIANCE | ASSOCIATE ADMINISTRATOR FOR ENVIRONMENT AND COMPLIANCE.
|  | DEPUTY ASSOCIATE ADMINISTRATOR FOR ENVIRONMENT AND COMPLIANCE.
| OFFICE OF THE ASSOCIATE ADMINISTRATOR FOR STRATEGIC SEALIFT | DEPUTY ASSOCIATE ADMINISTRATOR FOR FEDERAL SEALIFT.
|  | DEPUTY ASSOCIATE ADMINISTRATOR FOR MARITIME EDUCATION AND TRAINING.
| IMMEDIATE OFFICE OF THE ADMINISTRATOR | DEPUTY ADMINISTRATOR.
|  | EXECUTIVE SECRETARY, COMMITTEE ON MARINE TRANSPORTATION SYSTEMS.
|  | EXECUTIVE DIRECTOR.
| OFFICE OF THE CHIEF COUNSEL | DEPUTY CHIEF COUNSEL.
NATIONAL HIGHWAY TRAFFIC SAFETY ADMINISTRATION | OFFICE OF THE ASSOCIATE ADMINISTRATOR FOR ENFORCEMENT | ASSOCIATE ADMINISTRATOR FOR ENFORCEMENT. DIRECTOR, OFFICE OF VEHICLE SAFETY COMPLIANCE.
|  | DIRECTOR, OFFICE OF DEFECTS INVESTIGATION.
| OFFICE OF THE ASSOCIATE ADMINISTRATOR FOR REGIONAL OPERATIONS AND PROGRAM DELIVERY | ASSOCIATE ADMINISTRATOR FOR REGIONAL OPERATIONS AND PROGRAM DELIVERY.
| IMMEDIATE OFFICE OF THE ADMINISTRATOR | EXECUTIVE DIRECTOR.
| OFFICE OF THE CHIEF COUNSEL | DEPUTY CHIEF COUNSEL.
OFFICE OF THE SECRETARY | OFFICE OF THE ASSISTANT SECRETARY FOR ADMINISTRATION | DEPUTY ASSISTANT SECRETARY FOR ADMINISTRATION.
| OFFICE OF THE ASSISTANT SECRETARY FOR BUDGET AND PROGRAMS | DEPUTY ASSISTANT SECRETARY FOR BUDGET AND PROGRAMS.
|  | OFFICE OF THE SECRETARY CHIEF FINANCIAL OFFICER.
|  | DEPUTY CHIEF FINANCIAL OFFICER.
| OFFICE OF THE ASSISTANT SECRETARY FOR TRANSPORTATION POLICY | DEPUTY ASSISTANT SECRETARY FOR TRANSPORTATION POLICY.
| NATIONAL SURFACE TRANSPORTATION INNOVATIVE FINANCE BUREAU (BUILD AMERICA BUREAU) | EXECUTIVE DIRECTOR, NATIONAL SURFACE TRANSPORTATION INNOVATIVE FINANCE BUREAU (BUILD AMERICA BUREAU).
| OFFICE OF INTELLIGENCE, SECURITY AND EMERGENCY RESPONSE | DEPUTY DIRECTOR. DIRECTOR, OFFICE OF INTELLIGENCE, SECURITY AND EMERGENCY RESPONSE.
| OFFICE OF THE CHIEF INFORMATION OFFICER | CHIEF TECHNOLOGY OFFICER.
|  | DEPUTY CHIEF INFORMATION OFFICER.
|  | CHIEF INFORMATION SECURITY OFFICER.
| OFFICE OF THE UNDER SECRETARY OF TRANSPORTATION FOR POLICY | EXECUTIVE DIRECTOR FOR THE OFFICE OF THE UNDER SECRETARY OF TRANSPORTATION FOR POLICY.
| OFFICE OF THE SECRETARY | SENIOR ADVISOR FOR STRATEGIC COMMUNICATIONS.
PIPELINE AND HAZARDOUS MATERIALS SAFETY ADMINISTRATION | IMMEDIATE OFFICE OF THE ADMINISTRATOR OFFICE OF CHIEF SAFETY OFFICER | EXECUTIVE DIRECTOR. ASSISTANT ADMINISTRATOR AND CHIEF SAFETY OFFICER.
| OFFICE OF HAZARDOUS MATERIALS SAFETY | ASSOCIATE ADMINISTRATOR FOR HAZARDOUS MATERIALS SAFETY.
| OFFICE OF PIPELINE SAFETY | ASSOCIATE ADMINISTRATOR FOR PIPELINE SAFETY.
|  | DEPUTY ASSOCIATE ADMINISTRATOR FOR FIELD OPERATIONS.
|  | DEPUTY ASSOCIATE ADMINISTRATOR FOR POLICY AND PROGRAMS.
| OFFICE OF THE CHIEF FINANCIAL OFFICER | CHIEF FINANCIAL OFFICER.
SURFACE TRANSPORTATION BOARD | OFFICE OF PUBLIC ASSISTANCE, GOVERNMENTAL AFFAIRS AND COMPLIANCE | DIRECTOR OF PUBLIC ASSISTANCE, GOVERNMENTAL AFFIARS AND COMPLIANCE.
DEPARTMENT OF TRANSPORTATION OFFICE OF INSPECTOR GENERAL.
OFFICE OF ASSISTANT INSPECTOR GENERAL FOR AUDIT OPERATIONS AND SPECIAL REVIEWS | OFFICE OF ASSISTANT INSPECTOR GENERAL FOR INFORMATION TECHNOLOGY AUDITS | ASSISTANT INSPECTOR GENERAL FOR INFORMATION TECHNOLOGY AUDITS.
OFFICE OF ASSISTANT INSPECTOR GENERAL FOR AVIATION AUDITS | OFFICE OF DEPUTY ASSISTANT INSPECTOR GENERAL FOR AVIATION AUDITS | DEPUTY ASSISTANT INSPECTOR GENERAL FOR AVIATION AUDITS.
OFFICE OF DEPUTY INSPECTOR GENERAL | OFFICE OF ASSISTANT INSPECTOR GENERAL FOR STRATEGIC COMMUNICATIONS AND PROGRAMS | ASSISTANT INSPECTOR GENERAL FOR STRATEGIC COMMUNICATIONS AND PROGRAMS.
|  | ASSISTANT INSPECTOR GENERAL FOR STRATEGIC COMMUNICATIONS AND PROGRAMS.
OFFICE OF INSPECTOR GENERAL IMMEDIATE OFFICE | OFFICE OF ASSISTANT INSPECTOR GENERAL FOR ADMINISTRATION AND MANAGEMENT | ASSISTANT INSPECTOR GENERAL FOR ADMINISTRATION AND MANAGEMENT.
| OFFICE OF CHIEF COUNSEL | CHIEF COUNSEL.
| OFFICE OF DEPUTY INSPECTOR GENERAL | DEPUTY INSPECTOR GENERAL.
|  | DEPUTY ASSISTANT INSPECTOR GENERAL FOR SURFACE TRANSPORTATION AUDITS.
| OFFICE OF PRINCIPAL ASSISTANT INSPECTOR GENERAL FOR AUDITING AND EVALUATION | PRINCIPAL ASSISTANT INSPECTOR GENERAL FOR AUDITING AND EVALUATION.
| OFFICE OF PRINCIPAL ASSISTANT INSPECTOR GENERAL FOR INVESTIGATIONS | PRINCIPAL ASSISTANT INSPECTOR GENERAL FOR INVESTIGATIONS.
OFFICE OF PRINCIPAL ASSISTANT INSPECTOR GENERAL FOR AUDITING AND EVALUATION | OFFICE OF ASSISTANT INSPECTOR GENERAL FOR ACQUISITION AND PROCUREMENT AUDITS OFFICE OF ASSISTANT INSPECTOR GENERAL FOR AUDIT OPERATIONS AND SPECIAL REVIEWS | ASSISTANT INSPECTOR GENERAL FOR ACQUISTION AND PROCUREMENT AUDITS. ASSISTANT INSPECTOR GENERAL FOR AUDIT OPERATIONS AND SPECIAL REVIEWS.
| OFFICE OF ASSISTANT INSPECTOR GENERAL FOR AVIATION AUDITS | ASSISTANT INSPECTOR GENERAL FOR AVIATION AUDITS.
| OFFICE OF ASSISTANT INSPECTOR GENERAL FOR SURFACE TRANSPORTATION AUDITS | ASSISTANT INSPECTOR GENERAL FOR SURFACE TRANSPORTATION AUDITS.
OFFICE OF PRINCIPAL ASSISTANT INSPECTOR GENERAL FOR INVESTIGATIONS | OFFICE OF DEPUTY ASSISTANT INSPECTOR GENERAL FOR INVESTIGATIONS | DEPUTY ASSISTANT INSPECTOR GENERAL FOR INVESTIGATIONS.
DEPARTMENT OF THE TREASURY:
ASSISTANT SECRETARY (TAX POLICY) | ALCOHOL AND TOBACCO TAX AND TRADE BUREAU | ASSISTANT ADMINISTRATOR, HEADQUARTER OPERATIONS.
|  | ASSISTANT ADMINISTRATOR, MANAGEMENT/CHIEF FINANCIAL OFFICER.
|  | DEPUTY ADMINISTRATOR, ALCOHOL AND TOBACCO TAX AND TRADE BUREAU.
|  | ASSISTANT ADMINISTRATOR, FIELD OPERATIONS.
|  | ASSISTANT ADMINISTRATOR, PERMITTING AND TAXATION.
|  | ASSISTANT ADMINISTRATOR INFORMATION RESOURCES/CHIEF INFORMATION OFFICER.
|  | ASSISTANT ADMINISTRATOR, EXTERNAL AFFAIRS/CHIEF OF STAFF.
|  | ADMINISTRATOR, ALCOHOL AND TOBACCO TAX AND TRADE BUREAU.
DEPARTMENT OF THE TREASURY | ASSISTANT SECRETARY (TAX POLICY) | DIRECTOR, ECONOMIC MODELING AND COMPUTER APPLICATIONS.
| ASSISTANT SECRETARY FOR MANAGEMENT | DIRECTOR, OFFICE OF PROCUREMENT.
|  | CHIEF DIVERSITY AND INCLUSION OFFICER.
|  | DEPUTY CHIEF FINANCIAL OFFICER.
| GENERAL COUNSEL | CHIEF COUNSEL, FINANCIAL CRIMES ENFORCEMENT NETWORK.
| INTERNAL REVENUE SERVICE | DEPUTY CHIEF PROCUREMENT OFFICER.
|  | FIELD DIRECTOR, SUBMISSION PROCESSING-FRESNO.
|  | DIRECTOR, COLLECTION—CAMPUS.
|  | CHIEF OF STAFF.
|  | DIRECTOR, MEDIA AND PUBLICATIONS (WASHINGTON, DC).
|  | DIRECTOR, HUMAN RESOURCES.
|  | PROJECT DIRECTOR.
|  | DIRECTOR, STRATEGY AND FINANCE.
|  | DIRECTOR, EXAMINATION—CAMPUS.
|  | FIELD DIRECTOR, SUBMISSION PROCESSING—OGDEN.
|  | DIRECTOR, COLLECTION SOUTHWEST.
|  | CHIEF, AGENCY-WIDE SHARED SERVICES.
|  | DIRECTOR OF FIELD OPERATIONS-WESTERN AREA, CRIMINAL INVESTIGATION.
|  | DIRECTOR, MICROSOFT INITIATIVES PROGRAM.
|  | NATIONAL DIRECTOR LEGISLATIVE AFFAIRS.
|  | DIRECTOR, ENTERPRISE ARCHITECTURE.
|  | DEPUTY ASSOCIATE CHIEF INFORMATION OFFICER FOR APPLICATIONS DEVELOPMENT.
|  | DIRECTOR, REFUNDABLE CREDITS EXAMINATION OPERATIONS.
|  | DEPUTY CHIEF INFORMATION OFFICER FOR STRATEGY/MODERNIZATION.
|  | DIRECTOR, E-FILE SERVICES.
|  | DIRECTOR, DATA MANAGEMENT DIVISION.
|  | DIRECTOR, KNOWLEDGE DEVELOPMENT AND APPLICATION.
|  | SPECIAL AGENT IN CHARGE, CRIMINAL INVESTIGATION.
|  | PROJECT DIRECTOR.
|  | SPECIAL AGENT IN CHARGE, CRIMINAL INVESTIGATION.
|  | DIRECTOR, FACILITIES MANAGEMENT AND SEC SERVICES.
|  | DIRECTOR, WORKLIFE, BENEFITS AND PERFORMANCE.
|  | DIRECTOR, SECURITY OPERATIONS AND STANDARDS.
|  | DIRECTOR, COLLECTION—HEADQUARTERS.
|  | DEPUTY ASSOCIATE CHIEF INFORMATION OFFICER FOR CYBERSECURITY.
|  | DIRECTOR, COLLECTION APPEALS.
|  | DIRECTOR, DEMAND MANAGEMENT AND PROJECT GOVERNANCE.
|  | PROJECT DIRECTOR.
|  | DIRECTOR, COLLECTION—QUALITY AND TECHNICAL SUPPORT.
|  | DIRECTOR, COLLECTION.
|  | SPECIAL ASSISTANT.
|  | ASSOCIATE CHIEF INFORMATION OFFICER FOR APPLICATIONS DEVELOPMENT.
|  | SENIOR ADVISOR AND TECHNOLOGY ADVISOR.
|  | DIRECTOR, SPECIALIZED EXAMINATION PROGRAMS AND REFERRALS.
|  | PROJECT DIRECTOR FOR DEPUTY COMMISSIONER SERVICES AND ENFORCEMENT.
|  | DIRECTOR, MODERNIZATION, DEVELOPMENT AND DELIVERY.
|  | DIRECTOR, DATA MANAGEMENT SERVICES AND SUPPORT.
|  | DIRECTOR, SERVICEWIDE OPERATIONS.
|  | DIRECTOR, ENTERPRISE ACTIVITIES.
|  | ASSISTANT DEPUTY COMMISSIONER FOR SERVICES AND ENFORCEMENT.
|  | DIRECTOR, COLLECTION AREA—GULF STATE.
|  | DIRECTOR, COLLECTION—CENTRAL.
|  | DIRECTOR, EXAMINATION—CENTRAL.
|  | DIRECTOR, OFFICE OF PROFESSIONAL RESPONSIBILITY.
|  | DIRECTOR, COLLECTION—SPECIAL.
|  | DIRECTOR, REFUNDABLE CREDITS POLICY AND PROGRAM MANAGEMENT.
|  | ASSOCIATE CHIEF INFORMATION OFFICER FOR USER AND NETWORK SERVICES.
|  | DEPUTY DIRECTOR, RETURN INTEGRITY AND CORRESPONDENCE SERVICES.
|  | DIRECTOR, SOLUTION ENGINEERING.
|  | DIRECTOR, MAINFRAME SUPPORT AND SERVICES.
|  | SPECIAL ASSISTANT TO THE CHIEF, APPEALS.
|  | DIRECTOR, AFFORDABLE CARE ACT.
|  | DIRECTOR, CAMPUS COLLECTION FRESNO.
|  | IRS IDENTITY ASSURANCE EXECUTIVE.
|  | DEPUTY DIRECTOR, SUBMISSION PROCESSING.
|  | SUBMISSION PROCESSING FIELD DIRECTOR.
|  | DIRECTOR, OPERATIONS SUPPORT.
|  | ASSOCIATE CHIEF INFORMATION OFFICER, ENTERPRISE INFORMATION TECHNOLOGY PROGRAM MANAGEMENT.
|  | SENIOR DIRECTOR FOR OPERATIONS, AFFORDABLE CARE ACT.
|  | DIRECTOR, INFRASTRUCTURE SERVICES.
|  | DIRECTOR, UNIFIED COMMUNICATIONS.
|  | ACIO, AFFORDABLE CARE ACT PMO.
|  | DIRECTOR, ENTERPRISE NETWORKS OPERATIONS.
|  | DIRECTOR, ONLINE SERVICES.
|  | DEPUTY COMMISSIONER, WAGE AND INVESTMENTS.
|  | DIRECTOR, TECHNOLOGY SOLUTIONS.
|  | DIRECTOR, SERVICE DELIVERY MANAGEMENT.
|  | COMPLIANCE SERVICES FIELD DIRECTOR.
|  | DIRECTOR, CAMPUS OPERATIONS.
|  | DIRECTOR, IMPLEMENTATION AND TESTING.
|  | DIRECTOR, BUSINESS PLANNING AND RISK MANAGEMENT.
|  | EXECUTIVE DIRECTOR, BUSINESS MODERNIZATION.
|  | DIRECTOR, COLLECTION STRATEGY AND ORGANIZATION.
|  | DIRECTOR OF FIELD OPERATIONS, HEAVY MANUFACTURING AND PHARMACEUTICALS, SOUTHEAST.
|  | DIRECTOR, FIELD OPERATIONS, ENGINEERING.
|  | ASSISTANT DEPUTY COMMISSIONER COMPLIANCE INTEGRATION.
|  | DIRECTOR, ADVANCED PRICING AND MUTUAL AGREEMENT.
|  | DIRECTOR, RETURN INTEGRITY AND COMPLIANCE SERVICES.
|  | DIRECTOR, CYBERSECURITY POLICY AND PROGRAMS.
|  | DIRECTOR, FIELD OPERATIONS, RETAIL FOOD, PHARMACEUTICALS, AND HEALTHCARE—WEST.
|  | DIRECTOR, CONTACT CENTER SUPPORT DIVISION.
|  | EXECUTIVE DIRECTOR, INVESTIGATIVE AND ENFORCEMENT OPERATIONS.
|  | DIRECTOR, EXAMINATION AREA—NORTH ATLANTIC.
|  | DIRECTOR, STRATEGIC SUPPLIER MANAGEMENT.
|  | DIRECTOR, DATA DELIVERY SERVICES.
|  | PROJECT DIRECTOR.
|  | DIRECTOR, COMPLIANCE STRATEGY AND POLICY.
|  | DIRECTOR, STRATEGY, RESEARCH AND PROGRAM PLANNING.
|  | DIRECTOR, PRIVACY AND INFORMATION PROTECTION.
|  | DIRECTOR, NETWORK ENGINEERING.
|  | DIRECTOR, EXAMINATION—SPECIALITY TAX.
|  | DEPUTY ASSOCIATE CHIEF FINANCIAL OFFICER FOR FINANCIAL MANAGEMENT.
|  | DIRECTOR, CUSTOMER SERVICE AND STAKEHOLDERS.
|  | DIRECTOR, TAX FORMS AND PUBLICATIONS.
|  | ASSISTANT DEPUTY COMMISSIONER GOVERNMENT ENTITIES AND SHARED SERVICES.
|  | DIRECTOR, CASE AND OPERATIONS SUPPORT.
|  | DEPUTY DIRECTOR, RETURN PREPARER OFFICE.
|  | ACCOUNTS MANAGEMENT FIELD DIRECTOR.
|  | DIRECTOR, FILING AND PREMIUM TAX CREDIT.
|  | ASSISTANT DEPUTY COMMISSIONER (INTERNATIONAL).
|  | DIRECTOR, EMERGING PROGRAMS AND INITIATIVES.
|  | DIRECTOR, FIELD OPERATIONS, NATURAL RESOURCES AND CONSTRUCTION—WEST.
|  | DIRECTOR, CAMPUS COMPLIANCE OPERATIONS.
|  | DIRECTOR, PRODUCT MANAGEMENT.
|  | DIRECTOR, FIELD OPERATIONS, RETAILERS, FOOD, TRANSPORTATION AND HEALTHCARE—EAST.
|  | DIRECTOR, REFUND CRIMES.
|  | AREA DIRECTOR, STAKEHOLDER PARTNERSHIP, EDUCATION, AND COMMUNICATION.
|  | DIRECTOR, EXAMINATION FIELD.
|  | DEPUTY COMMISSIONER, OPERATIONS SUPPORT.
|  | DIRECTOR, OPERATIONS SERVICE SUPPORT.
|  | DEPUTY DIRECTOR, STRATEGY AND FINANCE.
|  | DIRECTOR, RETURN PREPARER OFFICE.
|  | DIRECTOR, EXAMINATION AREA MIDWEST.
|  | DIRECTOR, FINANCIAL MANAGEMENT SERVICES.
|  | AREA DIRECTOR, FIELD ASSISTANCE.
|  | DIRECTOR, EXAMINATION AREA.
|  | DIRECTOR, CUSTOMER SERVICE.
|  | DIRECTOR, APPEALS POLICY AND VALUATION.
|  | ASSOCIATE CHIEF INFORMATION OFFICER, STRATEGY AND PLANNING.
|  | DIRECTOR, BUSINESS SYSTEMS PLANNING.
|  | DEPUTY CHIEF OF STAFF.
|  | ASSOCIATE CHIEF INFORMATION OFFICER FOR ENTERPRISE OPERATIONS.
|  | DIRECTOR, COLLECTION POLICY.
|  | DEPUTY DIRECTOR, SUBMISSION PROCESSING.
|  | DEPUTY DIVISION COUNSEL #2 (OPERATIONS)/SMALL BUSINESS AND SELF EMPLOYED.
|  | DEPUTY COMMISSIONER (DOMESTIC), LARGE BUSINESS AND INTERNATIONAL.
|  | DEPUTY ASSOCIATE CHIEF INFORMATION OFFICER, ENTERPRISE OPERATIONS.
|  | DIRECTOR, REPORTING COMPLIANCE.
|  | SPECIAL AGENT IN CHARGE—CRIMINAL INVESTIGATION.
|  | DIRECTOR, FIELD OPERATIONS EAST.
|  | DEPUTY CHIEF INFORMATION OFFICER FOR OPERATIONS.
|  | ASSOCIATE CHIEF INFORMATION OFFICER, CYBERSECURITY.
|  | DIRECTOR, OFFICE OF PRIVACY, INFORMATION PROTECTION AND DATA SECURITY.
|  | DIRECTOR, PASS THROUGH ENTITIES.
|  | PROGRAM MANAGER.
|  | DIRECTOR, SUBMISSION PROCESSING.
|  | DIRECTOR, INTERNAL MANAGEMENT.
|  | DIRECTOR, CORPORATE DATA.
|  | DIRECTOR, ENTERPRISE SYSTEMS TESTING.
|  | DIRECTOR, EXAMINATION MIDWEST AREA.
|  | SPECIAL AGENT IN CHARGE.
|  | DIRECTOR, WHISTLEBLOWER OFFICE.
|  | SUBMISSION PROCESSING FIELD DIRECTOR.
|  | PROJECT DIRECTOR, ENTERPRISE PROGRAM MANAGEMENT.
|  | ACCOUNTS MANAGEMENT FIELD DIRECTOR.
|  | DIRECTOR, EXAMINATION—GULF STATES.
|  | DIRECTOR, EMPLOYEE PLANS, RULINGS, AND AGREEMENTS.
|  | DIRECTOR, EXAMINATION HEADQUARTERS.
|  | DIRECTOR, JOINT OPERATIONS CENTER.
|  | DEPUTY CHIEF HUMAN CAPITAL OFFICER, INTERNAL REVENUE SERVICE.
|  | DIRECTOR, COLLECTION—FIELD.
|  | DIRECTOR, COLLECTION—ATLANTA.
|  | DIRECTOR, COLLECTION—ANDOVER.
|  | DIRECTOR, EXAMINATION AREA.
|  | DIRECTOR, EXAMINATION—OGDEN.
|  | DIRECTOR, EXAMINATION SOUTHWEST AREA.
|  | SPECIAL AGENT IN CHARGE.
|  | DEPUTY COMMISSIONER, SMALL BUSINESS/SELF-EMPLOYED.
|  | PROJECT DIRECTOR.
|  | DIRECTOR, STAKEHOLDER, PARTNERSHIP, EDUCATION AND COMMUNICATIONS.
|  | CHIEF FINANCIAL OFFICER, INTERNAL REVENUE SERVICE.
|  | CHIEF, CRIMINAL INVESTIGATION.
|  | DIRECTOR, RESEARCH AND ORGANIZATIONAL.
|  | DIRECTOR, ENTERPRISE TECHNOLOGY IMPLEMENTATION.
|  | AREA DIRECTOR, FIELD ASSISTANCE—ATLANTA.
|  | DIRECTOR OF FIELD OPERATIONS.
|  | CHIEF, COMMUNICATIONS AND LIAISON.
|  | DEPUTY CHIEF FINANCIAL OFFICER.
|  | DIRECTOR, ACCOUNTS MANAGEMENT, WAGE AND INVESTMENT.
|  | DIRECTOR, DATA SOLUTIONS.
|  | COMMISSIONER, SMALL BUSINESS AND SELF EMPLOYED.
|  | COMMISSIONER, LARGE AND MID-SIZED BUSINESS DIVISION.
|  | CHIEF INFORMATION OFFICER.
|  | CHIEF HUMAN CAPITAL OFFICER, INTERNAL REVENUE SERVICE.
|  | DEPUTY DIRECTOR, ENTERPRISE COMPUTING CENTER.
|  | DEPUTY CHIEF, CRIMINAL INVESTIGATION.
|  | INDUSTRY DIRECTOR—FINANCIAL SERVICES—LARGE AND MID SIZE BUSINESS.
|  | DIRECTOR, BUSINESS SYSTEMS PLANNING—LARGE AND MID-SIZE BUSINESS.
|  | DEPUTY CHIEF, APPEALS.
|  | DEPUTY DIVISION COMMISSIONER, TAX EXEMPT AND GOVERNMENT ENTITIES.
|  | EXECUTIVE DIRECTOR, CASE ADVOCACY INTAKE AND TECHNICAL SUPPORT.
|  | EXECUTIVE DIRECTOR, OFFICE OF EQUITY, DIVERSITY, AND INCLUSION.
|  | DEPUTY DIRECTOR, FACILITIES MANAGEMENT AND SECURITY SERVICES.
|  | CHIEF, APPEALS.
|  | CHIEF RISK OFFICER AND SENIOR ADVISOR.
|  | DIRECTOR, ADVANCE PRICING AND MUTUAL AGREEMENT.
|  | ACCOUNTS MANAGEMENT FIELD DIRECTOR—ANDOVER.
|  | DIRECTOR, CUSTOMER ACCOUNT SERVICES—WAGE AND INVESTMENT.
|  | DIRECTOR, COMMUNICATION, ASSISTANCE, RESEARCH AND EDUCATION.
|  | DIRECTOR, FIELD ASSISTANCE—WAGE AND INVESTMENT.
|  | DIRECTOR, RESEARCH, APPLIED ANALYTICS AND STATISTICS.
|  | DEPUTY NATIONAL TAXPAYER ADVOCATE.
|  | COMMISSIONER, TAX EXEMPT AND GOVERNMENT ENTITIES DIVISION.
|  | DIRECTOR, EXEMPT ORGANIZATIONS.
|  | COMMISSIONER, WAGE AND INVESTMENT.
|  | DIRECTOR, OPERATIONS SUPPORT.
|  | DIRECTOR, EMPLOYEE PLANS.
|  | DIRECTOR, ENTERPRISE CASE MANAGEMENT.
|  | PROJECT DIRECTOR.
|  | DIRECTOR, INTERNET DEVELOPMENT SERVICES.
|  | DIRECTOR, SERVER SUPPORT AND SERVICES.
|  | DIRECTOR, PROCUREMENT.
|  | ASSOCIATE CHIEF FINANCIAL OFFICER FOR INTERNAL FINANCIAL MANAGEMENT—NATIONAL HEADQUARTERS.
|  | DIRECTOR, IDENTITY THEFT VICTIM ASSISTANCE.
|  | DIRECTOR, STATISTICS OF INCOME.
| SECRETARY OF THE TREASURY | DIRECTOR, OFFICE OF SMALL AND DISADVANTAGED BUSINESS UTILIZATION.
| UNITED STATES MINT | ASSOCIATE DIRECTOR FOR MANUFACTURING.
|  | PLANT MANAGER, PHILADELPHIA.
|  | ASSOCIATE DIRECTOR FOR SALES AND MARKETING.
|  | ASSOCIATE DIRECTOR, ENVIRONMENT, SAFETY AND HEALTH.
|  | CHIEF ADMINISTRATIVE OFFICER.
|  | ASSOCIATE DIRECTOR FOR INFORMATION TECHNOLOGY (CHIEF INFORMATION OFFICER).
|  | ASSOCIATE DIRECTOR FOR FINANCIAL MANAGEMENT/CHIEF FINANCIAL OFFICER.
|  | DIRECTOR, OFFICE OF COIN STUDIES.
FISCAL ASSISTANT SECRETARY | BUREAU OF THE FISCAL SERVICE | ASSISTANT COMMISSIONER (SHARED SERVICES).
|  | DEPUTY ASSISTANT COMMISSIONER FOR PROGRAM SOLUTIONS AND SUPPORT (TREASURY SECURITIES SERVICES).
|  | ASSISTANT COMMISSIONER (OFFICE OF MANAGEMENT SERVICES).
|  | DEPUTY CHIEF INFORMATION OFFICER.
|  | ASSISTANT COMMISSIONER, PAYMENT MANAGEMENT.
|  | DEPUTY ASSISTANT COMMISSIONER, PAYMENT MANAGEMENT.
|  | DEPUTY ASSISTANT COMMISSIONER FOR INFRASTRUCTURE AND OPERATIONS (OFFICE OF INFORMATION AND SECURITY SERVICES).
|  | DIRECTOR, DEBT MANAGEMENT SERVICES OPERATIONS, WEST.
|  | DEPUTY ASSISTANT COMMISSIONER FOR SECURITIES MANAGEMENT (TREASURY SECURITIES SERVICES).
|  | ASSISTANT COMMISSIONER, WHOLESALE SECURITIES SERVICES.
|  | DEPUTY ASSISTANT COMMISSIONER (ACCOUNTING SUPPORT AND OUTREACH).
|  | DEPUTY ASSISTANT COMMISSIONER, COMPLIANCE AND REPORTING GROUP.
|  | EXECUTIVE DIRECTOR (DO NOT PAY BUSINESS CENTER STAFF).
|  | DIRECTOR, DEBT MANAGEMENT SERVICES OPERATIONS, EAST.
|  | ASSISTANT COMMISSIONER, INFORMATION AND SECURITY SERVICES (CHIEF INFORMATION OFFICER).
|  | DEPUTY ASSISTANT COMMISSIONER (SHARED SERVICES).
|  | DEPUTY COMMISSIONER, ACCOUNTING AND SHARED SERVICES.
|  | DEPUTY COMMISSIONER, FINANCE AND ADMINISTRATION.
|  | DEPUTY COMMISSIONER, FINANCIAL SERVICES AND OPERATIONS.
|  | COMMISSIONER, BUREAU OF THE FISCAL SERVICE.
|  | DEPUTY ASSISTANT COMMISSIONER FOR INFORMATION SERVICES.
|  | DEPUTY ASSISTANT COMMISSIONER (FISCAL ACCOUNTING OPERATIONS).
|  | DEPUTY ASSISTANT COMMISSIONER (DATA TRANSPARENCY).
|  | DEPUTY ASSISTANT COMMISSIONER (RETAIL SECURITIES SERVICES).
|  | SENIOR ADVISOR (SERVICES AND PROGRAMS).
|  | EXECUTIVE DIRECTOR (KANSAS CITY).
|  | ASSISTANT COMMISSIONER (RETAIL SECURITIES SERVICES).
|  | DEPUTY ASSISTANT COMMISSIONER (WHOLESALE SECURITIES SERVICES).
|  | DEPUTY ASSISTANT COMMISSIONER (DEBT MANAGEMENT SERVICES).
|  | ASSISTANT COMMISSIONER (PUBLIC DEBT ACCOUNTING).
|  | DIRECTOR, REGIONAL FINANCIAL CENTER (PHILADELPHIA).
|  | DIRECTOR, REGIONAL FINANCIAL CENTER (KANSAS CITY).
|  | ASSISTANT COMMISSIONER, DEBT MANAGEMENT SERVICES.
|  | ASSISTANT COMMISSIONER, MANAGEMENT (CHIEF FINANCIAL OFFICER).
|  | DIRECTOR, REVENUE COLLECTION GROUP.
|  | ASSISTANT COMMISSIONER, FEDERAL FINANCE.
|  | EXECUTIVE DIRECTOR, GOVERNMENT SECURITIES REGULATIONS.
|  | DIRECTOR, REGIONAL FINANCIAL CENTER (SAN FRANCISCO).
INTERNAL REVENUE SERVICE | INTERNAL REVENUE SERVICE CHIEF COUNSEL | ASSOCIATE CHIEF COUNSEL (PROCEDURE AND ADMINISTRATION).
|  | ASSOCIATE CHIEF COUNSEL (CORPORATE).
|  | DEPUTY ASSOCIATE CHIEF COUNSEL (FINANCE AND MANAGEMENT).
|  | AREA COUNSEL (LARGE AND MID SIZE BUSINESS)(AREA 2)(HEAVY MANUFACTURING, CONSTRUCTION AND TRANSPORTATION).
|  | AREA COUNSEL (LARGE AND MID SIZE BUSINESS)(AREA 4)(NATURAL RESOURCES).
|  | AREA COUNSEL (LARGE BUSINESS AND INTERNATIONAL).
|  | DEPUTY DIVISION COUNSEL (SMALL BUSINESS AND SELF EMPLOYED).
|  | AREA COUNSEL (SMALL BUSINESS AND SELF EMPLOYED)—NEW YORK.
|  | AREA COUNSEL (SMALL BUSINESS AND SELF EMPLOYED)—PHILADELPHIA.
|  | AREA COUNSEL (SMALL BUSINESS AND SELF EMPLOYED)—JACKSONVILLE.
|  | AREA COUNSEL (SMALL BUSINESS AND SELF EMPLOYED)—CHICAGO.
|  | AREA COUNSEL (SMALL BUSINESS AND SELF EMPLOYED).
|  | AREA COUNSEL (SMALL BUSINESS AND SELF EMPLOYED)—DENVER.
|  | AREA COUNSEL (SMALL BUSINESS AND SELF EMPLOYED)—LOS ANGELES.
|  | AREA COUNSEL (SMALL BUSINESS AND SELF EMPLOYED) (AREA 7).
|  | DIVISION COUNSEL/ASSOCIATE CHIEF COUNSEL (CRIMINAL TAX).
|  | DEPUTY DIVISION COUNSEL/DEPUTY ASSOCIATE CHIEF COUNSEL (TAX EXEMPT AND GOVERNMENT ENTITIES).
|  | AREA COUNSEL (LARGE BUSINESS AND INTERNATIONAL)(AREA 1).
|  | DEPUTY ASSOCIATE CHIEF COUNSEL (FINANCIAL INSTITUTIONS AND PRODUCTS).
|  | DIVISION COUNSEL (WAGE AND INVESTMENT).
|  | DEPUTY ASSOCIATE CHIEF COUNSEL (GENERAL LEGAL SERVICES) (LABOR AND PERSONNEL LAW).
|  | DEPUTY CHIEF COUNSEL (OPERATIONS).
|  | SPECIAL COUNSEL TO THE NATIONAL TAXPAYER ADVOCATE.
|  | DEPUTY ASSOCIATE CHIEF COUNSEL (INTERNATIONAL TECHNICAL).
|  | DEPUTY CHIEF COUNSEL (TECHNICAL).
|  | DEPUTY ASSOCIATE CHIEF COUNSEL (GENERAL LEGAL SERVICES).
|  | ASSOCIATE CHIEF COUNSEL (GENERAL LEGAL SERVICES).
|  | DIVISION COUNSEL (SMALL BUSINESS AND SELF EMPLOYED).
|  | AREA COUNSEL, LARGE AND MID SIZE BUSINESS (AREA 3) (FOOD, MASS RETAILERS, AND PHARMACEUTICALS).
|  | DEPUTY ASSOCIATE CHIEF COUNSEL #2 (INCOME TAX AND ACCOUNTING).
|  | DEPUTY DIVISION COUNSEL (LARGE AND MID-SIZE BUSINESS).
|  | DEPUTY ASSOCIATE CHIEF COUNSEL (PROCEDURE AND ADMINISTRATION).
|  | ASSOCIATE CHIEF COUNSEL (INCOME TAX AND ACCOUNTING).
|  | DEPUTY DIVISION COUNSEL/DEPUTY ASSISTANT CHIEF COUNSEL (CRIMINAL TAX).
|  | ASSOCIATE CHIEF COUNSEL (INTERNATIONAL).
|  | ASSOCIATE CHIEF COUNSEL (FINANCE AND MANAGEMENT).
|  | ASSOCIATE CHIEF COUNSEL (FINANCIAL INSTITUTIONS AND PRODUCTS).
|  | DEPUTY ASSOCIATE CHIEF COUNSEL (FINANCIAL INSTITUTIONS AND PRODUCTS).
|  | SPECIAL COUNSEL TO THE CHIEF COUNSEL.
|  | DEPUTY DIVISION COUNSEL AND DEPUTY ASSOCIATE CHIEF COUNSEL (TAX EXEMPT AND GOVERNMENT ENTITIES).
|  | DEPUTY DIVISION COUNSEL/DEPUTY ASSOCIATE CHIEF COUNSEL.
|  | DEPUTY ASSOCIATE CHIEF COUNSEL (INTERNATIONAL FIELD SERVICE AND LITIGATION).
|  | AREA COUNSEL, SMALL BUSINESS AND SELF EMPLOYED, AREA 9.
|  | DEPUTY TO THE SPECIAL COUNSEL TO THE CHIEF COUNSEL.
|  | HEALTHCARE COUNSEL (OFFICE OF HEALTHCARE).
|  | DEPUTY ASSOCIATE CHIEF COUNSEL (PROCEDURE AND ADMINISTRATION).
|  | DEPUTY ASSOCIATE CHIEF COUNSEL (PROCEDURE AND ADMINISTRATION).
|  | ASSOCIATE CHIEF COUNSEL (TAX EXEMPT AND GOVERNMENT ENTITIES).
|  | DEPUTY ASSOCIATE CHIEF COUNSEL, OPERATIONS AND INTERNATIONAL PROGRAMS.
|  | DEPUTY DIVISION COUNSEL, INTERNATIONAL (LARGE BUSINESS AND INTERNATIONAL).
|  | DEPUTY ASSOCIATE CHIEF COUNSEL (CORPORATE).
|  | DIVISION COUNSEL (TAX EXEMPT AND GOVERNMENT ENTITIES) DC.
|  | DIVISION COUNSEL, LARGE BUSINESS AND INTERNATIONAL.
|  | DEPUTY ASSOCIATE CHIEF COUNSEL, (PASSTHROUGHS AND SPECIAL INDUSTRIES).
|  | ASSOCIATE CHIEF COUNSEL (PASSTHROUGHS AND SPECIAL INDUSTRIES).
|  | AREA COUNSEL, SMALL BUSINESS AND SELF EMPLOYED (AREA 1).
|  | ASSOCIATE CHIEF COUNSEL (FINANCIAL INSTITUTIONS AND PRODUCTS).
|  | DEPUTY ASSOCIATE CHIEF COUNSEL (IT&A).
|  | ASSOCIATE CHIEF COUNSEL, (INTERNATIONAL).
|  | DEPUTY ASSOCIATE CHIEF COUNSEL (GENERAL LEGAL SERVICES).
|  | DIVISION COUNSEL/ASSOCIATE CHIEF COUNSEL (NATIONAL TAXPAYER ADVOCATE PROGRAM).
UNDER SECRETARY FOR DOMESTIC FINANCE | OFFICE OF THE ASSISTANT SECRETARY FOR FINANCIAL INSTITUTIONS | DIRECTOR, FEDERAL INSURANCE OFFICE. DEPUTY DIRECTOR, FEDERAL INSURANCE OFFICE.
| OFFICE OF THE FISCAL ASSISTANT SECRETARY | DEPUTY ASSISTANT SECRETARY FOR FISCAL OPERATIONS AND POLICY.
|  | FISCAL ASSISTANT SECRETARY.
|  | DEPUTY ASSISTANT SECRETARY, OFFICE OF ACCOUNTING POLICY AND FINANCIAL TRANSPARENCY.
UNDER SECRETARY FOR TERRORISM AND FINANCIAL INTELLIGENCE | OFFICE OF THE ASSISTANT SECRETARY FOR INTELLIGENCE AND ANALYSIS OFFICE OF THE ASSISTANT SECRETARY FOR TERRORIST FINANCING | DEPUTY ASSISTANT SECRETARY FOR SECURITY AND COUNTERINTELLIGENCE. DIRECTOR, EXECUTIVE OFFICE FOR ASSET FORFEITURE.
| OFFICE OF FINANCIAL CRIMES ENFORCEMENT NETWORK | ASSOCIATE DIRECTOR, LIAISON DIVISION. ASSOCIATE DIRECTOR, MANAGEMENT PROGRAMS DIVISION.
|  | DIRECTOR, FINANCIAL CRIMES ENFORCEMENT NETWORK.
|  | DEPUTY DIRECTOR.
|  | ASSOCIATE DIRECTOR, TECHNOLOGY SOLUTIONS AND SERVICES DIVISION/CHIEF INFORMATION OFFICER.
|  | ASSOCIATE DIRECTOR, POLICY DIVISION.
|  | ASSOCIATE DIRECTOR, INTELLIGENCE DIVISION.
|  | ASSOCIATE DIRECTOR, ENFORCEMENT DIVISION.
DEPARTMENT OF THE TREASURY OFFICE OF THE INSPECTOR GENERAL | OFFICE OF AUDIT | DEPUTY ASSISTANT INSPECTOR GENERAL FOR AUDIT (FINANCIAL SECTOR AUDITS). DEPUTY ASSISTANT INSPECTOR GENERAL FOR AUDIT (FINANCIAL MANAGEMENT AND TRANSPARENCY AUDIT.
|  | ASSISTANT INSPECTOR GENERAL FOR AUDIT (2).
|  | DEPUTY ASSISTANT INSPECTOR GENERAL FOR AUDIT (PROGRAM AUDITS).
|  | DEPUTY ASSISTANT INSPECTOR GENERAL FOR AUDIT (FINANCIAL MANAGEMENT).
| OFFICE OF COUNSEL | COUNSEL TO THE INSPECTOR GENERAL.
| OFFICE OF INVESTIGATIONS | DEPUTY ASSISTANT INSPECTOR GENERAL FOR INVESTIGATIONS.
| OFFICE OF MANAGEMENT | ASSISTANT INSPECTOR GENERAL FOR MANAGEMENT.
DEPARTMENT OF THE TREASURY SPECIAL INSPECTOR GENERAL FOR THE TROUBLED ASSET RELIEF PROGRAM | DEPARTMENT OF THE TREASURY SPECIAL INSPECTOR GENERAL FOR THE TROUBLED ASSET RELIEF PROGRAM | DEPUTY SPECIAL INSPECTOR GENERAL AUDIT. ASSISTANT DEPUTY SPECIAL INSPECTOR GENERAL FOR AUDIT AND EVALUATION. ASSISTANT DEPUTY SPECIAL INSPECTOR GENERAL FOR INVESTIGATIONS.
|  | DEPUTY SPECIAL INSPECTOR GENERAL OPERATIONS.
|  | DEPUTY SPECIAL INSPECTOR GENERAL, INVESTIGATIONS.
|  | GENERAL COUNSEL FOR SPECIAL INSPECTOR GENERAL FOR THE TROUBLED ASSET RELIEF PROGRAM.
DEPARTMENT OF THE TREASURY TAX ADMINISTRATION OFFICE OF THE INSPECTOR GENERAL | DEPARTMENT OF THE TREASURY TAX ADMINISTRATION OFFICE OF THE INSPECTOR GENERAL | ASSISTANT INSPECTOR GENERAL FOR INVESTIGATIONS—FIELD. ASSISTANT INSPECTOR GENERAL FOR INVESTIGATIONS, FIELD DIVISIONS.
|  | DEPUTY CHIEF COUNSEL.
|  | DEPUTY INSPECTOR GENERAL FOR INSPECTIONS AND EVALUATIONS.
|  | ASSISTANT INSPECTOR GENERAL FOR INVESTIGATIONS, CYBER, OPERATIONS AND INVESTIGATIVE SUPPORT DIRECTORATE.
|  | ASSISTANT INSPECTOR GENERAL FOR AUDIT, COMPLIANCE AND ENFORCEMENT OPERATIONS.
|  | CHIEF INFORMATION OFFICER.
|  | DEPUTY INSPECTOR GENERAL FOR AUDIT.
|  | ASSISTANT INSPECTOR GENERAL FOR AUDIT, MANAGEMENT SERVICES AND EXEMPT ORGANIZATIONS.
|  | ASSISTANT INSPECTOR GENERAL FOR AUDIT, SECURITY AND INFORMATION TECHNOLOGY SERVICES.
|  | ASSISTANT INSPECTOR GENERAL FOR AUDIT, MANAGEMENT, PLANNING AND WORKFORCE DEVELOPMENT.
|  | ASSISTANT INSPECTOR GENERAL FOR AUDIT, RETURNS PROCESSING AND ACCOUNTING SERVICES.
|  | DEPUTY INSPECTOR GENERAL FOR INVESTIGATIONS.
|  | ASSISTANT INSPECTOR GENERAL FOR INVESTIGATIONS, THREAT, AGENT SAFETY AND SENSITIVE INVESTIGATIONS DIRECTORATE.
|  | ASSISTANT INSPECTOR GENERAL FOR INVESTIGATIONS, CYBER OPERATIONS AND INVESTIGATIVE SUPPORT DIRECTORATE.
|  | CHIEF COUNSEL.
|  | DEPUTY INSPECTOR GENERAL FOR MISSION SUPPORT AND CHIEF FINANCIAL OFFICER.
|  | DEPUTY ASSISTANT INSPECTOR GENERAL FOR INVESTIGATIONS—FIELD.
UNITED STATES AGENCY FOR INTERNATIONAL DEVELOPMENT.
OFFICE OF THE ADMINISTRATOR | BUREAU FOR DEMOCRACY, CONFLICT, AND HUMANITARIAN ASSISTANCE | DEPUTY DIRECTOR, OFFICE OF FOREIGN DISASTER ASSISTANCE.
| BUREAU FOR MANAGEMENT | CHIEF FINANCIAL OFFICER.
|  | DEPUTY CHIEF FINANCIAL OFFICER.
|  | DIRECTOR, OFFICE OF MANAGEMENT, POLICY, BUDGET AND PERFORMANCE.
|  | DIRECTOR, OFFICE OF ACQUISITION AND ASSISTANCE.
|  | DEPUTY ASSISTANT ADMINISTRATOR.
|  | DEPUTY DIRECTOR, OAA OPERATIONS.
|  | CHIEF INFORMATION OFFICER.
|  | DEPUTY DIRECTOR, ACCOUNTABILITY, COMPLIANCE, TRANSPARENCY AND SYSTEM SUPPORT.
| OFFICE OF BUDGET AND RESOURCE MANAGEMENT | DIRECTOR, BUDGET AND RESOURCE MANAGEMENT.
| OFFICE OF HUMAN CAPITAL AND TALENT MANAGEMENT | DEPUTY CHIEF HUMAN CAPITAL OFFICER. CHIEF HUMAN CAPITAL OFFICER.
| OFFICE OF SECURITY | DIRECTOR, OFFICE OF SECURITY.
| OFFICE OF SMALL AND DISADVANTAGED BUSINESS UTILIZATION | DIRECTOR, OFFICE OF SMALL AND DISADVANTAGE BUSINESS UTILIZATION.
| OFFICE OF THE GENERAL COUNSEL | ASSISTANT GENERAL COUNSEL, ETHICS AND ADMINISTRATION.
|  | ASSISTANT GENERAL COUNSEL, CHIEF INNOVATION COUNSEL.
|  | DEPUTY GENERAL COUNSEL.
UNITED STATES AGENCY FOR INTERNATIONAL DEVELOPMENT OFFICE OF THE INSPECTOR GENERAL | UNITED STATES AGENCY FOR INTERNATIONAL DEVELOPMENT OFFICE OF THE INSPECTOR GENERAL | ASSISTANT INSPECTOR GENERAL FOR AUDIT. DEPUTY ASSISTANT INSPECTOR GENERAL FOR MANAGEMENT. DEPUTY ASSISTANT INSPECTOR GENERAL FOR AUDIT.
|  | COUNSELOR TO THE INSPECTOR GENERAL.
|  | DEPUTY INSPECTOR GENERAL.
|  | DEPUTY ASSISTANT INSPECTOR GENERAL FOR AUDIT.
|  | ASSISTANT INSPECTOR GENERAL FOR INVESTIGATIONS.
|  | DEPUTY ASSISTANT INSPECTOR GENERAL FOR INVESTIGATIONS.
|  | ASSISTANT INSPECTOR GENERAL FOR MANAGEMENT.
UNITED STATES INTERNATIONAL TRADE COMMISSION:
OFFICE OF OPERATIONS | OFFICE OF ECONOMICS | DIRECTOR OFFICE OF ECONOMICS.
| OFFICE OF INDUSTRIES | DIRECTOR OFFICE OF INDUSTRIES.
| OFFICE OF INVESTIGATIONS | DIRECTOR, OFFICE OF INVESTIGATIONS.
| OFFICE OF TARIFF AFFAIRS AND TRADE AGREEMENTS | DIRECTOR, OFFICE TARIFF AFFAIRS AND TRADE AGREEMENTS.
| OFFICE OF UNFAIR IMPORT INVESTIGATIONS | DIRECTOR, OFFICE OF UNFAIR IMPORT INVESTIGATIONS.
UNITED STATES INTERNATIONAL TRADE COMMISSION | OFFICE OF ADMINISTRATIVE SERVICES OFFICE OF EXTERNAL RELATIONS | CHIEF ADMINISTRATIVE OFFICER. DIRECTOR, OFFICE OF EXTERNAL RELATIONS.
| OFFICE OF OPERATIONS | DIRECTOR OFFICE OF OPERATIONS.
| OFFICE OF THE CHIEF FINANCIAL OFFICER | CHIEF FINANCIAL OFFICER.
| OFFICE OF THE CHIEF INFORMATION OFFICER | CHIEF INFORMATION OFFICER.
| OFFICE OF THE GENERAL COUNSEL | GENERAL COUNSEL.
| OFFICE OF THE INSPECTOR GENERAL | INSPECTOR GENERAL.
DEPARTMENT OF VETERANS AFFAIRS | BOARD OF VETERANS' APPEALS | VICE CHAIRMAN. DEPUTY VICE CHAIRMAN, BOARD OF VETERANS APPEALS.
|  | DEPUTY VICE CHAIRMAN (3).
|  | CHIEF COUNSEL, BOARD OF VETERANS APPEALS.
| NATIONAL CEMETERY ADMINISTRATION | DEPUTY UNDER SECRETARY FOR FINANCE AND PLANNING.
| OFFICE OF ACQUISITION, LOGISITICS AND CONSTRUCTION | EXECUTIVE DIRECTOR, CONSTRUCTION AND. ASSOCIATE EXECUTIVE DIRECTOR, TECHNOLOGY ACQUISITION CENTER. ASSOCIATE EXECUTIVE DIRECTOR, FACILITIES PLANNING.
|  | ASSOCIATE EXECUTIVE DIRECTOR, FACILITIES ACQUISITIONS.
|  | ASSOCIATE EXECUTIVE DIRECTOR, STRATEGIC ACQUISITION CENTER.
|  | ASSOCIATE EXECUTIVE DIRECTOR, NATIONAL HEALTHCARE ACQUISITION.
|  | ASSOCIATE EXECUTIVE DIRECTOR, RESOURCE MANAGEMENT.
|  | ASSOCIATE EXECUTIVE DIRECTOR, ACQUISITION PROGRAM SUPPORT.
|  | EXECUTIVE DIRECTOR, CONSTRUCTION AND FACILITIES MANAGEMENT.
|  | ASSOCIATE EXECUTIVE DIRECTOR, PROCUREMENT POLICY, SYSTEMS AND OVERSIGHT.
|  | EXECUTIVE DIRECTOR, OFFICE OF ACQUISITION AND LOGISTICS.
|  | ASSOCIATE EXECUTIVE DIRECTOR, PROGRAMS AND PLANS.
| OFFICE OF THE ASSISTANT SECRETARY FOR ACCOUNTABILITY AND WHISTLEBLOWER PROTECTION | EXECUTIVE DIRECTOR, INVESTIGATIONS.
| OFFICE OF THE ASSISTANT SECRETARY FOR INFORMATION AND TECHNOLOGY | EXECUTIVE DIRECTOR, INFORMATION SECURITY OPERATIONS.
|  | EXECUTIVE DIRECTOR, INFRASTRUCTURE OPERATIONS.
|  | CHIEF FINANCIAL OFFICER, IT BUDGET AND FINANCE.
|  | DEPUTY ASSISTANT SECRETARY, CHIEF INFORMATION SECURITY OFFICER.
|  | DEPUTY CHIEF INFORMATION OFFICER, QUALITY, PERFORMANCE, AND RISK/CHIEF RISK OFFICER.
|  | EXECUTIVE DIRECTOR, ACQUISITION STRATEGY AND CATEGORY MANAGEMENT.
|  | EXECUTIVE DIRECTOR, FIELD SECURITY SERVICE.
|  | DEPUTY CHIEF INFORMATION OFFICER, STRATEGIC SOURCING.
|  | EXECUTIVE DIRECTOR, INFORMATION SECURITY POLICY AND STRATEGY.
| OFFICE OF THE ASSISTANT SECRETARY FOR MANAGEMENT | ASSOCIATE DEPUTY ASSISTANT SECRETARY, FINANCIAL MANAGEMENT BUSINESS TRANSFORMATION OPERATIONS.
|  | ASSOCIATE DEPUTY ASSISTANT SECRETARY, FINANCIAL MANAGEMENT BUSINESS TRANSFORMATION SERVICE SYSTEMS.
|  | DEPUTY EXECUTIVE DIRECTOR ASSET ENTERPRISE MANAGEMENT.
|  | ASSOCIATE DEPUTY ASSISTANT SECRETARY FOR FINANCE, OFFICE OF FINANCE.
|  | EXECUTIVE DIRECTOR, DEBT MANAGEMENT CENTER.
|  | ADAS FOR FINANCIAL PROCESS IMPROVEMENT AND AUDIT READINESS, OFFICE OF FINANCE.
|  | DEPUTY ASSISTANT SECRETARY FINANCIAL MANAGEMENT BUSINESS TRANSFORMATION, OFFICE OF FINANCE.
|  | ASSOCIATE DEPUTY ASSISTANT SECRETARY, BUDGET OPERATIONS.
|  | ASSOCIATE DEPUTY ASSISTANT SECRETARY, PROGRAM BUDGETS.
|  | PRINCIPAL DEPUTY ASSISTANT SECRETARY FOR MANAGEMENT.
|  | ASSOCIATE DEPUTY ASSISTANT SECRETARY FOR FINANCIAL BUSINESS OPERATIONS, OFFICE OF FINANCE.
|  | EXECUTIVE DIRECTOR, FINANCIAL SERVICES CENTER, OFFICE OF FINANCE.
|  | EXECUTIVE DIRECTOR, ASSET ENTERPRISE MANAGEMENT.
|  | EXECUTIVE DIRECTOR, OFFICE OF BUSINESS OVERSIGHT.
|  | DEPUTY ASSISTANT SECRETARY FOR FINANCE, OFFICE OF FINANCE.
|  | DEPUTY ASSISTANT SECRETARY FOR BUDGET.
|  | ASSOCIATE DEPUTY ASSISTANT SECRETARY FOR FINANCIAL POLICY, OFFICE OF FINANCE.
|  | EXECUTIVE DIRECTOR, OFFICE OF ACQUISITION OPERATIONS.
| OFFICE OF THE GENERAL COUNSEL | CHIEF COUNSEL HEALTH LAW GROUP.
|  | CHIEF COUNSEL, SOUTHEAST DISTRICT—NORTH.
|  | CHIEF COUNSEL NORTH ATLANTIC DISTRICT NORTH.
|  | CHIEF COUNSEL, TORTS AND ADMINISTRATIVE LAW.
|  | COUNSELOR/ADVISOR.
|  | EXECUTIVE DIRECTOR, OFFICE OF ACCOUNTABILITY REVIEW.
|  | CHIEF COUNSEL, PERSONNEL LAW GROUP.
|  | CHIEF COUNSEL REAL PROPERTY LAW GROUP.
|  | CHIEF COUNSEL, INFORMATION LAW GROUP.
|  | CHIEF COUNSEL COURT OF APPEALS FOR VETERANS CLAIMS LITIGATION GROUP.
|  | CHIEF COUNSEL, DISTRICT CONTRACTING.
|  | CHIEF COUNSEL COLLECTIONS NATIONAL PRACTICE GROUP.
|  | CHIEF COUNSEL, LOAN GUARANTY.
|  | DEPUTY GENERAL COUNSEL, GENERAL LAW.
|  | ASSISTANT CHIEF COUNSEL, COURT OF APPEALS FOR VETERANS CLAIMS LITIGATION GROUP.
|  | SENIOR COUNSEL TO THE GENERAL COUNSEL.
|  | CHIEF COUNSEL, ETHICS LAW GROUP.
|  | CHIEF COUNSEL, BENEFITS LAW GROUP.
|  | DEPUTY GENERAL COUNSEL VETERANS PROGRAMS.
|  | CHIEF COUNSEL CONTINENTAL DISTRICT—WEST.
|  | DEPUTY GENERAL COUNSEL, LEGAL OPERATIONS.
|  | CHIEF COUNSEL (3).
|  | CHIEF COUNSEL MIDWEST DISTRICT EAST.
|  | CHIEF COUNSEL MIDWEST DISTRICT WEST.
|  | CHIEF COUNSEL NORTH ATLANTIC DISTRICT SOUTH.
|  | CHIEF COUNSEL PACIFIC DISTRICT SOUTH.
|  | CHIEF COUNSEL, PROCUREMENT LAW GROUP.
| OFFICE OF THE SECRETARY AND DEPUTY | DEPUTY EXECUTIVE DIRECTOR, OFFICE OF SMALL AND DISADVANTAGED BUSINESS UTLIZATION.
|  | DEPUTY EXECUTIVE DIRECTOR, ACCOUNTABILITY AND WHISTLEBLOWER PROTECTION.
|  | EXECUTIVE DIRECTOR, OFFICE OF SMALL AND DISADVANTAGED BUSINESS UTILIZATION.
|  | EXECUTIVE DIRECTOR, EMPLOYEE DISCRIMINATION COMPLIANCE.
| VETERANS BENEFITS ADMINISTRATION | SENIOR ADVISOR, FISCAL STEWARDSHIP.
|  | DEPUTY EXECUTIVE DIRECTOR FOR OPERATIONS.
|  | DEPUTY CHIEF FINANCIAL OFFICER.
|  | DEPUTY EXECUTIVE DIRECTOR FOR POLICY AND PROCEDURES.
|  | EXECUTIVE DIRECTOR, LOAN GUARANTY SERVICE.
|  | CHIEF FINANCIAL OFFICER.
|  | EXECUTIVE DIRECTOR, PERFORMANCE ANALYSIS AND INTEGRITY.
| VETERANS HEALTH ADMINISTRATION | EXECUTIVE DIRECTOR, SERVICE AREA (EAST).
|  | EXECUTIVE DIRECTOR SERVICE AREA (CENTRAL).
|  | EXECUTIVE DIRECTOR, SERVICE AREA (WEST).
|  | ASSOCIATE CHIEF FINANICAL OFFICER, VETERANS HEALTH ADMINISTRATION.
|  | DEPUTY CHIEF PROCUREMENT OFFICER, VETERANS HEALTH ADMINISTRATION.
|  | ASSOCIATE CHIEF FINANCIAL OFFICER FOR MANAGERIAL COST ACCOUNTING.
|  | ASSOCIATE CHIEF FINANCIAL OFFICER FINANCIAL MANAGEMENT AND ACCOUNTING.
|  | CHIEF OPERATING OFFICER VETERANS CANTEEN SERVICE.
|  | CHIEF COMPLIANCE AND BUSINESS INTEGRITY OFFICER.
|  | CHIEF FINANCIAL OFFICER VETERANS HEALTH ADMINISTRATION.
|  | DEPUTY CHIEF FINANCIAL OFFICER VETERANS HEALTH ADMINISTRATION.
|  | EXECUTIVE DIRECTOR VETERANS CANTEEN SERVICE.
OFFICE OF THE ASSISTANT SECRETARY FOR HUMAN RESOURCES AND ADMINISTRATION/OPERATIONS, SECURITY, AND PREPAREDNESS | OFFICE OF CORPORATE SENIOR EXECUTIVE MANAGEMENT | EXECUTIVE DIRECTOR.
| OFFICE OF HUMAN RESOURCES MANAGEMENT | DEPUTY CHIEF HUMAN CAPITOL OFFICER.
| OFFICE OF RESOLUTION MANAGEMENT | DEPUTY ASSISTANT SECRETARY FOR RESOLUTION MANAGEMENT.
|  | ASSOCIATE DEPUTY ASSISTANT SECRETARY FOR RESOLUTION MANAGEMENT.
OFFICE OF THE ASSISTANT SECRETARY FOR MANAGEMENT | OFFICE OF FINANCE | ASSOCIATE DEPUTY ASSISTANT SECRETARY, FINANCIAL REPORTING.
OFFICE OF THE ASSISTANT SECRETARY FOR OPERATIONS, SECURITY AND PREPAREDNESS | OFFICE OF OPERATIONS, SECURITY AND PREPAREDNESS | PRINCIPAL DEPUTY ASSISTANT SECRETARY, OPERATIONS, SECURITY AND PREPAREDNESS. EXECUTIVE DIRECTOR, IDENTITY, CREDENTIAL AND ACCESS MANAGEMENT.
|  | EXECUTIVE DIRECTOR FOR SECURITY AND LAW ENFORCEMENT.
|  | ASSOCIATE DEPUTY ASSISTANT SECRETARY, EMERGENCY MANAGEMENT AND RESILIENCE.
DEPARTMENT OF VETERANS AFFAIRS OFFICE OF THE INSPECTOR GENERAL | IMMEDIATE OFFICE OF THE INSPECTOR GENERAL | CHIEF OF STAFF FOR HEALTHCARE OVERSIGHT INTEGRATION. COUNSELOR TO THE INSPECTOR GENERAL.
|  | DEPUTY INSPECTOR GENERAL.
|  | DEPUTY COUNSELOR TO THE INSPECTOR GENERAL.
| OFFICE OF THE ASSISTANT INSPECTOR GENERAL FOR AUDITS AND EVALUATIONS | DEPUTY ASSISTANT INSPECTOR GENERAL FOR AUDITS AND EVALUATIONS (HEADQUARTERS MANAGEMENT AND INSPECTIONS).
|  | ASSISTANT INSPECTOR GENERAL FOR AUDITS AND EVALUATIONS.
|  | DEPUTY ASSISTANT INSPECTOR GENERAL FOR AUDITS AND EVALUATIONS (FIELD OPERATIONS).
|  | DEPUTY ASSISTANT INSPECTOR GENERAL FOR AUDITS AND EVALUATIONS (FIELD OPERATIONS).
| OFFICE OF THE ASSISTANT INSPECTOR GENERAL FOR HEALTHCARE INSPECTIONS | DEPUTY ASSISTANT INSPECTOR GENERAL FOR HEALTHCARE INSPECTIONS (CLINICAL CONSULTATION).
|  | DEPUTY ASSISTANT INSPECTOR GENERAL FOR HEALTHCARE INSPECTIONS.
|  | DEPUTY ASSISTANT INSPECTOR GENERAL FOR HEALTHCARE INSPECTIONS.
|  | ASSISTANT INSPECTOR GENERAL FOR HEALTHCARE INSPECTIONS.
| OFFICE OF THE ASSISTANT INSPECTOR GENERAL FOR INVESTIGATIONS | ASSISTANT INSPECTOR GENERAL FOR INVESTIGATIONS.
|  | DEPUTY ASSISTANT INSPECTOR GENERAL FOR INVESTIGATIONS (FIELD OPERATIONS).
|  | DEPUTY ASSISTANT INSPECTOR GENERAL FOR INVESTIGATIONS (HEADQUARTERS OPERATIONS).
| OFFICE OF THE ASSISTANT INSPECTOR GENERAL FOR MANAGEMENT AND ADMINISTRATION | ASSISTANT INSPECTOR GENERAL FOR MANAGEMENT AND ADMINISTRATION.
|  | DEPUTY ASSISTANT INSPECTOR GENERAL FOR MANAGEMENT AND ADMINISTRATION.
| OFFICE OF THE ASSISTANT INSPECTOR GENERAL FOR SPECIAL REVIEWS | ASSISTANT INSPECTOR GENERAL FOR SPECIAL REVIEWS.

Authority: 5 U.S.C. 3132.

U.S. Office of Personnel Management.
Stephen Hickman,
Federal Register Liaison.

[FR Doc. 2022-18178 Filed 8-29-22; 8:45 am]

BILLING CODE 6325-39-P